OFFICE OF PERSONNEL MANAGEMENT

SES Positions That Were Career Reserved During CY 2020

AGENCY: Office of Personnel Management (OPM).

ACTION: Notice.

SUMMARY: This gives notice of all positions in the Senior Executive Service (SES) that were career reserved during calendar year 2020.

FOR FURTHER INFORMATION CONTACT: Julia Alford, Senior Executive Resources Services, Senior Executive Services and Performance Management, Employee Services, 202-606-2246.

SUPPLEMENTARY INFORMATION: Below is a list of titles of SES positions that were career reserved at any time during calendar year 2020, regardless of whether those positions were still career reserved as of December 31, 2020. Section 3132(b) (4) of title 5, United States Code, requires that the head of each agency publish such lists by March 1 of the following year. The Office of Personnel Management is publishing a consolidated list for all agencies.

Agency name | Organization name | Position title
ADMINISTRATIVE CONFERENCE OF THE UNITED STATES | ADMINISTRATIVE CONFERENCE OF THE UNITED STATES | DIRECTOR OF FINANCE AND OPERATIONS. GENERAL COUNSEL. EXECUTIVE DIRECTOR.
ADVISORY COUNCIL ON HISTORIC PRESERVATION | ADVISORY COUNCIL ON HISTORIC PRESERVATION | EXECUTIVE DIRECTOR.
DEPARTMENT OF AGRICULTURE
AGRICULTURAL RESEARCH SERVICE | MIDWEST AREA OFFICE | DIRECTOR, MIDWEST AREA. DIRECTOR, NATIONAL CENTER FOR AGRICULTURE UTILIZATION. ASSOCIATE DIRECTOR, MIDWEST AREA (2).
| NORTHEAST AREA OFFICE | DIRECTOR, EASTERN REGIONAL RESEARCH CENTER. DIRECTOR NORTHEAST AREA OFFICE. DIRECTOR, BELTSVILLE AGRICULTURAL RESEARCH CENTER. ASSOCIATE DIRECTOR, NORTHEAST AREA (2).
| OFFICE OF NATIONAL PROGRAMS | DEPUTY ADMINISTRATOR, NUTRITION,FOOD SAFETY AND QUALITY. DEPUTY ADMINISTRATOR, ANIMAL PRODUCTION AND PROTECTION. DEPUTY ADMINISTRATOR, CROP PRODUCTION AND PROTECTION. ASSOCIATE ADMINISTRATOR, NATIONAL PROGRAMS. DEPUTY ADMINISTRATOR FOR NATURAL RESOURCES AND SUSTAINABLE AGRICULTURAL SYSTEMS.
| PACIFIC WEST AREA OFFICE | ASSOCIATE DIRECTOR, PACIFIC WEST AREA (2). DIRECTOR, WESTERN REGIONAL RESEARCH CENTER. DIRECTOR, PACIFIC WEST AREA OFFICE. DIRECTOR, WESTERN HUMAN NUTRITION RESEARCH CENTER.
| PLAINS AREA OFFICE | ASSOCIATE DIRECTOR, PLAINS AREA OFFICE (2). DIRECTOR, UNITED STATES MEAT ANIMAL RESEARCH CENTER. DIRECTOR, PLAINS AREA.
| SOUTHEAST AREA OFFICE | DIRECTOR, SOUTHERN REGIONAL RESEARCH CENTER. ASSOCIATE DIRECTOR, SOUTHEAST AREA (2). DIRECTOR, SOUTHEAST AREA.
ANIMAL AND PLANT HEALTH INSPECTION SERVICE | PLANT PROTECTION AND QUARANTINE SERVICE | EXECUTIVE DIRECTOR, EASTERN REGION, PLANT PROTECTION AND QUARANTINE. EXECUTIVE DIRECTOR, POLICY MANAGEMENT. EXECUTIVE DIRECTOR, WESTERN REGION, PLANT PROTECTION AND QUARANTINE.
| VETERINARY SERVICES | EXECUTIVE DIRECTOR, SCIENCE, TECHNOLOGY AND ANALYSIS SERVICE. EXECUTIVE DIRECTOR (STRATEGY AND POLICY). DIRECTOR, WESTERN REGION, VETERINARY SERVICES. ASSOCIATE DEPUTY ADMINISTRATOR, NATIONAL ANIMAL HEALTH POLICY PROGRAMS. EXECUTIVE DIRECTOR (DOMESTIC PROGRAMS).
DEPARTMENTAL ADMINISTRATION | OFFICE OF ADVOCACY AND OUTREACH | DIRECTOR, OFFICE OF ADVOCACY AND OUTREACH.
| OFFICE OF HOMELAND SECURITY AND EMERGENCY COORDINATION | DEPUTY DIRECTOR OF HOMELAND SECURITY AND EMERGENCY COORDINATION.
| OFFICE OF HUMAN RESOURCES MANAGEMENT | EXECUTIVE DIRECTOR, EXECUTIVE RESOURCES MANAGEMENT DIVISION.
| OFFICE OF OPERATIONS | DIRECTOR OFFICE OF OPERATIONS. DEPUTY DIRECTOR OF OPERATIONS.
| PROCUREMENT AND PROPERTY MANAGEMENT | DIRECTOR, CONTRACTING AND PROCUREMENT. DEPUTY DIRECTOR, OFFICE OF PROCUREMENT AND PROPERTY MANAGEMENT.
FOREST SERVICE | FIELD UNITS | DIRECTOR, FOREST PRODUCTS LABORATORY (MADISON). DIRECTOR, SOUTHERN RESEARCH STATION (ASHEVILLE). DIRECTOR, ROCKY MOUNTAIN FOREST AND RANGE EXPERIMENT STATION (FORT COLLINS). DIRECTOR, PACIFIC SOUTHWEST FOREST AND RANGE EXPERIMENT STATION (VALLEJO). DIRECTOR, PACIFIC NORTHWEST RESEARCH STATION.
|  | DIRECTOR, NORTHERN RESEARCH STATION.
|  | NORTHEAST AREA DIRECTOR, STATE AND PRIVATE FORESTRY.
| INTERNATIONAL FOREST SYSTEM | DIRECTOR INTERNATIONAL INSTITUTE OF TROPICAL FOREST (RIO PIEDRAS).
| NATIONAL FOREST SYSTEM | DIRECTOR, LANDS MANAGEMENT STAFF. DIRECTOR, ENGINEERING. DIRECTOR, FOREST MANAGEMENT STAFF. DIRECTOR, RANGELAND MANAGEMENT.
|  | DIRECTOR, MINERALS AND GEOLOGY MANAGEMENT STAFF.
|  | DIRECTOR, WATER, FISH, WASTELAND, AIR AND RARE PLANTS.
|  | DIRECTOR, ECOSYSTEM MANAGEMENT COORDINATION.
| RESEARCH | DIRECTOR, INVENTORY, MONITORING AND ASSESSMENT. DIRECTOR, SUSTAINABLE FOREST MANAGEMENT. DIRECTOR, RESOURCE USE SCIENCES. DIRECTOR, ENVIRONMENTAL SCIENCES.
| STATE AND PRIVATE FORESTRY | SENIOR ADVISOR TO THE DEPUTY CHIEF, STATE AND PRIVATE FORESTRY. DIRECTOR COOPERATIVE FORESTRY. DIRECTOR, FOREST HEALTH PROTECTION.
NATIONAL INSTITUTE OF FOOD AND AGRICULTURE | ECONOMIC RESEARCH SERVICE | DIRECTOR, MARKET AND TRADE ECONOMICS DIVISION. DIRECTOR, INFORMATION SERVICES DIVISION. DIRECTOR, RESOURCE AND RURAL ECONOMICS DIVISION. ADMINISTRATOR, ECONOMIC RESEARCH SERVICE.
|  | ASSOCIATE ADMINISTRATOR, ECONOMIC RESEARCH SERVICE.
|  | DIRECTOR, FOOD ECONOMICS DIVISION.
| NATIONAL AGRICULTURAL STATISTICS SERVICE | DIRECTOR, WESTERN FIELD OPERATIONS. ASSOCIATE ADMINISTRATOR. ADMINISTRATOR, NATIONAL AGRICULTURAL STATISTICS SERVICE. DIRECTOR, NATIONAL OPERATIONS CENTER.
|  | DIRECTOR, EASTERN FIELD OPERATIONS.
|  | DIRECTOR, STATISTICS DIVISION.
|  | DIRECTOR, CENSUS AND SURVEY DIVISION.
|  | DIRECTOR, INFORMATION TECHNOLOGY DIVISION.
|  | DIRECTOR, METHODOLOGY DIVISION.
OFFICE OF THE ASSISTANT SECRETARY FOR ADMINISTRATION | DEPARTMENTAL ADMINISTRATION | DIRECTOR, OFFICE OF SAFETY, SECURITY AND PROTECTION.
OFFICE OF THE SECRETARY | NATIONAL FINANCE CENTER | DIRECTOR, FINANCIAL SERVICES DIVISION. DIRECTOR, INFORMATION TECHNOLOGY MANAGEMENT DIVISION. DEPUTY DIRECTOR, NATIONAL FINANCE CENTER.
| NATIONAL INSTITUTE OF FOOD AND AGRICULTURE | DEPUTY DIRECTOR, INSTITUTE OF FOOD SAFETY AND NUTRITION. DEPUTY DIRECTOR, OFFICE OF INFORMATION TECHNOLOGY. DEPUTY DIRECTOR, OFFICE OF GRANTS AND FINANCIAL MANAGEMENT. ASSISTANT DIRECTOR, INSTITUTE OF BIOENERGY, CLIMATE, AND ENVIRONMENT.
| OFFICE OF COMMUNICATIONS | DEPUTY DIRECTOR, CREATIVE DEVELOPMENT.
| OFFICE OF THE CHIEF ECONOMIST | DEPUTY CHIEF ECONOMIST. DIRECTOR, GLOBAL CHANGE PROGRAM OFFICE. DIRECTOR, OFFICE OF ENERGY POLICY AND NEW USES. CHAIRPERSON. DIRECTOR, OFFICE OF RISK ASSESSMENT AND COST-BENEFIT ANALYSIS.
| OFFICE OF THE CHIEF FINANCIAL OFFICER | DEPUTY CHIEF FINANCIAL OFFICER. ASSOCIATE CHIEF FINANCIAL OFFICER, FINANCIAL SYSTEMS PLANNING AND MANAGEMENT. ASSOCIATE CHIEF FINANCIAL OFFICER FOR FINANCIAL POLICY AND PLANNING.
| OFFICE OF THE CHIEF INFORMATION OFFICER | DEPUTY CHIEF INFORMATION OFFICER FOR OPERATIONS AND INFRASTRUCTURE. ASSOCIATE CHIEF INFORMATION OFFICER, INTERNATIONAL TECHNOLOGY SERVICES.
| OFFICE OF THE GENERAL COUNSEL | ASSOCIATE GENERAL COUNSEL, GENERAL LAW AND RESEARCH DIVISION. ASSISTANT GENERAL COUNSEL, NATURAL RESOURCES AND ENVIRONMENT DIVISION. DIRECTOR, OFFICE OF INFORMATION AFFAIRS.
| OFFICE OF THE UNDER SECRETARY FOR FARM PRODUCTION AND CONSERVATION | DEPUTY ASSISTANT CHIEF INFORMATION OFFICER. DIRECTOR, OFFICE OF GRANTS AND AGREEMENTS.
| OFFICE OF THE UNDER SECRETARY FOR FOOD SAFETY | DEPUTY UNDER SECRETARY FOR FOOD SAFETY.
| OFFICE OF THE UNDER SECRETARY FOR RESEARCH, EDUCATION, AND ECONOMICS | DIRECTOR OFFICE OF THE USDA CHIEF SCIENTIST.
OFFICE OF THE UNDER SECRETARY FOR FOOD SAFETY | FOOD SAFETY AND INSPECTION SERVICE | EXECUTIVE ASSOCIATE FOR REGULATORY OPERATIONS, OFFICE OF FIELD OPERATIONS. DEPUTY ASSISTANT ADMINISTRATOR, OFFICE OF INVESTIGATION, ENFORCEMENT AND AUDITING. ASSISTANT ADMINISTRATOR, OFFICE OF POLICY AND PROGRAM DEVELOPMENT. CHIEF OPERATING OFFICER.
|  | DEPUTY ASSISTANT ADMINISTRATOR, OFFICE OF POLICY AND PROGRAM DEVELOPMENT.
|  | ASSISTANT ADMINISTRATOR, OOEET.
|  | ASSISTANT ADMINISTRATOR, OFFICE OF INVESTIGATION, ENFORCEMENT AND AUDITING.
|  | UNITED STATES MANAGER FOR CODEX.
|  | DEPUTY ASSISTANT ADMINISTRATOR, OFFICE OF MANAGEMENT.
|  | EXECUTIVE ASSOCIATE FOR REGULATORY OPERATIONS, OFFICE OF FIELD OPERATIONS.
|  | EXECUTIVE ASSOCIATE FOR EMPLOYEE EXPERIENCE.
|  | DEPUTY ASSISTANT ADMINISTRATOR, OFFICE OF FIELD OPERATIONS.
|  | DEPUTY ASSISTANT ADMINISTRATOR, OFFICE OF PUBLIC HEALTH SCIENCE.
|  | ASSISTANT CHIEF INFORMATION OFFICER.
|  | INTERNATIONAL AFFAIRS LIAISON OFFICER.
|  | DEPUTY ADMINISTRATOR.
|  | ASSISTANT ADMINISTRATOR, OFFICE OF FIELD OPERATIONS.
|  | CHIEF FINANCIAL OFFICER.
|  | ASSISTANT ADMINISTRATOR, OFFICE OF MANAGEMENT.
|  | ASSISTANT ADMINISTRATOR, OFFICE OF PUBLIC AFFAIRS AND CONSUMER EDUCATION.
|  | ASSISTANT ADMINISTRATOR, OFFICE OF DATA INTEGRATION AND FOOD PROTECTION.
|  | DEPUTY ASSISTANT ADMINISTRATOR, OFFICE OF DATA INTEGRATION AND FOOD PROGRAM.
|  | EXECUTIVE ASSOCIATE FOR REGULATORY OPERATIONS, OFFICE OF FIELD OPERATIONS (2).
|  | EXECUTIVE ASSOCIATE FOR LABORATORY SERVICES, OFFICE OF PUBLIC HEALTH SCIENCE.
OFFICE OF THE UNDER SECRETARY FOR FOOD, NUTRITION AND CONSUMER SERVICES | FOOD AND NUTRITION SERVICE | PROGRAM MANAGER (ASSOCIATE ADMINISTRATOR FOR REGIONAL OPERATIONS AND SUPPORT). CHIEF OPERATING OFFICER. PROGRAM MANAGER (DEPUTY ADMINISTRATOR FOR MANAGEMENT). FINANCIAL MANAGER.
OFFICE OF THE UNDER SECRETARY FOR MARKETING AND REGULATORY PROGRAMS | AGRICULTURAL MARKETING SERVICE | DEPUTY ADMINISTRATOR, INFORMATION TECHNOLOGY SERVICES. ASSOCIATE ADMINISTRATOR. DEPUTY ADMINISTRATOR, SPECIALTY CROPS. DEPUTY ADMINISTRATOR, DAIRY PROGRAMS.
|  | DEPUTY ADMINISTRATOR, LIVESTOCK AND SEED PROGRAMS.
|  | DEPUTY ADMINISTRATOR, FAIR TRADE PRACTICES PROGRAM.
|  | DEPUTY ADMINISTRATOR, COMPLIANCE AND ANALYSIS.
|  | DEPUTY ADMINISTRATOR FOR NATIONAL ORGANIC PROGRAMS.
|  | DEPUTY ADMINISTRATOR, COTTON AND TOBACCO PROGRAMS.
|  | DEPUTY ADMINISTRATOR, TRANSPORTATION AND MARKETING PROGRAMS.
|  | DEPUTY ADMINISTRATOR, SCIENCE AND TECHNOLOGY PROGRAMS.
| ANIMAL AND PLANT HEALTH INSPECTION SERVICE | EXECUTIVE DIRECTOR, DIAGNOSTICS AND BIOLOGICS. ASSOCIATE DEPUTY ADMINISTRATOR, SPRS. ASSOCIATE DEPUTY ADMINISTRATOR, VS. ASSOCIATE DEPUTY ADMINISTRATOR, NATIONAL IMPORT-EXPORT SERVICES.
|  | CHIEF ADVISOR (GOVERNMENT, ACADEMIA AND INDUSTRY PARTNERSHIP).
|  | CHIEF FINANCIAL OFFICER.
|  | ASSOCIATE DEPUTY ADMINISTRATOR FOR ANIMAL CARE.
|  | DIRECTOR, NATIONAL IMPORT EXPORT SERVICE.
|  | ASSISTANT CHIEF INFORMATION OFFICER.
|  | DIRECTOR, INVESTIGATIVE AND ENFORCEMENT SERVICES.
|  | DIRECTOR, NATIONAL WILDLIFE RESEARCH CENTER.
|  | HUMAN RESOURCES OFFICER.
|  | DEPUTY ADMINISTRATOR, BIOTECHNOLOGY REGULATORY PROGRAMS.
|  | DEPUTY ADMINISTRATOR FOR INTERNATIONAL SERVICES.
|  | DEPUTY ADMINISTRATOR, LEGISLATIVE AND PUBLIC AFFAIRS.
|  | ASSOCIATE DEPUTY ADMINISTRATOR, EMERGING AND INTERNATIONAL PROGRAMS.
|  | DIRECTOR, EASTERN REGION, WILDLIFE SERVICES.
|  | EXECUTIVE DIRECTOR, WESTERN REGION, WILDLIFE SERVICES.
|  | ASSOCIATE DEPUTY ADMINISTRATOR, VETERINARY SERVICES.
|  | DEPUTY ADMINISTRATOR FOR MARKETING AND REGULATORY PROGRAMS—BUSINESS SERVICES.
|  | ASSOCIATE DEPUTY ADMINISTRATOR FOR MARKETING AND REGULATORY PROGRAMS—BUSINESS SERVICES.
|  | DEPUTY ADMINISTRATOR, WILDLIFE SERVICES.
|  | DEPUTY ADMINISTRATOR, ANIMAL CARE.
|  | ASSOCIATE DEPUTY ADMINISTRATOR, WILDLIFE SERVICES.
|  | ASSISTANT DEPUTY ADMINISTRATOR, PLANT PROTECTION AND QUARANTINE.
|  | EXECUTIVE DIRECTOR, CENTER FOR PLANT HEALTH SCIENCE AND TECHNOLOGY.
| GRAIN INSPECTION, PACKERS AND STOCKYARDS ADMINISTRATION | DIRECTOR FIELD MANAGEMENT DIVISION.
OFFICE OF THE UNDER SECRETARY FOR RESEARCH, EDUCATION, AND ECONOMICS | AGRICULTURAL RESEARCH SERVICE | CHIEF FINANCIAL OFFICER. ASSOCIATE DEPUTY ADMINISTRATOR FOR ADMINISTRATIVE AND FINANCIAL MANAGEMENT. PEST MANAGEMENT OFFICER. DEPUTY ADMINISTRATOR FOR ADMINISTRATIVE AND FINANCIAL MANAGEMENT.
|  | ASSISTANT ADMINISTRATOR FOR TECHNOLOGY TRANSFER.
|  | ASSISTANT CHIEF INFORMATION OFFICER.
|  | ASSOCIATE ADMINISTRATOR, RESEARCH OPERATIONS AND MANAGEMENT.
OFFICE OF THE UNDER SECRETARY FOR RURAL DEVELOPMENT | RURAL BUSINESS SERVICE | DEPUTY ADMINISTRATOR, ENERGY PROGRAMS. DEPUTY ADMINISTRATOR, BUSINESS PROGRAMS.
| RURAL HOUSING SERVICE | DIRECTOR, BUDGET DIVISION. DEPUTY ADMINISTRATOR, MULTI-FAMILY HOUSING. DEPUTY ADMINISTRATOR, CENTRALIZED SERVICING CENTER.
|  | DEPUTY ADMINISTRATOR FOR OPERATIONS AND MANAGEMENT.
|  | CHIEF FINANCIAL OFFICER.
|  | DIRECTOR, RURAL HOUSING SERVICE.
|  | DIRECTOR, HUMAN RESOURCES.
OFFICE OF THE UNDER SECRETARY FOR TRADE AND FOREIGN AGRICULTURAL AFFAIRS | FARM SERVICE AGENCY | DIRECTOR, OFFICE OF BUDGET AND FINANCE. DEPUTY ADMINISTRATOR FOR FARM LOAN PROGRAMS. DIRECTOR, HUMAN RESOURCES DIVISION.
|  | DEPUTY DIRECTOR, OFFICE OF BUDGET AND FINANCE (2).
|  | ASSISTANT DEPUTY ADMINISTRATOR FARM PROGRAMS.
|  | DIRECTOR, BUSINESS AND PROGRAM INTEGRATION.
| FOREIGN AGRICULTURAL SERVICE | DEPUTY ADMINISTRATOR, OFFICE OF GLOBAL ANALYSIS. ASSOCIATE ADMINISTRATOR (CHIEF OPERATING OFFICER).
| RISK MANAGEMENT AGENCY | DEPUTY ADMINISTRATOR FOR INSURANCE SERVICES DIVISION. DEPUTY ADMINISTRATOR FOR PRODUCT MANAGEMENT.
OFFICE OF UNDER SECRETARY FOR NATURAL RESOURCES AND ENVIRONMENT | FOREST SERVICE | DEPUTY CHIEF, BUSINESS OPERATIONS. DIRECTOR, FIRE AND AVIATION MANAGEMENT. CHIEF FINANCIAL OFFICER.
|  | DIRECTOR, LAW ENFORCEMENT AND INVESTIGATIONS.
|  | DIRECTOR, ACQUISITION MANAGEMENT.
|  | ASSOCIATE DEPUTY CHIEF FOR BUSINESS OPERATIONS.
|  | ASSOCIATE DEPUTY CHIEF, RESEARCH AND DEVELOPMENT.
| NATURAL RESOURCES CONSERVATION SERVICE | CHIEF PROCUREMENT AND PROPERTY OFFICER. DEPUTY CHIEF FOR STRATEGIC PLANNING AND ACCOUNTABILITY. ASSOCIATE CHIEF FOR OPERATIONS/CHIEF OPERATING OFFICER.
|  | DIRECTOR, SOIL SCIENCE DIVISION.
|  | DIRECTOR, RESOURCE ECONOMICS, ANALYSIS AND POLICY DIVISION.
|  | SPECIAL ASSISTANT TO CHIEF.
|  | HUMAN RESOURCES OFFICER.
|  | DEPUTY CHIEF FOR PROGRAMS.
|  | DIRECTOR, FINANCIAL ASSISTANCE PROGRAMS DIVISION.
|  | REGIONAL CONSERVATIONIST (NORTHEAST).
|  | DIRECTOR, EASEMENT PROGRAMS DIVISION.
|  | DIRECTOR, CONSERVATION ENGINEERING DIVISION.
|  | DIRECTOR ECOLOGICAL SCIENCES DIVISION.
|  | CHIEF FINANCIAL OFFICER.
DEPARTMENT OF AGRICULTURE OFFICE OF THE INSPECTOR GENERAL | DEPARTMENT OF AGRICULTURE OFFICE OF THE INSPECTOR GENERAL | COUNSEL TO THE INSPECTOR GENERAL. DEPUTY INSPECTOR GENERAL.
OFFICE OF INSPECTOR GENERAL | ASSISTANT INSPECTOR GENERAL FOR AUDIT | DEPUTY ASSISTANT INSPECTOR GENERAL FOR AUDIT. ASSISTANT INSPECTOR GENERAL FOR OFFICE OF DATA SCIENCES. DEPUTY ASSISTANT INSPECTOR GENERAL FOR AUDIT. ASSISTANT INSPECTOR GENERAL FOR AUDIT.
| ASSISTANT INSPECTOR GENERAL FOR INVESTIGATIONS | ASSISTANT INSPECTOR GENERAL FOR INVESTIGATIONS. DEPUTY ASSISTANT INSPECTOR GENERAL FOR INVESTIGATIONS.
| ASSISTANT INSPECTOR GENERAL FOR MANAGEMENT | ASSISTANT INSPECTOR GENERAL FOR MANAGEMENT.
AMERICAN BATTLE MONUMENTS COMMISSION
AMERICAN BATTLE MONUMENTS COMMISSION | DIRECTOR, OVERSEAS OPERATIONS | CHIEF OPERATING OFFICER.
| EXECUTIVE DIRECTOR | DEPUTY SECRETARY.
ARCHITECTURAL AND TRANSPORTATION BARRIERS COMPLIANCE BOARD | ARCHITECTURAL AND TRANSPORTATION BARRIERS COMPLIANCE BOARD | DIRECTOR OFFICE OF TECHNICAL AND INFORMATION SERVICES. EXECUTIVE DIRECTOR.
UNITED STATES AGENCY FOR GLOBAL MEDIA | UNITED STATES AGENCY FOR GLOBAL MEDIA | CHIEF INFORMATION OFFICER/DIRECTOR OF INFORMATION TECHNOLOGY OPERATIONS. DEPUTY DIRECTOR FOR OPERATIONS. DIRECTOR OF MANAGEMENT SERVICES. CHIEF FINANCIAL OFFICER. EXECUTIVE DIRECTOR.
DEPARTMENT OF COMMERCE
ALASKA REGION | CLIMATE PREDICTION CENTER | DIRECTOR, CLIMATE PREDICTION CENTER.
| NATIONAL CENTERS FOR ENVIRONMENTAL PREDICTION CENTRAL OPERATIONS | DIRECTOR, CENTRAL OPERATIONS.
| STORM PREDICTION CENTER | DIRECTOR, STORM PREDICTION CENTER.
| TROPICAL PREDICTION CENTER | DIRECTOR, NATIONAL HURRICANE CENTER.
ASSISTANT SECRETARY FOR ENFORCEMENT AND COMPLIANCE | DEPUTY ASSISTANT SECRETARY FOR ANTIDUMPING DUTY/COUNTERVAILING DUTY OPERATIONS (AD/CVD) | SENIOR DIRECTOR. SENIOR DIRECTOR, AD/CVD ENFORCEMENT OFFICE VII. ASSOCIATE DEPUTY ASSISTANT SECRETARY FOR AD/CVD OPERATIONS.
ASSISTANT SECRETARY FOR INDUSTRY AND ANALYSIS | DEPUTY ASSISTANT SECRETARY FOR TRADE, POLICY AND ANALYSIS | DIRECTOR, OFFICE OF STANDARDS AND INVESTMENT POLICY.
BUREAU OF ECONOMIC ANALYSIS | ASSOCIATE DIRECTOR FOR INDUSTRY ACCOUNTS | ASSOCIATE DIRECTOR FOR INDUSTRY ACCOUNTS.
| ASSOCIATE DIRECTOR FOR INTERNATIONAL ECONOMICS | CHIEF, BALANCE OF PAYMENTS DIVISION. CHIEF DIRECT INVESTMENT DIVISION. ASSOCIATE DIRECTOR FOR INTERNATIONAL ECONOMICS.
| ASSOCIATE DIRECTOR FOR REGIONAL ECONOMICS | ASSOCIATE DIRECTOR FOR REGIONAL ECONOMICS.
| BUREAU OF ECONOMIC ANALYSIS | CHIEF NATIONAL INCOME AND WEALTH DIVISION. ASSOCIATE DIRECTOR FOR NATIONAL ECONOMIC ACCOUNTS.
| OFFICE OF THE DIRECTOR | CHIEF ECONOMIST. CHIEF INFORMATION OFFICER. CHIEF INNOVATION OFFICER.
|  | CHIEF FINANCIAL OFFICER AND CHIEF OF ADMINISTRATIVE SERVICES.
|  | DEPUTY DIRECTOR, BUREAU OF ECONOMIC ANALYSIS.
|  | DIRECTOR, BUREAU OF ECONOMIC ANALYSIS.
|  | CHIEF ADMINISTRATIVE OFFICER.
BUREAU OF INDUSTRY AND SECURITY | OFFICE OF THE ASSISTANT SECRETARY FOR EXPORT ENFORCEMENT | DEPUTY ASSISTANT SECRETARY FOR EXPORT ENFORCEMENT. DEPUTY DIRECTOR, OFFICE OF EXPORT ENFORCEMENT. DIRECTOR, OFFICE OF EXPORT ENFORCEMENT. DIRECTOR, OFFICE OF ENFORCEMENT ANALYSIS.
BUREAU OF THE CENSUS | ASSOCIATE DIRECTOR FOR ADMINISTRATION AND CHIEF FINANCIAL OFFICER | CHIEF FINANCIAL OFFICER. CHIEF, FINANCE DIVISION. CHIEF, HUMAN RESOURCES DIVISION. DEPUTY CHIEF FINANCIAL OFFICER.
|  | CHIEF, BUDGET DIVISION.
|  | CHIEF, ACQUISITION DIVISION.
|  | CHIEF ADMINISTRATIVE OFFICER.
| ASSOCIATE DIRECTOR FOR ECONOMIC PROGRAMS | CHIEF, ECONOMIC REIMBURSABLE SURVEYS DIVISION. CHIEF, ECONOMIC INDICATORS DIVISION. CHIEF, ECONOMIC MANAGEMENT DIVISION.
|  | ASSOCIATE DIRECTOR FOR ECONOMIC PROGRAMS.
|  | CHIEF, ECONOMY-WIDE STATISTICS DIVISION.
|  | CHIEF, ECONOMIC STATISTICAL METHODS AND RESEARCH DIVISION.
|  | ASSISTANT DIRECTOR FOR ECONOMIC PROGRAMS.
|  | CHIEF, ECONOMIC APPLICATIONS DIVISION.
| ASSOCIATE DIRECTOR FOR FIELD OPERATIONS | ASSISTANT DIRECTOR FOR FIELD OPERATIONS. CHIEF, OFFICE OF SURVEY AND CENSUS ANALYTICS. ASSOCIATE DIRECTOR FOR FIELD OPERATIONS.
|  | CHIEF, FIELD DIVISION.
|  | CHIEF NATIONAL PROCESSING CENTER.
| ASSOCIATE DIRECTOR FOR INFORMATION TECHNOLOGY AND CHIEF INFORMATION OFFICER | CHIEF TECHNOLOGY OFFICER. CHIEF, COMPUTER SERVICES DIVISION. CHIEF INFORMATION OFFICER.
|  | CHIEF, APPLICATION DEVELOPMENT AND SERVICES DIVISION.
|  | DEPUTY CHIEF INFORMATION OFFICER.
|  | CHIEF INFORMATION SECURITY OFFICER.
| OFFICE OF THE DIRECTOR | SENIOR ADVISOR FOR PROJECT MANAGEMENT. ASSOCIATE DIRECTOR FOR PERFORMANCE IMPROVEMENT. CHIEF, OFFICE OF PROGRAM, PERFORMANCE, AND STAKEHOLDER INTEGRATION. DEPUTY CHIEF, OFFICE OF PROGRAM, PERFORMANCE, AND STAKEHOLDER INTEGRATION.
DEPARTMENT OF COMMERCE | BUREAU OF INDUSTRY AND SECURITY | CHIEF INFORMATION OFFICER. CHIEF FINANCIAL OFFICER AND DIRECTOR OF ADMINISTRATION.
| ECONOMICS AND STATISTICS ADMINISTRATION | CHIEF FINANCIAL OFFICER AND DIRECTOR FOR ADMINISTRATION. DIRECTOR FOR POLICY AND PLANNING.
| MINORITY BUSINESS DEVELOPMENT AGENCY | ASSOCIATE DIRECTOR FOR MANAGEMENT.
| NATIONAL OCEANIC AND ATMOSPHERIC ADMINISTRATION | SENIOR ADVISOR.
| NATIONAL TECHNICAL INFORMATION SERVICE | DEPUTY DIRECTOR, NATIONAL TECHNICAL INFORMATION SERVICE.
| OFFICE OF THE INSPECTOR GENERAL | DEPUTY ASSISTANT INSPECTOR GENERAL FOR ECONOMIC AND STATISTICAL PROGRAM ASSESSMENT.
| OFFICE OF THE SECRETARY | DIRECTOR OFFICE OF SMALL AND DISADVANTAGED BUSINESS UTILIZATION.
| PATENT AND TRADEMARK OFFICE | DIRECTOR OF THE OFFICE OF PETITIONS. TRADEMARK GROUP DIRECTOR FOR INFORMATION TECHNOLOGY. CHIEF CORPORATE COMMUNICATIONS OFFICER.
DIRECTOR GENERAL OF THE UNITED STATES AND FOREIGN COMMERCIAL SERVICE AND ASSISTANT SECRETARY FOR GLOBAL MARKETS | DEPUTY ASSISTANT SECRETARY FOR CHINA | EXECUTIVE DIRECTOR FOR CHINA.
ECONOMIC DEVELOPMENT ADMINISTRATION | OFFICE OF THE DEPUTY ASSISTANT SECRETARY | CHIEF FINANCIAL OFFICER AND CHIEF ADMINISTRATIVE OFFICER.
ECONOMICS AND STATISTICS ADMINISTRATION | ASSOCIATE DIRECTOR FOR DECENNIAL CENSUS | SENIOR ADVOCATE FOR RESPONSE SECURITY AND DATA INTEGRITY. ASSISTANT DIRECTOR FOR DECENNIAL CENSUS PROGRAMS (SYSTEMS AND CONTRACTS). CHIEF, DECENNIAL INFORMATION TECHNOLOGY DIVISION. CHIEF, DECENNIAL STATISTICAL STUDIES DIVISION.
|  | CHIEF, DECENNIAL CONTRACTS EXECUTION OFFICE.
|  | CHIEF, AMERICAN COMMUNITY SURVEY OFFICE.
|  | CHIEF DECENNIAL MANAGEMENT DIVISION.
|  | CHIEF, GEOGRAPHY DIVISION.
|  | ASSOCIATE DIRECTOR FOR DECENNIAL CENSUS.
|  | CHIEF, DECENNIAL COMMUNICATIONS AND STAKEHOLDER RELATIONSHIPS.
|  | ASSISTANT DIRECTOR FOR DECENNIAL CENSUS PROGRAMS (OPERATIONS AND SCHEDULE MANAGEMENT).
| ASSOCIATE DIRECTOR FOR DEMOGRAPHIC PROGRAMS | CHIEF, POPULATION DIVISION. ASSISTANT DIRECTOR FOR DEMOGRAPHIC PROGRAMS. CHIEF, DEMOGRAPHIC STATISTICAL METHODS DIVISION.
|  | CHIEF, SOCIAL, ECONOMIC, AND HOUSING STATISTICS DIVISION.
|  | CHIEF DEMOGRAPHIC SURVEYS DIVISION.
|  | ASSOCIATE DIRECTOR FOR DEMOGRAPHIC PROGRAMS.
| ASSOCIATE DIRECTOR FOR RESEARCH AND METHODOLOGY | CHIEF, CENTER FOR ECONOMIC STUDIES AND CHIEF ECONOMIST. ASSOCIATE DIRECTOR FOR RESEARCH AND METHODOLOGY. ASSISTANT DIRECTOR FOR RESEARCH AND METHODOLOGY.
|  | CHIEF, CENTER FOR SURVEY MEASUREMENT.
|  | CHIEF, CENTER FOR ENTERPRISE DISSEMINATION.
|  | CHIEF, CENTER FOR ADAPTIVE DESIGN.
|  | CHIEF STATISTICAL RESEARCH DIVISION.
ENVIRONMENTAL RESEARCH LABORATORIES | ATLANTIC OCEAN AND METEOROLOGY LABORATORY | DIRECTOR, ATLANTIC OCEANOGRAPHIC AND METEOROLOGICAL
| GEOPHYSICAL FLUID DYNAMICS LABORATORY | DIRECTOR, OFFICE OF GEOPHYSICAL FLUID DYNAMICS LABORATORY.
| GREAT LAKE ENVIRONMENTAL RESEARCH LABORATORY | DIRECTOR, OFFICE OF GREAT LAKES ENVIRONMENTAL RESEARCH LABORATORY.
| PACIFIC MARINE ENVIRONMENTAL RESEARCH LABORATORY | DIRECTOR, OFFICE OF PACIFIC MARINE ENVIRONMENTAL LABORATORY.
NATIONAL INSTITUTE OF STANDARDS AND TECHNOLOGY | BOULDER SITE MANAGEMENT OFFICE | BOULDER LABORATORIES SITE MANAGER.
| CENTER FOR NANOSCALE SCIENCE AND TECHNOLOGY | DIRECTOR, CENTER FOR NANOSCALE SCIENCE AND TECHNOLOGY. DEPUTY DIRECTOR, CENTER FOR NANOSCALE SCIENCE AND TECHNOLOGY.
| ENGINEERING LABORATORY | DIRECTOR, ENGINEERING LABORATORY. DIRECTOR, SMART GRID AND CYBER-PHYSICAL SYSTEMS PROGRAM OFFICE. DEPUTY DIRECTOR ENGINEERING LABORATORY.
| HOLLINGS MANUFACTURING EXTENSION PARTNERSHIP PROGRAM | DIRECTOR, MANUFACTURING EXTENSION PARTNERSHIP PROGRAMS. DEPUTY DIRECTOR, MANUFACTURING EXTENSION PARTNERSHIP PROGRAM.
| INFORMATION TECHNOLOGY LABORATORY | DEPUTY DIRECTOR, INFORMATION TECHNOLOGY LABORATORY. DIRECTOR, INFORMATION TECHNOLOGY LABORATORY.
| MATERIAL MEASUREMENT LABORATORY | DIRECTOR, MATERIAL MEASUREMENT LABORATORY.
| NATIONAL INSTITUTE OF STANDARDS AND TECHNOLOGY CENTER FOR NEUTRON RESEARCH | DEPUTY DIRECTOR, NATIONAL INSTITUTE OF STANDARDS AND TECHNOLOGY CENTER FOR NEUTRON RESEARCH. DIRECTOR, NATIONAL INSTITUTE OF STANDARDS AND TECHNOLOGY CENTER FOR NEUTRON RESEARCH.
| OFFICE OF ACQUISITION AND AGREEMENTS MANAGEMENT | DIRECTOR, OFFICE OF ACQUISITION AND AGREEMENTS MANAGEMENT.
| OFFICE OF FACILITIES AND PROPERTY MANAGEMENT | CHIEF FACILITIES MANAGEMENT OFFICER.
| OFFICE OF FINANCIAL RESOURCE MANAGEMENT | CHIEF FINANCIAL OFFICER FOR NIST AND NTIS. CHIEF FINANCIAL OFFICER FOR NIST.
| OFFICE OF INFORMATION SYSTEMS MANAGEMENT CHIEF INFORMATION OFFICER FOR NATIONAL INSTITUTE OF STANDARDS AND TECHNOLOGY.
| OFFICE OF SAFETY, HEALTH AND ENVIRONMENT | CHIEF SAFETY OFFICER.
| OFFICE OF THE UNDER SECRETARY OF COMMERCE FOR STANDARDS AND TECHNOLOGY | CHIEF OF STAFF FOR NATIONAL INSTITUTE FOR STANDARDS AND TECHNOLOGY. CHIEF SCIENTIST. ASSOCIATE DIRECTOR FOR INNOVATION AND INDUSTRY SERVICES.
|  | ASSOCIATE DIRECTOR FOR MANAGEMENT RESOURCES.
|  | ASSOCIATE DIRECTOR FOR LABORATORY PROGRAMS.
|  | DIRECTOR, COMMUNICATIONS TECHNOLOGY LABORATORY.
|  | DIRECTOR, ADVANCED MANUFACTURING PROGRAM OFFICE.
|  | SENIOR SCIENCE ADVISOR.
| PHYSICAL MEASUREMENT LABORATORY | DIRECTOR, PHYSICAL MEASUREMENT LABORATORY. DEPUTY DIRECTOR FOR MEASUREMENT SCIENCE. DEPUTY DIRECTOR, PHYSICAL MEASUREMENT LABORATORY.
| SPECIAL PROGRAMS OFFICE | DEPUTY DIRECTOR, SPECIAL PROGRAMS OFFICE. DIRECTOR, SPECIAL PROGRAMS OFFICE.
| STANDARDS COORDINATION OFFICE | DIRECTOR, STANDARDS COORDINATION OFFICE.
NATIONAL MARINE FISHERIES SERVICE | OFFICE OF SCIENCE AND TECHNOLOGY | DIRECTOR OFFICE OF SCIENCE AND TECHNOLOGY.
| REGIONAL OFFICES | SCIENCE AND RESEARCH DIRECTOR NORTHEAST REGION. SCIENCE AND RESEARCH DIRECTOR, SOUTHEAST REGION. SCIENCE AND RESEARCH DIRECTOR, ALASKA REGION. SCIENCE AND RESEARCH DIRECTOR, NORTHWEST REGION. SCIENCE AND RESEARCH DIRECTOR, PACIFIC ISLAND REGION. SCIENCE AND RESEARCH DIRECTOR SOUTHWEST REGION.
NATIONAL OCEAN SERVICE | CENTER FOR OPERATIONAL OCEANOGRAPHIC PRODUCTS AND SERVICES | DIRECTOR, CENTER FOR OPERATIONAL OCEANOGRAPHIC PRODUCTS AND SERVICES.
| NATIONAL OCEANIC AND ATMOSPHERIC ADMINISTRATION COASTAL SERVICES CENTER | DIRECTOR, NATIONAL CENTERS FOR COASTAL OCEAN SCIENCE.
| OFFICE OF NATIONAL GEODETIC SURVEY | DIRECTOR, OFFICE OF NATIONAL GEODETIC SURVEY.
| OFFICE OF RESPONSE AND RESTORATION | DIRECTOR, OFFICE OF RESPONSE AND RESTORATION.
NATIONAL OCEANIC AND ATMOSPHERIC ADMINISTRATION | NATIONAL CENTERS FOR ENVIRONMENTAL PREDICTION | DIRECTOR, NATIONAL CENTERS FOR ENVIRONMENTAL PREDICTION. DIRECTOR, WEATHER PREDICTION CENTER. DIRECTOR, OCEAN PREDICTION CENTER.
|  | DIRECTOR, ENVIRONMENTAL MODELING CENTER.
|  | DIRECTOR, AVIATION WEATHER CENTER.
|  | DIRECTOR, SPACE WEATHER PREDICTION CENTER.
| OFFICE OF ASSISTANT ADMINISTRATOR SATELLITE, DATA INFORMATION SERVICE | SYSTEM PROGRAM DIRECTOR FOR GOES-R PROGRAM. DEPUTY ASSISTANT ADMINISTRATOR FOR SYSTEMS. DIRECTOR, JOINT POLAR SATELLITE SYSTEMS. DIRECTOR, NATIONAL CENTER FOR ENVIRONMENTAL INFORMATION.
|  | DEPUTY DIRECTOR, NATIONAL CENTER FOR ENVIRONMENTAL INFORMATION.
|  | CHIEF FINANCIAL OFFICER/CHIEF ADMINISTRATIVE OFFICER.
|  | ASSISTANT CHIEF INFORMATION OFFICER FOR NESDIS.
|  | DIRECTOR, OFFICE OF SYSTEMS ARCHITECTURE AND ADVANCED PLANNING.
|  | DIRECTOR SATELLITE GROUND SERVICES.
|  | DIRECTOR, OFFICE OF PROJECTS, PARTNERSHIPS AND ANALYSIS.
| OFFICE OF ASSISTANT ADMINISTRATOR, OCEAN AND ATMOSPHERIC RESEARCH | CHIEF FINANCIAL OFFICER/CHIEF ADMINISTRATIVE OFFICER. DEPUTY ASSISTANT ADMINISTRATOR FOR SCIENCE. DIRECTOR, OFFICE OF WEATHER PROGRAMS.
| OFFICE OF EDUCATION AND SUSTAINABLE DEVELOPMENT | DIRECTOR, OFFICE OF EDUCATION.
| OFFICE OF HABITAT CONSERVATION | DIRECTOR, OFFICE OF HABITAT CONSERVATION.
| OFFICE OF HIGH-PERFORMANCE COMPUTING AND COMMUNICATIONS | DEPUTY CHIEF INFORMATION OFFICER. CHIEF INFORMATION OFFICER AND DIRECTOR FOR HIGH PERFORMANCE COMPUTING AND COMMUNICATIONS. CHIEF DATA OFFICER (2).
| OFFICE OF MARINE AND AVIATION OPERATIONS | DEPUTY ASSISTANT ADMINISTRATOR FOR PROGRAMS AND ADMINISTRATION.
| OFFICE OF OCEANIC EXPLORATION AND RESEARCH | DIRECTOR, OFFICE OF OCEAN EXPLORATION AND RESEARCH.
| OFFICE OF RESEARCH AND APPLICATIONS | DIRECTOR, CENTER FOR SATELLITE APPLICATIONS AND RESEARCH.
| OFFICE OF SATELLITE AND PRODUCT OPERATIONS | DEPUTY DIRECTOR, OFFICE OF SATELLITE AND PRODUCT OPERATIONS.
| OFFICE OF THE ASSISTANT ADMINISTRATOR FOR WEATHER SERVICES | CHIEF FINANCIAL OFFICER/CHIEF ADMINISTRATOR OFFICER. DIRECTOR, OFFICE OF ORGANIZATIONAL EXCELLENCE. CHIEF ENGINEER.
|  | CHIEF OPERATING OFFICER.
|  | DIRECTOR, OFFICE OF OBSERVATIONS.
|  | DIRECTOR, OFFICE OF SCIENCE AND TECHNOLOGY INTEGRATION.
|  | DIRECTOR, OFFICE OF FACILITIES.
|  | DIRECTOR, ANALYZE, FORECAST AND SUPPORT OFFICE.
|  | DIRECTOR, OFFICE OF CENTRAL PROCESSING.
|  | OFFICE OF ORGANIZATIONAL EXCELLENCE.
|  | DIRECTOR, OFFICE OF PLANNING AND PROGRAMMING FOR SERVICE DELIVERY.
|  | DIRECTOR, OFFICE OF DISSEMINATION.
|  | DIRECTOR, OFFICE OF WATER PREDICTION.
|  | DEPUTY DIRECTOR, OFFICE OF WATER PREDICTION.
| OFFICE OF UNDER SECRETARY | DIRECTOR, FINANCE OFFICE/COMPTROLLER. DIRECTOR, BUDGET OFFICE. DEPUTY DIRECTOR, ACQUISITION AND GRANTS OFFICE.
|  | CHIEF ADMINISTRATIVE OFFICER.
|  | DEPUTY DIRECTOR FOR WORKFORCE MANAGEMENT.
|  | DIRECTOR, ACQUISITION AND GRANTS OFFICE.
|  | DIRECTOR, PROGRAM EVALUATION, PLANNING AND RISK MANAGEMENT OFFICE.
|  | CHIEF FINANCIAL OFFICER.
|  | DIRECTOR FOR WORKFORCE MANAGEMENT.
NATIONAL TELECOMMUNICATIONS AND INFORMATION ADMINISTRATION | FIRST RESPONDER NETWORK AUTHORITY | CHIEF PROCUREMENT OFFICER. CHIEF INFORMATION OFFICER, FIRST RESPONDER NETWORK AUTHORITY. CHIEF TECHNOLOGY OFFICER, FIRST RESPONDER NETWORK AUTHORITY.
|  | CHIEF FINANCIAL OFFICER, FIRST RESPONDER NETWORK AUTHORITY.
|  | CHIEF ADMINISTRATIVE OFFICER, FIRST RESPONDER NETWORK AUTHORITY.
| INSTITUTE FOR TELECOMMUNICATION SCIENCES | ASSOCIATE ADMINISTRATOR FOR TELECOMMUNICATION SCIENCES AND DIRECTOR, INSTITUTE FOR TELECOMMUNICATION SCIENCES.
| OFFICE OF INTERNATIONAL AFFAIRS | ASSOCIATE ADMINISTRATOR, OFFICE OF INTERNATIONAL AFFAIRS.
| OFFICE OF THE ASSISTANT SECRETARY FOR COMMUNICATIONS AND INFORMATION | CHIEF INFORMATION OFFICER AND DEPUTY DIRECTOR FOR POLICY COORDINATION AND MANAGEMENT. CHIEF DIGITAL OFFICER. CHIEF FINANCIAL OFFICER AND DIRECTOR OF ADMINISTRATION.
OFFICE—FEDERAL COORDINATOR—METEOROLOGY | ALASKA REGION | DIRECTOR, ALASKA REGION.
| CENTRAL REGION | DIRECTOR, CENTRAL REGION.
| EASTERN REGION | DIRECTOR, EASTERN REGION.
| SOUTHERN REGION | DIRECTOR, SOUTHERN REGION.
| WESTERN REGION | DIRECTOR, WESTERN REGION.
OFFICE OF ASSISTANT ADMINISTRATOR FOR FISHERIES | NATIONAL MARINE FISHERIES SERVICE | CHIEF FINANCIAL OFFICER/CHIEF ADMINISTRATIVE OFFICER. DEPUTY ASSISTANT ADMINISTRATOR FOR OPERATIONS. DIRECTOR, OFFICE OF ENFORCEMENT. DIRECTOR OFFICE OF SUSTAINABLE FISHERIES. DIRECTOR, SCIENTIFIC PROGRAMS AND CHIEF SCIENCE ADVISOR.
OFFICE OF ASSISTANT ADMINISTRATOR OCEAN SERVICES AND COASTAL ZONE MANAGEMENT | NATIONAL OCEAN SERVICE | DEPUTY ASSISTANT ADMINISTRATOR FOR OCEAN SERVICE AND COASTAL ZONE MANAGEMENT.
| DIRECTOR, INTEGRATED OCEAN OBSERVING SYSTEM.
| DIRECTOR, OFFICE OF COASTAL MANAGEMENT.
| CHIEF FINANCIAL OFFICER/CHIEF ADMINISTRATIVE OFFICER.
OFFICE OF ASSISTANT ADMINISTRATOR, OCEAN AND ATMOSPHERIC RESEARCH | EARTH SYSTEM RESEARCH LABORATORY | DIRECTOR, PHYSICAL SCIENCE DIVISION. DIRECTOR, GLOBAL SYSTEMS DIVISION. DIRECTOR, GLOBAL MONITORING DIVISION. DIRECTOR, CHEMICAL SCIENCE DIVISION.
| OFFICE OF NATIONAL SEVERE STORMS LABORATORY | DIRECTOR NATIONAL SEVERE STORMS LABORATORY.
OFFICE OF OCEANIC AND ATMOSPHERIC RESEARCH | CLIMATE PROGRAM OFFICE | DIRECTOR, CLIMATE PROGRAM OFFICE.
OFFICE OF OCEANIC EXPLORATION AND RESEARCH | NATIONAL SEA GRANT COLLEGE PROGRAM | DIRECTOR, NATIONAL SEA GRANT COLLEGE PROGRAM.
OFFICE OF OPERATIONAL SYSTEMS | NATIONAL DATA BUOY CENTER | DIRECTOR, NATIONAL DATA BUOY CENTER.
| RADAR OPERATIONS CENTER | DIRECTOR, RADAR OPERATIONS CENTER.
OFFICE OF SCIENCE AND TECHNOLOGY | METEOROLOGICAL DEVELOPMENT LABORATORY | DIRECTOR, METEOROLOGICAL DEVELOPMENT LABORATORY.
OFFICE OF THE ASSISTANT ADMINISTRATOR FOR WEATHER SERVICES | OFFICE OF THE CHIEF INFORMATION OFFICER | ASSISTANT CHIEF INFORMATION OFFICER FOR WEATHER SERVICE.
OFFICE OF THE CHIEF FINANCIAL OFFICER AND ASSISTANT SECRETARY FOR ADMINISTRATION | OFFICE OF THE DEPUTY ASSISTANT SECRETARY FOR RESOURCE MANAGEMENT | DEPUTY ASSISTANT SECRETARY FOR RESOURCE MANAGEMENT.
| OFFICE OF THE DEPUTY CHIEF FINANCIAL OFFICER FOR FINANCIAL MANAGEMENT | DIRECTOR, FINANCIAL REPORTING AND INTERNAL CONTROLS. DEPUTY DIRECTOR, OFFICE OF FINANCIAL MANAGEMENT SYSTEMS. DIRECTOR, OS FINANCIAL MANAGEMENT. DIRECTOR FOR FINANCIAL MANAGEMENT AND DEPUTY CHIEF FINANCIAL OFFICER.
OFFICE OF THE COMMISSIONER FOR PATENTS | GROUP DIRECTORS | GROUP DIRECTOR (3). GROUP DIRECTOR—2900. GROUP DIRECTOR—2100 (3). GROUP DIRECTOR—1600 (3)
|  | GROUP DIRECTOR—3600 (5).
|  | GROUP DIRECTOR—2600 (4).
|  | GROUP DIRECTOR—1700 (2).
|  | GROUP DIRECTOR—3700 (4).
|  | GROUP DIRECTOR—2400 (3).
|  | GROUP DIRECTOR—2800 (4).
OFFICE OF THE DEPUTY ASSISTANT SECRETARY FOR ADMINISTRATION | OFFICE OF ACQUISITION MANAGEMENT | DEPUTY FOR ACQUISITION PROGRAM MANAGEMENT. DIRECTOR, OFFICE OF ACQUISITION MANAGEMENT. DEPUTY FOR PROCUREMENT MANAGEMENT, POLICY AND PERFORMANCE EXCELLENCE.
| OFFICE OF FACILITIES AND ENVIRONMENTAL QUALITY | DIRECTOR FOR FACILITIES AND ENVIRONMENTAL QUALITY. DEPUTY DIRECTOR FOR FACILITIES AND ENVIRONMENTAL QUALITY. DIRECTOR OF FACILITIES AND ENVIRONMENTAL QUALITY.
| OFFICE OF HUMAN RESOURCES MANAGEMENT | DEPUTY DIRECTOR FOR HUMAN RESOURCES MANAGEMENT AND DEPUTY CHIEF HUMAN CAPITAL OFFICER. DIRECTOR FOR HUMAN RESOURCES MANAGEMENT AND CHIEF HUMAN CAPITAL OFFICER. DIRECTOR, HUMAN CAPITAL CLIENT SERVICES.
| OFFICE OF SECURITY | DIRECTOR, OFFICE OF SECURITY. DEPUTY DIRECTOR, OFFICE OF SECURITY.
OFFICE OF THE DEPUTY ASSISTANT SECRETARY FOR RESOURCE MANAGEMENT | OFFICE OF BUDGET | DIRECTOR OF THE OFFICE OF BUDGET.
OFFICE OF THE DEPUTY SECRETARY | OFFICE OF THE CHIEF INFORMATION OFFICER | DIRECTOR OF CYBERSECURITY AND CHIEF INFORMATION SECURITY OFFICER. DEPUTY CHIEF INFORMATION OFFICER FOR SOLUTIONS AND SERVICE DELIVERY. DEPUTY CHIEF INFORMATION OFFICER FOR POLICY AND BUSINESS MANAGEMENT.
OFFICE OF THE INSPECTOR GENERAL | OFFICE OF COUNSEL TO THE INSPECTOR GENERAL | COUNSEL TO THE INSPECTOR GENERAL.
| OFFICE OF INSPECTIONS AND PROGRAM EVALUATION | ASSISTANT INSPECTOR GENERAL FOR INSPECTIONS AND PROGRAM EVALUATION.
| OFFICE OF INSPECTOR GENERAL | ASSISTANT INSPECTOR GENERAL FOR ADMINISTRATION. ASSISTANT INSPECTOR GENERAL FOR SYSTEMS EVALUATION.
| OFFICE OF INVESTIGATIONS | ASSISTANT INSPECTOR GENERAL FOR INVESTIGATIONS.
OFFICE OF THE SECRETARY | OFFICE OF THE CHIEF FINANCIAL OFFICER AND ASSISTANT SECRETARY FOR ADMINISTRATION | DIRECTOR FOR ADMINISTRATIVE PROGRAMS. DEPUTY DIRECTOR, OFFICE OF BUDGET.
| OFFICE OF THE DEPUTY SECRETARY | DIRECTOR, HUMAN RESOURCES SERVICES, ENTERPRISE SERVICES. DEPUTY DIRECTOR FOR PLANNING, IMPLEMENTATION, AND STAKEHOLDER RELATIONS. DIRECTOR OF ACQUISITION SERVICES. CHIEF FINANCIAL OFFICER AND DIRECTOR OF ADMINISTRATION. DEPUTY DIRECTOR FOR ENTERPRISE SERVICES FOR OPERATIONS.
| OFFICE OF THE GENERAL COUNSEL | CHIEF, ETHICS DIVISION. DIRECTOR OF ADMINISTRATIVE OPERATIONS. CHIEF, CONTRACT LAW DIVISION.
OFFICE OF THE UNDER SECRETARY | OFFICE OF THE DEPUTY UNDER SECRETARY | DEPUTY CHIEF FINANCIAL AND ADMINISTRATIVE OFFICER. DEPUTY CHIEF INFORMATION OFFICER. CHIEF FINANCIAL AND ADMINISTRATIVE OFFICER.
OFFICE OF THE UNDER SECRETARY OF COMMERCE FOR STANDARDS AND TECHNOLOGY | BALDRIDGE PERFORMANCE EXCELLENCE PROGRAM | DIRECTOR, BALDRIGE PERFORMANCE EXCELLENCE PROGRAM.
PATENT AND TRADEMARK OFFICE | OFFICE OF POLICY AND INTERNATIONAL AFFAIRS | DEPUTY CHIEF POLICY OFFICER. DEPUTY CHIEF POLICY OFFICER FOR OPERATIONS. DIRECTOR, GOVERNMENTAL AFFAIRS.
| OFFICE OF THE CHIEF ADMINISTRATIVE OFFICER | DIRECTOR, OFFICE OF ADMINISTRATIVE SERVICES. DEPUTY CHIEF ADMINISTRATIVE OFFICER (2). DIRECTOR, HUMAN CAPITAL MANAGEMENT.
| OFFICE OF THE CHIEF FINANCIAL OFFICER | CHIEF FINANCIAL OFFICER. DIRECTOR, OFFICE OF PROCUREMENT. DIRECTOR, OFFICE OF PLANNING AND BUDGET. DIRECTOR, OFFICE OF FINANCE. DEPUTY CHIEF FINANCIAL OFFICER.
| OFFICE OF THE CHIEF INFORMATION OFFICER | CHIEF TECHNOLOGY OFFICER. DIRECTOR OF ORGANIZATIONAL POLICY AND GOVERNANCE. DIRECTOR, OFFICE OF INFRASTRUCTURE ENGINEERING AND OPERATIONS. DIRECTOR, OFFICE OF PROGRAM ADMINISTRATION ORGANIZATION.
|  | DIRECTOR, OFFICE OF INFORMATION MANAGEMENT SERVICES.
|  | DIRECTOR, APPLICATION ENGINEERING AND DEVELOPMENT.
|  | DEPUTY CHIEF INFORMATION OFFICER.
| OFFICE OF THE COMMISSIONER FOR PATENTS | DIRECTOR, OFFICE OF PATENT QUALITY ASSURANCE. DEPUTY COMMISSIONER FOR PATENT OPERATIONS. ASSOCIATE COMMISSIONER INTERNATIONAL PATENT COOPERATION. ASSOCIATE COMMISSIONER FOR PATENT QUALITY.
|  | ASSOCIATE COMMISSIONER FOR INNOVATION AND DEVELOPMENT.
|  | PATENT EXAMINING GROUP DIRECTOR.
|  | DIRECTOR, OFFICE OF PATENT LEGAL ADMINISTRATION.
|  | DIRECTOR, OFFICE OF CENTRAL REEXAMINATION UNIT.
|  | ASSOCIATE COMMISSIONER FOR PATENT INFORMATION MANAGEMENT.
|  | DEPUTY COMMISSIONER FOR PATENT ADMINISTRATION.
|  | ASSISTANT DEPUTY COMMISSIONER FOR PATENTS OPERATIONS (5).
|  | DEPUTY COMMISSIONER FOR INTERNATIONAL PATENT COOPERATION.
|  | SENIOR ADVISOR FOR PATENTS.
|  | DEPUTY DIRECTOR, PATENT TRAINING ACADEMY.
|  | CHIEF PATENT ACADEMIC OFFICER.
|  | DEPUTY COMMISSIONER FOR PATENT EXAMINATION POLICY.
|  | DEPUTY COMMISSIONER FOR PATENT QUALITY.
| OFFICE OF THE COMMISSIONER FOR TRADEMARKS | DEPUTY COMMISSIONER FOR TRADEMARK OPERATIONS. DEPUTY COMMISSIONER FOR TRADEMARK ADMINISTRATION. DEPUTY COMMISSIONER FOR TRADEMARK EXAMINATION POLICY. GROUP DIRECTOR, TRADEMARK LAW OFFICES (4).
| OFFICE OF THE GENERAL COUNSEL | DEPUTY GENERAL COUNSEL FOR ENROLLMENT AND DISCIPLINE. DEPUTY SOLICITOR AND ASSISTANT GENERAL COUNSEL FOR INTELLECTUAL PROPERTY LAW. DEPUTY GENERAL COUNSEL FOR INTELLECTUAL PROPERTY LAW AND SOLICITOR. DEPUTY GENERAL COUNSEL FOR GENERAL LAW.
| OFFICE OF THE UNDER SECRETARY | VICE CHIEF ADMINISTRATIVE PATENT JUDGE (4). DEPUTY CHIEF ADMINISTRATIVE TRADEMARK JUDGE. REGIONAL DIRECTOR—DENVER. DIRECTOR, OFFICE OF EQUAL EMPLOYMENT OPPORTUNITY AND DIVERSITY.
|  | CHIEF ADMINISTRATIVE PATENT JUDGE.
|  | REGIONAL DIRECTOR—SAN JOSE.
|  | VICE CHIEF ADMINISTRATIVE PATENT JUDGE FOR STRATEGY.
|  | CHIEF ADMINISTRATIVE TRADEMARK JUDGE.
|  | PATENT TRIAL AND APPEAL BOARD EXECUTIVE.
|  | REGIONAL DIRECTOR—DALLAS.
|  | REGIONAL DIRECTOR—DETROIT.
|  | DEPUTY CHIEF ADMINISTRATIVE PATENT JUDGE.
DEPARTMENT OF COMMERCE OFFICE OF THE INSPECTOR GENERAL | OFFICE OF INSPECTOR GENERAL | DEPUTY INSPECTOR GENERAL.
OFFICE OF AUDIT AND EVALUATION | OFFICE OF AUDIT | ASSISTANT INSPECTOR GENERAL FOR AUDIT.
| OFFICE OF ECONOMIC AND STATISTICAL PROGRAM ASSESSMENT | ASSISTANT INSPECTOR GENERAL FOR ECONOMIC AND STATISTICAL PROGRAM ASSESSMENT.
OFFICE OF INSPECTOR GENERAL | IMMEDIATE OFFICE | CHIEF OF STAFF.
| OFFICE OF AUDIT AND EVALUATION | ASSISTANT INSPECTOR GENERAL FOR AUDITS. PRINCIPAL ASSISTANT INSPECTOR GENERAL FOR AUDIT AND EVALUATION. ASSISTANT INSPECTOR GENERAL FOR AUDIT AND EVALUATION. ASSISTANT INSPECTOR GENERAL FOR ACQUISITION AND SPECIAL PROGRAM AUDITS.
| OFFICE OF COUNSEL | COUNSEL TO THE INSPECTOR GENERAL.
| OFFICE OF INVESTIGATIONS | ASSISTANT INSPECTOR GENERAL FOR INVESTIGATIONS.
COMMITTEE FOR PURCHASE FROM PEOPLE WHO ARE BLIND OR SEVERELY | COMMITTEE FOR PURCHASE FROM PEOPLE WHO ARE BLIND OR SEVERELY DISABLED | EXECUTIVE DIRECTOR.
CONSUMER PRODUCT SAFETY COMMISSION
CONSUMER PRODUCT SAFETY COMMISSION | OFFICE OF EXECUTIVE DIRECTOR | DEPUTY EXECUTIVE DIRECTOR FOR OPERATIONS SUPPORT. ASSISTANT EXECUTIVE DIRECTOR FOR COMPLIANCE AND FIELD OPERATIONS. ASSISTANT EXECUTIVE DIRECTOR FOR INFORMATION AND TECHNICAL SERVICES.
OFFICE OF EXECUTIVE DIRECTOR | OFFICE OF HAZARD IDENTIFICATION AND REDUCTION | DEPUTY ASSISTANT EXECUTIVE DIRECTOR FOR HAZARD IDENTIFICATION AND REDUCTION (2). ASSOCIATE EXECUTIVE DIRECTOR FOR EPIDEMIOLOGY. ASSOCIATE EXECUTIVE DIRECTOR FOR ECONOMIC ANALYSIS. ASSOCIATE EXECUTIVE DIRECTOR FOR ENGINEERING SCIENCES. ASSISTANT EXECUTIVE DIRECTOR FOR HAZARD IDENTIFICATION AND REDUCTION.
| OFFICE OF IMPORT SURVEILLANCE | DIRECTOR, OFFICE OF IMPORT SURVEILLANCE. DIRECTOR, OFFICE OF IMPORT SURVEILLANCE.
COURT SERVICES AND OFFENDER SUPERVISION AGENCY FOR THE DISTRICT OF COLUMBIA | COURT SERVICES AND OFFENDER SUPERVISION AGENCY FOR THE DISTRICT OF COLUMBIA | DEPUTY DIRECTOR. ASSOCIATE DIRECTOR FOR RESEARCH AND EVALUATION. ASSOCIATE DIRECTOR FOR ADMINISTRATION. CHIEF INFORMATION OFFICER (2). ASSOCIATE DIRECTOR FOR COMMUNITY SUPERVISION. ASSOCIATE DIRECTOR FOR COMMUNITY JUSTICE PROGRAMS. PROGRAM ANALYST OFFICER. ASSOCIATE DIRECTOR, LEGISLATIVE, INTERGOVERNMENTAL AND PUBLIC AFFAIRS. MANAGEMENT AND PROGRAM ANALYSIS OFFICER CHIEF OF STAFF. ASSOCIATE DIRECTOR FOR HUMAN RESOURCES.
COURT SERVICES AND OFFENDER SUPERVISION AGENCY FOR THE DISTRICT OF COLUMBIA | PRETRIAL SERVICES AGENCY | ASSISTANT DIRECTOR FOR DEFENDANT ENGAGEMENT AND SYSTEMS SUPPORT. ASSISTANT DIRECTOR FOR MANAGEMENT AND ADMINISTRATION. DIRECTOR.
OFFICE OF THE SECRETARY OF DEFENSE
OFFICE OF THE CHIEF MANAGEMENT OFFICER | PENTAGON FORCE PROTECTION AGENCY | EXECUTIVE DIRECTOR, SECURITY INTEGRATION AND TECHNOLOGY. DIRECTOR, PENTAGON FORCE PROTECTION AGENCY. PRINCIPAL DEPUTY DIRECTOR, PENTAGON FORCE PROTECTION AGENCY. DIRECTOR, LAW ENFORCEMENT.
| WASHINGTON HEADQUARTERS SERVICES | DIRECTOR, HUMAN RESOURCES DIRECTORATE. DIRECTOR, ACQUISITION DIRECTORATE. DIRECTOR, FACILITIES SERVICES DIRECTORATE. DEPUTY DIRECTOR FACILITIES SERVICES DIRECTORATE. INSPECTOR GENERAL NGB. EXECUTIVE DIRECTOR, ACQUISITION/HCA NGB. DIRECTOR, POLICY, PLANS AND REQUIREMENTS. DEPUTY DIRECTOR, HUMAN RESOURCES DIRECTORATE.
OFFICE OF THE DEPARTMENT OF DEFENSE CHIEF INFORMATION OFFICER | DEFENSE INFORMATION SYSTEMS AGENCY | WORKFORCE MANAGEMENT EXECUTIVE. SERVICES EXECUTIVE. VICE PROCUREMENT SERVICES EXECUTIVE/DEPUTY CHIEF, DEFENSE INFORMATION TECHNOLOGY CONTRACTING ORGANIZATION. DIRECTOR, DEFENSE SPECTRUM. PROCUREMENT SERVICES EXECUTIVE AND HEAD OF CONTRACTING ACTIVITY.
|  | DIRECTOR, CENTER FOR OPERATIONS.
|  | EXECUTIVE DEPUTY DIRECTOR.
|  | VICE DIRECTOR, DEVELOPMENT AND BUSINESS CENTER.
|  | NATIONAL LEADERSHIP COMMAND CAPABILITIES EXECUTIVE.
|  | OPERATIONS EXECUTIVE.
|  | SERVICES EXECUTIVE.
|  | CHIEF FINANCIAL OFFICER/COMPTROLLER.
|  | DIRECTOR, DEVELOPMENT AND BUSINESS.
|  | CYBERSECURITY RISK MANAGEMENT AND AUTHORIZING OFFICIAL EXECUTIVE (2).
|  | DEPUTY DIRECTOR, JOINT SERVICE PROVIDER.
|  | DIRECTOR, CENTER FOR OPERATIONS.
|  | NBIS EXECUTIVE.
|  | VICE DIRECTOR, CENTER FOR OPERATIONS.
|  | SERVICES DEVELOPMENT EXECUTIVE.
|  | DEPUTY CHIEF FINANCIAL OFFICER/DEPUTY COMPTROLLER.
OFFICE OF THE SECRETARY | OFFICE OF THE JOINT CHIEFS OF STAFF | VICE DIRECTOR C4 CYBER. VICE DIRECTOR, MANPOWER AND PERSONNEL. EXECUTIVE DIRECTOR. VICE DEPUTY DIRECTOR REGIONAL OPERATIONS AND FORCE MANAGEMENT. VICE DIRECTOR JOINT FORCE DEVELOPMENT AND DESIGN INTEGRATION.
| OFFICE OF THE UNDER SECRETARY OF DEFENSE (ACQUISITION, TECHNOLOGY, AND LOGISTICS) | DEPUTY DIRECTOR, ENTERPRISE INFORMATION.
OFFICE OF THE SECRETARY OF DEFENSE | OFFICE OF INSPECTOR GENERAL | DIRECTOR, DEFENSE CRIMINAL INVESTIGATIVE SERVICE—ASSISTANT INSPECTOR GENERAL FOR INVESTIGATIONS. ASSISTANT INSPECTOR GENERAL, DEFENSE FINANCIAL AUDITING SERVICE. PRINCIPAL DEPUTY INSPECTOR GENERAL. DEPUTY DIRECTOR, DEFENSE CRIMINAL INVESTIGATIVE SERVICE. ASSISTANT INSPECTOR GENERAL FOR READINESS AND OPERATIONS SUPPORT.
| OFFICE OF THE CHIEF MANAGEMENT OFFICER | DIRECTOR, PLANNING, PERFORMANCE AND ASSESSMENT DIRECTORATE. DIRECTOR OF ADMINISTRATION AND ORGANIZATIONAL POLICY. DIRECTOR, OVERSIGHT AND COMPLIANCE. DOD SENIOR INTELLIGENCE OVERSIGHT OFFICIAL AND DEPUTY DIRECTOR OVERSIGHT AND COMPLIANCE. DIRECTOR POLICY AND DECISION SUPPORT.
| OFFICE OF THE DEPARTMENT OF DEFENSE CHIEF INFORMATION OFFICER | JFHQ-DODIN EXECUTIVE.
| OFFICE OF THE DIRECTOR, OPERATIONAL TEST AND EVALUATION | DEPUTY DIRECTOR FOR NAVAL WARFARE DEPUTY DIRECTOR FOR LIVE FIRE TEST AND EVALUATION.
| OFFICE OF THE GENERAL COUNSEL | DIRECTOR, OFFICE OF LITIGATION. DIRECTOR DEFENSE OFFICE OF HEARINGS AND APPEALS.
| OFFICE OF THE UNDER SECRETARY OF DEFENSE (ACQUISITION AND SUSTAINMENT) | DIRECTOR, SUPPLY CHAIN RISK MANAGEMENT. CHIEF INFORMATION SECURITY OFFICER A AND S. DASD (PLATFORM AND WEAPON PORTFOLIO MANAGEMENT). DIRECTOR, PRICING AND CONTRACTING. DIRECTOR, SPACE AND MISSILE DEFENSE. DIRECTOR FOR CONTRACTING BUSINESS. DIRECTOR FOR ADMINISTRATION.
| OFFICE OF THE UNDER SECRETARY OF DEFENSE (COMPTROLLER) | DEPUTY CHIEF FINANCIAL OFFICER.
| OFFICE OF THE UNDER SECRETARY OF DEFENSE (RESEARCH AND ENGINEERING) | DIRECTOR, C5 INTELLIGENCE, SURVEILLANCE, RECONNAISSANCE, AND ELECTRONIC WARFARE. DIRECTOR, SCIENCE AND TECHNOLOGY. DIRECTOR, DEFENSE MICROELECTRONICS.
OFFICE OF THE UNDER SECRETARY OF DEFENSE (ACQUISITION AND SUSTAINMENT) | DEFENSE CONTRACT MANAGEMENT AGENCY | EXECUTIVE DIRECTOR, INFORMATION TECHNOLOGY AND CHIEF INFORMATION OFFICER. EXECUTIVE DIRECTOR, TECHNICAL DEPUTY DIRECTOR EXECUTIVE DIRECTOR, COST AND PRICING EXECUTIVE DIRECTOR TOTAL FORCE
|  | DEPUTY GENERAL COUNSEL.
|  | EXECUTIVE DIRECTOR, PORTFOLIO MANAGEMENT AND BUSINESS INTEGRATION.
|  | EXECUTIVE DIRECTOR, CONTRACTS.
|  | DEPUTY DIRECTOR, DEFENSE CONTRACT MANAGEMENT AGENCY.
|  | GENERAL COUNSEL.
|  | EXECUTIVE DIRECTOR, FINANCIAL AND BUSINESS OPERATIONS AND COMPTROLLER.
|  | EXECUTIVE DIRECTOR, QUALITY.
| DEFENSE LOGISTICS AGENCY (DLA) | DIRECTOR, DLA FINANCE. EXECUTIVE DIRECTOR, SUPPORT—POLICY AND STRATEGIC PROGRAMS. DEPUTY DIRECTOR, DLA INFORMATION. DEPUTY DIRECTOR, DLA ACQUISITION.
|  | PROGRAM EXECUTIVE OFFICER, DEFENSE LOGISTICS AGENCY INFORMATION.
|  | DEPUTY DIRECTOR DLA LOGISTICS.
|  | DEPUTY COMMANDER, DLA ENERGY.
|  | EXECUTIVE DIRECTOR, TROOP SUPPORT CONTRACTING AND ACQUISITION.
|  | EXECUTIVE DIRECTOR, CONTRACTING AND ACQUISITION MANAGEMENT.
|  | EXECUTIVE DIRECTOR OPERATIONS AND SUSTAINMENT.
|  | EXECUTIVE DIRECTOR, MISSION SUPPORT DIRECTORATE.
|  | CHIEF OF STAFF.
|  | VICE DIRECTOR, DEFENSE LOGISTICS.
|  | DIRECTOR, DLA ACQUISITION (J-7).
|  | DIRECTOR, DLA DISPOSITION SERVICES.
|  | DEPUTY GENERAL COUNSEL, DLA.
|  | DEPUTY COMMANDER, DLA DISTRIBUTION.
|  | DEPUTY DIRECTOR, DLA FINANCE.
|  | EXECUTIVE DIRECTOR, AVIATION CONTRACTING AND ACQUISITION.
|  | DIRECTOR, DLA INFORMATION OPERATION.
|  | DIRECTOR, DLA HUMAN RESOURCES.
|  | DEPUTY COMMANDER, DLA LAND AND MARITIME.
|  | DEPUTY COMMANDER, DLA AVIATION.
|  | DEPUTY COMMANDER, DEFENSE SUPPLY CENTER PHILADELPHIA.
|  | GENERAL COUNSEL.
| DEFENSE THREAT REDUCTION AGENCY | DIRECTOR, PLANS AND TRAINING, JIDO. DIRECTOR, COOPERATIVE THREAT REDUCTION DEPARTMENT. DEPUTY DIRECTOR JOINT IMPROVISED THREAT DEFEAT ORGANIZATION. DIRECTOR, OPERATIONS AND INTEGRATION DIRECTORATE.
|  | DIRECTOR, ACQUISITION, CONTRACTS AND LOGISTICS.
|  | GENERAL COUNSEL.
|  | DIRECTOR TREATIES AND PARTNERSHIPS DEPARTMENT.
|  | DIRECTOR, INTELLIGENCE, PLANS AND RESOURCE INTEGRATION DIRECTORATE.
|  | DIRECTOR, COMBATANT COMMAND.
|  | DIRECTOR, CHEMICAL AND BIOLOGICAL TECHNOLOGIES DEPARTMENT.
|  | DIRECTOR, ACQUISITION, FINANCE AND LOGISTICS DIRECTORATE.
|  | DIRECTOR INFORMATION INTEGRATION AND TECHNOLOGY SERVICES CHIEF/CIO.
|  | DIRECTOR, RESEARCH AND DEVELOPMENT DIRECTORATE.
|  | DIRECTOR, NUCLEAR TECHNOLOGIES.
|  | DIRECTOR, COUNTER WEAPONS OF MASS DESTRUCTION TECHNOLOGIES.
|  | DIRECTOR, BASIC AND APPLIED SCIENCES DEPARTMENT.
| OFFICE OF THE ASSISTANT SECRETARY OF DEFENSE (ACQUISITION) | PRINCIPAL DEPUTY, ACQUISITION RESOURCES AND ANALYSIS. DIRECTOR, CONTRACT POLICY. DEPUTY DIRECTOR, DEFENSE ACQUISITION REGULATIONS SYSTEM. PRINCIPAL DIRECTOR, DEFENSE PRICING AND CONTRACTING.
|  | DIRECTOR, AIR PLATFORMS AND WEAPONS.
|  | DIRECTOR, NUCLEAR COMMAND, CONTROL, AND COMMUNICATIONS.
|  | DIRECTOR, COMMAND, CONTROL, COMMUNICATIONS, COMPUTERS/ISR.
|  | PRINCIPAL DEPUTY DIRECTOR, ENTERPRISE INFORMATION.
|  | DIRECTOR, STRATEGIC SYSTEMS AND TREATY COMPLIANCE.
|  | DEPUTY DIRECTOR, NAVAL WARFARE.
| OFFICE OF THE ASSISTANT SECRETARY OF DEFENSE (NUCLEAR, CHEMICAL AND BIOLOGICAL DEFENSE PROGRAMS) | DEPUTY ASSISTANT SECRETARY OF DEFENSE (NUCLEAR MATTERS).
OFFICE OF THE UNDER SECRETARY OF DEFENSE (COMPTROLLER) | DEFENSE CONTRACT AUDIT AGENCY | ASSISTANT DIRECTOR, HUMAN CAPITAL AND RESOURCE MANAGEMENT. ASSISTANT DIRECTOR, POLICY AND PLANS. CORPORATE AUDIT DIRECTOR (A). CORPORATE AUDIT DIRECTOR (B). CORPORATE AUDIT DIRECTOR (C). CORPORATE AUDIT DIRECTOR (D). REGIONAL DIRECTOR, EASTERN. REGIONAL DIRECTOR, CENTRAL. REGIONAL DIRECTOR, WESTERN. DIRECTOR, FIELD DETACHMENT. >DIRECTOR, DEFENSE CONTRACT AUDIT. DEPUTY REGIONAL DIRECTOR EASTERN. DEPUTY REGIONAL DIRECTOR, CENTRAL. DEPUTY REGIONAL DIRECTOR, WESTERN. ASSISTANT DIRECTOR, INTEGRITY AND QUALITY ASSURANCE. ASSISTANT DIRECTOR, OPERATIONS. DEPUTY DIRECTOR.
OFFICE OF THE UNDER SECRETARY OF DEFENSE (PERSONNEL AND READINESS) | DEFENSE HEALTH AGENCY | GENERAL COUNSEL FOR DEFENSE HEALTH AGENCY.
| DEFENSE HUMAN RESOURCES ACTIVITY | DEPUTY DIRECTOR, DEFENSE HUMAN RESOURCES ACTIVITY.
OFFICE OF THE UNDER SECRETARY OF DEFENSE (RESEARCH AND ENGINEERING) | DEFENSE ADVANCED RESEARCH PROJECTS AGENCY | DIRECTOR, STRATEGIC RESOURCES. GENERAL COUNSEL. DIRECTOR, CONTRACTS MANAGEMENT. DIRECTOR, MISSION SERVICES OFFICE.
| MISSILE DEFENSE AGENCY | CHIEF ENGINEER. DIRECTOR FOR ADVANCED TECHNOLOGY. DIRECTOR FOR INTERNATIONAL AFFAIRS. DEPUTY FOR ENGINEERING. DEPUTY PROGRAM MANAGER FOR ASSESSMENT AND INTEGRATIONS, BMDS. PROGRAM DIRECTOR FOR BATTLE MANAGEMENT, COMMAND AND CONTROL. DIRECTOR FOR OPERATIONS. DEPUTY PROGRAM DIRECTOR, BC. DIRECTOR FOR ACQUISITION. DEPUTY PROGRAM DIRECTOR, AEGIS BALLISTIC MISSILE DEFENSE. PROGRAM DIRECTOR, GROUND-BASED MIDCOURSE DEFENSE. PROGRAM DIRECTOR, TARGETS AND COUNTERMEASURES. DIRECTOR FOR SYSTEMS ENGINEERING AND INTEGRATION. DIRECTOR, CONTRACTING.
DEPARTMENT OF THE AIR FORCE
| DEPARTMENT OF THE AIR FORCE | EXECUTIVE DIRECTOR, AIR NATIONAL GUARD. EXECUTIVE DIRECTOR. DEPUTY DIRECTOR LEGISLATIVE LIAISON. DIRECTOR OF COMMUNICATIONS.
|  | DIRECTOR, INSTALLATION, LOGISTICS AND MISSION SUPPORT.
|  | DIRECTOR, HEADQUARTERS AIR FORCE INFORMATION MANAGEMENT.
|  | DEPUTY DIRECTOR OF POLICY, PROGRAMS AND STRATEGY, INTERNATIONAL AFFAIRS.
|  | DIRECTOR, CIVILIAN FORCE MANAGEMENT.
|  | DEPUTY DIRECTOR OF LOGISTICS.
|  | DIRECTOR OF POLICY, PROGRAMS AND STRATEGY, INTERNATIONAL AFFAIRS.
|  | DEPUTY DIRECTOR, STRATEGIC PLANNING.
|  | DEPUTY DIRECTOR, SECURITY, SPECIAL PROGRAM OVERSIGHT, AND INFORMATION PROTECTION.
|  | DIRECTOR, SPACE SECURITY AND DEFENSE PROGRAM.
|  | DIRECTOR, CYBER CAPABILITIES AND COMPLIANCE.
|  | DEPUTY DIRECTOR, CIVILIAN FORCE MANAGEMENT, HUMAN RESOURCE SPECIALIST.
|  | DIRECTOR, DIVERSITY AND INCLUSION.
|  | CHIEF INFORMATION SECURITY OFFICER (CISO).
|  | AIR FORCE PROGRAM EXECUTIVE OFFICER FOR COMBAT AND MISSION SUPPORT.
|  | DEPUTY DIRECTOR OF LOGISTICS.
|  | DEPUTY DIRECTOR, SECURITY FORCES.
|  | DEPUTY DIRECTOR, INFORMATION DOMINANCE.
|  | DIRECTOR, LOGISTICS, ENGINEERING AND FORCE PROTECTION.
|  | DEPUTY DIRECTOR OF OPERATIONS.
|  | ASSOCIATE DEPUTY ASSISTANT SECRETARY FOR PROGRAMS.
|  | DEPUTY ASSISTANT SECRETARY (LOGISTICS).
|  | CHIEF INFORMATION OFFICER AND DEPUTY DIRECTOR, PLANS AND INTEGRATION.
|  | DIRECTOR, DIVERSITY AND INCLUSION.
|  | DEPUTY DIRECTOR, STRATEGY, CONCEPTS AND ASSESSMENTS.
AIR FORCE MATERIEL COMMAND | AERONAUTICAL SYSTEMS CENTER | PROGRAM EXECUTIVE OFFICER, MOBILITY AIRCRAFT. PROGRAM EXECUTIVE OFFICER FOR AGILE COMBAT SUPPORT. EXECUTIVE DIRECTOR, AIR FORCE LIFE CYCLE MANAGEMENT CENTER.
| AIR FORCE FLIGHT TEST CENTER | EXECUTIVE DIRECTOR, AIR FORCE TEST CENTER.
| AIR FORCE MATERIEL COMMAND LAW OFFICE | DIRECTOR, AIR FORCE MATERIEL COMMAND LAW OFFICE. COMMAND COUNSEL.
| AIR FORCE OFFICE OF SCIENTIFIC RESEARCH | DIRECTOR AIR FORCE OFFICE OF SCIENTIFIC RESEARCH.
| AIR FORCE RESEARCH LABORATORY | DIRECTOR, AEROSPACE SYSTEMS. DIRECTOR, STRATEGIC DEVELOPMENT AND PLANNING. DIRECTOR, PLANS AND PROGRAMS. DIRECTOR, MATERIALS AND MANUFACTURING.
| AIR LOGISTICS CENTER, OGDEN | DIRECTOR OF CONTRACTING. DIRECTOR, ENGINEERING AND TECHNICAL MANAGEMENT.
| AIR LOGISTICS CENTER, OKLAHOMA CITY | DIRECTOR OF CONTRACTING. DIRECTOR OF ENGINEERING AND TECHNICAL MANAGEMENT. DIRECTOR OF LOGISTICS, AIR FORCE SUSTAINMENT CENTER. DIRECTOR, 448TH SUPPLY CHAIN MANAGEMENT WING.
| AIR LOGISTICS CENTER, WARNER ROBINS | DIRECTOR OF CONTRACTING.
| CONTRACTING | DIRECTOR, MILSATCOM DIRECTORATE.
| ELECTRONIC SYSTEMS CENTER | DIRECTOR, ENGINEERING AND TECHNICAL MANAGEMENT. PROGRAM EXECUTIVE OFFICER, BATTLE MANAGEMENT.
| ENGINEERING AND TECHNICAL MANAGEMENT | DIRECTOR, ENGINEERING AND TECHNICAL MANAGEMENT.
| FINANCIAL MANAGEMENT AND COMPTROLLER | DEPUTY DIRECTOR, FINANCIAL MANAGEMENT.
| LOGISTICS | DEPUTY DIRECTOR, LOGISTICS, INSTALLATIONS AND MISSION SUPPORT.
AIR FORCE RESEARCH LABORATORY | DIRECTED ENERGY DIRECTORATE | DIRECTOR, DIRECTED ENERGY.
| HUMAN EFFECTIVENESS DIRECTORATE | DIRECTOR, HUMAN EFFECTIVENESS DIRECTORATE.
| SENSORS DIRECTORATE | DIRECTOR SENSORS.
AIR FORCE SPACE COMMAND | SPACE AND MISSILE SYSTEMS CENTER | DIRECTOR, MILITARY SATELLITE COMMUNICATIONS DIRECTORATE. DIRECTOR, LAUNCH ENTERPRISE.
AUDITOR GENERAL | AIR FORCE AUDIT AGENCY (FIELD OPERATING AGENCY) | ASSISTANT AUDITOR GENERAL, ACQUISITION, LOGISTICS AND FINANCIAL AUDITS. ASSISTANT AUDITOR GENERAL, OPERATIONS AND SUPPORT AUDITS.
DEPARTMENT OF THE AIR FORCE | AIR COMBAT COMMAND | DIRECTOR, ACQUISITION MANAGEMENT AND INTEGRATION CENTER. DEPUTY DIRECTOR OF LOGISTICS, ENGINEERING, AND FORCE PROTECTION. DEPUTY DIRECTOR, REQUIREMENTS.
| AIR EDUCATION AND TRAINING COMMAND | DIRECTOR, LOGISTICS, INSTALLATIONS AND MISSION SUPPORT. DIRECTOR, INTERNATIONAL TRAINING AND EDUCATION.
| AIR FORCE MATERIEL COMMAND | DIRECTOR, ENGINEERING AND TECHNICAL MANAGEMENT. DIRECTOR OF ENGINEERING AND TECHNICAL MANAGEMENT, F-35 LIGHTNING II JOINT PROGRAM OFFICE. DIRECTOR FINANCIAL MANAGEMENT AND COMPTROLLER. DIRECTOR, AIR FORCE CIVIL ENGINEER CENTER.
|  | DIRECTOR, ENGINEERING AND TECHNICAL MANAGEMENT (3).
|  | DIRECTOR OF PROPULSION.
|  | DIRECTOR, 448TH SUPPLY CHAIN MANAGEMENT WING.
|  | DIRECTOR OF CONTRACTING.
|  | EXECUTIVE DIRECTOR, AIR FORCE MATERIEL COMMAND.
|  | DIRECTOR OF CONTRACTING.
|  | DIRECTOR, RESOURCES.
|  | EXECUTIVE DIRECTOR.
|  | DIRECTOR, HYBRID PRODUCT SUPPORT INTEGRATOR.
|  | DEPUTY DIRECTOR, AIR, SPACE AND CYBERSPACE OPERATIONS.
|  | EXECUTIVE DIRECTOR, AIR FORCE INSTALLATION AND MISSION SUPPORT CENTER.
|  | DIRECTOR OF LOGISTICS AND LOGISTICS SERVICES.
|  | EXECUTIVE DIRECTOR, AIR FORCE SUSTAINMENT CENTER.
|  | DIRECTOR, MANPOWER, PERSONNEL AND SERVICES.
|  | EXECUTIVE DIRECTOR, AIR FORCE NUCLEAR WEAPONS CENTER.
|  | DIRECTOR, FINANCIAL MANAGEMENT.
|  | PROGRAM EXECUTIVE OFFICER FOR BUSINESS ENTERPRISE SYSTEMS.
|  | DIRECTOR, INSTALLATION SUPPORT.
|  | DIRECTOR, NATIONAL MUSEUM OF THE UNITED STATES AIR FORCE.
|  | DIRECTOR OF CONTRACTING.
|  | DIRECTOR INSTALLATIONS.
|  | DEPUTY DIRECTOR, STRATEGIC PLANS, PROGRAMS, REQUIREMENTS AND ANALYSES.
| AIR FORCE RESERVE COMMAND | DIRECTOR OF STAFF.
| AIR FORCE SPACE COMMAND | EXECUTIVE DIRECTOR, AIR FORCE SPACE COMMAND. DIRECTOR OF CONTRACTING, SPACE AND MISSILE SYSTEMS CENTER (SMC).
| AIR FORCE SPECIAL OPERATIONS COMMAND | DEPUTY CHIEF FINANCIAL OFFICER. EXECUTIVE DIRECTOR AIR FORCE SPECIAL OPERATIONS COMMAND.
| AIR MOBILITY COMMAND | DEPUTY DIRECTOR OR LOGISTICS.
| DEPUTY CHIEF OF STAFF FOR INTELLIGENCE, SURVEILLANCE AND RECONNAISSANCE | DIRECTOR OF INTELLIGENCE, SURVEILLANCE, AND RECONNAISSANCE INNOVATIONS AND UNMANNED AERIAL SYSTEMS TASK FORCE.
| JOINT STAFF | DIRECTOR, JOINT INFORMATION OPERATIONS WARFARE CENTER.
| OFFICE OF ASSISTANT SECRETARY AIR FORCE FOR ACQUISITION. DIRECTOR OF CONTRACTING (SPECIAL ACCESS PROGRAMS). DIRECTOR OF CONTRACTING, AIR FORCE RAPID CAPABILITIES OFFICE. DIRECTOR, INFORMATION DOMINANCE PROGRAMS.
|  | ASSOCIATE DEPUTY ASSISTANT SECRETARY OF THE AIR FORCE FOR SCIENCE, TECHNOLOGY AND ENGINEERING.
|  | ASSOCIATE DEPUTY ASSISTANT SECRETARY (ACQUISITION INTEGRATION).
|  | DEPUTY ASSISTANT SECRETARY (SCIENCE, TECHNOLOGY AND ENGINEERING).
|  | DEPUTY ASSISTANT SECRETARY (ACQUISITION INTEGRATION).
| OFFICE OF ASSISTANT SECRETARY AIR FORCE FOR FINANCIAL MANAGEMENT AND COMPTROLLER | CHIEF INFORMATION OFFICER.
| OFFICE OF ASSISTANT SECRETARY OF THE AIR FORCE FOR MANPOWER AND RESERVE AFFAIRS | DEPUTY ASSISTANT SECRETARY FOR RESERVE AFFAIRS.
| OFFICE OF THE CHIEF OF STAFF | DEPUTY DIRECTOR OF STAFF, HEADQUARTERS UNITED STATES AIR FORCE.
| OFFICE OF THE INSPECTOR GENERAL | EXECUTIVE DIRECTOR, OFFICE OF SPECIAL INVESTIGATIONS.
| OFFICE OF THE SECRETARY | DIRECTOR, AIR FORCE RAPID CAPABILITIES OFFICE. DEPUTY DIRECTOR, AIR FORCE REVIEW BOARDS AGENCY. DEPUTY CHIEF MANAGEMENT OFFICER. DEPUTY DIRECTOR, AIR FORCE RAPID CAPABILITIES OFFICE.
| UNITED STATES CENTRAL COMMAND | DEPUTY DIRECTOR OF OPERATIONS INTERAGENCY ACTION GROUP. DEPUTY DIRECTOR OF LOGISTICS AND ENGINEERING. DIRECTOR OF RESOURCES, REQUIREMENTS, BUDGET AND ASSESSMENT.
| UNITED STATES NORTHERN COMMAND | DEPUTY COMMANDER, JOINT FORCES HEADQUARTERS—NATIONAL CAPITAL REGION. DIRECTOR, PROGRAMS AND RESOURCES. NORTHCOM, DEPUTY DIRECTOR OF OPERATIONS FOR SPECIAL ACTIVITIES. DIRECTOR OF INTERAGENCY. DIRECTOR, JOINT EXERCISES AND TRAINING.
| UNITED STATES SPECIAL OPERATIONS COMMAND | DIRECTOR AND CHIEF INFOMATION OFFICER FOR SPECIAL OPERATIONS NETWORKS AND COMMUNICATIONS CENTER. CHIEF FINANCIAL OFFICER. DIRECTOR FOR ACQUISITION. DEPUTY DIRECTOR, CENTER FOR SPECIAL OPERATIONS ACQUISITION AND LOGISTICS.
|  | DEPUTY CHIEF OF STAFF.
|  | DIRECTOR COMMUNICATIONS SYSTEMS/CHIEF INFORMATION OFFICER (J6).
|  | DIRECTOR, COMMAND SUPPORT.
|  | DIRECTOR, PLANS, POLICY AND STRATEGY.
|  | PRESIDENT, JOINT SPECIAL OPERATIONS UNIVERSITY.
| UNITED STATES STRATEGIC COMMAND | DIRECTOR, COMMAND, CONTROL, COMMUNICATIONS AND COMPUTER SYSTEMS. DEPUTY DIRECTOR, PLANS AND POLICY, USSTRATCOM. DIRECTOR, GLOBAL INNOVATION STRATEGY CENTER. TECHNICAL DIRECTOR, JOINT WARFARE ANALYSIS CENTER.
|  | ASSOCIATE DIRECTOR CAPABILITY AND RESOURCE.
|  | DEPUTY DIRECTOR, CAPABILITY AND RESOURCE INTEGRATION.
|  | DIRECTOR, JOINT EXERCISES AND TRAINING.
|  | DEPUTY DIRECTOR, CAPABILITY DEVELOPMENTAL GROUP COMMAND ACQUISITION EXEC.
|  | DEPUTY DIRECTOR, PLANS AND POLICY.
|  | DIRECTOR, CAPABILITY AND RESOURCE INTEGRATION, USSTRATCOM C2 FACILITY MANAGEMENT PMO.
| UNITED STATES TRANSPORTATION COMMAND | DIRECTOR, PROGRAM ANALYSIS AND FINANCIAL MANAGEMENT. EXECUTIVE DIRECTOR AND DEPUTY CHIEF INFORMATION OFFICER. DIRECTOR, ACQUISITION. DEPUTY DIRECTOR, ACQUISITION.
|  | EXECUTIVE DIRECTOR.
|  | DEPUTY DIRECTOR, STRATEGY, CAPABILITIES, POLICY AND LOGISTICS.
DEPUTY CHIEF OF STAFF, INSTALLATIONS AND LOGISTICS | OFFICE OF CIVIL ENGINEER | DEPUTY DIRECTOR OF CIVIL ENGINEERS.
| OFFICE OF RESOURCES | DIRECTOR OF RESOURCE INTEGRATION.
DEPUTY CHIEF OF STAFF, PERSONNEL | AIR FORCE PERSONNEL CENTER (FIELD OPERATING AGENCY) | DIRECTOR OF PERSONNEL OPERATIONS. EXECUTIVE DIRECTOR, AIR FORCE PERSONNEL CENTER.
OFFICE OF ASSISTANT SECRETARY AIR FORCE FOR ACQUISITION | DIRECTORATE OF SPACE AND NUCLEAR DETERRENCE | ASSOCIATE ASSISTANT CHIEF OF STAFF STRATEGIC DETERRENCE AND NUCLEAR INTEGRATION. DEPUTY ASSISTANT CHIEF OF STAFF, STRATEGIC DETERRENCE AND NUCLEAR INTEGRATION.
| OFFICE DEPUTY ASSISTANT SECRETARY CONTRACTING | ASSOCIATE DEPUTY ASSISTANT SECRETARY (CONTRACTING).
| OFFICE DEPUTY ASSISTANT SECRETARY SCIENCE, TECHNOLOGY AND ENGINEERING | SPECIAL ASSISTANT TO THE DEPUTY ASSISTANT SECRETARY SCIENCE, TECHNOLOGY AND ENGINEERING.
OFFICE OF ASSISTANT SECRETARY AIR FORCE FOR FINANCIAL MANAGEMENT AND COMPTROLLER | OFFICE DEPUTY ASSISTANT SECRETARY BUDGET | DIRECTOR, BUDGET INVESTMENT. ASSOCIATE DEPUTY ASSISTANT SECRETARY FOR BUDGET.
| OFFICE DEPUTY ASSISTANT SECRETARY COST AND ECONOMICS | ASSOCIATE DEPUTY ASSISTANT SECRETARY (COST AND ECONOMICS). DEPUTY ASSISTANT SECRETARY (COST AND ECONOMICS).
| OFFICE DEPUTY ASSISTANT SECRETARY FINANCIAL OPERATIONS | ASSOCIATE DEPUTY ASSISTANT SECRETARY (FINANCIAL OPERATIONS). DEPUTY ASSISTANT SECRETARY (FINANCIAL OPERATIONS).
OFFICE OF ASSISTANT SECRETARY OF THE AIR FORCE FOR MANPOWER AND RESERVE AFFAIRS | AIR FORCE REVIEW BOARDS AGENCY (AIR FORCE REVIEW BOARDS AGENCY)—FIELD OPERATING AGENCY | DEPUTY FOR AIR FORCE REVIEW BOARDS.
OFFICE OF THE CHIEF OF STAFF | AIR FORCE OFFICE OF SAFETY AND AIR FORCE SAFETY CENTER (FIELD OPERATING AGENCY) | DEPUTY CHIEF OF SAFETY.
| AIR FORCE OPERATIONAL TEST AND EVALUATION CENTER (DIRECT REPORTING UNIT) | EXECUTIVE DIRECTOR, AIR FORCE OPERATIONAL TEST AND EVALUATION CENTER.
| AIR FORCE STUDIES AND ANALYSES AGENCY (DIRECT REPORTING UNIT (DRU)) | DIRECTOR, AIR FORCE STUDIES AND ANALYSES, ASSESSMENTS AND LESSONS LEARNED. PRINCIPLE DEPUTY DIRECTOR, STUDIES AND ANALYSES, ASSESSMENTS AND LESSONS LEARNED.
| DEPUTY CHIEF OF STAFF, AIR AND SPACE OPERATIONS | DIRECTOR OF WEATHER. ASSOCIATE DEPUTY CHIEF OF STAFF OPERATIONS, PLANS AND REQUIREMENTS. DEPUTY DIRECTOR, OPERATIONS AND READINESS. DEPUTY DIRECTOR OF OPERATIONAL REQUIREMENTS.
| DEPUTY CHIEF OF STAFF, PERSONNEL | ASSISTANT DEPUTY CHIEF OF STAFF MANPOWER AND PERSONNEL. DIRECTOR FORCE DEVELOPMENT. DEPUTY DIRECTOR, MANPOWER, ORGANIZATION AND RESOURCES. DEPUTY DIRECTOR, MILITARY FORCE MANAGEMENT. DEPUTY DIRECTOR OF SERVICES. DIRECTOR, PLANS AND INTEGRATION.
| DEPUTY CHIEF OF STAFF, PLANS AND PROGRAMS | DEPUTY DIRECTOR OF STRATEGIC PLANNING. ASSOCIATE DEPUTY DIRECTOR FOR PROGRAMS. ASSISTANT DEPUTY CHIEF OF STAFF, STRATEGIC PLANS AND REQUIREMENTS.
| JUDGE ADVOCATE GENERAL | DIRECTOR, ADMINISTRATIVE LAW.
| TEST AND EVALUATION | DIRECTOR, TEST AND EVALUATION. DEPUTY DIRECTOR, TEST AND EVALUATION.
OFFICE OF THE INSPECTOR GENERAL | AIR FORCE OFFICE OF SPECIAL INVESTIGATIONS (FIELD OPERATING AGENCY) | EXECUTIVE DIRECTOR, DEFENSE CYBERCRIME CENTER.
OFFICE OF THE SECRETARY | AUDITOR GENERAL | ASSISTANT AUDITOR GENERAL, FIELD OFFICES DIRECTORATE. AUDITOR GENERAL OF THE AIR FORCE.
| OFFICE OF ADMINISTRATIVE ASSISTANT TO THE SECRETARY | DEPUTY ADMINISTRATIVE ASSISTANT. ADMINISTRATIVE ASSISTANT. DIRECTOR, RESOURCES MANAGEMENT. DIRECTOR SECURITY, SPEC PRGM OVERSIGHT AND INFORMATION PROTECTION.
| OFFICE OF PUBLIC AFFAIRS | DEPUTY DIRECTOR, PUBLIC AFFAIRS.
| OFFICE OF SMALL AND DISADVANTAGED BUSINESS UTILIZATION | DIRECTOR, OFFICE OF SMALL AND DISADVANTAGED BUSINESS UTILIZATION.
| OFFICE OF THE UNDER SECRETARY | ASSOCIATE DEPUTY UNDER SECRETARY OF THE AIR FORCE (SPACE) AND DEPUTY DIRECTOR PRINCIPAL DEPARTMENT OF DEFENSE SPACE ADVISOR STAFF. DEPUTY DIRECTOR FOR BUSINESS TRANSFORMATION.
DEPARTMENT OF THE ARMY
AFC, COMBAT CAPABILITIES DEVELOPMENT CMD, ARMY RESEARCH LABORATORY | AFC, COMBAT CAPABILITIES DEVELOPMENT COMMAND, ARL, ARMY RESEARCH OFFICE | DIRECTOR, ARMY RESEARCH OFFICE.
CHIEF INFORMATION OFFICER/G-6 | OFFICE, CHIEF OF PUBLIC AFFAIRS | PRINCIPAL DEPUTY CHIEF OF PUBLIC AFFAIRS.
DEPARTMENT OF THE ARMY | ARMY AUDIT AGENCY | DEPUTY AUDITOR GENERAL, MANPOWER AND TRAINING AUDITS. DEPUTY AUDITOR GENERAL, FINANCIAL MANAGEMENT AUDITS. PRINCIPAL DEPUTY AUDITOR GENERAL. DEPUTY AUDITOR GENERAL, ACQUISITION AND LOGISTICS AUDITS. THE AUDITOR GENERAL. DEPUTY AUDITOR GENERAL, INSTALLATION, ENERGY AND ENVIRONMENT AUDITS.
| CHIEF INFORMATION OFFICER/G-6 | DIRECTOR, CYBERSECURITY. DIRECTOR OF ARCHITECTURE AND INFORMATION. DEPUTY CHIEF INFORMATION OFFICER/G-6. PRINCIPAL DIRECTOR, POLICY AND RESOURCES/CFO, CIO/G-6.
| HEADQUARTERS, UNITED STATES ARMY, EUROPE | DEPUTY CHIEF OF STAFF G-8.
| HEADQUARTERS, UNITED STATES ARMY, PACIFIC | ASSISTANT CHIEF OF STAFF, G8.
| JOINT SPECIAL OPERATIONS COMMAND | EXECUTIVE DIRECTOR FOR RESOURCES, SUPPORT, AND INTEGRATION.
| NATIONAL GUARD BUREAU | CHIEF FINANCIAL OFFICER.
| OFFICE ADMINISTRATIVE ASSISTANT TO THE SECRETARY OF ARMY | EXECUTIVE DIRECTOR, UNITED STATES ARMY HEADQUARTERS SERVICES. ADMINISTRATIVE ASSISTANT TO THE SECRETARY OF THE ARMY. DEPUTY ADMINISTRATIVE ASSISTANT TO THE SECRETARY OF THE ARMY/DIRECTOR FOR SHARED SERVICES.
| OFFICE ASSISTANT SECRETARY ARMY (ACQUISITION, LOGISTICS AND TECHNOLOGY) | CHIEF SYSTEMS ENGINEER, ASA(ALT). EXECUTIVE DIRECTOR FOR ACQUISITION SERVICES, ASA (ALT). >DEPUTY DIRECTOR, HYPERSONIC, DIRECTED ENERGY, SPACE AND RAPID ACQUISITION OFFICE. DEPUTY ASSISTANT SECRETARY OF THE ARMY FOR PLANS, PROGRAMS AND RESOURCES.
|  | DEPUTY ASSISTANT SECRETARY OF THE ARMY (POLICY AND PROCUREMENT).
|  | DEPUTY ASSISTANT SECRETARY FOR RESEARCH AND TECHNOLOGY/CHIEF SCIENTIST.
|  | DEPUTY ASSISTANT SECRETARY OF THE ARMY (ACQUISITION POLICY AND LOGISTICS).
|  | EXECUTIVE DIRECTOR, RAPID CAPABILITIES OFFICE.
|  | DIRECTOR FOR RESEARCH AND TECHNOLOGY.
| OFFICE ASSISTANT SECRETARY ARMY (CIVIL WORKS) | DEPUTY ASSISTANT SECRETARY OF THE ARMY (MANAGEMENT AND BUDGET).
| OFFICE ASSISTANT SECRETARY ARMY (FINANCIAL MANAGEMENT AND COMPTROLLER) | DEPUTY ASSISTANT SECRETARY OF THE ARMY (COST AND ECONOMICS). DEPUTY ASSISTANT SECRETARY OF THE ARMY (FINANCIAL OPERATIONS). DIRECTOR OF MANAGEMENT AND CONTROL. DIRECTOR, ARMY COST REVIEW BOARD.
|  | DEPUTY DIRECTOR AND SENIOR ADVISOR FOR ARMY BUDGET (DDSA (BUDGET)).
|  | DIRECTOR FOR ACCOUNTABILITY AND AUDIT READINESS.
|  | DIRECTOR, FINANCIAL INFORMATION MANAGEMENT.
|  | DIRECTOR, PROGRAMS AND STRATEGY.
| OFFICE ASSISTANT SECRETARY ARMY (INSTALLATIONS, ENERGY AND ENVIRONMENT) | DEPUTY ASSISTANT SECRETARY OF THE ARMY (ENVIRONMENT, SAFETY AND OCCUPATIONAL HEALTH). DEPUTY ASSISTANT SECRETARY OF ARMY (STRATEGIC INTEGRATION).
| OFFICE ASSISTANT SECRETARY ARMY (MANPOWER AND RESERVE AFFAIRS) | DEPUTY ASSISTANT SECRETARY OF THE ARMY (MILITARY PERSONNEL). DEPUTY TO THE ASSISTANT SECRETARY OF THE ARMY (MANPOWER AND RESERVE AFFAIRS). DEPUTY ASSISTANT SECRETARY OF ARMY FOR MARKETING/DIRECTOR, ARMY MARKETING RESEARCH GROUP. DEPUTY ASSISTANT SECRETARY OF THE ARMY (DIVERSITY AND LEADERSHIP). DEPUTY ASSISTANT SECRETARY OF THE ARMY (CIVILIAN PERSONNEL). DEPUTY ASSISTANT SECRETARY OF THE ARMY (ARMY REVIEW BOARDS AGENCY).
| OFFICE OF THE SURGEON GENERAL | DEPUTY CHIEF OF STAFF, RESOURCES, INFRASTRUCTURE AND STRATEGY (G8/9).
| OFFICE, DEPUTY CHIEF OF STAFF, G-4 | DIRECTOR FOR MAINTENANCE POLICY, PROGRAMS AND PROCESSES. ASSISTANT DEPUTY CHIEF OF STAFF, G-4. DIRECTOR FOR SUPPLY POLICY. DIRECTOR, LOGISTICS INFORMATION MANAGEMENT. DIRECTOR OF RESOURCE MANAGEMENT.
| OFFICE, DEPUTY CHIEF OF STAFF, G-1 | DIRECTOR, SHARP AND ARMY RESILIENCY DIRECTORATE. DIRECTOR, CIVILIAN TALENT MANAGEMENT/DEPUTY DIRECTOR ARMY TALENT MANAGEMENT TASK FORCE. DIRECTOR, TECHNOLOGY AND BUSINESS ARCHITECTURE INTEGRATION. DEPUTY DIRECTOR, CIVILIAN HUMAN RESOURCES AGENCY. ASSISTANT DEPUTY CHIEF OF STAFF, G-1. DIRECTOR, CIVILIAN HUMAN RESOURCE AGENCY. DIRECTOR, PLANS AND RESOURCES.
| OFFICE, DEPUTY CHIEF OF STAFF, G-3 | DEPUTY DIRECTOR OF TRAINING AND TTPEG CO-CHAIR. DEPUTY DIRECTOR FOR STRATEGY PLANS AND POLICY. ASSISTANT DEPUTY CHIEF OF STAFF FOR OPERATIONS (G-3/5/7). DEPUTY DIRECTOR FOR FORCE MANAGEMENT.
| OFFICE, DEPUTY CHIEF OF STAFF, G-8 | DIRECTOR, RESOURCES/DEPUTY DIRECTOR, FORCE DEVELOPMENT. ASSISTANT DEPUTY CHIEF OF STAFF, G-8.
| OFFICE, OFFICE, DEPUTY CHIEF OF STAFF, G-9 | CHIEF INFORMATION TECHNOLOGY OFFICER (OACSIM). DIRECTOR OF RESOURCE INTEGRATION. DIRECTOR INSTALLATION SERVICES. DEPUTY ASSISTANT CHIEF OF STAFF FOR INSTALLATION MANAGEMENT.
| UNITED STATES ARMY FUTURES COMMAND | CHIEF FINANCIAL OFFICER. DEPUTY CHIEF EXECUTIVE OFFICER. COMMAND INNOVATION OFFICER. CHIEF, HUMAN CAPITAL OFFICER. DIRECTOR, ARTIFICAL INTELLIGENT CAPABILITIES, AFC.
| UNITED STATES ARMY SPECIAL OPERATIONS COMMAND | DEPUTY TO THE COMMANDING GENERAL.
| UNITED STATES ARMY TRAINING AND DOCTRINE COMMAND (TRADOC) | PRESIDENT, ARMY LOGISTICS UNIVERSITY. DIRECTOR OF TRANSFORMATION, CYBER CENTER OF EXCELLENCE. DEPUTY TO THE COMMANDING GENERAL, COMBINED ARMS SUPPORT COMMAND. DEPUTY CHIEF OF STAFF, G-3/5/7, TRADOC. DIRECTOR, UNITED STATES ARMY CENTER OF MILITARY HISTORY/CHIEF OF MILITARY HISTORY. DEPUTY TO THE COMMANDING GENERAL.
|  | DEPUTY TO THE COMMANDING GENERAL MANEUVER SUPPORT/DIRECTOR, CAPABILITIES DEVELOPMENT AND INTEGRATION.
|  | DEPUTY CHIEF OF STAFF, G6 (TRADOC).
|  | DEPUTY TO THE CG ARMY AVIATION CENTER OF EXCELLENCE/DIRECTOR, CAPABILITIES DEVELOPMENT AND INTEGRATION.
|  | DEPUTY TO THE COMMANDING GENERAL, COMBINED ARMS CENTER.
|  | ASSISTANT DEPUTY CHIEF OF STAFF, G- 3/5/7 AND DEPUTY G-3/5 FOR OPS PLANS, TRADOC.
|  | DEPUTY CHIEF OF STAFF G-1/4 (PERSONNEL AND LOGISTICS).
|  | DEPUTY CHIEF OF STAFF G8, TRADOC.
|  | DEPUTY TO THE COMMANDING GENERAL, CYBER CENTER OF EXCELLENCE (CYBERCOE).
|  | DEPUTY TO THE COMMANDING GENERAL FIRES/DIRECTOR, CAPABILITIES, DEVELOPMENT AND INTEGRATION.
| UNITED STATES AFRICA COMMAND | DIRECTOR OF RESOURCES (J8), USAFRICOM. DIRECTOR OF RESOURCES (J1/J8), AFRICOM. DEPUTY DIRECTOR OF PROGRAM, (J5), USAFRICOM. FOREIGN POLICY ADVISOR FOR US AFRICA COMMAND.
| UNITED STATES ARMY CORPS OF ENGINEERS | DIRECTOR, RESEARCH AND DEVELOPMENT AND DIRECTOR, ENGINEERING RESEARCH AND DEVELOPMENT CENTER. DIRECTOR, INFORMATION TECHNOLOGY LABORATORY. CHIEF MILITARY PROGRAMS INTEGRATION DIVISION. DIRECTOR, REAL ESTATE.
|  | DIRECTOR FOR CORPORATE INFORMATION.
|  | DIRECTOR OF HUMAN RESOURCES.
|  | DIRECTOR OF RESOURCE MANAGEMENT.
|  | DIRECTOR OF CONTRACTING.
|  | DIRECTOR CONTINGENCY OPERATIONS/CHIEF, HOMELAND SECURITY OFFICE.
| UNITED STATES ARMY CYBER COMMAND/SECOND ARMY | DEPUTY TO COMMANDER, ARMY CYBER COMMAND/2ND ARMY. DEPUTY TO COMMANDER/SENIOR TECHNICAL DIRECTOR/CHIEF ENGINEER. DIRECTOR, TECHNICAL WARFARE CENTER, ARCYBER, ARCYBER.
| UNITED STATES ARMY FORCES COMMAND | DEPUTY CHIEF OF STAFF, G-1. ASSISTANT DEPUTY CHIEF OF STAFF FOR OPERATIONS, G-3/5/7. ASSISTANT DEPUTY CHIEF OF STAFF FOR LOGISTICS. DEPUTY CHIEF OF STAFF FOR RESOURCE MANAGEMENT. ASSISTANT DEPUTY CHIEF OF STAFF, G-6.
| UNITED STATES ARMY MATERIEL COMMAND | DIRECTOR, OPERATION & READINESS DIRECTORATE, G-3. ADCS, SUPPLY CHAIN MANAGEMENT, G3. DEPUTY CHIEF OF STAFF FOR CORPORATE INFORMATION/CHIEF INFORMATION OFFICER. ASSISTANT DEPUTY CHIEF OF STAFF, G-3/4 FOR LOGISTICS INTEGRATION.
| UNITED STATES ARMY NORTH | DEPUTY TO THE COMMANDING GENERAL, ARNORTH.
| UNITED STATES ARMY SPACE AND MISSILE DEFENSE COMMAND | DIRECTOR, SPACE AND MISSILE DEFENSE TECHNICAL CENTER. DIRECTOR CAPABILITY DEV INTEGRATION DIRECTORATE, SPACE AND MISSILE DEFENSE COMMAND. DIRECTOR, FUTURE WARFARE CENTER. DIRECTOR, PROGRAMS AND TECHNOLOGY. DEPUTY TO THE COMMANDER, UNITED STATES ARMY SPACE AND MISSILE DEFENSE COMMAND/ARMY FORCES STRATCOM.
| UNITED STATES EUROPEAN COMMAND | DIRECTOR, INTERAGENCY PARTNERING, (J9).
| UNITED STATES FORCES KOREA | DEPUTY DIRECTOR FOR TRANSFORMATION AND RESTATIONING. DIRECTOR FOR FORCES, RESOURCES AND ASSESSMENTS (J8).
| UNITED STATES SOUTHERN COMMAND | DIRECTOR, J8 (RESOURCES AND ASSESSMENTS DIRECTORATE). DIRECTOR, EXERCISES AND COALITION AFFAIRS. DEPUTY DIRECTOR STRATEGY AND POLICY. DEPUTY DIRECTOR OF OPERATIONS, J3.
OFFICE ASSISTANT SECRETARY ARMY (ACQUISITION, LOGISTICS AND TECHNOLOGY) | ARMY ACQUISITION EXECUTIVE | PROGRAM EXECUTIVE OFFICER SIMULATION, TRAINING AND INSTRUMENTATION. DEPUTY PROGRAM EXECUTIVE OFFICER, COMMAND CONTROL AND COMMUNICATIONS TACTICAL. DEPUTY PROGRAM EXECUTIVE OFFICER FOR AVIATION. PROGRAM EXECUTIVE OFFICER ENTERPRISE INFORMATION SYSTEMS.
|  | DEPUTY PROGRAM EXECUTIVE OFFICER FOR SOLDIER.
|  | DEPUTY PROGRAM EXECUTIVE OFFICER, COMBAT SUPPORT AND COMBAT SERVICE SUPPORT.
|  | DEPUTY PROGRAM EXECUTIVE OFFICER GROUND COMBAT SYSTEMS.
|  | DEPUTY PROGRAM EXECUTIVE OFFICER (SIMULATION, TRAINING AND INSTRUMENTATION).
|  | DEPUTY JOINT PROGRAM EXECUTIVE OFFICER FOR CHEMICAL AND BIOLOGICAL DEFENSE.
|  | DEPUTY PROGRAM EXECUTIVE OFFICER, MISSILES AND SPACE.
|  | DEPUTY PROGRAM EXECUTIVE OFFICER, ENTERPRISE INFORMATION SYSTEMS.
|  | PROGRAM EXECUTIVE OFFICER COMBAT SUPPORT AND COMBAT SERVICE SUPPORT.
|  | DEPUTY PROGRAM EXECUTIVE OFFICER, INTELLIGENCE, ELECTRONIC WARFARE AND SENSORS.
|  | JOINT PEO FOR CHEMICAL AND BIOLOGICAL DEFENSE.
|  | PROGRAM EXECUTIVE OFFICER ASSEMBLED CHEMICAL WEAPONS ALTERNATIVE.
|  | DEPUTY JOINT PROGRAM EXECUTIVE OFFICER (ARMAMENT AND AMMUNITION).
OFFICE ASSISTANT SECRETARY ARMY (FINANCIAL MANAGEMENT AND COMPTROLLER) | UNITED STATES ARMY FINANCIAL MANAGEMENT COMMAND | DEPUTY TO THE COMMANDER FOR FINANCIAL MANAGEMENT OPERATIONS.
OFFICE OF THE SECRETARY | OFFICE OF THE INSPECTOR GENERAL | PRINCIPAL DIRECTOR TO THE INSPECTOR GENERAL (INSPECTIONS).
| UNITED STATES ARMY NATIONAL MILITARY CEMETERIES | SUPERINTENDENT, ARLINGTON NATIONAL CEMETERY. EXECUTIVE DIRECTOR OF THE ARMY NATIONAL CEMETERIES PROGRAM.
OFFICE OF THE UNDER SECRETARY | OFFICE DEPUTY UNDER SECRETARY OF ARMY | ASSISTANT TO THE DUSA/DIRECTOR OF TEST AND EVALUATION. DIRECTOR CIVILIAN SENIOR LEADER MANAGEMENT OFFICE.
| OFFICE OF BUSINESS TRANSFORMATION | DEPUTY DIRECTOR, OFFICE OF BUSINESS TRANSFORMATION, OFFICE OF THE UNDER SECRETARY OF THE ARMY. DIRECTOR, OFFICE OF BUSINESS TRANSFORMATION.
OFFICE, CHIEF OF STAFF | OFFICE, CHIEF ARMY RESERVE | ASSISTANT CHIEF OF THE ARMY RESERVE. DIRECTOR OF RESOURCE MANAGEMENT AND MATERIAL.
| UNITED STATES ARMY TEST AND EVALUATION COMMAND | EXECUTIVE DIRECTOR—WHITE SANDS. EXECUTIVE DIRECTOR, OPERATIONAL TEST COMMAND. DIRECTOR, ARMY EVALUATION CENTER.
OFFICE, DEPUTY CHIEF OF STAFF, G-1 | ARMY RESEARCH INSTITUTE (DEPUTY CHIEF OF STAFF FOR PERSONNEL, FIELD OPERATING AGENCY) | DIRECTOR, UNITED STATES ARMY RESEARCH INSTITUTE AND CHIEF PSYCHOLOGIST.
| OFFICE, DEPUTY CHIEF OF STAFF, G-1 (DEPUTY CHIEF OF STAFF FOR PERSONNEL, FIELD OPERATING AGENCY) | DEPUTY CHIEF MARKETING OFFICER, ARMY ENTERPRISE MARKETING OFFICE.
OFFICE, OFFICE, DEPUTY CHIEF OF STAFF , G-9 | UNITED STATES ARMY INSTALLATION MANAGEMENT COMMAND | REGIONAL DIRECTOR (EUROPE). DIRECTOR, HUMAN RESOURCES (IMCOM). EXECUTIVE DPUTY TO COMMANDING GENERAL, IMCOM.
|  | DIRECTOR IMCOM SUPPORT (TRAINING).
|  | REGIONAL DIRECTOR (PACIFIC).
|  | DIRECTOR OF FACILITIES AND LOGISTICS.
|  | DIRECTOR, PLANS, OPERATIONS AND TRAINING, G-3/5/7, IMCOM.
|  | DIRECTOR IMCOM SUPPORT (READINESS).
|  | DIRECTOR IMCOM SUPPORT (SUSTAINMENT).
UNITED STATES ARMY FUTURES COMMAND | AFC, CROSS FUNCTIONAL TEAMS | DIRECTOR, ASSURED PNT CROSS- FUNCTIONAL TEAM, SA.
| AFC, COMBAT CAPABILITIES DEVELOPMENT CMD—US ARMY AVIATION AND MISSILE CENTER | DIRECTOR FOR AVIATION AND MISSILE RESEARCH, DEVELOPMENT AND ENGINEERING CENTER. DIRECTOR FOR WEAPONS DEVELOPMENT AND INTEGRATION. DIRECTOR OF AVIATION ENGINEERING. DIRECTOR FOR SYSTEMS SIMULATION, SOFTWARE, AND INTEGRATION.
| AFC, COMBAT CAPABILITIES DEVELOPMENT CMD, ARMAMENTS CENTER | DIRECTOR, MUNITIONS ENGINEERING TECHNOLOGY CENTER. EXECUTIVE DIRECTOR, ENTERPRISE AND SYSTEMS INTEGRATION CENTER. EXECUTIVE DIRECTOR, WEAPONS AND SOFTWARE ENGINEER CENTER. DIRECTOR FOR ARMAMENT RESEARCH, DEVELOPMENT AND ENGINEERING.
| AFC, COMBAT CAPABILITIES DEVELOPMENT CMD, ARMY RESEARCH LABORATORY | DIRECTOR, SENSORS AND ELECTRON DEVICES DIRECTORATE. DIRECTOR, HUMAN RESEARCH ENGINEERING DIRECTORATE, CCDC. DIRECTOR, SURVIVABILITY/LETHALITY ANALYSIS DIRECTORATE. DIRECTOR, CCDC ARMY RESEARCH LABORATORY, CCDC. DIRECTOR WEAPONS AND MATERIALS RESEARCH DIRECTORATE. DIRECTOR, COMPUTATIONAL AND INFORMATION SCIENCE DIRECTORATE (2). DIRECTOR, SENSORS AND ELECTRON DEVICES DIRECTORATE, CCDC.
| AFC, COMBAT CAPABILITIES DEVELOPMENT CMD, C5ISR CENTER | DIRECTOR, SPACE AND TERRESTRIAL COMMITTEE DIRECTORATE. DIRECTOR, COMMUNICATIONS- ELECTRONICS RESEARCH, DEVELOPMENT AND ENGINEERING CENTER. DIRECTOR, COMMAND POWER AND INTEGRATION DIRECTORATE. DIRECTOR, NIGHT VISION/ELECTROMAGNETICS SENSORS DIRECTORATE.
| AFC, COMBAT CAPABILITIES DEVELOPMENT CMD, CHEMICAL AND BIOLOGICAL CENTER | DIRECTOR FOR PROGRAMS INTEGRATION. DIRECTOR, RESEARCH AND TECHNOLOGY DIRECTORATE, CBC, CCDC. DIRECTOR OPERATIONAL APPLICATIONS DIRECTORATE. DIRECTOR, ENGINEERING DIRECTORATE, CBC, CCDC. DIRECTOR, CHEMICAL AND BIOLOGICAL CENTER, CCDC.
| AFC, COMBAT CAPABILITIES DEVELOPMENT CMD, DATA ANALYSIS CENTER | DIRECTOR, CCDC DATA AND ANALYSIS CENTER, CCDC.
| AFC, COMBAT CAPABILITIES DEVELOPMENT CMD, GROUND VEHICLE SYSTEMS CENTER | DIRECTOR FOR SYSTEMS INTEGRATION AND ENGINEERING. DIRECTOR, CCDC GROUND VEHICLE SYSTEMS CENTER. DIRECTOR, RESEARCH, TECHNOLOGY DEVELOPMENT AND INTEGRATION.
| AFC, COMBAT CAPABILITIES DEVELOPMENT CMD, SOLDIERS CENTER | DIRECTOR, NATICK SOLDIER RESEARCH AND DEVELOPMENT ENGINEERING CENTER.
| AFC, COMBAT CAPABILITIES DEVELOPMENT COMMAND | DEPUTY TO COMMANDING GENERAL, CCDC. DIRECTOR, SCIENCE AND TECHNOLOGY INTEGRATION.
| AFC, FUTURES AND CONCEPTS CENTER, CAPABILITY DEVELOPMENT INTEGRATION DIRECTORATES | DEPUTY TO THE COMMANDING GENERAL, MANEUVER CENTER OF EXCELLENCE AND DIRECTOR, CAPABILITIES DEVELOPMENT AND INTEGRATION.
| AFC, FUTURES AND CONCEPTS CENTER, THE RESEARCH AND ANALYSIS CENTER | DIRECTOR OF OPERATIONS, TRAC ANALYSIS CENTER FORT LEAVENWORTH. DIRECTOR, THE TRAINING AND ANALYSIS CENTER, AFC. DIRECTOR OF FUTURES INTEGRATION, FCC. DIRECTOR OF OPERATIONS, TRAC, WSMR.
| AFC, FUTURES AND CONCEPTS CENTER, TRAC HUMAN SYSTEMS INTEGRATION | DIRECTOR FOR MAN PRINT DIRECTORATE.
| AFC, UNITED STATES ARMY MEDICAL RESEARCH AND MATERIEL COMMAND | PRINCIPAL ASSISTANT FOR ACQUISITION.
| UNITED STATES ARMY FUTURES COMMAND—FUTURES AND CONCEPTS CENTER | DEPUTY DIRECTOR/CHIEF OF STAFF, ARCIC.
UNITED STATES ARMY CORPS OF ENGINEERS | COLD REGIONS RESEARCH AND ENGINEERING LABORATORY HANOVER, NEW HAMSHIRE | DIRECTOR, COLD REGIONS RESEARCH AND ENGINEERING LABORATORY.
| CONSTRUCTION ENGINEERING RESEARCH LABORATORY CHAMPAIGN, ILLINOIS | DIRECTOR, CONSTRUCTION ENGINEERING RESEARCH LABORATORIES.
| DIRECTORATE OF CIVIL WORKS | CHIEF, OPERATIONS DIVISION AND REGULATORY COMMUNITY OF PRACTICE. CHIEF, ENGINEERING AND CONSTRUCTION DIVISION. CHIEF, PLANNING AND POLICY DIVISION/ COMMUNITY OF PRACTICE. DIRECTOR OF CIVIL WORKS. CHIEF, PROGRAMS INTEGRATION DIVISION.
| DIRECTORATE OF MILITARY PROGRAMS | CHIEF, ENVIRONMENTAL COMMUNITY OF PRACTICE. CHIEF, INSTALLATION SUPPORT COMMUNITY OF PRACTICE. DIRECTOR OF MILITARY PROGRAMS. CHIEF, INTERAGENCY AND INTERNATIONAL SERVICES DIVISION.
| DIRECTORATE OF RESEARCH AND DEVELOPMENT | DEPUTY DIRECTOR OF RESEARCH AND DEVELOPMENT.
| DIRECTORS OF ENGINEERING AND TECHNICAL SERVICES | REGIONAL BUSINESS DIRECTOR (SOUTH ATLANTIC DIVISION). REGIONAL BUSINESS DIRECTOR (NORTHWESTERN DIVISION). REGIONAL BUSINESS DIRECTOR (GREAT LAKES, OHIO RIVER DIVISION). REGIONAL BUSINESS DIRECTOR (NORTH ATLANTIC DIVISION). REGIONAL BUSINESS DIRECTOR (PACIFIC OCEAN DIVISION). REGIONAL BUSINESS DIRECTOR (SOUTHWESTERN DIVISION). REGIONAL BUSINESS DIRECTOR (SOUTH PACIFIC DIVISION). REGIONAL BUSINESS DIRECTOR, (MISSISSIPPI VALLEY DIVISION).
| DIRECTORS OF PROGRAMS MANAGEMENT | DIVISION PROGRAMS DIRECTOR (GREAT LAKE AND OHIO RIVER DIVISION). DIVISION PROGRAMS DIRECTOR (SOUTH PACIFIC DIVISION). DIVISION PROGRAMS DIRECTOR, TRANSATLANTIC DIVISION. DIVISION PROGRAMS DIRECTOR (NORTHWESTERN DIVISION). DIVISION PROGRAMS DIRECTOR (NORTH ATLANTIC DIVISION). DIVISION PROGRAMS DIRECTOR (SOUTH ATLANTIC DIVISION). DIVISION PROGRAMS DIRECTOR (MISSISSIPPI VALLEY DIV). DIVISION PROGRAMS DIRECTOR (PACIFIC OCEAN DIVISION). DIVISION PROGRAMS DIRECTOR (SOUTHWESTERN DIVISION).
| ENGINEER RESEARCH AND DEVELOPMENT CENTER | DIRECTOR, ENVIRONMENTAL LABORATORY. DEPUTY DIRECTOR ENGINEER RESEARCH AND DEVELOPMENT CENTER. DIRECTOR, COASTAL AND HYDRAULICS LABORATORY. DIRECTOR GEOTECHNICAL AND STRUCTURES LABORATORY.
| ENGINEER TOPOGRAPHIC LABORATORIES, CENTER OF ENGINEERS | DIRECTOR, ARMY GEOSPATIAL CENTER.
UNITED STATES ARMY MATERIEL COMMAND | MILITARY SURFACE DEPLOYMENT DISTRIBUTION COMMAND | DEPUTY TO THE COMMANDER, SURFACE DEPLOYMENT AND DISTRIBUTION COMMAND. DIRECTOR, TRANSPORTATION ENGINEERING AGENCY/DIRECTOR JOINT DISTRIBUTION PROCESS ANALYSIS CENTER.
| OFFICE OF DEPUTY COMMANDING GENERAL | EXECUTIVE DEPUTY TO THE COMMANDING GENERAL.
| OFFICE OF DEPUTY CHIEF OF STAFF FOR LOGISTICS AND OPERATIONS | PRINCIPAL DEPUTY G-3 FOR OPERATIONS AND LOGISTICS.
| OFFICE OF DEPUTY CHIEF OF STAFF FOR PERSONNEL | DEPUTY CHIEF OF STAFF FOR PERSONNEL.
| OFFICE OF THE DEPUTY CHIEF OF STAFF FOR RESOURCE MANAGEMENT | ASSISTANT DEPUTY CHIEF OF STAFF FOR RESOURCE MANAGEMENT, G-8/EXECUTIVE DIRECTOR FOR BUSINESS. DEPUTY CHIEF OF STAFF FOR RESOURCE MANAGEMENT.
| TANK-AUTOMOTIVE AND ARMAMENTS COMMAND (TANK-AUTOMOTIVE AND ARMAMENTS COMMAND) | DEPUTY TO THE COMMANDER. DIRECTOR INTEGRATED LOGISTICS SUPPORT CENTER.
| UNITED STATES ARMY COMMUNICATIONS ELECTRONICS COMMAND | DIRECTOR, SOFTWARE ENGINEERING DIRECTORATE. DEPUTY TO THE COMMANDING GENERAL, CECOM, LCMC. DIR, COMMUNICATIONS-ELECTRONICS LIFE CYCLE MGMT CMD LOGISTICS AND READINESS CENTER.
| UNITED STATES ARMY JOINT MUNITIONS COMMAND | EXECUTIVE DIRECTOR FOR AMMUNITION.
| UNITED STATES ARMY AVIATION AND MISSILE COMMAND (ARMY MATERIEL COMMAND) | DEPUTY TO THE COMMANDER. DIRECTOR FOR TEST MEASUREMENT DIAGNOSTIC EQUIPMENT ACTIVITY. ARMY AVIATION AND MISSILE COMMAND DIRECTOR, SPECIAL PROGRAMS (AVIATION). EXECUTIVE DIRECTOR, AVIATION AND MISSILE COMMAND LOGISTICS CENTER.
| UNITED STATES ARMY CONTRACTING COMMAND | DEPUTY TO THE COMMANDING GENERAL, ARMY CONTRACTING COMMAND. EXECUTIVE DIRECTOR ARMY CONTRACTING COMMAND—REDSTONE, AL. DEPUTY TO THE COMMANDER, UNITED STATES ARMY EXPEDITIONARY CONTRACTING COMMAND. DEPUTY TO THE COMMANDER, MISSION INSTALLATION CONTRACTING COMMAND. EXECUTIVE DIRECTOR, ACC-WARREN. EXECUTIVE DIRECTOR, ARMY CONTRACTING COMMAND—ABERDEEN. EXECUTIVE DIRECTOR ARMY CONTRACTING COMMAND—ROCK ISLAND.
| UNITED STATES ARMY SECURITY ASSISTANCE COMMAND | DEPUTY TO THE COMMANDING GENERAL.
| UNITED STATES ARMY SUSTAINMENT COMMAND | EXECUTIVE DIRECTOR, SUPPORT OPERATIONS. DEPUTY TO THE COMMANDER. EXECUTIVE DIRECTOR FOR LOGCAP.
DEPARTMENT OF THE NAVY
CHIEF OF NAVAL OPERATIONS | BUREAU OF MEDICINE AND SURGERY | DIRECTOR, BUSINESS OPERATIONS/ COMPTROLLER. EXECUTIVE DIRECTOR, BUREAU OF MEDICINE AND SURGERY.
| COMMANDER, NAVY INSTALLATIONS COMMAND | DIRECTOR, TOTAL FORCE MANPOWER. COMPTROLLER. DIRECTOR STRATEGY AND FUTURE REQUIREMENTS. DIRECTOR OF OPERATIONS. DEPUTY COMMANDER. COUNSEL, COMMANDER NAVY INSTALLATIONS COMMAND.
| COMMANDER, SUBMARINE FORCES | EXECUTIVE DIRECTOR, SUBMARINE FORCES.
| MILITARY SEALIFT COMMAND | DIRECTOR, MILITARY SEALIFT COMMAND MANPOWER AND PERSONNEL. DIRECTOR, SHIP MANAGEMENT. DIRECTOR, MARITIME OPERATIONS. EXECUTIVE DIRECTOR.
| NAVAL AIR SYSTEMS COMMAND HEADQUARTERS | DIRECTOR, AIR ANTI-SUBMARINE WARFARE, ASSAULT AND SPECIAL MISSION PROGRAMS CONTRACTS DEPARTMENT. DEPUTY COUNSEL, OFFICE OF COUNSEL. DIRECTOR, PROPULSION AND POWER. DIRECTOR, STRIKE WEAPONS, UNMANNED AVIATION, NAVAL AIR PROGRAMS CONTRACTS DEPARTMENT.
|  | DIRECTOR INDUSTRIAL OPERATIONS.
|  | DIRECTOR, MISSION ENGINEERING AND ANALYSIS.
|  | COUNSEL, NAVAL AIR SYSTEMS COMMAND.
|  | DIRECTOR, COST ESTIMATING AND ANALYSIS.
|  | DIRECTOR OF CONTRACTS, F-35 JSF.
|  | F-35 PRODUCT SUPPORT MANAGER.
|  | DIRECTOR, AIR VEHICLE ENGINEERING.
|  | ASSISTANT COMMANDER FOR CONTRACTS.
|  | COMPTROLLER.
|  | DIRECTOR, SYSTEMS ENGINEERING DEPARTMENT.
|  | DIRECTOR, PRODUCT SUPPORT MANAGEMENT INTEGRATION.
|  | DIRECTOR, TACTICAL AIRCRAFT AND MISSILES CONTRACTS DEPARTMENT.
|  | DEPUTY ASSISTANT COMMANDER FOR RESEARCH AND ENGINEERING.
|  | DEPUTY COMMANDER, NAVAL AIR SYSTEMS COMMAND.
|  | DIRECTOR, SUSTAINMENT GROUP.
|  | DIRECTOR, ENGINEERING GROUP.
|  | ASSISTANT COMMANDER, CORPORATE OPERATIONS AND TOTAL FORCE.
| NAVAL METEOROLOGY AND OCEANOGRAPHY COMMUNICATIONS, STENNIS SPACE CENTER, MISSISSIPPI | TECHNICAL/DEPUTY DIRECTOR.
| NAVY CYBER FORCES | DEPUTY COMMANDER.
| OFFICE OF COMMANDER, UNITED STATES FLEET FORCES COMMAND | DEPUTY CHIEF OF STAFF, PERSONNEL DEVELOPMENT AND ALLOCATION. DIRECTOR, FLEET INSTALLATION AND ENVIRONMENT. ASSISTANT DEPUTY CHIEF OF STAFF, FLEET POLICY AND CAPABILITIES REQUIREMENTS. EXECUTIVE DIRECTOR, NAVY WARFARE DEVELOPMENT COMMAND.
|  | DIRECTOR, COMMAND, CONTROL, COMMUNICATIONS, COMPUTER, COMBAT SYSTEMS, INTELLIGENCE AND STRATEGIC/COMMAND INFORMATION OFFICER.
|  | EXECUTIVE DIRECTOR/CHIEF OF STAFF.
|  | DEPUTY DIRECTOR, MARITIME OPERATIONS.
|  | DIRECTOR, COMMAND, CONTROL, COMMUNICATIONS, COMPUTER COMBAT SYSTEMS, INTELLIGENCE, SURVEILLANCE AND RECONNAISSANCE.
| OFFICE OF THE COMMANDER, UNITED STATES PACIFIC FLEET | EXECUTIVE DIRECTOR, NAVAL SURFACE FORCES. EXECUTIVE DIRECTOR, PACIFIC FLEET PLANS AND POLICY. EXECUTIVE DIRECTOR FOR COMMUNICATIONS AND INFORMATION SYSTEMS AND CHIEF INFORMATION OFFICER. EXECUTIVE DIRECTOR, NAVAL AIR FORCES.
|  | CHIEF OF STAFF.
|  | EXECUTIVE DIRECTOR, TOTAL FORCE MANAGEMENT.
|  | DEPUTY FOR NAVAL MINE AND ANTI-SUBMARINE WARFARE COMMAND.
| UNITED STATES FLEET CYBER COMMAND/UNITED STATES TENTH FLEET | EXECUTIVE DIRECTOR AND CHIEF INFORMATION OFFICER.
DEPARTMENT OF THE NAVY | CHIEF OF NAVAL OPERATIONS | HEAD, CAMPAIGN ANALYSIS BRANCH. DIRECTOR NAVY STAFF. EXECUTIVE DIRECTOR, NAVAL SPECIAL WARFARE COMMAND. DIRECTOR, DIGITAL WARFARE OFFICE.
|  | DIRECTOR, FLEET READINESS.
|  | DEPUTY CHIEF OF NAVY RESERVE.
|  | DIRECTOR, SPECIAL PROGRAMS DIVISION (N89).
|  | DEPUTY DIRECTOR, NAVY CYBERSECURITY.
|  | DEPUTY COMMANDER.
|  | DIRECTOR OF STRATEGY.
|  | DIRECTOR, STRATEGIC MOBILITY AND COMBAT LOGISTICS DIVISION.
|  | ASSISTANT DEPUTY CHIEF OF NAVAL OPERATIONS, FLEET READINESS AND LOGISTICS.
|  | DIRECTOR, TOTAL FORCE REQUIREMENTS, ANALYSIS AND DEVELOPMENT (N12/N15).
|  | DIRECTOR NAVAL HISTORY AND HERITAGE COMMAND.
|  | DEPUTY DIRECTOR, PROGRAM DIVISION (N80B).
|  | DEPUTY DIRECTOR, AIR WARFARE
|  | ASSISTANT DEPUTY CHIEF OF NAVAL OPERATIONS (MANPOWER, PERSONNEL, TRAINING AND EDUCATION).
|  | DIRECTOR, CHIEF OF NAVAL OPERATIONS ENERGY AND ENVIRONMENTAL READINESS DIVISION.
|  | DEPUTY DIRECTOR, UNDERSEA WARFARE DIVISION.
|  | DEPUTY DIRECTOR SURFACE WARFARE DIVISION.
|  | DEPUTY DIRECTOR, EXPEDITIONARY WARFARE DIVISION.
|  | DEPUTY DIRECTOR, WARFARE INTEGRATION.
|  | ASSISTANT DEPUTY CHIEF OF NAVAL OPERATIONS FOR INFORMATION DOMINANCE (N2/N6).
|  | DEPUTY DIRECTOR ASSESSMENT DIVISION (N8 1B).
|  | ASSISTANT DEPUTY CHIEF OF NAVAL OPERATIONS, WARFARE SYSTEMS.
|  | DIRECTOR, COMMUNICATIONS AND NETWORK DIVISION (N2/N6F1).
|  | ASSISTANT DEPUTY CHIEF OF NAVAL OPERATIONS (RESOURCES, WARFARE REQUIREMENTS AND ASSESSMENTS) N8B.
|  | FINANCIAL MANAGER AND CHIEF RESOURCES OFFICER FOR MANPOWER, PERSONNEL, TRAINING AND EDUCATION.
| MARINE CORPS SYSTEMS COMMAND | ASSISTANT DEPUTY COMMANDANT FOR INFORMATION. DEPUTY TO THE COMMANDER FOR RESOURCE MANAGEMENT. CHIEF ENGINEER, MARINE CORPS SYSTEMS COMMAND. EXECUTIVE DIRECTOR.
| NAVAL FACILITIES ENGINEERING COMMAND | DIRECTOR, NAVY CRANE CENTER. DIRECTOR OF PUBLIC WORKS. EXECUTIVE DIRECTOR. DEPUTY COMMANDER, ACQUISITION.
|  | CHIEF ENGINEER.
|  | DIRECTOR OF ENVIRONMENT.
|  | DIRECTOR OF ASSET MANAGEMENT.
|  | ASSISTANT COMMANDER/CHIEF MANAGEMENT OFFICER.
|  | COMPTROLLER
|  | COUNSEL, NAVAL FACILITIES ENGINEERING COMMAND.
| NAVAL INFORMATION AND WARFARE SYSTEMS COMMAND | DIRECTOR CORPORATE OPERATIONS/COMMAND INFORMATION OFFICER. EXECUTIVE DIRECTOR, FLEET READINESS DIRECTORATE. EXECUTIVE DIRECTOR. ASSISTANT CHIEF ENGINEER FOR CERTIFICATION AND MISSION ASSURANCE.
|  | ASSISTANT CHIEF ENGINEER FOR MISSION ARCHITECTURE AND SYSTEMS ENGINEERING.
|  | DIRECTOR, CONTRACTS.
|  | DIRECTOR, READINESS/LOGISTICS DIRECTORATE.
|  | DEPUTY CHIEF ENGINEER.
| NAVAL SEA SYSTEMS COMMAND | DEPUTY DIRECTOR, ADVANCED AIRCRAFT CARRIER SYSTEM DIVISION. DIRECTOR, FLEET READINESS DIVISION. EXECUTIVE DIRECTOR, SHIP DESIGN, AND ENGINEERING DIRECTORATE. DIRECTOR FOR AIRCRAFT CARRIER DESIGN AND SYSTEMS ENGINEERING.
|  | DEPUTY DIRECTOR, REACTOR REFUELING DIVISION.
|  | DIRECTOR, SURFACE SYSTEMS CONTRACTS DIVISION.
|  | HEAD, ADVANCED REACTOR BRANCH.
|  | ASSISTANT COMMANDER, SUPPLY CHAIN TECHNOLOGY AND SYSTEM INTEGRATION.
|  | DIVISION TECHNICAL DIRECTOR, NAVAL SURFACE WARFARE CENTER, PHILADELPHIA DIVISION.
|  | EXECUTIVE DIRECTOR FOR COMMANDER, NAVY REGIONAL MAINTENANCE CENTERS (CNRMC).
|  | DIRECTOR, FLEET SUPPORT CONTRACTS DIVISION.
|  | DIRECTOR, REACTOR MATERIALS DIVISION.
|  | DIRECTOR FOR MARINE ENGINEERING.
|  | DIVISION TECHNICAL DIRECTOR, NSWC CORONA DIVISION.
|  | DIRECTOR FOR SHIP INTEGRITY AND PERFORMANCE ENGINEERING.
|  | EXECUTIVE DIRECTOR NAVAL SURFACE AND UNDERSEA WARFARE CENTERS.
|  | DIVISION TECHNICAL DIRECTOR, NAVAL SURFACE WARFARE CENTER PORT HUENEME DIVISION.
|  | NUCLEAR ENGINEERING AND PLANNING MANAGER.
|  | DIRECTOR, INTEGRATED WARFARE SYSTEMS ENGINEERING GROUP.
|  | COUNSEL, NAVAL SEA SYSTEMS COMMAND.
|  | DIRECTOR FOR CONTRACTS.
|  | DIRECTOR, REACTOR MATERIALS DIVISION.
|  | DIRECTOR FOR SURFACE SHIP DESIGN AND SYSTEMS ENGINEERING.
|  | DIRECTOR, COST ENGINEERING AND INDUSTRIAL ANALYSIS.
|  | DIRECTOR, SHIPBUILDING CONTRACTS DIVISION.
|  | ASSISTANT DEPUTY COMMANDER FOR INDUSTRIAL OPERATIONS.
|  | DEPUTY FOR WEAPONS SAFETY.
|  | EXECUTIVE DIRECTOR FOR LOGISTICS MAINTENANCE AND INDUSTRIAL OPERATIONS DIRECTORATE.
|  | EXECUTIVE DIRECTOR, UNDERSEA WARFARE DIRECTORATE.
|  | DIRECTOR, REACTOR PLANT COMPONENTS AND AUXILIARY EQUIPMENT DIVISION.
|  | DIRECTOR, SURFACE SHIP SYSTEMS DIVISION.
|  | DIRECTOR, REACTOR SAFETY AND ANALYSIS DIVISION.
|  | DIRECTOR FOR SUBMARINE/SUBMERSIBLE DESIGN AND SYSTEMS ENGINEERING.
|  | PROGRAM MANAGER FOR COMMISSIONED SUBMARINES.
|  | DIRECTOR, OFFICE OF RESOURCE MANAGEMENT.
|  | DIRECTOR, REACTOR REFUELING DIVISION.
|  | DIRECTOR OF RADIOLOGICAL CONTROLS.
|  | EXECUTIVE DIRECTOR, UNDERSEA INTEGRATION (PEO SUB C).
|  | EXECUTIVE DIRECTOR, SURFACE WARFARE DIRECTORATE.
|  | DIRECTOR, NUCLEAR COMPONENTS DIVISION.
|  | EXECUTIVE DIRECTOR.
|  | DEPUTY COMMANDER, CORPORATE OPERATIONS DIRECTORATE.
|  | DEPUTY COMMANDER/COMPTROLLER.
| NAVAL SUPPLY SYSTEMS COMMAND HEADQUARTERS | ASSISTANT DEPUTY COMMANDER FOR FINANCIAL MANAGEMENT. ASSISTANT COMMANDER FOR CONTRACTING MANAGEMENT. EXECUTIVE STRATEGIC INITIATIVES. ASSISTANT COMMANDER FOR SUPPLY CHAIN MANAGEMENT (SCM) POLICY AND PERFORMANCE.
|  | DEPUTY COMMANDER FOR FINANCIAL MANAGEMENT/COMPTROLLER.
|  | COUNSEL, NAVAL SUPPLY SYSTEMS COMMAND.
|  | DEPUTY COMMANDER, CORPORATE OPERATIONS.
|  | EXECUTIVE DIRECTOR, OFFICE OF SPECIAL PROJECTS.
|  | VICE COMMANDER.
| OFFICE OF NAVAL RESEARCH | DIRECTOR FOR AEROSPACE SCIENCE RESEARCH DIVISION. DIRECTOR, OCEAN, ATMOSPHERE AND SPACE RESEARCH DIVISION. DIRECTOR, ELECTRONICS, SENSORS, AND NETWORKS RESEARCH DIVISION. DIRECTOR, SHIP SYSTEMS AND ENGINEERING DIVISION.
|  | DIRECTOR, MISSION SUPPORT.
|  | EXECUTIVE DIRECTOR.
|  | DIRECTOR, HUMAN AND BIOENGINEERED SYSTEMS DIVISION.
|  | DIRECTOR, CONTRACTS, GRANTS AND ACQUISITIONS.
|  | COMPTROLLER.
|  | HEAD, AIR WARFARE AND WEAPONS SCIENCE AND TECHNOLOGY DEPARTMENT.
|  | DIRECTOR, MATHEMATICS COMPUTER AND INFORMATION SCIENCES (MCIS) DIVISION.
|  | HEAD, COMMAND, CONTROL, COMMUNICATIONS, INTELLIGENCE, SURVEILLANCE, AND RECONNAISSANCE (C4ISR) SCIENCE AND TECHNOLOGY DEPARTMENT.
|  | HEAD MISSION CAPABLE PERSISTENT AND SURVIVABLE NAVAL PLATFORMS DEPARTMENT.
|  | NAVAL ACCELERATOR EXECUTIVE.
|  | PATENT COUNSEL OF THE NAVY.
|  | COUNSEL, OFFICE OF NAVAL RESEARCH.
|  | HEAD, WARFIGHTER PERFORMANCE SCIENCE AND TECHNOLOGY DEPARTMENT.
|  | HEAD, OCEAN, BATTLESPACE SENSING SCIENCE AND TECHNOLOGY DEPARTMENT.
|  | DIRECTOR, UNDERSEA WEAPONS AND NAVAL MATERIALS SCIENCE AND TECHNOLOGY DIVISION.
| OFFICE OF THE SECRETARY OF THE NAVY | DEPUTY ASSISTANT FOR ADMINISTRATION. DIRECTOR, SEXUAL ASSAULT PREVENTION AND RESPONSE.
| UNITED STATES MARINE CORPS HEADQUARTERS OFFICE | DEPUTY DIRECTOR, MANPOWER PLANS AND POLICY DIVISION. ASSISTANT DEPUTY COMMANDANT FOR MANPOWER AND RESERVE AFFAIRS. EXECUTIVE DEPUTY, MARINE CORPS LOGISTICS COMMAND. DEPUTY COUNSEL FOR THE COMMANDANT OF THE MARINE CORPS.
|  | DIRECTOR PROGRAM ANALYSIS AND EVALUATION DIVISION.
|  | DIRECTOR PACIFIC DIVISION, PLANS, POLICIES AND OPERATIONS.
|  | ASSISTANT DEPUTY COMMANDANT FOR PLANS POLICIES AND OPERATIONS (SECURITY).
|  | EXECUTIVE DIRECTOR, MARINE FORCES COMMAND.
|  | DEPUTY ASSISTANT DEPUTY COMMANDANT, INSTALLATIONS AND LOGISTICS (FACILITIES).
|  | ASSISTANT DEPUTY COMMANDANT, INSTALLATIONS AND LOGISTICS (E- BUSINESS AND CONTRACTS).
|  | COUNSEL FOR THE COMMANDANT.
|  | ASSISTANT DEPUTY COMMANDANT, INSTALLATIONS AND LOGISTICS.
|  | ASSISTANT DEPUTY COMMANDANT FOR PROGRAMS AND RESOURCES/FISCAL DIRECTOR OF THE MARINE CORPS.
|  | ASSISTANT DEPUTY COMMANDANT FOR AVIATION (SUSTAINMENT).
|  | ASSISTANT DEPUTY COMMANDANT, RESOURCES (PERSONNEL AND READINESS).
MARINE CORPS SYSTEMS COMMAND | MARINE CORPS COMBAT DEVELOPMENT COMMAND; QUANTICO, VIRGINIA | EXECUTIVE DEPUTY TRAINING AND EDUCATION COMMAND.
| MARINE FORCES RESERVE, NEW ORLEANS, LA | EXECUTIVE DIRECTOR, MARINE FORCES RESERVE.
NAVAL AIR SYSTEMS COMMAND HEADQUARTERS | NAVAL AIR WARFARE CENTER AIRCRAFT DIVISION | DEPUTY ASSISTANT COMMANDER FOR TEST AND EVALUATION/EXECUTIVE DIRECTOR NAVAL AIR WARFARE CENTER AIRCRAFT DIVISION/DIRECTOR, TEST AND EVALUATION NAWCAD. DIRECTOR, AIRCRAFT LAUNCH AND RECOVERY EQUIPMENT/SUPPORT EQUIPMENT. DIRECTOR, FLIGHT TEST ENGINEERING. DIRECTOR, BATTLESPACE SIMULATION.
| NAVAL AIR WARFARE CENTER TRAINING SYSTEMS DIVISION | DIRECTOR, HUMAN SYSTEMS DEPARTMENT.
| NAVAL AIR WARFARE CENTER WEAPONS DIVISION, CHINA LAKE, CALIFORNIA | DIRECTOR, RANGE DEPARTMENT. EXECUTIVE DIRECTOR, NAVAL AIR WARFARE CENTER WEAPONS DIVISION/DIRECTOR, RESEARCH ENGINEERING. DIRECTOR, WEAPONS AND ENERGETICS DEPARTMENT. DIRECTOR, AVIONICS, SENSORS AND ELECTRONIC WARFARE.
NAVAL INFORMATION AND WARFARE SYSTEMS COMMAND | NAVAL INFORMATION AND WARFARE SYSTEMS CENTER | COMPTROLLER/BUSINESS RESOURCE MANAGER. DIRECTOR, SCIENCE AND TECHNOLOGY. EXECUTIVE DIRECTOR, PROGRAM EXECUTIVE OFFICE, ENTERPRISE INFORMATION SYSTEMS. EXECUTIVE DIRECTOR. COUNSEL, SPACE AND NAVAL WARFARE SYSTEMS COMMAND.
| NAVAL INFORMATION AND WARFARE SYSTEMS CENTER, CHARLESTON | EXECUTIVE DIRECTOR.
NAVAL SEA SYSTEMS COMMAND | NAVAL SHIPYARDS | NUCLEAR ENGINEERING AND PLANNING MANAGER; PORTSMOUTH NAVAL SHIPYARD. NAVAL SHIPYARD NUCLEAR ENGINEERING AND PLANNING MANAGER, NORFOLK NAVAL SHIPYARD. NUCLEAR ENGINEERING AND PLANNING MANAGER, PUGET SOUND NAVAL SHIPYARD.
| NAVAL SURFACE WARFARE CENTER | DIVISION TECHNICAL DIRECTOR, NAVAL SURFACE WARFARE CENTER DAHLGREN DIVISION.
| NAVAL SURFACE WARFARE CENTER, CARDEROCK DIVISION | DIVISION TECHNICAL DIRECTOR, NAVAL SURFACE WARFARE CENTER, CARDEROCK DIVISION.
| NAVAL SURFACE WARFARE CENTER, CRANE DIVISION | DIVISION TECHNICAL DIRECTOR, NSWC CRANE DIVISION.
| NAVAL SURFACE WARFARE CENTER, DAHLGREN DIVISION | DIVISION TECHNICAL DIRECTOR NAVAL SURFACE WARFARE CENTER PANAMA CITY DIVISION.
| NAVAL SURFACE WARFARE CENTER, INDIAN HEAD DIVISION | DIVISION TECHNICAL DIRECTOR, NAVAL SURFACE WARFARE CENTER INDIAN HEAD EXPLOSIVE ORDINANCE DISPOSAL TECHNOLOGY DIVISION.
| NAVAL UNDERSEA WARFARE CENTER DIVISION, KEYPORT, WASHINGTON | DIVISION TECHNICAL DIRECTOR, NAVAL UNDERSEA WARFARE CENTER DIVISION KEYPORT.
| NAVAL UNDERSEA WARFARE CENTER DIVISION, NEWPORT, RHODE ISLAND | DIVISION TECHNICAL DIRECTOR, NAVAL UNDERSEA WARFARE CENTER DIVISION NEWPORT.
NAVAL SUPPLY SYSTEMS COMMAND HEADQUARTERS | NAVY SUPPLY INFORMATION SYSTEMS ACTIVITY | DIRECTOR OF FINANCE/COMPTROLLER.
| WEAPON SYSTEMS SUPPORT | VICE COMMANDER, NAVSUP WEAPON SYSTEMS SUPPORT.
OFFICE OF NAVAL RESEARCH | NAVAL RESEARCH LABORATORY | ASSOCIATE DIRECTOR OF RESEARCH FOR BUSINESS OPERATIONS. ASSOCIATE DIRECTOR OF RESEARCH FOR OCEAN AND ATMOSPHERIC SCIENCE AND TECHNOLOGY. ASSOCIATE DIRECTOR OF RESEARCH FOR SYSTEMS. SUPERINTENDENT, SPACE SYSTEMS DEVELOPMENT DEPARTMENT.
|  | DIRECTOR, RESOURCE MANAGEMENT.
|  | SUPERINTENDENT, OPTICAL SCIENCES DIVISION.
|  | SUPERINTENDANT, INFORMATION TECHNOLOGY DIVISION.
|  | SUPERINTENDENT CHEMISTRY DIVISION.
|  | DIRECTOR, NAVAL CENTER FOR SPACE TECHNOLOGY.
|  | SUPERINTENDENT, OCEAN SCIENCES DIVISION.
|  | SUPERINTENDENT, RADAR DIVISION.
|  | SUPERINTENDENT, MARINE METEOROLOGY DIVISION.
|  | SUPERINTENDENT, ACOUSTICS DIVISION.
|  | SUPERINTENDENT, SPACECRAFT ENGINEERING DEPARTMENT.
|  | SUPERINTENDENT, SPACE SCIENCES DIVISION.
|  | SUPERINTENDENT, PLASMA PHYSICS DIVISION.
|  | SUPERINTENDENT, ELECTRONICS SCIENCE AND TECHNOLOGY DIVISION.
|  | SUPERINTENDENT, REMOTE SENSING DIVISION.
|  | SUPERINTENDENT, CENTER FOR BIOMOLECULAR SCIENCE AND ENGINEERING.
|  | SUPERINTENDENT, MATERIAL SCIENCE AND TECHNOLOGY DIVISION.
|  | DIRECTOR OF RESEARCH.
|  | ASSOCIATE DIRECTOR OF RESEARCH FOR MATERIAL SCIENCE AND COMPONENT TECHNOLOGY.
|  | SUPERINTENDENT, TACTICAL ELECTRONIC WARFARE DIVISION.
OFFICE OF THE ASSISTANT SECRETARY OF NAVY (MANPOWER AND RESERVE AFFAIRS) | OFFICE OF CIVILIAN HUMAN RESOURCES | DIRECTOR, HUMAN RESOURCES OPERATIONS. DIRECTOR, HUMAN RESOURCES SYSTEMS AND ANALYTICS. DEPUTY DIRECTOR, OFFICE OF CIVILIAN HUMAN RESOURCES. DIRECTOR, HUMAN RESOURCES POLICY AND PROGRAMS DEPARTMENT.
OFFICE OF THE ASSISTANT SECRETARY OF THE NAVY (RESEARCH, DEVELOPMENT AND ACQUISITION) | PROGRAM EXECUTIVE OFFICERS | DEPUTY PROGRAM EXECUTIVE OFFICER FOR UNMANNED AVIATION PROGRAMS. DIRECTOR, PRODUCTION DEPLOYMENT AND FLEET READINESS. EXECUTIVE DIRECTOR FOR COMMAND, CONTROL, COMMUNICATIONS, COMPUTERS AND INTELLIGENCE (C4I). EXECUTIVE DIRECTOR, COMBATANTS, PROGRAM EXECUTIVE OFFICERS SHIPS.
|  | EXECUTIVE DIRECTOR, PROGRAM EXECUTIVE OFFICERS FOR AIRCRAFT CARRIERS.
|  | DEPUTY PROGRAM EXECUTIVE OFFICERS FOR STRIKE WEAPONS.
|  | DEPUTY PROGRAM EXECUTIVE OFFICERS FOR TACTICAL AIR PROGRAMS.
|  | EXECUTIVE DIRECTOR, PROGRAM EXECUTIVE OFFICERS FOR INTEGRATED WARFARE SYSTEMS.
|  | EXECUTIVE DIRECTOR, PROGRAM EXECUTIVE OFFICE SUBMARINES.
|  | DIRECTOR, DEVELOPMENT AND INTEGRATION.
|  | EXECUTIVE DIRECTOR, PROGRAM EXECUTIVE OFFICE, LITTORAL COMBAT SHIPS.
|  | PROGRAM EXECUTIVE OFFICER (ENTERPRISE INFORMATION SYSTEMS).
|  | EXECUTIVE DIRECTOR, PROGRAM EXECUTIVE OFFICE, COLUMBIA.
|  | DEPUTY PROGRAM EXECUTIVE OFFICERS AIR ASSAULT AND SPECIAL MISSION.
|  | EXECUTIVE DIRECTOR, AMPHIBIOUS, AUXILIARY AND SEALIFT SHIPS, PROGRAM EXECUTIVE OFFICERS SHIPS.
| STRATEGIC SYSTEMS PROGRAMS | HEAD, RESOURCES BRANCH (COMPTROLLER) AND DEPUTY DIRECTOR, PLANS AND PROGRAM DIVISION. BRANCH HEAD REENTRY SYSTEMS BRANCH. ASSISTANT FOR SYSTEMS INTEGRATION AND COMPATIBILITY. ASSISTANT FOR SHIPBOARD SYSTEMS.
|  | ASSISTANT FOR MISSILE PRODUCTION, ASSEMBLY AND OPERATIONS.
|  | ASSISTANT FOR MISSILE ENGINEERING SYSTEMS.
|  | DIRECTOR, PLANS AND PROGRAMS DIVISION.
|  | CHIEF ENGINEER.
|  | DIRECTOR, INTEGRATED NUCLEAR WEAPONS SAFETY AND SECURITY.
|  | TECHNICAL PLANS OFFICER.
|  | COUNSEL, STRATEGIC SYSTEMS PROGRAMS
OFFICE OF THE SECRETARY OF THE NAVY | NAVAL CRIMINAL INVESTIGATIVE SERVICE | DIRECTOR, NAVAL CRIMINAL INVESTIGATIVE SERVICE. CRIMINAL INVESTIGATOR, DEPUTY DIRECTOR OPERATIONAL SUPPORT. CRIMINAL INVESTIGATOR, EXECUTIVE ASSISTANT DIRECTOR FOR GLOBAL OPERATIONS. CRIMINAL INVESTIGATOR, EXECUTIVE ASSISTANT DIRECTOR FOR ATLANTIC OPERATIONS.
|  | CRIMINAL INVESTIGATOR, EXECUTIVE ASSISTANT DIRECTOR FOR PACIFIC OPERATIONS.
|  | CRIMINAL INVESTIGATOR, DEPUTY DIRECTOR, NAVAL CRIMINAL INVESTIGATIVE SERVICE.
|  | CRIMINAL INVESTIGATOR, EXECUTIVE ASSISTANT DIRECTOR FOR CRIMINAL OPERATIONS.
| OFFICE OF THE ASSISTANT SECRETARY OF NAVY (ENERGY, INSTALLATIONS AND ENVIRONMENT) | EXECUTIVE DIRECTOR PUBLIC-PRIVATE PARTNERSHIP REVIEWS. DEPUTY ASSISTANT SECRETARY OF THE NAVY (ENVIRONMENT). DEPUTY ASSISTANT SECRETARY OF THE NAVY (INFRASTRUCTURE AND FACILITIES). PRINCIPAL DEPUTY ASSISTANT SECRETARY OF THE NAVY (ENERGY, INSTALLATIONS AND ENVIRONMENT).
| OFFICE OF THE ASSISTANT SECRETARY OF NAVY (FINANCIAL MANAGEMENT AND COMPTROLLER) | DEPUTY ASSISTANT SECRETARY OF THE NAVY FOR COST AND ECONOMICS. ASSOCIATE DIRECTOR, OFFICE OF BUDGET/FISCAL MANAGEMENT DIVISION. ASSISTANT GENERAL COUNSEL (FINANCIAL MANAGEMENT AND COMPTROLLER). DIRECTOR, INVESTMENT AND DEVELOPMENT DIVISION.
|  | DEPUTY ASSISTANT SECRETARY OF THE NAVY (FINANCIAL POLICY AND SYSTEMS).
|  | DIRECTOR, POLICY AND PROCEDURES.
|  | DASN FINANCIAL MANAGEMENT SYSTEMS.
|  | PRINCIPAL DEPUTY ASSISTANT SECRETARY OF THE NAVY FINANCIAL MANAGEMENT AND COMPTROLLER.
|  | DIRECTOR, PROGRAM/BUDGET COORDINATION DIVISION.
|  | DEPUTY ASSISTANT SECRETARY OF THE NAVY FOR FINANCIAL OPERATIONS.
|  | DIRECTOR, CIVILIAN RESOURCES AND BUSINESS AFFAIRS DIVISION.
|  | DEPUTY DASN FINANCIAL MANAGEMENT SYSTEMS ( SYSTEMS TRANSFORMATION).
| OFFICE OF THE ASSISTANT SECRETARY OF NAVY (MANPOWER AND RESERVE AFFAIRS) | ASSISTANT GENERAL COUNSEL (MANPOWER AND RESERVE AFFAIRS). DEPUTY ASSISTANT SECRETARY OF THE NAVY (MILITARY MANPOWER AND PERSONNEL). PRINCIPAL DEPUTY MANPOWER AND RESERVE AFFAIRS. DEPUTY ASSISTANT SECRETARY OF THE NAVY (CIVILIAN HUMAN RESOURCES).
| OFFICE OF THE ASSISTANT SECRETARY OF THE NAVY (RESEARCH, DEVELOPMENT AND ACQUISITION) | PEO FOR AVIATION COMMON SYSTEMS AND COMMERCIAL SERVICES. EXECUTIVE DIRECTOR, F-35, JOINT PROGRAM OFFICE. DEPUTY ASSISTANT SECRETARY OF THE NAVY (SHIPS). DEPUTY ASSISTANT SECRETARY OF THE NAVY FOR SUSTAINMENT.
|  | PROGRAM EXECUTIVE OFFICER, LAND SYSTEMS MARINE CORPS.
|  | CHIEF OF STAFF/POLICY.
|  | PRINCIPAL CIVILIAN DEPUTY ASSISTANT SECRETARY OF THE NAVY (ACQUISITION WORKFORCE).
|  | DIRECTOR, TECHNOLOGY SECURITY AND COOPERATIVE PROGRAMS DIRECTORATE.
|  | DEPUTY ASSISTANT SECRETARY OF THE NAVY (AIR PROGRAMS).
|  | DEPUTY FOR TEST AND EVALUATION.
|  | DEPUTY ASSISTANT SECRETARY OF THE NAVY (COMMAND, CONTROL, COMMUNICATIONS, COMPUTERS AND INTELLIGENCE) SPACE).
|  | DEPUTY ASSISTANT SECRETARY OF THE NAVY (RESEARCH, DEVELOPMENT, TEST AND EVALUATION).
|  | ASSISTANT GENERAL COUNSEL (RESEARCH, DEVELOPMENT AND ACQUISITION).
|  | EXECUTIVE DIRECTOR, DEPUTY ASSISTANT SECRETARY OF THE NAVY (ACQUISITION AND PROCUREMENT).
|  | DEPUTY ASSISTANT SECRETARY OF THE NAVY (MANAGEMENT AND BUDGET).
|  | EXECUTIVE DIRECTOR, NAVY INTERNATIONAL PROGRAMS OFFICE.
| OFFICE OF THE GENERAL COUNSEL | PRINCIPAL DEPUTY GENERAL COUNSEL. ASSOCIATE GENERAL COUNSEL (LITIGATION)/DIRECTOR, NAVY LITIGATION OFFICE. SPECIAL COUNSEL FOR LITIGATION.
|  | ASSISTANT GENERAL COUNSEL (ACQUISITION INTEGRITY).
|  | DEPUTY GENERAL COUNSEL.
|  | ASSISTANT GENERAL COUNSEL (ENERGY, INSTALLATIONS, AND ENVIRONMENT).
|  | ASSISTANT GENERAL COUNSEL (INTELLIGENCE).
|  | COUNSEL, MILITARY SEALIFT COMMAND.
|  | DEPUTY COUNSEL NAVAL SEA SYSTEMS COMMAND.
| OFFICE OF THE NAVAL INSPECTOR GENERAL | DEPUTY NAVAL INSPECTOR GENERAL. DEPUTY INSPECTOR GENERAL OF THE MARINE CORPS.
| OFFICE OF THE UNDER SECRETARY OF THE NAVY | DIRECTOR FOR BUSINESS REFORM AND DIRECTOR, OFFICE OF THE CHIEF MANAGEMENT OFFICE.
|  | PRINCIPAL DIRECTOR DEPUTY UNDER SECRETARY OF THE NAVY (POLICY).
|  | SENIOR DIRECTOR FOR SECURITY AND INTELLIGENCE.
|  | SENIOR DIRECTOR, INTEGRATION SUPPORT DIRECTORATE.
OFFICE OF THE UNDER SECRETARY OF THE NAVY | OFFICE OF THE AUDITOR GENERAL | ASSISTANT AUDITOR GENERAL FOR RESEARCH, DEVELOPMENT, ACQUISITION AND LOGISTICS AUDITS. ASSISTANT AUDITOR GENERAL FOR MANPOWER & RESERVE AFFAIRS. ASSISTANT AUDITOR GENERAL FOR FINANCIAL MANAGEMENT AND COMPTROLLER AUDITS. AUDITOR GENERAL OF THE NAVY.
UNITED STATES MARINE CORPS HEADQUARTERS OFFICE | MARINE FORCES PACIFIC, HAWAII | EXECUTIVE DIRECTOR, MARINE FORCES PACIFIC.
OFFICE OF THE SECRETARY OF DEFENSE
DEPUTY INSPECTOR GENERAL FOR AUDITING | FINANCIAL MANAGEMENT AND REPORTING | ASSISTANT INSPECTOR GENERAL FOR FINANCIAL MANAGEMENT AND REPORTING.
| OFFICE OF THE PRINCIPAL DEPUTY INSPECTOR GENERAL FOR AUDITING | PRINCIPAL ASSISTANT INSPECTOR GENERAL FOR AUDITING.
| READINESS, OPERATIONS AND SUPPORT | ASSISTANT INSPECTOR GENERAL FOR READINESS AND CYBER OPERATIONS.
DEPUTY INSPECTOR GENERAL FOR INVESTIGATIONS | DEFENSE CRIMINAL INVESTIGATIVE SERVICE | ASSISTANT INSPECTOR GENERAL FOR INVESTIGATIONS/INVESTIGATIVE OPERATIONS.
OFFICE OF THE SECRETARY OF DEFENSE OFFICE OF THE INSPECTOR GENERAL | DEPUTY INSPECTOR GENERAL FOR ADMINISTRATIVE INVESTIGATIONS | DEPUTY INSPECTOR GENERAL ADMINISTRATIVE INVESTIGATIONS.
| DEPUTY INSPECTOR GENERAL FOR AUDITING | ASSISTANT INSPECTOR GENERAL FOR ACQUISITION AND SUSTAINMENT MANAGEMENT. DEPUTY INSPECTOR GENERAL FOR AUDITING. ASSISTANT INSPECTOR GENERAL FOR READINESS AND GLOBAL OPERATIONS.
| DEPUTY INSPECTOR GENERAL FOR EVALUATIONS | ASSISTANT INSPECTOR GENERAL FOR SPACE, INTELLIGENCE, ENGINEERING, AND OVERSIGHT. ASSISTANT INSPECTOR GENERAL FOR PROGRAM, COMBATANT COMMAND (COCOM), AND OVERSEAS CONTINGENCY OPERATIONS (OCO).
| DEPUTY INSPECTOR GENERAL FOR INVESTIGATIONS | DEPUTY INSPECTOR GENERAL FOR INVESTIGATIONS. DEPUTY DIRECTOR DEFENSE CRIMINAL INVESTIGATIVE SERVICE.
| OFFICE OF THE GENERAL COUNSEL | GENERAL COUNSEL.
| OFFICE OF THE INSPECTOR GENERAL | DEPUTY INSPECTOR GENERAL FOR OVERSEAS CONTINGENCY OPERATIONS. ASSISTANT INSPECTOR GENERAL FOR INVESTIGATIONS, INTERNAL OPERATIONS. DEPUTY INSPECTOR GENERAL FOR EVALUATIONS.
|  | ASSISTANT INSPECTOR GENERAL FOR DATA ANALYTICS.
|  | ASSISTANT INSPECTOR GENERAL FOR STRATEGIC PLANNING AND PERFORMANCE.
|  | PRINCIPAL DEPUTY INSPECTOR GENERAL.
|  | DEPUTY CHIEF OF STAFF.
DEFENSE NUCLEAR FACILITIES SAFETY BOARD
| DEFENSE NUCLEAR FACILITIES SAFETY BOARD | ASSOCIATE TECHNICAL DIRECTOR FOR NUCLEAR PROGRAMS AND ANALYSIS. DEPUTY TECHNICAL DIRECTOR. DEPUTY GENERAL COUNSEL. DEPUTY GENERAL MANAGER.
|  | ASSOCIATE TECHNICAL DIRECTOR FOR ENGINEERING PERFORMANCE.
|  | SPECIAL ASSISTANT TO THE CHAIRMAN.
|  | ASSOCIATE TECHNICAL DIRECTOR FOR NUCLEAR WEAPON PROGRAMS.
|  | ASSOCIATE TECHNICAL DIRECTOR FOR NUCLEAR MATERIALS PROCESSING AND STABILIZATION.
|  | TECHNICAL DIRECTOR.
DEPARTMENT OF EDUCATION
OFFICE OF THE SECRETARY | FEDERAL STUDENT AID | CHIEF FINANCIAL OFFICER. DIRECTOR, FINANCIAL MANAGEMENT SYSTEMS GROUP.
| INSTITUTE OF EDUCATION SCIENCES | ASSOCIATE COMMISSIONER, ASSESSMENTS DIVISION.
| OFFICE FOR CIVIL RIGHTS | ENFORCEMENT DIRECTOR (3). DEPUTY ASSISTANT SECRETARY FOR ENFORCEMENT. ENFORCEMENT DIRECTOR.
| OFFICE OF FINANCIAL OPERATIONS | DEPUTY DIRECTOR OF HUMAN RESOURCES. DEPUTY ASSISTANT SECRETARY, SECURITY, FACILITIES AND LOGISTICAL SERVICES. DEPUTY ASSISTANT SECRETARY FOR ACQUISITION AND GRANTS ADMINISTRATION. CHAIRPERSON, EDUCATION APPEAL BOARD. DEPUTY ASSISTANT SECRETARY FOR HUMAN RESOURCES.
| OFFICE OF THE CHIEF FINANCIAL OFFICER | DEPUTY CHIEF FINANCIAL OFFICER, FINANCIAL MANAGEMENT. DIRECTOR, FINANCIAL IMPROVEMENT AND POST AUDIT OPERATIONS. DIRECTOR, CONTRACTS AND ACQUISITIONS MANAGEMENT.
| OFFICE OF THE CHIEF INFORMATION OFFICER | DIRECTOR, INFORMATION ASSURANCE SERVICES AND CHIEF INFORMATION SECURITY OFFICER. CHIEF INFORMATION OFFICER.
| OFFICE OF THE GENERAL COUNSEL | ASSISTANT GENERAL COUNSEL, DIVISION OF POSTSECONDARY EDUCATION. ASSISTANT GENERAL COUNSEL FOR BUSINESS AND ADMINISTRATION LAW. ASSISTANT GENERAL COUNSEL FOR EDUCATIONAL EQUITY.
DEPARTMENT OF EDUCATION OFFICE OF THE INSPECTOR GENERAL
DEPARTMENT OF EDUCATION OFFICE OF THE INSPECTOR GENERAL | OFFICE OF THE INSPECTOR GENERAL | DEPUTY ASSISTANT INSPECTOR GENERAL FOR INFORMATION TECHNOLOGY AUDITS AND COMPUTER CRIME INVESTIGATIONS. COUNSEL TO THE INSPECTOR GENERAL. ASSISTANT INSPECTOR GENERAL FOR MANAGEMENT SERVICES. ASSISTANT INSPECTOR GENERAL FOR INFORMATION TECHNOLOGY AUDITS AND COMPUTER CRIME INVESTIGATIONS.
|  | DEPUTY ASSISTANT INSPECTOR GENERAL FOR INVESTIGATION SERVICES.
|  | DEPUTY ASSISTANT INSPECTOR GENERAL FOR AUDIT SERVICES.
|  | DEPUTY INSPECTOR GENERAL.
|  | ASSISTANT INSPECTOR GENERAL FOR AUDIT SERVICES.
|  | ASSISTANT INSPECTOR GENERAL FOR INVESTIGATION SERVICES.
DEPARTMENT OF ENERGY
| DEPARTMENT OF ENERGY | ADA (OFFICE OF MATERIAL MANAGEMENT AND MINIMIZATION).
ASSISTANT SECRETARY FOR ELECTRICITY | BONNEVILLE POWER ADMINISTRATION. | VICE PRESIDENT TRANSMISSION SYSTEM OPERATIONS.
|  | VICE PRESIDENT, ENERGY EFFICIENCY.
|  | GENERAL COUNSEL/EXECUTIVE VICE PRESIDENT.
|  | EXECUTIVE VICE PRESIDENT, BUSINESS TRANSFORMATION.
|  | DIRECTOR, HUMAN RESOURCES SERVICE CENTER.
|  | SENIOR VICE PRESIDENT TRANSMISSION SERVICES.
|  | CHIEF OPERATING OFFICER.
|  | DEPUTY ADMINISTRATOR.
|  | EXECUTIVE VICE PRESIDENT INFORMATION TECHNOLOGY AND CHIEF INFORMATION OFFICER.
|  | EXECUTIVE VICE PRESIDENT AND CHIEF FINANCIAL OFFICER.
|  | VICE PRESIDENT FOR GENERATION ASSET MANAGEMENT.
|  | VICE PRESIDENT, BULK MARKETING.
|  | VICE PRESIDENT, NORTHWEST REQUIREMENTS MARKETING.
|  | VICE PRESIDENT, TRANSMISSION MARKETING AND SALES.
|  | VICE PRESIDENT, PLANNING AND ASSET MANAGEMENT.
|  | VICE PRESIDENT FOR ENGINEERING AND TECHNICAL SERVICES.
|  | SENIOR VICE PRESIDENT FOR POWER SERVICES.
|  | VICE PRESIDENT FOR TRANSMISSION FIELD SERVICES.
|  | VICE PRESIDENT, ENVIRONMENT, FISH AND WILDLIFE.
| SOUTHWESTERN POWER ADMINISTRATION | DEPUTY ADMINISTRATOR, OFFICE OF POWER DELIVERY.
| WESTERN AREA POWER ADMINISTRATION | CHIEF INFORMATION OFFICER (2). CHIEF ADMINISTRATIVE OFFICER. DESERT SOUTHWEST REGIONAL MANAGER. REGIONAL MANAGER, SIERRA NEVADA REGION.
|  | REGIONAL MANAGER, UPPER GREAT PLAINS REGION.
|  | REGIONAL MANAGER, ROCKY MOUNTAIN REGION.
|  | GENERAL COUNSEL.
|  | CHIEF OPERATING OFFICER.
| ENVIRONMENTAL MANAGEMENT CONSOLIDATED BUSINESS CENTER | CHIEF COUNSEL.
| RICHLAND OPERATIONS OFFICE | CHIEF COUNSEL.
DEPARTMENT OF ENERGY | ADVANCED RESEARCH PROJECTS AGENCY—ENERGY | CHIEF COUNSEL.
| ASSISTANT SECRETARY FOR ELECTRICITY | CHIEF OPERATING OFFICER. DEPUTY ASSISTANT SECRETARY, ENERGY RESILIENCE.
| ASSISTANT SECRETARY FOR ENERGY EFFICIENCY AND RENEWABLE ENERGY | SENIOR ADVISOR.
| ASSISTANT SECRETARY FOR ENVIRONMENTAL MANAGEMENT | SENIOR PROJECT MANAGEMENT ADVISOR. DEPUTY MANAGER, IDAHO CLEANUP PROJECT. SITE MANAGER, OAK RIDGE OFFICE OF ENVIRONMENTAL MANAGEMENT. DIRECTOR FOR REGULATORY, INTERGOVERNMENTAL AND STAKEHOLDER ENGAGEMENT.
|  | MANAGER, IDAHO CLEANUP PROJECT.
|  | SENIOR ADVISOR.
| ASSISTANT SECRETARY FOR FOSSIL ENERGY | DIRECTOR, OFFICE OF RESEARCH. DEPUTY DIRECTOR AND CHIEF RESEARCH OFFICER. DIRECTOR FOR EXPLORATORY RESEARCH AND INNOVATION. DIRECTOR, OFFICE OF STRATEGIC PLANNING, ANALYSIS, AND ENGAGEMENT.
|  | CHIEF INFORMATION OFFICER AND CHIEF SECURITY OFFICER.
|  | CHIEF OPERATING OFFICER AND DIRECTOR FOR LABORATORY OPERATIONS.
|  | DEPUTY DIRECTOR, SCIENCE AND TECHNOLOGY STRATEGIC PLANS AND PROGRAMS.
|  | EXECUTIVE DIRECTOR, RESEARCH AND INNOVATION CENTER.
|  | EXECUTIVE DIRECTOR, TECHNOLOGY DEVELOPMENT AND INTEGRATION AND CHIEF TECHNOLOGY OFFICER.
|  | EXECUTIVE DIRECTOR, FINANCE, ACQUISITION AND CHIEF FINANCIAL OFFICER.
|  | DEPUTY EXECUTIVE DIRECTOR, TECHNOLOGY DEVELOPMENT AND INTEGRATION.
|  | CHIEF COUNSEL.
|  | PROJECT MANAGER, STRATEGIC PETROLEUM RESERVE.
| ASSISTANT SECRETARY FOR INTERNATIONAL AFFAIRS | DEPUTY ASSISTANT SECRETARY FOR ASIA AND THE AMERICAS.
|  | DEPUTY ASSISTANT SECRETARY FOR EUROPE, EURASIA, AFRICA AND THE MIDDLE EAST.
|  | DIRECTOR FOR EUROPEAN AND EURASIAN AFFAIRS.
|  | SENIOR DIRECTOR FOR STRATEGIC INITIATIVES.
|  | SENIOR ADVISOR.
| ASSISTANT SECRETARY FOR NUCLEAR ENERGY | DIRECTOR OFF OF USED NUCLEAR FUEL DISPOSITION RESEARCH AND DEVELOPMENT. ASSOCIATE DEPUTY ASSISTANT SECRETARY FOR NUCLEAR REACTOR TECHNOLOGIES. DIRECTOR, OFFICE OF LIGHT WATER REACTOR DEPLOYMENT. ADVISOR.
|  | CHIEF OPERATING OFFICER.
|  | ASSOCIATE PRINCIPAL DEPUTY ASSISTANT SECRETARY, OFFICE OF NUCLEAR ENERGY.
|  | DEPUTY MANAGER FOR OPERATIONS SUPPORT.
|  | ASSOCIATE DEPUTY ASSISTANT SECRETARY FOR NUCLEAR INFRASTRUCTURE PROGRAMS.
|  | PROGRAM DIRECTOR, VERSATILE TEST REACTOR PROJECT.
|  | ASSOCIATE DEPUTY ASSISTANT SECRETARY FOR REACTOR FLEET AND ADVANCED REACTOR DEPLOYMENT.
| ASSOCIATE UNDER SECRETARY FOR ENVIRONMENT, HEALTH, SAFETY AND SECURITY | DIRECTOR, OFFICE OF NUCLEAR SAFETY. DIRECTOR, OFFICE OF ENVIRONMENTAL PROTECTION SUSTAINABILITY. DEPUTY ASSOCIATE UNDER SECRETARY FOR SECURITY. CHIEF OPERATING OFFICER.
| CHICAGO OFFICE | DEPUTY MANAGER, CHICAGO OFFICE. MANAGER, CHICAGO OFFICE.
| IDAHO OPERATIONS OFFICE | MANAGER, IDAHO OPERATIONS OFFICE. CHIEF COUNSEL. DEPUTY MANAGER FOR NUCLEAR ENERGY. DEPUTY MANAGER FOR ADMINISTRATIVE SUPPORT, CHIEF FINANCIAL OFFICER.
| LOAN PROGRAMS OFFICE | DIRECTOR, PORTFOLIO MANAGEMENT DIVISION. DIRECTOR, RISK MANAGEMENT. CHIEF COUNSEL. SENIOR ADVISOR (2).
| NATIONAL NUCLEAR SECURITY ADMINISTRATION | ASSISTANT DEPUTY ADMINISTRATOR, FOR GLOBAL MATERIAL SECURITY. DEPUTY ASSISTANT DEPUTY ADMINISTRATOR FOR STOCKPILE MANAGEMENT ASSOCIATE ASSISTANT DEPUTY ADMINISTRATOR, FOR GLOBAL MATERIAL SECURITY MANAGER, SANDIA FIELD OFFICE
|  | MANAGER, LIVERMORE FIELD OFFICE.
|  | DEPUTY GENERAL COUNSEL FOR GENERAL LAW AND LITIGATION.
|  | DIRECTOR, REGULATORY AFFAIRS.
|  | DIRECTOR, MANAGEMENT AND ADMINISTRATION.
|  | DADA FOR PRODUCTION MODERNIZATION.
|  | ASSOCIATE ASSISTANT DEPUTY ADMINISTRATOR FOR MATERIAL MANAGEMENT AND MINIMIZATION.
|  | DIRECTOR, OFFICE OF EXPERIMENTAL SCIENCES.
|  | SENIOR ADVISOR
|  | DEPUTY ASSOCIATE ADMINISTRATOR FOR EMERGENCY MANAGEMENT AND PREPAREDNESS.
|  | ASSOCIATE PRINCIPAL DEPUTY ADMINISTRATOR.
|  | DEPUTY MANAGER, Y-12.
|  | ASSOCIATE DEPUTY ADMINISTRATOR FOR SECURE TRANSPORTATION.
|  | PRINCIPAL ASSISTANT DEPUTY ADMINISTRATOR FOR ENTERPRISE CAPABILITIES.
|  | ADA FOR NONPROLIFERATION AND ARMS CONTROL.
|  | DADA FOR RESEARCH, TEST AND EVALUATION.
|  | DIRECTOR, OFFICE OF ASC AND INSTITUTIONAL RESEARCH AND DEVELOPMENT PROGRAMS.
|  | DEPUTY DIRECTOR, INSTRUMENTATION AND CONTROL DIVISION.
|  | DIRECTOR, OFFICE OF COST ESTIMATING AND PROGRAM EVALUATION.
|  | ASSISTANT DEPUTY ADMINISTRATOR FOR STRATEGIC PARTNERSHIP PROGRAMS.
|  | ASSOCIATE ADMINISTRATOR FOR INFORMATION MANAGEMENT AND CHIEF INFORMATION OFFICER.
|  | FEDERAL PROJECT DIRECTOR, CHEMISTRY AND METALLURGY RESEARCH REPLACEMENT FACILITY.
|  | DEPUTY ASSOCIATE ADMINISTRATOR FOR ENTERPRISE STEWARDSHIP.
|  | DIRECTOR, OFFICE OF NUCLEAR INCIDENT RESPONSE.
|  | DEPUTY ASSOCIATE ADMINISTRATOR FOR SAFETY.
|  | ASSOCIATE ADMINISTRATOR FOR SAFETY INFRASTRUCTURE AND OPERATIONS.
|  | PRINCIPAL DEPUTY ASSOCIATE ADMINISTRATOR FOR SAFETY INFRASTRUCTURE AND OPERATIONS.
| OAK RIDGE OFFICE | SITE MANAGER, ORNL SITE OFFICE. SITE MANAGER, THOMAS JEFFERSON NATIONAL ACCELERATOR FACILITY. CHIEF COUNSEL. ASSISTANT MANAGER, OFFICE OF FINANCIAL SERVICES.
| OFFICE OF ENTERPRISE ASSESSMENTS | DEPUTY DIRECTOR, OFFICE OF ENTERPRISE ASSESSMENTS. DIRECTOR, OFFICE OF SECURITY ASSESSMENTS. DIRECTOR, OFFICE OF ENVIRONMENT, SAFETY AND HEALTH ASSESSMENTS. DEPUTY DIRECTOR, OFFICE OF ENVIRONMENT, SAFETY AND HEALTH ASSESSMENTS.
| OFFICE OF GENERAL COUNSEL | ASSISTANT GENERAL COUNSEL FOR ENFORCEMENT. ASSISTANT GENERAL COUNSEL FOR TECHNOLOGY TRANSFER AND INTELLECTUAL PROPERTY. ASSISTANT GENERAL COUNSEL FOR PROCUREMENT AND FINANCIAL ASSISTANCE. ASSISTANT GENERAL COUNSEL FOR GENERAL LAW.
|  | DEPUTY GENERAL COUNSEL FOR ADMINISTRATION.
|  | ASSOCIATE GENERAL COUNSEL.
|  | DEPUTY GENERAL COUNSEL FOR TRANSACTIONS, TECHNOLOGY, AND CONTRACTOR HUMAN RESOURCES.
| OFFICE OF HEARINGS AND APPEALS | DEPUTY DIRECTOR, HEARINGS AND APPEALS (DEPUTY CHIEF ADMINISTRATIVE JUDGE). DIRECTOR, HEARINGS AND APPEALS (CHIEF ADMINISTRATIVE JUDGE).
| OFFICE OF INTELLIGENCE AND COUNTERINTELLIGENCE | DIRECTOR OFFICE OF INTELLIGENCE AND COUNTERINTELLIGENCE. DEPUTY DIRECTOR FOR CYBER INTELLIGENCE. DEPUTY DIRECTOR FOR COUNTERINTELLIGENCE. DEPUTY DIRECTOR FOR INTELLIGENCE ANALYSIS. PRINCIPAL DEPUTY DIRECTOR, OFFICE OF INTELLIGENCE AND COUNTERINTELLIGENCE.
| OFFICE OF MANAGEMENT | DIRECTOR, OFFICE OF POLICY. DIRECTOR, SUSTAINABILITY PERFORMANCE OFFICE. DIRECTOR, OFFICE OF ACQUISITION MANAGEMENT. DIRECTOR, OFFICE OF THE OMBUDSMAN.
|  | DIRECTOR, OFFICE OF ADMINISTRATION.
|  | DIRECTOR, OFFICE OF HEADQUARTERS PROCUREMENT SERVICES.
| OFFICE OF POLICY | CHIEF OPERATING OFFICER. DEPUTY DIRECTOR FOR ENERGY FINANCE INCENTIVES AND PROGRAM ANALYSIS.
| OFFICE OF PROJECT MANAGEMENT OVERSIGHT AND ASSESSMENTS | DIRECTOR, OFFICE OF PROJECT ASSESSMENTS. DEPUTY DIRECTOR, OFFICE OF PROJECT MANAGEMENT OVERSIGHT AND ASSESSMENTS.
| OFFICE OF SCIENCE | SITE OFFICE MANAGER, ARGONNE. SITE OFFICE MANAGER, PRINCETON. DIRECTOR OFFICE OF SCIENTIFIC AND TECHNICAL INFORMATION. SITE OFFICE MANAGER, BROOKHAVEN.
|  | SITE OFFICE MANAGER, FERMI.
|  | BERKELEY/SLAC SITE OFFICE MANAGER.
|  | ASSISTANT MANAGER, GRANTS AND COOPERATIVE AGREEMENTS.
|  | ASSISTANT MANAGER FOR RESERVATION MANAGEMENT.
|  | CHIEF COUNSEL.
|  | DIRECTOR, OFFICE OF WORKFORCE MANAGEMENT.
| OFFICE OF THE CHIEF HUMAN CAPITAL OFFICER | DIRECTOR, OFFICE OF CORPORATE EXECUTIVE MANAGEMENT. DEPUTY CHIEF HUMAN CAPITAL OFFICER. DIRECTOR, OFFICE OF CORPORATE SERVICES. DIRECTOR, OFFICE OF TALENT MANAGEMENT. DIRECTOR, OAK RIDGE HUMAN RESOURCES SHARED SERVICE CENTER.
| UNITED STATES ENERGY INFORMATION ADMINISTRATION | DIRECTOR, OFFICE OF INFORMATION TECHNOLOGY. SENIOR ADVISOR. DIRECTOR, OFFICE OF PETROLEUM AND BIOFUELS STATISTICS. DEPUTY ADMINISTRATOR ENERGY INFORMATION ADMINISTRATION.
|  | ASSISTANT ADMINISTRATOR FOR ENERGY STATISTICS.
|  | ASSISTANT ADMINISTRATOR FOR ENERGY ANALYSIS.
|  | DIRECTOR, OFFICE OF OIL, GAS AND COAL SUPPLY STATISTICS.
|  | DIRECTOR, OFFICE OF ENERGY CONSUMPTION AND EFFICIENCY ANALYSIS.
|  | DIRECTOR OFFICE OF PETROLEUM GAS AND BIOFUELS ANALYSIS.
|  | DIRECTOR OFFICE OF INTEGRATED AND INTERNATIONAL ENERGY ANALYSIS.
|  | ASSISTANT ADMINISTRATOR FOR RESOURCES AND TECHNOLOGY MANAGEMENT.
|  | DIRECTOR, OFFICE OF ELECTRICITY, COAL, NUCLEAR AND RENEWABLES ANALYSIS.
|  | DIRECTOR, OFFICE OF ENERGY MARKETS AND FINANCIAL ANALYSIS.
|  | DIRECTOR, OFFICE OF STATISTICAL METHODS AND RESEARCH.
|  | DIRECTOR, OFFICE OF ENERGY CONSUMPTION AND EFFICIENCY STATISTICS.
NATIONAL NUCLEAR SECURITY ADMINISTRATION | ASSOCIATE ADMINISTRATOR FOR ACQUISITION AND PROJECT MANAGEMENT | DEPUTY ASSOCIATE ADMINISTRATOR FOR ACQUISITION AND PROJECT MANAGEMENT. ASSOCIATE ADMINISTRATOR FOR ACQUISITION AND PROJECT MANAGEMENT. DIRECTOR, OFFICE OF ENTERPRISE PROJECT MANAGEMENT. FEDERAL PROJECT DIRECTOR (MOX).
|  | FEDERAL PROJECT DIRECTOR (URANIUM PROCESSING FACILITY).
|  | DEPUTY DIRECTOR, ACQUISITION MANAGEMENT.
|  | DIRECTOR, ACQUISITION MANAGEMENT.
| ASSOCIATE ADMINISTRATOR FOR DEFENSE NUCLEAR SECURITY | DIRECTOR OFFICE OF SECURITY OPERATIONS AND PROGRAMMATIC PLANNING. ASSOCIATE ADMINISTRATOR FOR DEFENSE NUCLEAR SECURITY AND CHIEF OF DEFENSE NUCLEAR SECURITY. DEPUTY ASSOCIATE ADMINISTRATOR FOR DEFENSE NUCLEAR SECURITY.
| ASSOCIATE ADMINISTRATOR FOR EMERGENCY OPERATIONS | ASSOCIATE ADMINISTRATOR AND DEPUTY UNDER SECRETARY FOR EMERGENCY OPERATIONS.
| DEPUTY ADMINISTRATOR FOR DEFENSE NUCLEAR NONPROLIFERATION | ASSOCIATE ASSISTANT DEPUTY ADMINISTRATOR, OFFICE OF NONPROLIFERATION AND ARMS CONTROL. AADA ADMINISTRATOR FOR DEFENSE NUCLEAR NONPROLIFERATION RESEARCH AND DEVELOPMENT. ASSISTANT DEPUTY ADMINISTRATOR FOR NONPROLIFERATION RESEARCH AND DEVELOPMENT. CHIEF OF STAFF AND OPERATIONS. PRINCIPAL ASSISTANT DEPUTY ADMINISTRATOR.
| DEPUTY ADMINISTRATOR FOR DEFENSE PROGRAMS | ASSISTANT DEPUTY ADMINISTRATOR FOR STOCKPILE MANAGEMENT ADA FOR RESEARCH, DEVELOPMENT, TEST AND EVALUATION. PRINCIPAL ASSISTANT DEPUTY ADMINISTRATOR FOR STOCKPILE SUSTAINMENT. MANAGER, NNSA PRODUCTION OFFICE.
|  | ASSISTANT DEPUTY ADMINISTRATOR FOR SYSTEMS ENGINEERING AND INTEGRATION.
|  | PROGRAM EXECUTIVE OFFICER FOR LIFE EXTENSION PROGRAMS.
|  | PRINCIPAL DEPUTY ASSISTANT DEPUTY ADMINSTRATOR FOR SECURE TRANSPORTATION.
|  | MANAGER, NEVADA FIELD OFFICE.
| DEPUTY ADMINISTRATOR FOR NAVAL REACTORS | ASSISTANT MANAGER FOR OPERATIONS. DIRECTOR NUCLEAR TECHNOLOGY DIVISION. DIRECTOR, INSTRUMENTATION AND CONTROL DIVISION. PROGRAM MANAGER, NEW SHIP DESIGN.
|  | SENIOR NAVAL REACTORS REPRESENTATIVE (NEWPORT NEWS, VA).
|  | DIRECTOR, INFORMATION TECHNOLOGY MANAGEMENT.
|  | DEPUTY DIRECTOR, ADVANCED SUBMARINE SYSTEMS DIVISION.
|  | DIRECTOR ADVANCED SUBMARINE SYSTEMS DIVISION.
|  | DEPUTY DIRECTOR FOR NAVAL REACTORS.
|  | ASSISTANT MANAGER FOR OPERATIONS.
|  | DIRECTOR, COMMISSIONED SUBMARINE SYSTEMS DIVISION.
|  | PROGRAM MANAGER, PROTOTYPE AND MOORED TRAINING SHIP OPERATIONS AND INACTIVATION PROGRAM.
|  | SENIOR NAVAL REACTORS REPRESENTATIVE (PUGET SOUND NAVAL SHIP).
|  | PROGRAM MANAGER, ADVANCED TECHNOLOGY DEVELOPMENT.
|  | DIRECTOR, ACQUISITION DIVISION.
|  | DIRECTOR, GOVERNMENTAL AFFAIRS.
|  | PROGRAM MANAGER, VA CLASS SUBS AND US/UK TECHNOLOGY EXCHANGE.
|  | SENIOR NAVAL REACTORS REPRESENTATIVE (UNITED KINGDOM).
|  | DIRECTOR, REACTOR ENGINEERING DIVISION.
|  | PROGRAM MANAGER FOR SURFACE SHIP NUCLEAR PROPULSION.
|  | MANAGER, NAVAL REACTORS LABORATORY FIELD OFFICE.
|  | DEPUTY DIRECTOR, NUCLEAR TECHNOLOGY DIVISION.
| DEPUTY UNDER SECRETARY FOR COUNTERTERRORISM AND COUNTERPROLIFERATION | DEPUTY ASSOCIATE ADMINISTRATOR FOR COUNTERTERRORISM AND COUNTERPROLIFERATION. ASSOCIATE ADMINISTRATOR/DEPUTY UNDER SECRETARY FOR COUNTERTERRORISM AND COUNTERPROLIFERATION.
| NATIONAL NUCLEAR SECURITY ADMINISTRATION FIELD SITE OFFICES | DEPUTY MANAGER SANDIA FIELD OFFICE. MANAGER, SAVANNAH RIVER FIELD OFFICE. DEPUTY MANAGER FOR BUSINESS, SECURITY AND MISSIONS. MANAGER, LOS ALAMOS FIELD OFFICE. DEPUTY MANAGER, NATIONAL NUCLEAR SECURITY ADMINISTRATION PRODUCTION OFFICE—PANTEX.
|  | DEPUTY MANAGER, LIVERMORE FIELD OFFICE.
|  | DEPUTY MANAGER SAVANNAH RIVER FIELD OFFICE.
|  | DEPUTY MANAGER, NEVADA FIELD OFFICE.
|  | DEPUTY MANAGER, LIVERMORE FIELD OFFICE.
| OFFICE OF MANAGEMENT AND BUDGET | ASSOCIATE ADMINISTRATOR FOR MANAGEMENT AND BUDGET. DIRECTOR, OFFICE OF HUMAN RESOURCES. DIRECTOR, FINANCIAL INTEGRATION AND BUDGET DEPUTY. DEPUTY ASSOCIATE ADMINISTRATOR FOR FINANCIAL MANAGEMENT. DEPUTY ASSOCIATE ADMINISTRATOR FOR MANAGEMENT.
| OFFICE OF THE GENERAL COUNSEL | DEPUTY GENERAL COUNSEL FOR AGENCY OPERATIONS. GENERAL COUNSEL.
OFFICE OF THE DEPUTY SECRETARY | OFFICE OF THE CHIEF FINANCIAL OFFICER | DIRECTOR, OFFICE OF BUDGET. DEPUTY DIRECTOR, BUDGET OPERATIONS. DIRECTOR OF CORPORATE BUSINESS SYSTEMS. DEPUTY FOR CORPORATE BUSINESS SYSTEMS.
|  | DEPUTY CHIEF FINANCIAL OFFICER.
|  | DEPUTY DIRECTOR, FINANCIAL OPERATIONS.
|  | DIRECTOR, OFFICE OF FINANCE AND ACCOUNTING.
|  | DEPUTY DIRECTOR, BUDGET ANALYSIS AND COORDINATION.
|  | DEPUTY DIRECTOR, FINANCIAL REPORTING AND BUSINESS ANALYSIS.
OFFICE OF THE SECRETARY | UNDER SECRETARY FOR SCIENCE | SENIOR ADVISOR FOR ENVIRONMENTAL MANAGEMENT TO THE UNDER SECRETARY FOR SCIENCE.
DEPARTMENT OF ENERGY OFFICE OF THE INSPECTOR GENERAL
| DEPARTMENT OF ENERGY OFFICE OF THE INSPECTOR GENERAL | SPECIAL COUNSEL FOR ADMINISTRATIVE REMEDIES. DEPUTY INSPECTOR GENERAL. DEPUTY ASSISTANT INSPECTOR GENERAL FOR INVESTIGATIONS. ASSISTANT INSPECTOR GENERAL FOR INVESTIGATIONS. SENIOR COUNSEL, FOIA AND PRIVACY ACT OFFICER.
|  | ASSISTANT INSPECTOR GENERAL MANAGEMENT AND ADMINISTRATION.
|  | ASSISTANT INSPECTOR GENERAL FOR INSPECTIONS, INTELLIGENCE OVERSIGHT, AND SPECIAL PROJECTS.
|  | DEPUTY ASSISTANT INSPECTOR GENERAL FOR AUDITS (WESTERN REGION).
|  | ASSISTANT INSPECTOR GENERAL FOR TECHNOLOGY, FINANCIAL AND ANALYTICS.
|  | ASSISTANT INSPECTOR GENERAL FOR AUDITS.
|  | DEPUTY ASSISTANT INSPECTOR GENERAL FOR AUDITS (EASTERN REGION).
|  | CHIEF COUNSEL TO THE INSPECTOR GENERAL.
ENVIRONMENTAL PROTECTION AGENCY
ENVIRONMENTAL PROTECTION AGENCY | OFFICE OF THE ADMINISTRATOR | DIRECTOR, OFFICE OF ADMINISTRATIVE AND EXECUTIVE SERVICES.
| OFFICE OF THE ASSISTANT ADMINISTRATOR FOR AIR AND RADIATION | DIRECTOR, COMPLIANCE DIVISION. DIRECTOR, AIR QUALITY POLICY DIVISION. DIRECTOR, HEALTH AND ENVIRONMENTAL IMPACTS DIVISION. DIRECTOR, SECTOR POLICIES AND PROGRAMS DIVISION.
|  | DIRECTOR, CLIMATE CHANGE DIVISION.
|  | DIRECTOR, AIR QUALITY ASSESSMENT DIVISION.
|  | DIRECTOR, OUTREACH AND INFORMATION DIVISION.
|  | DIRECTOR, ASSESSMENT AND STANDARDS DIVISION.
|  | DIRECTOR, CLEAN AIR MARKETS DIVISION.
|  | DIRECTOR, TESTING AND ADVANCED TECHNOLOGY DIVISION.
|  | DIRECTOR, TRANSPORTATION AND CLIMATE DIVISION.
|  | DIRECTOR, INDOOR ENVIRONMENTS DIVISION.
|  | DIRECTOR, CLIMATE PROTECTION PARTNERSHIP DIVISION.
|  | DIRECTOR, RADIATION PROTECTION DIVISION.
| OFFICE OF THE ASSISTANT ADMINISTRATOR FOR CHEMICAL SAFETY AND POLLUTION PREVENTION | DIRECTOR, BIOPESTICIDES AND POLLUTION PREVENTION DIVISION. DEPUTY DIRECTOR, OFFICE OF PROGRAM SUPPORT. DIRECTOR, MISSION SUPPORT DIVISION. DIRECTOR, OFFICE OF PROGRAM SUPPORT. DIRECTOR, NEW CHEMICALS DIVISION.
|  | DIRECTOR, EXISTING CHEMICAL RISK MANAGEMENT DIVISION.
|  | DIRECTOR, PROJECT MANAGEMENT AND OPERATIONS DIVISION.
|  | DIRECTOR, DATA GATHERING AND ANALYSIS DIVISION.
|  | DIRECTOR, ENVIRONMENTAL ASSISTANCE DIVISION.
|  | DIRECTOR, BIOLOGICAL AND ECONOMIC ANALYSIS DIVISION.
|  | DIRECTOR, REGISTRATION DIVISION.
|  | DIRECTOR, PESTICIDE RE-EVALUATION DIVISION.
|  | DIRECTOR, ENVIRONMENTAL FATE AND EFFECTS DIVISION.
|  | DIRECTOR, CHEMISTRY, ECONOMICS AND SUSTAINABLE STRATEGIES DIVISION.
|  | DIRECTOR, NATIONAL PROGRAM CHEMICALS DIVISION.
|  | ASSOCIATE ASSISTANT ADMINISTRATOR (MANAGEMENT).
|  | DIRECTOR, CHEMICAL CONTROL DIVISION.
|  | DIRECTOR, INFORMATION MANAGEMENT DIVISION.
|  | DIRECTOR, ANTIMICROBIALS DIVISION.
|  | DIRECTOR, FIELD AND EXTERNAL AFFAIRS DIVISION.
|  | DIRECTOR, INFORMATION TECHNOLOGY AND RESOURCES MANAGEMENT DIVISION.
|  | DIRECTOR, HEALTH EFFECTS DIVISION.
|  | DIRECTOR, RISK ASSESSMENT DIVISION.
| OFFICE OF THE ASSISTANT ADMINISTRATOR FOR ENFORCEMENT AND COMPLIANCE ASSURANCE | DIRECTOR, WATER ENFORCEMENT DIVISION. DEPUTY DIRECTOR, OFFICE OF CRIMINAL ENFORCEMENT, FORENSICS AND TRAINING. DIRECTOR, NATIONAL ENFORCEMENT INVESTIGATIONS CENTER. DEPUTY DIRECTOR, OFFICE OF SITE REMEDIATION ENFORCEMENT.
|  | DIRECTOR, OFFICE OF CRIMINAL ENFORCEMENT, FORENSICS AND TRAINING.
|  | DIRECTOR, OFFICE OF CIVIL ENFORCEMENT.
|  | DEPUTY DIRECTOR, OFFICE OF CIVIL ENFORCEMENT.
|  | DIRECTOR, OFFICE OF COMPLIANCE.
|  | DIRECTOR, ENFORCEMENT TARGETING AND DATA DIVISION.
|  | DIRECTOR, MONITORING ASSISTANCE AND MEDIA PROGRAMS DIVISION.
|  | DIRECTOR, AIR ENFORCEMENT DIVISION.
|  | DIRECTOR, CRIMINAL INVESTIGATION DIVISION.
| OFFICE OF THE ASSISTANT ADMINISTRATOR FOR LAND AND EMERGENCY MANAGEMENT | DIRECTOR, RESOURCES MANAGEMENT DIVISION. DIRECTOR, ASSESSMENT AND REMEDIATION DIVISION. DIRECTOR, TECHNOLOGY INNOVATION AND FIELD SERVICES DIVISION. DIRECTOR, MATERIALS RECOVERY AND WASTE MANAGEMENT DIVISION.
|  | DIRECTOR, OFFICE OF SITE REMEDIATION ENFORCEMENT.
|  | DIRECTOR, RESOURCE CONSERVATION AND SUSTAINABILITY DIVISION.
|  | DIRECTOR, PROGRAM IMPLEMENTATION AND INFORMATION DIVISION.
| OFFICE OF THE ASSISTANT ADMINISTRATOR FOR MISSION SUPPORT | DIRECTOR, OFFICE OF ACQUISITION MANAGEMENT. DIRECTOR, OFFICE OF RESOURCES AND BUSINESS OPERATIONS. DIRECTOR, OFFICE OF DIGITAL SERVICES AND TECHNICAL ARCHITECTURE. DIRECTOR, OFFICE OF ADMINISTRATION AND RESOURCES MANAGEMENT.
|  | DIRECTOR, OFFICE OF ADMINISTRATION.
|  | DIRECTOR, OFFICE OF ADMINISTRATION AND RESOURCES MANAGEMENT.
|  | ENVIRONMENTAL APPEALS JUDGE (3).
|  | DEPUTY DIRECTOR, OFFICE OF ACQUISITION MANAGEMENT.
|  | DIRECTOR, OFFICE OF GRANTS AND DEBARMENT.
|  | DIRECTOR, OFFICE OF HUMAN RESOURCES.
|  | DEPUTY DIRECTOR, OFFICE OF HUMAN RESOURCES.
|  | DEPUTY DIRECTOR, OFFICE OF GRANTS AND DEBARMENT.
|  | ENVIRONMENTAL APPEALS JUDGE.
| OFFICE OF THE ASSISTANT ADMINISTRATOR FOR RESEARCH AND DEVELOPMENT | DEPUTY DIRECTOR FOR MANAGEMENT. DEPUTY DIRECTOR, OFFICE OF RESOURCE MANAGEMENT. DIRECTOR, GROUNDWATER CHARACTER AND REMEDIATION DIVISION. DIRECTOR, CENTER FOR ENVIRONMENTAL SOLUTIONS AND EMERGENCY RESPONSE. DIRECTOR, PACIFIC ECOLOGICAL SYSTEMS DIVISION.
|  | DIRECTOR, GULF ECOSYSTEM MEASUREMENT AND MODELING DIVISION.
|  | DIRECTOR, CENTER FOR ENVIRONMENTAL MEASUREMENT AND MODELING.
|  | DEPUTY DIRECTOR FOR MANAGEMENT (2).
|  | SENIOR ADVISOR (2).
|  | DIRECTOR, OFFICE OF SCIENCE INFORMATION MANAGEMENT.
|  | DIRECTOR, OFFICE OF SCIENCE ADVISOR, POLICY AND ENGAGEMENT.
|  | DIRECTOR, GREAT LAKES TOXICOLOGY AND ECOLOGY DIVISION.
|  | DIRECTOR, OFFICE OF RESOURCE MANAGEMENT.
| OFFICE OF THE ASSISTANT ADMINISTRATOR FOR WATER | DIRECTOR, ENGINEERING AND ANALYSIS DIVISION. DIRECTOR, WATER PERMITS DIVISION. DIRECTOR, DRINKING WATER PROTECTION DIVISION. DIRECTOR, STANDARDS AND HEALTH PROTECTION DIVISION.
|  | DIRECTOR, HEALTH AND ECOLOGICAL CRITERIA DIVISION.
|  | DIRECTOR, STANDARDS AND RISK MANAGEMENT DIVISION.
|  | DIRECTOR, WATER INFRASTRUCTURE DIVISION.
|  | DIRECTOR, WATERSHED RESTORATION, ASSESSMENT AND PROTECTION DIVISION.
|  | DIRECTOR, OCEANS, WETLANDS AND COMMUNITIES DIVISION.
| OFFICE OF THE CHIEF FINANCIAL OFFICER | CONTROLLER. DEPUTY CONTROLLER. DIRECTOR, OFFICE OF BUDGET. DIRECTOR, OFFICE OF TECHNOLOGY SOLUTIONS.
|  | ASSOCIATE CHIEF FINANCIAL OFFICER.
|  | DEPUTY CHIEF FINANCIAL OFFICER.
|  | DIRECTOR, OFFICE OF PLANNING, ANALYSIS AND ACCOUNTABILITY.
| OFFICE OF THE GENERAL COUNSEL | DIRECTOR, RESOURCES MANAGEMENT OFFICE.
| REGION 1—BOSTON, MASSACHUSETTS | DIRECTOR, WATER DIVISION. DIRECTOR, LAND, CHEMICALS AND REDEVELOPMENT DIVISION. DIRECTOR, MISSION SUPPORT DIVISION. DIRECTOR, ENFORCEMENT AND COMPLIANCE ASSURANCE DIVISION.
|  | REGIONAL COUNSEL.
|  | DIRECTOR, AIR AND RADIATION DIVISION.
|  | DIRECTOR, SUPERFUND AND EMERGENCY MANAGEMENT DIVISION.
| REGION 10—SEATTLE, WASHINGTON | DIRECTOR, WATER DIVISION. DIRECTOR, LABORATORY SERVICES AND APPLIED SCIENCE DIVISION. REGIONAL COUNSEL. DIRECTOR, LAND, CHEMICALS AND REDEVELOPMENT DIVISION.
|  | DIRECTOR, MISSION SUPPORT DIVISION.
|  | DIRECTOR, ENFORCEMENT AND COMPLIANCE ASSURANCE DIVISION.
|  | DIRECTOR, AIR AND RADIATION DIVISION.
| REGION 2—NEW YORK, NEW YORK | DIRECTOR, LAND, CHEMICALS AND REDEVELOPMENT DIVISION. DIRECTOR, WATER DIVISION. DIRECTOR, AIR AND RADIATION DIVISION. DIRECTOR, ENFORCEMENT AND COMPLIANCE ASSISTANCE DIVISION.
|  | DIRECTOR, AIR AND RADIATION DIVISION.
|  | DIRECTOR, SUPERFUND AND EMERGENCY MANAGEMENT DIVISION.
|  | DIRECTOR, MISSION SUPPORT DIVISION.
|  | REGIONAL COUNSEL.
|  | DIRECTOR, CARIBBEAN ENVIRONMENTAL PROTECTION DIVISION.
|  | DIRECTOR, LABORATORY SERVICES AND APPLIED SCIENCE DIVISION.
| REGION 3—PHILADELPHIA, PENNSYLVANIA | DIRECTOR, CHESAPEAKE BAY PROGRAM OFFICE. DIRECTOR, WATER DIVISION. DIRECTOR, MISSION SUPPORT DIVISION. REGIONAL COUNSEL.
|  | DIRECTOR, AIR AND RADIATION DIVISION.
|  | DIRECTOR, LAND, CHEMICALS AND REDEVELOPMENT DIVISION.
|  | DIRECTOR, ENFORCEMENT AND COMPLIANCE ASSURANCE DIVISION.
|  | DIRECTOR, SUPERFUND AND EMERGENCY MANAGEMENT DIVISION.
| REGION 4—ATLANTA, GEORGIA | DIRECTOR, GULF OF MEXICO PROGRAM. DIRECTOR, SUPERFUND AND EMERGENCY MANAGEMENT DIVISION. DIRECTOR, MISSION SUPPORT DIVISION. REGIONAL COUNSEL.
|  | DIRECTOR, LABORATORY SERVICES AND APPLIED SCIENCE DIVISION.
|  | DIRECTOR, ENFORCEMENT AND COMPLIANCE ASSURANCE DIVISION.
|  | DIRECTOR, AIR AND RADIATION DIVISION.
|  | DIRECTOR, LAND, CHEMICALS AND REDEVELOPMENT DIVISION.
|  | DIRECTOR, WATER DIVISION.
| REGION 5—CHICAGO, ILLINOIS | DIRECTOR, SUPERFUND AND EMERGENCY MANAGEMENT DIVISION. DIRECTOR, AIR AND RADIATION DIVISION. DIRECTOR, WATER DIVISION. DIRECTOR, GREAT LAKES NATIONAL PROGRAM OFFICE.
|  | REGIONAL COUNSEL.
|  | DIRECTOR, LAND, CHEMICALS AND REDEVELOPMENT DIVISION.
|  | DIRECTOR, ENFORCEMENT AND COMPLIANCE ASSURANCE DIVISION.
|  | DIRECTOR, MISSION SUPPORT DIVISION.
| REGION 6—DALLAS, TEXAS | DIRECTOR, ENFORCEMENT AND COMPLIANCE ASSURANCE DIVISION. DIRECTOR, WATER DIVISION. REGIONAL COUNSEL. DIRECTOR, LAND, CHEMICAL AND REDEVELOPMENT DIVISION.
|  | DIRECTOR, AIR AND RADIATION DIVISION.
|  | DIRECTOR, MISSION SUPPORT DIVISION.
|  | DIRECTOR, SUPERFUND AND EMERGENCY MANAGEMENT DIVISION.
| REGION 7—LENEXA, KANSAS | DIRECTOR, SUPERFUND AND EMERGENCY MANAGEMENT DIVISION. DIRECTOR, WATER DIVISION DIRECTOR, MISSION SUPPORT DIVISION REGIONAL COUNSEL
|  | DIRECTOR, LABORATORY SERVICES AND APPLIED SCIENCE DIVISION
|  | DIRECTOR, AIR AND RADIATION DIVISION
|  | DIRECTOR, ENFORCEMENT AND COMPLIANCE ASSURANCE DIVISION
|  | DIRECTOR, LAND, CHEMICAL AND REDEVELOPMENT DIVISION
| REGION 8—DENVER, COLORADO | DIRECTOR, ENFORCEMENT AND COMPLIANCE ASSURANCE DIVISION. DIRECTOR, SUPERFUND AND EMERGENCY MANAGEMENT DIVISION. DIRECTOR, WATER DIVISION. DIRECTOR, LAND, CHEMICALS AND REDEVELOPMENT DIVISION.
|  | DIRECTOR, AIR AND RADIATION DIVISION.
|  | REGIONAL COUNSEL.
|  | DIRECTOR, MISSION SUPPORT DIVISION.
| REGION 9—SAN FRANCISCO, CALIFORNIA | DIRECTOR, AIR AND RADIATION DIVISION. REGIONAL COUNSEL. DIRECTOR, ENFORCEMENT AND COMPLIANCE ASSURANCE DIVISION. DIRECTOR, MISSION SUPPORT DIVISION.
|  | DIRECTOR, LAND, CHEMICALS AND REDEVELOPMENT DIVISION.
|  | DIRECTOR, WATER DIVISION.
|  | DIRECTOR, SUPERFUND AND EMERGENCY MANAGEMENT DIVISION.
OFFICE OF THE ADMINISTRATOR | OFFICE OF ENVIRONMENTAL | DIRECTOR, OFFICE OF ENVIRONMENTAL JUSTICE.
OFFICE OF THE ASSISTANT ADMINISTRATOR FOR ENFORCEMENT AND COMPLIANCE ASSURANCE | OFFICE OF COMPLIANCE | DEPUTY DIRECTOR, OFFICE OF COMPLIANCE.
OFFICE OF THE ASSISTANT ADMINISTRATOR FOR MISSION SUPPORT | OFFICE OF ADMINISTRATION | DEPUTY DIRECTOR, OFFICE OF ADMINISTRATION.
ENVIRONMENTAL PROTECTION AGENCY OFFICE OF THE INSPECTOR GENERAL
| ENVIRONMENTAL PROTECTION AGENCY OFFICE OF THE INSPECTOR GENERAL | COUNSEL TO THE INSPECTOR GENERAL. ASSISTANT INSPECTOR GENERAL FOR AUDIT. ASSISTANT INSPECTOR GENERAL FOR INVESTIGATIONS. CHIEF OF STAFF TO THE INSPECTOR GENERAL.
|  | ASSISTANT INSPECTOR GENERAL FOR MANAGEMENT.
|  | ASSISTANT INSPECTOR GENERAL FOR EVALUATION.
|  | DEPUTY INSPECTOR GENERAL.
|  | ASSOCIATE DEPUTY INSPECTOR GENERAL.
EQUAL EMPLOYMENT OPPORTUNITY COMMISSION
EQUAL EMPLOYMENT OPPORTUNITY COMMISSION | OFFICE OF INFORMATION TECHNOLOGY | DEPUTY CHIEF INFORMATION OFFICER.
| OFFICE OF COMMUNICATIONS AND LEGISLATIVE AFFAIRS | ASSOCIATE DIRECTOR.
| OFFICE OF ENTERPRISE DATA AND ANALYTICS | DEPUTY CHIEF DATA OFFICER.
OFFICE OF FIELD PROGRAMS | DISTRICT DIRECTOR-(BIRMINGHAM). DIRECTOR, INFORMATION INTAKE GROUP. DISTRICT DIRECTOR-(PHILADELPHIA). DISTRICT DIRECTOR-(CHARLOTTE).
|  | DISTRICT DIRECTOR-(PHOENIX).
|  | DISTRICT DIRECTOR-(LOS ANGELES).
|  | DISTRICT DIRECTOR-(NEW YORK).
|  | DISTRICT DIRECTOR-(ATLANTA).
|  | DISTRICT DIRECTOR-(HOUSTON).
|  | DISTRICT DIRECTOR-(SAN FRANCISCO).
|  | DISTRICT DIRECTOR-(DALLAS).
|  | DISTRICT DIRECTOR-(CHICAGO).
|  | DISTRICT DIRECTOR-(ST LOUIS).
|  | DISTRICT DIRECTOR-(MIAMI).
|  | DISTRICT DIRECTOR-(INDIANAPOLIS).
|  | DISTRICT DIRECTOR-(MEMPHIS).
| OFFICE OF THE INSPECTOR GENERAL | INSPECTOR GENERAL.
OFFICE OF FIELD PROGRAMS | FIELD COORDINATION PROGRAMS | DIRECTOR, FIELD COORDINATION PROGRAMS.
| FIELD MANAGEMENT PROGRAMS | DIRECTOR FIELD MANAGEMENT PROGRAMS.
FEDERAL COMMUNICATIONS COMMISSION
FEDERAL COMMUNICATIONS COMMISSION | MEDIA BUREAU | CHIEF, VIDEO DIVISION.
| OFFICE OF INSPECTOR GENERAL | INSPECTOR GENERAL.
FEDERAL ENERGY REGULATORY COMMISSION
OFFICE OF THE CHAIRMAN | OFFICE OF ADMINISTRATIVE LITIGATION | DIRECTOR, LEGAL DIVISION. DIRECTOR, TECHNICAL DIVISION.
| OFFICE OF ENERGY PROJECTS | DIRECTOR OF DAM SAFETY AND INSPECTION.
| OFFICE OF ENFORCEMENT | CHIEF ACCOUNTANT AND DIRECTOR, DIVISION OF AUDITS AND ACCOUNTING.
FEDERAL LABOR RELATIONS AUTHORITY
FEDERAL LABOR RELATIONS AUTHORITY | FEDERAL SERVICE IMPASSES PANEL | EXECUTIVE DIRECTOR, FEDERAL SERVICE IMPASSES PANEL.
| OFFICE OF MEMBER | CHIEF COUNSEL (2).
| OFFICE OF THE CHAIRMAN | CHIEF COUNSEL. SENIOR ADVISOR. DIRECTOR, POLICY AND PERFORMANCE MANAGEMENT. SOLICITOR.
| OFFICE OF THE EXECUTIVE DIRECTOR | EXECUTIVE DIRECTOR.
| OFFICE OF THE GENERAL COUNSEL | DEPUTY GENERAL COUNSEL (2).
OFFICE OF THE CHAIRMAN | OFFICE OF THE INSPECTOR GENERAL | INSPECTOR GENERAL.
OFFICE OF THE GENERAL COUNSEL | OFFICE OF THE GENERAL COUNSEL REGIONAL OFFICES | REGIONAL DIRECTOR—ATLANTA. REGIONAL DIRECTOR—DENVER. REGIONAL DIRECTOR—SAN FRANCISCO. REGIONAL DIRECTOR—WASHINGTON, DC.
|  | REGIONAL DIRECTOR—BOSTON.
|  | REGIONAL DIRECTOR—DALLAS.
|  | REGIONAL DIRECTOR—CHICAGO ILLINOIS.
FEDERAL LABOR RELATIONS AUTHORITY OFFICE OF INSPECTOR GENERAL | FEDERAL LABOR RELATIONS AUTHORITY OFFICE OF INSPECTOR GENERAL | INSPECTOR GENERAL.
FEDERAL MARITIME COMMISSION
FEDERAL MARITIME COMMISSION | OFFICE OF THE MANAGING DIRECTOR | DEPUTY MANAGING DIRECTOR. DIRECTOR, STRATEGIC PLANNING AND REGULATORY REVIEW.
OFFICE OF THE MANAGING DIRECTOR | BUREAU OF TRADE ANALYSIS | DIRECTOR, BUREAU OF TRADE ANALYSIS.
OFFICE OF THE MEMBERS | OFFICE OF THE INSPECTOR GENERAL | INSPECTOR GENERAL.
FEDERAL MEDIATION AND CONCILIATION SERVICE
OFFICE OF THE DIRECTOR | OFFICE OF THE DEPUTY DIRECTOR | DIRECTOR OF FIELD OPERATIONS.
FEDERAL RETIREMENT THRIFT INVESTMENT BOARD
| FEDERAL RETIREMENT THRIFT INVESTMENT BOARD | DIRECTOR OF RESOURCE MANAGEMENT. DIRECTOR OF COMMUNICATIONS AND EDUCATION. SENIOR ADVISOR FOR UNIFORMED SERVICES. DIRECTOR OF PARTICIPANT SERVICES.
|  | CHIEF FINANCIAL OFFICER (2).
|  | DIRECTOR OF ENTERPRISE RISK MANAGEMENT.
|  | CHIEF TECHNOLOGY OFFICER.
FEDERAL TRADE COMMISSION
FEDERAL TRADE COMMISSION | BUREAU OF COMPETITION | DEPUTY DIRECTOR, BUREAU OF COMPETITION.
| BUREAU OF CONSUMER PROTECTION | DEPUTY DIRECTOR, BUREAU OF CONSUMER PROTECTION.
| BUREAU OF ECONOMICS | DEPUTY DIRECTOR FOR RESEARCH AND MANAGEMENT.
| OFFICE OF EXECUTIVE DIRECTOR | CHIEF INFORMATION OFFICER. DEPUTY EXECUTIVE DIRECTOR.
| OFFICE OF THE GENERAL COUNSEL | PRINCIPAL DEPUTY GENERAL COUNSEL.
FEDERAL TRADE COMMISSION OFFICE OF THE INSPECTOR GENERAL
FEDERAL TRADE COMMISSION OFFICE OF THE INSPECTOR GENERAL | FEDERAL TRADE COMMISSION OFFICE OF THE INSPECTOR GENERAL | INSPECTOR GENERAL.
GENERAL SERVICES ADMINISTRATION
FEDERAL ACQUISITION SERVICE | TECHNOLOGY TRANSFORMATION SERVICES | DIRECTOR, PUBLIC EXPERIENCE PORTFOLIO.
GENERAL SERVICES ADMINISTRATION | FEDERAL ACQUISITION SERVICE | DIRECTOR, CENTERS OF EXCELLENCE. DEPUTY ASSISTANT COMMISSIONER FOR ACQUISITION. DIRECTOR, FEDERAL SYSTEMS INTEGRATION AND MANAGEMENT CENTER. DIRECTOR, INFORMATION TECHNOLOGY SERVICES.
|  | ASSISTANT COMMISSIONER FOR SYSTEMS MANAGEMENT.
|  | DEPUTY ASSISTANT COMMISSIONER FOR CATEGORY MANAGEMENT.
|  | ASSISTANT COMMISSIONER FOR ENTERPRISE STRATEGY MANAGEMENT.
|  | DIRECTOR, INFORMATION TECHNOLOGY SCHEDULE CONTRACT OPERATIONS.
|  | DIRECTOR, TELECOMMUNICATIONS SERVICES.
|  | DIRECTOR OF TRAVEL, EMPLOYEE RELOCATION, AND TRANSPORTATION.
|  | DIRECTOR OF SUPPLY CHAIN MANAGEMENT.
|  | DIRECTOR OF FLEET MANAGEMENT.
|  | ASSISTANT COMMISSIONER FOR POLICY AND COMPLIANCE.
|  | ASSISTANT COMMISSIONER FOR ASSISTED ACQUISITION SERVICES.
|  | ASSISTANT COMMISSIONER FOR CUSTOMER AND STAKEHOLDER ENGAGEMENT.
|  | ASSISTANT COMMISSIONER FOR TRAVEL, TRANSPORTATION AND LOGISTICS CATEGORIES.
|  | ASSISTANT COMMISSIONER FOR GENERAL SUPPLIES AND SERVICES CATEGORIES.
|  | DEPUTY ASSISTANT COMMISSIONER FOR INFORMATION TECHNOLOGY CATEGORY.
|  | >ASSISTANT COMMISSIONER FOR INFORMATION TECHNOLOGY CATEGORY.
| OFFICE OF GOVERNMENTWIDE POLICY | DEPUTY ASSOCIATE ADMINISTRATOR, SHARED SOLUTIONS AND PERFORMANCE IMPROVEMENT OFFICE. PRINCIPAL DEPUTY FOR ASSET AND TRANSPORTATION MANAGEMENT. DIRECTOR OF THE FEDERAL ACQUISITION INSTITUTE. DIRECTOR OF GENERAL SERVICES ACQUISITION POLICY, INTEGRITY AND WORKFORCE.
|  | DIRECTOR OF FEDERAL HIGH- PERFORMANCE GREEN BUILDINGS.
|  | DIRECTOR OF GOVERNMENTWIDE ACQUISITION POLICY.
|  | DEPUTY ASSOCIATE ADMINISTRATOR FOR INFORMATION, INTEGRITY AND ACCESS.
|  | DEPUTY CHIEF ACQUISITION OFFICER AND SENIOR PROCUREMENT EXECUTIVE.
|  | DEPUTY ASSOCIATE ADMINISTRATOR FOR ASSET AND TRANSPORTATION MANAGEMENT.
| OFFICE OF GENERAL SERVICES ADMINISTRATION, INFORMATION TECHNOLOGY | ASSOCIATE CHIEF INFORMATION OFFICER FOR CORPORATE INFORMATION TECHNOLOGY SERVICES. DEPUTY ASSOCIATE CHIEF INFORMATION OFFICER. ASSOCIATE CHIEF INFORMATION OFFICER FOR PUBLIC BUILDINGS INFORMATION TECHNOLOGY SERVICES. ASSOCIATE CHIEF INFORMATION OFFICER FOR DIGITAL INFRASTRUCTURE TECHNOLOGIES.
|  | ASSOCIATE CHIEF INFORMATION OFFICER FOR ENTERPRISE PLANNING AND GOVERNANCE.
|  | ASSOCIATE CHIEF INFORMATION OFFICER FOR ACQUISITION INFORMATION TECHNOLOGY SERVICES.
|  | CHIEF INFORMATION SECURITY OFFICER.
| OFFICE OF HUMAN RESOURCES MANAGEMENT | CHIEF HUMAN CAPITAL OFFICER. DEPUTY CHIEF HUMAN CAPITAL OFFICER.
| OFFICE OF MISSION ASSURANCE | ASSOCIATE ADMINISTRATOR FOR MISSION ASSURANCE. PRINCIPAL DEPUTY ASSOCIATE ADMINISTRATOR FOR MISSION ASSURANCE.
| OFFICE OF THE ADMINISTRATOR | DIRECTOR, OFFICE OF PERSONNEL MANAGEMENT—GENERAL SERVICES ADMINISTRATION MERGER PROJECT MANAGEMENT OFFICE. DIRECTOR, PRESIDENTIAL TRANSITION.
| OFFICE OF THE CHIEF FINANCIAL OFFICER | DIRECTOR OF REGIONAL FINANCIAL SERVICES. DIRECTOR OF FINANCIAL MANAGEMENT DIRECTOR OF BUDGET CHIEF FINANCIAL OFFICER
|  | DIRECTOR, OFFICE OF ANALYTICS, PERFORMANCE AND IMPROVEMENT
|  | DEPUTY CHIEF FINANCIAL OFFICER
| PUBLIC BUILDINGS SERVICE | CHIEF ARCHITECT. ASSISTANT COMMISSIONER, OFFICE OF STRATEGY AND ENGAGEMENT. DEPUTY ASSISTANT COMMISSIONER FOR REAL PROPERTY ASSET MANAGEMENT. SENIOR ADVISOR
|  | ASSISTANT COMMISSIONER FOR FACILITIES MANAGEMENT AND SERVICES PROGRAMS.
|  | ASSISTANT COMMISSIONER FOR LEASING.
|  | ASSISTANT COMMISSIONER FOR ACQUISITION MANAGEMENT.
|  | ASSISTANT COMMISSIONER FOR PROJECT DELIVERY.
|  | ASSISTANT COMMISSIONER FOR PORTFOLIO MANAGEMENT AND CUSTOMER ENGAGEMENT.
|  | ASSISTANT COMMISSIONER FOR REAL PROPERTY UTILIZATION AND DISPOSAL.
REGIONAL ADMINISTRATORS | GREAT LAKES REGION | REGIONAL COMMISSIONER FOR PUBLIC BUILDINGS SERVICE. REGIONAL COMMISSIONER FOR FEDERAL ACQUISITION SERVICE.
| GREATER SOUTHWEST REGION | REGIONAL COMMISSIONER FOR PUBLIC BUILDINGS SERVICE. REGIONAL COMMISSIONER FOR FEDERAL ACQUISITION SERVICE.
| MID-ATLANTIC REGION | REGIONAL COMMISSIONER FOR PUBLIC BUILDINGS SERVICE. REGIONAL COMMISSIONER FOR FEDERAL ACQUISITION SERVICE.
| NATIONAL CAPITAL REGION | REGIONAL COMMISSIONER FOR PUBLIC BUILDINGS SERVICE. DEPUTY DIRECTOR OF PORTFOLIO MANAGEMENT AND LEASING REGIONAL COMMISSIONER FOR FEDERAL ACQUISITION SERVICE DIRECTOR OF FACILITIES MANAGEMENT AND SERVICES PROGRAMS
|  | DIRECTOR FOR DESIGN AND CONSTRUCTION
|  | DIRECTOR OF PORTFOLIO MANAGEMENT AND REAL ESTATE
| NEW ENGLAND REGION | REGIONAL COMMISSIONER FOR PUBLIC BUILDINGS SERVICE. REGIONAL COMMISSIONER FOR FEDERAL ACQUISITION SERVICE.
| NORTHEAST AND CARIBBEAN REGION | REGIONAL COMMISSIONER FOR FEDERAL ACQUISITION SERVICE. REGIONAL COMMISSIONER FOR PUBLIC BUILDINGS SERVICE.
| NORTHWEST/ARCTIC REGION | REGIONAL COMMISSIONER FOR PUBLIC BUILDINGS SERVICE. REGIONAL COMMISSIONER FOR FEDERAL ACQUISITION SERVICE.
| PACIFIC RIM REGION | REGIONAL COMMISSIONER FOR PUBLIC BUILDINGS SERVICE. REGIONAL COMMISSIONER FOR FEDERAL ACQUISITION SERVICE.
| ROCKY MOUNTAIN REGION | REGIONAL COMMISSIONER FOR FEDERAL ACQUISITION SERVICE. REGIONAL COMMISSIONER FOR PUBLIC BUILDINGS SERVICE.
| SOUTHEAST SUNBELT REGION | REGIONAL COMMISSIONER FOR FEDERAL ACQUISITION SERVICE. REGIONAL COMMISSIONER FOR PUBLIC BUILDINGS SERVICE.
| THE HEARTLAND REGION | REGIONAL COMMISSIONER FOR FEDERAL ACQUISITION SERVICE. REGIONAL COMMISSIONER FOR PUBLIC BUILDINGS SERVICE.
GENERAL SERVICES ADMINISTRATION OFFICE OF THE INSPECTOR GENERAL
| GENERAL SERVICES ADMINISTRATION OFFICE OF THE INSPECTOR GENERAL | DEPUTY INSPECTOR GENERAL. DEPUTY ASSISTANT INSPECTOR GENERAL FOR REAL PROPERTY AUDITS. ASSISTANT INSPECTOR GENERAL FOR INSPECTIONS. ASSISTANT INSPECTOR GENERAL FOR AUDITING.
|  | DEPUTY ASSISTANT INSPECTOR GENERAL FOR ACQUISITION PROGRAMS AUDITS.
|  | COUNSEL TO THE INSPECTOR GENERAL.
|  | ASSISTANT INSPECTOR GENERAL FOR INVESTIGATIONS.
|  | DEPUTY ASSISTANT INSPECTOR GENERAL FOR INVESTIGATIONS.
|  | ASSOCIATE INSPECTOR GENERAL.
|  | ASSISTANT INSPECTOR GENERAL FOR ADMINISTRATION.
GULF COAST ECOSYSTEM RESTORATION COUNCIL
| GULF COAST ECOSYSTEM RESTORATION COUNCIL | DEPUTY EXECUTIVE DIRECTOR AND DIRECTOR OF PROGRAMS.
DEPARTMENT OF HEALTH AND HUMAN SERVICES
CENTERS FOR MEDICARE AND MEDICAID SERVICES | CENTER FOR CONSUMER INFORMATION AND INSURANCE OVERSIGHT | DIRECTOR, MARKETPLACE INFORMATION TECHNOLOGY GROUP.
| CENTER FOR MEDICARE | DIRECTOR, MEDICARE CONTRACTOR MANAGEMENT GROUP.
| CENTER FOR PROGRAM INTEGRITY | DIRECTOR, INVESTIGATIONS AND AUDITS GROUP. DEPUTY CENTER DIRECTOR (2). DIRECTOR, PROVIDER COMPLIANCE GROUP.
| OFFICE OF THE ACTUARY | DIRECTOR, PARTS C AND D ACTUARIAL GROUP. DIRECTOR, MEDICARE AND MEDICAID COST ESTIMATES GROUP. DIRECTOR, OFFICE OF THE ACTUARY (CHIEF ACTUARY). DIRECTOR, NATIONAL HEALTH STATISTICS GROUP.
CHIEF OPERATING OFFICER | OFFICE OF ACQUISITIONS AND GRANTS MANAGEMENT | DEPUTY DIRECTOR, OFFICE OF ACQUISITION AND GRANTS MANAGEMENT. DIRECTOR, OFFICE OF ACQUISITIONS AND GRANTS MANAGEMENT.
| OFFICE OF FINANCIAL MANAGEMENT | DEPUTY DIRECTOR OFFICE OF FINANCIAL MANAGEMENT. DIRECTOR OFFICE OF FINANCIAL MANAGEMENT. DIRECTOR, FINANCIAL SERVICES GROUP. DIRECTOR, ACCOUNTING MANAGEMENT GROUP.
| OFFICE OF INFORMATION TECHNOLOGY | DIRECTOR, OFFICE OF INFORMATION TECHNOLOGY/CMS CHIEF INFORMATION OFFICER. DIRECTOR, INFORMATION SECURITY AND PRIVACY GROUP/CHIEF INFORMATION SECURITY OFFICER. DEPUTY DIRECTOR, OFFICE OF INFORMATION TECHNOLOGY. DEPUTY DIRECTOR, OFFICE OF INFORMATION TECHNOLOGY.
DEPARTMENT OF HEALTH AND HUMAN SERVICES | ADMINISTRATION FOR CHILDREN AND FAMILIES | DEPUTY ASSISTANT SECRETARY FOR ADMINISTRATION.
| ADMINISTRATION FOR COMMUNITY LIVING | DEPUTY ADMINISTRATOR FOR THE CENTER FOR INTEGRATED PROGRAMS. DEPUTY ADMINISTRATOR FOR MANAGEMENT AND BUDGET.
| CENTERS FOR DISEASE CONTROL AND PREVENTION | DIRECTOR, ASSET MANAGEMENT SERVICES OFFICE. DIRECTOR, OFFICE OF SAFETY, SECURITY AND ASSET MANAGEMENT. DEPUTY DIRECTOR FOR MANAGEMENT AND OPERATIONS. DIRECTOR, DIVISION OF EMERGENCY OPERATIONS.
|  | CHIEF OPERATING OFFICER.
|  | DIRECTOR, DIVISION OF ACQUISITION SERVICES.
|  | CHIEF INFORMATION SECURITY OFFICER.
|  | DEPUTY CHIEF INFORMATION OFFICER.
|  | DIRECTOR, DIGITAL SERVICES OFFICE.
|  | BUDGET OFFICER.
|  | DIRECTOR, OFFICE OF FINANCE AND ACCOUNTING.
|  | DIRECTOR OFFICE OF GRANTS SERVICES.
|  | DEPUTY CHIEF FINANCIAL OFFICER.
|  | CHIEF FINANCIAL OFFICER.
|  | CHIEF INFORMATION OFFICER.
|  | DEPUTY DIRECTOR FOR MANAGEMENT.
| FOOD AND DRUG ADMINISTRATION | DIRECTOR, OFFICE OF COMPLIANCE AND BIOLOGICS QUALITY. DIRECTOR, OFFICE OF ACQUISITIONS AND GRANTS SERVICES. CHIEF OPERATING OFFICER. DEPUTY CHIEF FINANCIAL OFFICER/DIRECTOR, OFFICE OF FINANCIAL OPERATIONS.
|  | DEPUTY CHIEF OPERATING OFFICER.
|  | DIRECTOR, OFFICE OF BUDGET.
|  | DIRECTOR, OFFICE OF SECURITY AND EMERGENCY MANAGEMENT.
|  | DIRECTOR, OFFICE OF FINANCIAL MANAGEMENT/CHIEF FINANCIAL OFFICER.
|  | DEPUTY DIRECTOR FOR COMPLIANCE OPERATIONS.
|  | DIRECTOR OFFICE OF HUMAN CAPITAL MANAGEMENT.
|  | DIRECTOR, OFFICE OF TALENT SOLUTIONS.
|  | DIRECTOR, DIVISION OF ETHICS AND INTEGRITY.
| INDIAN HEALTH SERVICE | CHIEF EXECUTIVE OFFICER, PHOENIX INDIAN MEDICAL CENTER.
| NATIONAL INSTITUTES OF HEALTH | DEPUTY DIRECTOR FOR MANAGEMENT, NIH. ASSOCIATE DIRECTOR FOR MANAGEMENT, NIGMS. DIRECTOR, OFFICE OF INFORMATION TECHNOLOGY SERVICES MANAGEMENT, CIT. DEPUTY DIRECTOR FOR MANAGEMENT, NINDS.
|  | ASSOCIATE DIRECTOR FOR SECURITY AND EMERGENCY RESPONSE, OD.
|  | ASSOCIATE DIRECTOR FOR MANAGEMENT, NIDCR.
|  | ASSOCIATE DIRECTOR FOR MANAGEMENT, NIDDK.
|  | ERA PROGRAM MANAGER, OD.
|  | ASSOCIATE DIRECTOR OF MANAGEMENT, NIEHS.
|  | DEPUTY DIRECTOR, CIT.
|  | ASSOCIATE DIRECTOR FOR ADMINISTRATIVE MANAGEMENT, NLM.
|  | DEPUTY DIRECTOR, DIVISION OF PROGRAM COORDINATION, PLANNING, AND STRATEGIC INITIATIVES, OD.
|  | SENIOR POLICY OFFICER (ETHICS), OD.
|  | DIRECTOR, OFFICE OF ACQUISITION AND LOGISTICS MANAGEMENT, OD.
|  | DIRECTOR, OFFICE OF POPULATION GENOMICS, NHGRI.
|  | ASSOCIATE DIRECTOR FOR MANAGEMENT, NIMH.
|  | DIRECTOR, OFFICE OF RESEARCH INFORMATION SYSTEMS.
|  | ASSOCIATE DIRECTOR FOR EXTRAMURAL PROGRAMS, NLM.
|  | ASSOCIATE DIRECTOR FOR ADMINISTRATION, NCATS.
|  | DIRECTOR, CENTER FOR INFORMATION TECHNOLOGY AND CHIEF INFORMATION OFFICER.
|  | DIRECTOR, OFFICE OF MANAGEMENT ASSESSMENT, OD.
|  | DEPUTY DIRECTOR FOR MANAGEMENT, NEI.
|  | ASSOCIATE DIRECTOR FOR MANAGEMENT, OD.
|  | DEPUTY DIRECTOR FOR MANAGEMENT, NIDA.
|  | ASSOCIATE DIRECTOR FOR ADMINISTRATION, NICHD.
|  | DIRECTOR, INFORMATION SYSTEMS, NLM.
|  | ASSOCIATE DIRECTOR FOR LIBRARY OPERATIONS, NLM.
|  | DIRECTOR, OFFICE OF FINANCIAL MANAGEMENT, OD.
|  | ASSOCIATE DIRECTOR FOR ADMINISTRATIVE MANAGEMENT, NHLBI.
|  | ASSOCIATE DIRECTOR FOR ADMINISTRATION, NIAAA.
|  | DIRECTOR OF MANAGEMENT, NIA.
|  | ASSOCIATE DIRECTOR FOR MANAGEMENT, NHGRI.
|  | CHIEF OPERATING OFFICER, CC.
|  | DEPUTY DIRECTOR FOR MANAGEMENT, NCI.
|  | ASSOCIATE DIRECTOR FOR ADMINISTRATION, NIDCD.
|  | ASSOCIATE DIRECTOR FOR MANAGEMENT AND OPERATIONS, NIAMS.
|  | DIRECTOR, OFFICE OF POLICY FOR EXTRAMURAL RESEARCH ADMINISTRATION, OD.
|  | CHIEF FINANCIAL OFFICER, CC.
|  | DIRECTOR, OFFICE OF STRATEGIC PLANNING AND MANAGEMENT OPERATIONS, OD.
| SUBSTANCE ABUSE AND MENTAL HEALTH SERVICES ADMINISTRATION | DIRECTOR, OFFICE OF FINANCIAL SERVICES.
FOOD AND DRUG ADMINISTRATION | OFFICE OF REGULATORY AFFAIRS | DEPUTY DIRECTOR FOR TARGETING, ANALYSIS AND SUPPORT. DIRECTOR OFFICE OF CRIMINAL INVESTIGATIONS.
NATIONAL INSTITUTES OF HEALTH | NATIONAL LIBRARY OF MEDICINE | DEPUTY DIRECTOR.
| OFFICE OF THE DIRECTOR | DIRECTOR, OFFICE OF RESEARCH FACILITIES DEVELOPMENT AND OPERATIONS.
OFFICE OF THE ASSISTANT SECRETARY FOR ADMINISTRATION | PROGRAM SUPPORT CENTER | EXECUTIVE OFFICER.
OFFICE OF THE ASSISTANT SECRETARY FOR FINANCIAL RESOURCES | OFFICE OF THE DEPUTY ASSISTANT SECRETARY FOR BUDGET | DIRECTOR, OFFICE OF PROGRAM INTEGRITY COORDINATION.
| OFFICE OF THE DEPUTY ASSISTANT SECRETARY FOR FINANCE | ASSOCIATE DEPUTY ASSISTANT SECRETARY, FINANCE.
OFFICE OF THE COMMISSIONER | OFFICE OF OPERATIONS | DIRECTOR OF FISCAL SERVICES AND OPERATIONS.
OFFICE OF THE SECRETARY | OFFICE OF THE ASSISTANT SECRETARY FOR ADMINISTRATION | CHIEF INFORMATION SECURITY OFFICER. DEPUTY DIRECTOR, PROGRAM SUPPORT CENTER. HUMAN RESOURCES OPERATIONS DIRECTOR.
| OFFICE OF THE ASSISTANT SECRETARY FOR FINANCIAL RESOURCES | DIRECTOR, OFFICE OF SMALL AND DISADVANTAGED BUSINESS UTILIZATION. ASSOCIATE DEPUTY ASSISTANT SECRETARY, ACQUISITION. ASSOCIATE DEPUTY ASSISTANT SECRETARY, OFFICE OF GRANTS, ACQUISITION POLICY AND ACCOUNTABILITY. DEPUTY ASSISTANT SECRETARY, OFFICE OF ACQUISITIONS. EXECUTIVE DIRECTOR, GRANTS QUALITY SERVICE MANAGEMENT.
| OFFICE OF THE ASSISTANT SECRETARY FOR PLANNING AND EVALUATION | ASSOCIATE DEPUTY ASSISTANT SECRETARY FOR PLANNING AND EVALUATION (HEALTH SERVICES POLICY).
| OFFICE OF THE ASSISTANT SECRETARY FOR PUBLIC AFFAIRS | EXECUTIVE OFFICER/DEPUTY AGENCY CHIEF FOIA.
| OFFICE OF THE GENERAL COUNSEL | DEPUTY ASSOCIATE GENERAL COUNSEL FOR ETHICS ADVICE AND POLICY (ADAEO). DEPUTY GENERAL COUNSEL (LITIGATION). ASSOCIATE GENERAL COUNSEL, ETHICS DIVISION AND DESIGNATED AGENCY ETHICS OFFICIAL.
PROGRAM SUPPORT CENTER | OFFICE OF FINANCIAL MANAGEMENT SERVICE | DIRECTOR, FINANCIAL MANAGEMENT SERVICE.
DEPARTMENT OF HEALTH AND HUMAN SERVICES
| DEPARTMENT OF HEALTH AND HUMAN SERVICES OFFICE OF THE INSPECTOR GENERAL | DEPUTY CHIEF OF STAFF. CHIEF OF STAFF. PRINCIPAL DEPUTY INSPECTOR GENERAL.
DEPARTMENT OF HEALTH AND HUMAN SERVICES OFFICE OF THE INSPECTOR GENERAL | OFFICE OF AUDIT SERVICES | DEPUTY INSPECTOR GENERAL FOR AUDIT SERVICES. ASSISTANT INSPECTOR GENERAL FOR AUDIT SERVICES (3). ASSISTANT INSPECTOR GENERAL FOR MEDICARE AND MEDICAID SERVICE AUDITS. ASSISTANT INSPECTOR GENERAL FOR AUDIT SERVICES (CYBERSECURITY AND INFORMATION TECHNOLOGY AUDITS).
| OFFICE OF COUNSEL TO THE INSPECTOR GENERAL | CHIEF COUNSEL TO THE INSPECTOR GENERAL. ASSISTANT INSPECTOR GENERAL FOR LEGAL AFFAIRS (2).
| OFFICE OF EVALUATION AND INSPECTIONS | DEPUTY INSPECTOR GENERAL FOR EVALUATION AND INSPECTIONS. ASSISTANT INSPECTOR GENERAL FOR EVALUATION AND INSPECTIONS (2).
| OFFICE OF INVESTIGATIONS | ASSISTANT INSPECTOR GENERAL FOR INVESTIGATIONS (3). DEPUTY INSPECTOR GENERAL FOR INVESTIGATIONS.
| OFFICE OF MANAGEMENT AND POLICY | ASSISTANT INSPECTOR GENERAL FOR MANAGEMENT AND POLICY (DEPUTY CHIEF FINANCIAL OFFICER). DEPUTY INSPECTOR GENERAL FOR MANAGEMENT AND POLICY. ASSISTANT INSPECTOR GENERAL (CHIEF DATA OFFICER). ASSISTANT INSPECTOR GENERAL FOR INFORMATION TECHNOLOGY (CHIEF INFORMATION OFFICER).
DEPARTMENT OF HOMELAND SECURITY
DEPARTMENT OF HOMELAND SECURITY | CYBERSECURITY AND INFRASTRUCTURE SECURITY AGENCY | REGIONAL DIRECTOR (3). CHIEF INFORMATION OFFICER. ASSISTANT DIRECTOR, NATIONAL RISK MANAGEMENT CENTER. REGIONAL DIRECTOR, REGION 3, PHILADELPHIA, PA.
|  | DEPUTY EXECUTIVE ASSISTANT DIRECTOR FOR CYBERSECURITY.
|  | DIRECTOR OF MANAGEMENT.
|  | REGIONAL DIRECTOR, REGION 6, DALLAS, TX.
|  | DEPUTY DIRECTOR, OFFICE OF BIOMETRIC IDENTITY MANAGEMENT.
|  | DIRECTOR, PROTECTIVE SECURITY COORDINATION.
|  | EXECUTIVE ASSISTANT DIRECTOR FOR EMERGENCY COMMUNICATIONS.
|  | ASSISTANT DIRECTOR, FUTURES IDENTITY.
|  | SENIOR ADVISOR, OFFICE OF INFRASTRUCTURE SECURITY.
|  | DEPUTY DIRECTOR OF MANAGEMENT (BUSINESS SERVICE DELIVERY LEAD).
|  | DIRECTOR, NATIONAL INFRASTRUCTURE COORDINATING CENTER.
|  | REGIONAL DIRECTOR, REGION I, BOSTON, MA.
|  | REGIONAL DIRECTOR, REGION 10, SEATTLE, WA.
|  | DEPUTY ASSISTANT DIRECTOR FOR INTEGRATED OPERATIONS.
|  | REGIONAL DIRECTOR.
|  | CHIEF INFORMATION SECURITY OFFICER.
|  | EXECUTIVE DIRECTOR, CYBERSECURITY AND INFRASTRUCTURE SECURITY AGENCY.
|  | DEPUTY DIRECTOR CYBER THREAT DETECTION AND ANALYSIS.
|  | DEPUTY ASSISTANT DIRECTOR, NATIONAL RISK MANAGEMENT CENTER.
|  | REGIONAL DIRECTOR, REGION 7, KANSAS CITY, MO.
|  | REGIONAL DIRECTOR.
|  | CHIEF FINANCIAL OFFICER.
|  | DEPUTY DIRECTOR, NETWORK SECURITY DEPLOYMENT.
|  | COMPONENT ACQUISITION EXECUTIVE.
|  | SENIOR COUNSELOR TO THE DIRECTOR FOR CYBERSECURITY AND INFRASTRUCTURE SECURITY AGENCY.
|  | DIRECTOR, OFFICE OF COMPLIANCE AND SECURITY.
|  | COMPONENT CHIEF HUMAN CAPITAL OFFICER.
|  | CHIEF TECHNOLOGY OFFICER, CYBER SECURITY AND COMMUNICATIONS.
|  | DEPUTY EXECUTIVE ASSISTANT DIRECTOR FOR INFRASTRUCTURE SECURITY.
|  | DIRECTOR MISSION INTEGRATION.
|  | DEPUTY EXECUTIVE ASSISTANT DIRECTOR FOR EMERGENCY COMMUNICATIONS.
|  | DEPUTY DIRECTOR FOR OPERATIONS, NATIONAL CYBERSECURITY AND COMMUNICATIONS INTEGRATION CENTER (NCCIC).
|  | ASSISTANT DIRECTOR FOR STAKEHOLDER ENGAGEMENT.
|  | PRINCIPAL DEPUTY DIRECTOR, NATIONAL CYBERSECURITY AND COMMUNICATIONS INTEGRATION CENTER.
|  | DIRECTOR, NETWORK SECURITY DEPLOYMENT.
|  | ASSISTANT DIRECTOR FOR INTEGRATED OPERATIONS.
| FEDERAL EMERGENCY MANAGEMENT AGENCY | DEPUTY DIRECTOR, INDIVIDUAL ASSISTANCE DIVISION. DEPUTY ASSISTANT ADMINISTRATOR, GRANTS SYSTEMS AND POLICY INTEGRATION. DIRECTOR, OFFICE OF EQUAL RIGHTS. DIRECTOR, OFFICE OF PROFESSIONAL RESPONSIBILITY.
|  | ASSISTANT ADMINISTRATOR, FUND MANAGEMENT.
|  | DEPUTY CHIEF ADMINISTRATIVE OFFICER.
|  | DEPUTY ASSISTANT ADMINISTRATOR FOR RISK MANAGEMENT.
|  | DEPUTY ASSISTANT ADMINISTRATOR FOR FEDERAL INSURANCE.
|  | ASSISTANT ADMINISTRATOR FOR MITIGATION.
|  | DIRECTOR, NATIONAL ASSESSMENT, INTEGRATION, AND INDIVIDUAL PREPAREDNESS.
|  | CHIEF INFORMATION SECURITY OFFICER.
|  | DEPUTY CHIEF COMPONENT HUMAN CAPITAL OFFICER OF OPERATIONS.
|  | DEPUTY REGIONAL ADMINISTRATOR (REGION I BOSTON).
|  | DEPUTY REGIONAL ADMINISTRATOR (REGION II NEW YORK).
|  | DEPUTY REGIONAL ADMINISTRATOR (REGION III PHILADELPHIA).
|  | DEPUTY REGIONAL ADMINISTRATOR (REGION V CHICAGO).
|  | DEPUTY REGIONAL ADMINISTRATOR (REGION VII KANSAS).
|  | DEPUTY REGIONAL ADMINISTRATOR (REGION VIII DENVER).
|  | DEPUTY REGIONAL ADMINISTRATOR (REGION IX OAKLAND).
|  | DEPUTY REGIONAL ADMINISTRATOR (REGION X SEATTLE).
|  | DEPUTY REGIONAL ADMINISTRATOR (REGION VI, DALLAS).
|  | PRINCIPAL DEPUTY CHIEF COUNSEL.
|  | DEPUTY REGIONAL ADMINISTRATOR, REGION IV, ATLANTA.
|  | DEPUTY ASSISTANT ADMINISTRATOR, NATIONAL PREPAREDNESS DIRECTORATE.
|  | DIRECTOR, EMERGENCY COMMUNICATION DIVISION.
|  | CHIEF TECHNOLOGY OFFICER.
|  | CHIEF SECURITY OFFICER.
|  | DEPUTY DIRECTOR, PUBLIC ASSISTANCE DIVISION.
|  | DEPUTY ASSISTANT ADMINISTRATOR, FIELD OPERATIONS DIRECTORATE.
|  | DIRECTOR, OPERATIONAL COORDINATION.
|  | DEPUTY DIRECTOR, EXTERNAL AFFAIRS.
|  | SUPERINTENDENT, CENTER FOR DOMESTIC PREPAREDNESS.
|  | DEPUTY CHIEF COUNSEL FOR OPERATIONS.
|  | DEPUTY ASSISTANT ADMINISTRATOR, GRANTS PROGRAM.
|  | ASSISTANT ADMINISTRATOR FOR FINANCIAL MANAGEMENT.
|  | DIRECTOR, OPERATIONS DIVISION (RESPONSE AND RECOVERY).
|  | DIRECTOR, NATIONAL EXERCISES AND TECHNOLOGICAL HAZARDS DIVISION.
|  | DEPUTY ASSOCIATE ADMINISTRATOR FOR POLICY, PROGRAM ANALYSIS AND INTERNATIONAL AFFAIRS.
|  | CHIEF ADMINISTRATIVE OFFICER.
|  | DEPUTY ASSISTANT ADMINISTRATOR FOR MITIGATION.
|  | ASSISTANT ADMINISTRATOR, FIELD OPERATIONS DIRECTORATE.
|  | DEPUTY CHIEF COMPONENT PROCUREMENT OFFICER.
|  | DEPUTY ASSISTANT ADMINISTRATOR FOR RESPONSE.
|  | DEPUTY CHIEF INFORMATION OFFICER (DISASTER OPERATIONS), MISSION SUPPORT DIRECTORATE.
|  | SUPERINTENDENT, EMERGENCY MANAGEMENT INSTITUTE.
|  | DEPUTY ASSISTANT ADMINISTRATOR FOR FINANCIAL SYSTEMS MODERNIZATION.
|  | DEPUTY ASSOCIATE ADMINISTRATOR FOR MISSION SUPPORT.
|  | ASSISTANT ADMINISTRATOR FOR NATIONAL PREPAREDNESS.
|  | DIRECTOR, INDIVIDUAL ASSISTANCE DIVISION.
|  | DIRECTOR, PUBLIC ASSISTANCE DIVISION.
|  | CHIEF COMPONENT PROCUREMENT OFFICER.
|  | DIVISION DIRECTOR, HAZARD MITIGATION ASSISTANCE.
|  | DEPUTY CHIEF COUNSEL FOR GENERAL LAW.
|  | DIRECTOR, PLANNING AND EXERCISE DIVISION, OFFICE OF RESPONSE AND RECOVERY.
|  | ASSISTANT ADMINISTRATOR FOR FEDERAL INSURANCE.
|  | ASSOCIATE ADMINISTRATOR, MISSION SUPPORT BUREAU.
|  | ASSISTANT ADMINISTRATOR FOR BUDGET.
|  | DEPUTY CHIEF COMPONENT HUMAN CAPITAL OFFICER FOR STRATEGIC SERVICES.
|  | CHIEF FINANCIAL OFFICER.
|  | DEPUTY ASSOCIATE ADMINISTRATOR, FEDERAL INSURANCE AND MITIGATION ADMINISTRATION.
|  | DIRECTOR, GRANTS MANAGEMENT DIVISION.
|  | ASSISTANT ADMINISTRATOR FOR RISK MANAGEMENT.
|  | DEPUTY CHIEF INFORMATION OFFICER.
|  | DEPUTY CHIEF FINANCIAL OFFICER.
| FEDERAL LAW ENFORCEMENT TRAINING CENTER | SENIOR EXECUTIVE ADVISOR. ASSISTANT DIRECTOR (MISSION AND READINESS SUPPORT DIRECTORATE). ASSISTANT DIRECTOR (CHIEF FINANCIAL OFFICER). ASSISTANT DIRECTOR OF TRAINING (CORE TRAINING OPERATIONS DIRECTORATE.
|  | ASSISTANT DIRECTOR OF TRAINING (NATIONAL CAPITAL REGION TRAINING OPERATIONS DIRECTORATE.
|  | CHIEF COUNSEL.
|  | ASSISTANT DIRECTOR (CHIEF INFORMATION OFFICER DIRECTORATE).
|  | DIRECTOR, FEDERAL LAW ENFORCEMENT TRAINING CENTER.
|  | DEPUTY DIRECTOR.
|  | ASSOCIATE DIRECTOR FOR TRAINING OPERATIONS.
|  | ASSISTANT DIRECTOR OF TRAINING (TRAINING MANAGEMENT OPERATIONS DIRECTORATE).
|  | ASSISTANT DIRECTOR OF TRAINING (TECHNICAL TRAINING OPERATIONS DIRECTORATE).
| MANAGEMENT DIRECTORATE | DEPUTY DIRECTOR, TECHNOLOGY AND INNOVATION (CHIEF TECHNOLOGY OFFICER). EXECUTIVE DIRECTOR, SUSTAINABILITY AND ENVIRONMENTAL PROGRAMS. EXECUTIVE DIRECTOR, HUMAN RESOURCES MANAGEMENT AND SERVICES. EXECUTIVE DIRECTOR, ENTERPRISE SECURITY OPERATIONS AND SUPPORT.
|  | DIRECTOR, FINANCIAL MANAGEMENT.
|  | EXECUTIVE DIRECTOR, THREAT MANAGEMENT OPERATIONS.
|  | DIRECTOR, OFFICE OF BUDGET.
|  | EXECUTIVE DIRECTOR, SOLUTIONS DEVELOPMENT DIRECTORATE.
|  | CHIEF PROCUREMENT OFFICER.
|  | DEPUTY CHIEF INFORMATION SECURITY OFFICER—CYBERSECURITY (CIO).
|  | DEPUTY CHIEF HUMAN CAPITAL OFFICER.
|  | DEPUTY CHIEF DATA OFFICER.
|  | EXECUTIVE DIRECTOR, HEADQUARTERS SUPPORT.
|  | EXECUTIVE DIRECTOR, ACQUISITION WORKFORCE AND SYSTEMS SUPPORT.
|  | ASSISTANT DIRECTOR FOR FIELD OPERATIONS (EAST), FEDERAL PROTECTIVE SERVICE.
|  | DEPUTY CHIEF SECURITY OFFICER.
|  | EXECUTIVE DIRECTOR, ACQUISITION, POLICY AND OVERSIGHT.
|  | DEPUTY EXECUTIVE DIRECTOR, INFORMATION TECHNOLOGY OPERATIONS (ENGINEERING).
|  | EXECUTIVE DIRECTOR, HUMAN CAPITAL POLICY AND PROGRAMS.
|  | DEPUTY CHIEF INFORMATION SECURITY OFFICER (FISMA).
|  | EXECUTIVE DIRECTOR, FACILITIES AND OPERATIONAL SUPPORT.
|  | DEPUTY DIRECTOR, POLICY, INTERGOVERNMENTAL PROGRAMS AND COMMUNICATIONS.
|  | CHIEF SECURITY OFFICER.
|  | EXECUTIVE DIRECTOR, INFORMATION TECHNOLOGY OPERATIONS.
|  | EXECUTIVE DIRECTOR, BUSINESS MANAGEMENT DIRECTORATE.
|  | DEPUTY CHIEF PROCUREMENT OFFICER.
|  | ASSISTANT DIRECTOR PROTECTIVE SECURITY OFFICER OVERSIGHT.
|  | DEPUTY CHIEF READINESS SUPPORT OFFICER.
|  | EXECUTIVE DIRECTOR, OFFICE OF THE CHIEF TECHNOLOGY OFFICER.
|  | DIRECTOR, FEDERAL PROTECTIVE SERVICE.
|  | EXECUTIVE DIRECTOR, CHIEF INFORMATION SECURITY OFFICER.
|  | DEPUTY EXECUTIVE DIRECTOR, INFORMATION TECHNOLOGY OPERATIONS.
|  | DEPUTY DIRECTOR, OFFICE OF PROCUREMENT OPERATIONS.
|  | DEPUTY CHIEF INFORMATION OFFICER.
|  | EXECUTIVE DIRECTOR, OFFICE OF PROCUREMENT OPERATIONS.
|  | EXECUTIVE DIRECTOR, STRATEGIC OPERATIONS.
|  | ASSISTANT DIRECTOR FOR RESOURCE MANAGEMENT (FINANCIAL OPERATIONS).
|  | EXECUTIVE DIRECTOR, REGIONAL MISSION SUPPORT.
|  | DIRECTOR, PROCUREMENT POLICY AND OVERSIGHT.
|  | EXECUTIVE DIRECTOR, ACQUISITION POLICY AND LEGISLATION BRANCH.
|  | EXECUTIVE DIRECTOR, STRATEGIC WORKFORCE PLANNING AND ANALYSIS.
|  | EXECUTIVE DIRECTOR, HEADQUARTERS SERVICES.
|  | DEPUTY DIRECTOR, PROGRAM ACCOUNTABILITY AND RISK MANAGEMENT.
|  | EXECUTIVE DIRECTOR, ASSETS AND LOGISTICS.
|  | DEPUTY CHIEF TECHNOLOGY OFFICER.
|  | DEPUTY BUDGET DIRECTOR, OFFICE OF BUDGET.
|  | EXECUTIVE DIRECTOR, STRATEGIC PROGRAMS DIVISION.
|  | DEPUTY EXECUTIVE DIRECTOR, SOLUTIONS DEVELOPMENT DIRECTORATE.
|  | PRINCIPAL DEPUTY DIRECTOR, FEDERAL PROTECTIVE SERVICE.
|  | CHIEF DATA OFFICER.
|  | DIRECTOR, DEPARTMENTAL GENERAL ACCOUNTING OFFICE/INSPECTOR GENERAL (GAO/IG) LIAISON OFFICE.
|  | ASSISTANT DIRECTOR OF OPERATIONS, FEDERAL PROTECTIVE SERVICES.
|  | ASSISTANT DIRECTOR OF FIELD OPERATIONS (WEST), FEDERAL PROTECTIVE SERVICES.
|  | ASSISTANT DIRECTOR OF FIELD OPERATIONS (CENTRAL), FEDERAL PROTECTIVE SERVICES.
|  | EXECUTIVE DIRECTOR, HUMAN CAPITAL BUSINESS SYSTEMS.
|  | DIRECTOR, RISK MANAGEMENT AND ASSURANCE.
|  | DIRECTOR, WORKFORCE HEALTH AND MEDICAL SUPPORT/DEPUTY CHIEF MEDICAL OFFICER.
|  | EXECUTIVE DIRECTOR, DIVERSITY AND INCLUSION.
|  | ASSISTANT DIRECTOR, OFFICE OF RESOURCE MANAGEMENT, FEDERAL PROTECTIVE SERVICE.
|  | ASSISTANT DIRECTOR, OFFICE OF TRAINING AND CAREER DEVELOPMENT, FEDERAL PROTECTIVE SERVICE.
|  | EXECUTIVE DIRECTOR, PROGRAM ACCOUNTABILITY AND RISK MANAGEMENT OFFICE.
| OFFICE OF INTELLIGENCE AND ANALYSIS | CHIEF OF STAFF. DEPUTY UNDER SECRETARY FOR INTELLIGENCE ENTERPRISE READINESS. DIRECTOR, CYBER MISSION CENTER. DIRECTOR, BORDER SECURITY DIVISION.
|  | DIRECTOR, CURRENT AND EMERGING THREATS CENTER.
|  | PRINCIPAL DEPUTY UNDER SECRETARY FOR INTELLIGENCE AND ANALYSIS.
| OFFICE OF STRATEGY, POLICY, AND PLANS | DEPUTY ASSISTANT SECRETARY FOR INTERNATIONAL AFFAIRS (WESTERN HEMISPHERE). DEPUTY ASSISTANT SECRETARY FOR CYBER. DEPUTY ASSISTANT SECRETARY FOR UNITY OF EFFORT INTEGRATION. DEPUTY ASSISTANT SECRETARY FOR IMMIGRATION STATISTICS.
|  | DEPARTMENT OF HOMELAND SECURITY (DHS) ATTACHE TO CENTRAL AMERICA.
|  | EXECUTIVE DIRECTOR, JOINT CYBER COORDINATION GROUP.
| OFFICE OF THE GENERAL COUNSEL | DEPUTY ASSOCIATE GENERAL COUNSEL FOR GENERAL LAW. CHIEF OF STAFF/MANAGING COUNSEL. LEGAL ADVISOR OF ETHICS/ALTERNATE DESIGNATED AGENCY ETHICS OFFICIAL. DEPUTY ASSOCIATE GENERAL COUNSEL FOR ACQUISITION AND PROCUREMENT.
| OFFICE OF THE SECRETARY | SENIOR DEPARTMENT OF HOMELAND SECURITY ADVISOR TO THE COMMANDER, UNITED STATES NORTHERN COMMAND/NORTH AMERICAN AEROSPACE DEFENSE COMMAND. DEPARTMENT OF HOMELAND SECURITY (DHS) ADVISOR TO THE DEPARTMENT OF DEFENSE (DOD).
| SCIENCE AND TECHNOLOGY DIRECTORATE | DIRECTOR, TEST AND EVALUATION DIVISION. TECHNICAL DIRECTOR, TECHNOLOGY CENTERS. PRINCIPAL DIRECTOR, OFFICE OF SCIENCE AND ENGINEERING. DIRECTOR, SYSTEMS ENGINEERING AND STANDARDS.
|  | DIRECTOR, FINANCE AND BUDGET DIVISION.
|  | DIRECTOR, TECHNOLOGY CENTERS.
|  | DIRECTOR, OFFICE FOR STRATEGY AND POLICY.
|  | DIRECTOR, TECHNOLOGY TRANSITION.
|  | DIRECTOR, OPERATIONS AND REQUIREMENTS ANALYSIS.
|  | SENIOR ADVISOR TO THE DEPUTY UNDER SECRETARY FOR SCIENCE AND TECHNOLOGY.
|  | CHIEF SCIENTIST.
|  | SENIOR COUNSELOR FOR RESILIENCE.
|  | PRINCIPAL DIRECTOR, OFFICE OF ENTERPRISE SERVICES.
|  | PRINCIPAL DIRECTOR, OFFICE OF INNOVATION AND COLLABORATION.
|  | SENIOR ADVISOR FOR INTERAGENCY COORDINATION.
| UNITED STATES CITIZENSHIP AND IMMIGRATION SERVICES | DIRECTOR, NATIONAL RECORDS CENTER. DEPUTY DIRECTOR, SERVICE CENTER, LAGUNA NIGUEL, CALIFORNIA. DEPUTY DIRECTOR, SERVICE CENTER, DALLAS, TEXAS. CHIEF, INTERNATIONAL OPERATIONS.
|  | DISTRICT DIRECTOR, FIELD SERVICES, TAMPA, FLORIDA.
|  | DISTRICT DIRECTOR, FIELD SERVICES, NEWARK, NEW JERSEY.
|  | DISTRICT DIRECTOR, FIELD SERVICES, ATLANTA, GEORGIA.
|  | CHIEF, OFFICE OF SECURITY AND INTEGRITY.
|  | ASSOCIATE DIRECTOR, IMMIGRATION RECORDS AND IDENTITY SERVICES DIVISION.
|  | DEPUTY ASSOCIATE DIRECTOR, REFUGEE, ASYLUM, AND INTERNATIONAL OPERATIONS.
|  | ASSOCIATE DIRECTOR, SERVICE CENTER OPERATIONS.
|  | DEPUTY DIRECTOR, SERVICE CENTER, LINCOLN, NEBRASKA.
|  | CHIEF FINANCIAL OFFICER.
|  | DIRECTOR, SERVICE CENTER, LINCOLN, NEBRASKA.
|  | DIRECTOR, SERVICE CENTER, LAGUNA NIGUEL, CALIFORNIA.
|  | DIRECTOR, SERVICE CENTER, DALLAS, TEXAS.
|  | DIRECTOR, VERMONT SERVICE CENTER, SAINT ALBANS, VERMONT.
|  | CENTRAL REGIONAL DIRECTOR (DALLAS, TEXAS).
|  | DISTRICT DIRECTOR, FIELD SERVICES, MIAMI, FLORIDA.
|  | DEPUTY ASSOCIATE DIRECTOR, OFFICE OF FIELD OPERATIONS.
|  | DIRECTOR, OFFICE OF REFUGEE AFFAIRS.
|  | CHIEF, PERFORMANCE AND QUALITY.
|  | CHIEF INFORMATION OFFICER.
|  | ASSOCIATE DIRECTOR, OFFICE OF MANAGEMENT.
|  | ASSOCIATE DIRECTOR, FRAUD DETECTION AND NATIONAL SECURITY.
|  | WESTERN REGIONAL DIRECTOR (LAGUNA NIGUEL, CALIFORNIA).
|  | NORTHEAST REGIONAL DIRECTOR (BURLINGTON, VERMONT).
|  | CHIEF, INTAKE AND DOCUMENT PRODUCTION.
|  | CHIEF, ASYLUM DIVISION.
|  | DISTRICT DIRECTOR, FIELD SERVICES, NEW YORK CITY, NEW YORK.
|  | DEPUTY ASSOCIATE DIRECTOR, IMMIGRATION RECORDS AND IDENTITY SERVICES DIVISION.
|  | DEPUTY CHIEF INFORMATION OFFICER.
|  | CHIEF, HUMAN CAPITAL AND TRAINING.
|  | DEPUTY GENERAL COUNSEL.
|  | ASSOCIATE DIRECTOR, REFUGEE, ASYLUM AND INTERNATIONAL OPERATIONS.
|  | DEPUTY ASSOCIATE DIRECTOR, FRAUD DETECTION AND NATIONAL SECURITY.
|  | DISTRICT DIRECTOR, FIELD SERVICES (CLEVELAND, OH).
|  | DISTRICT DIRECTOR, FIELD SERVICES (SAN ANTONIO, TX).
|  | CHIEF, IDENTIFY AND INFORMATION MANAGEMENT DIVISION.
|  | COMPONENT ACQUISITION EXECUTIVE.
|  | DEPUTY DIRECTOR, POTOMAC SERVICE CENTER.
|  | DIRECTOR, POTOMAC SERVICE CENTER.
|  | DISTRICT DIRECTOR, FIELD SERVICES, DALLAS, TEXAS.
|  | CHIEF DATA OFFICER.
|  | DEPUTY CHIEF FINANCIAL OFFICER.
|  | DEPUTY CHIEF INFORMATION OFFICE FOR OPERATIONS.
|  | DISTRICT DIRECTOR, WASHINGTON, DC.
|  | CHIEF, OFFICE OF CONTRACTING.
|  | DISTRICT DIRECTOR, FIELD OPERATIONS (SEATTLE, WA).
|  | DISTRICT DIRECTOR, FIELD SERVICES (SAN DIEGO, CA).
|  | DISTRICT DIRECTOR, FIELD SERVICES (KANSAS CITY, MO).
|  | DEPUTY ASSOCIATE DIRECTOR, SERVICE CENTER OPERATIONS.
|  | CHIEF, IMMIGRANT AND INVESTOR PROGRAM.
|  | DEPUTY CHIEF OFFICE OF SECURITY AND INTEGRITY.
|  | DEPUTY ASSOCIATE DIRECTOR, OFFICE OF MANAGEMENT.
|  | DEPUTY ASSOCIATE DIRECTOR, EXTERNAL AFFAIRS DIRECTORATE.
|  | DEPUTY CHIEF COUNSEL FOR FIELD MANAGEMENT.
|  | DEPUTY DIRECTOR, SERVICE CENTER, SAINT ALBANS, VERMONT.
|  | ASSOCIATE DIRECTOR, FIELD OPERATIONS.
|  | CHIEF, ADMINISTRATIVE APPEALS.
|  | CHIEF, VERIFICATION DIVISION.
|  | DISTRICT DIRECTOR, FIELD SERVICES, BOSTON, MASSACHUSETTS.
|  | DISTRICT DIRECTOR, FIELD SERVICES, CHICAGO, ILLINOIS.
|  | CHIEF STRATEGY OFFICER, OFFICE OF POLICY AND STRATEGY.
|  | CHIEF, OFFICE OF ADMINISTRATION.
|  | DIRECTOR, NATIONAL BENEFITS CENTER.
|  | DISTRICT DIRECTOR, FIELD SERVICES, LOS ANGELES CALIFORNIA.
|  | DISTRICT DIRECTOR, FIELD SERVICES, SAN FRANCISCO CALIFORNIA.
|  | REGIONAL DIRECTOR, SOUTHEAST REGION.
|  | DEPUTY DIRECTOR, NATIONAL BENEFITS CENTER.
| UNITED STATES CUSTOMS AND BORDER PROTECTION | EXECUTIVE ASSISTANT COMMISSIONER, FIELD OPERATIONS. DEPUTY EXECUTIVE ASSISTANT COMMISSIONER, FIELD OPERATIONS. DEPUTY CHIEF (DEPUTY EXECUTIVE ASSISTANT COMMISSIONER), BORDER PATROL. EXECUTIVE DIRECTOR, OPERATIONS.
|  | DIRECTOR, FIELD OPERATIONS (SEATTLE).
|  | DIRECTOR, FIELD OPERATIONS (DETROIT).
|  | DIRECTOR, FIELD OPERATIONS (BUFFALO).
|  | DEPUTY ASSISTANT COMMISSIONER, OFFICE OF TRAINING AND DEVELOPMENT.
|  | DEPUTY CHIEF PATROL AGENT, RIO GRANDE VALLEY.
|  | ASSISTANT COMMISSIONER, ACQUISITION, CHIEF ACQUISITION OFFICER.
|  | DEPUTY CHIEF PATROL AGENT, EL PASO.
|  | PORT DIRECTOR, JOHN F. KENNEDY AIRPORT.
|  | EXECUTIVE DIRECTOR, PLANNING, PROGRAM ANALYSIS AND EVALUATION.
|  | DEPUTY CHIEF COUNSEL.
|  | EXECUTIVE DIRECTOR, INTELLIGENCE AND ANALYSIS.
|  | EXECUTIVE DIRECTOR, CYBERSECURITY OPERATIONS AND POLICY.
|  | DEPUTY COMMISSIONER.
|  | ASSISTANT COMMISSIONER, HUMAN RESOURCES MANAGEMENT.
|  | DEPUTY ASSISTANT COMMISSIONER, HUMAN RESOURCES MANAGEMENT.
|  | EXECUTIVE DIRECTOR, HUMAN RESOURCES POLICY AND PROGRAMS.
|  | ASSISTANT COMMISSIONER, FACILITIES AND ASSET MANAGEMENT, CHIEF READINESS SUPPORT OFFICER.
|  | ASSISTANT COMMISSIONER, TRAINING AND DEVELOPMENT.
|  | EXECUTIVE ASSISTANT COMMISSIONER, OFFICE OF TRADE.
|  | EXECUTIVE DIRECTOR, REGULATORY AUDIT.
|  | EXECUTIVE DIRECTOR, REGULATIONS AND RULINGS.
|  | ASSISTANT COMMISSIONER, FINANCE, CHIEF FINANCIAL OFFICER.
|  | EXECUTIVE DIRECTOR, BUDGET.
|  | ASSISTANT COMMISSIONER, INFORMATION AND TECHNOLOGY.
|  | EXECUTIVE DIRECTOR, LABORATORIES AND SCIENTIFIC SERVICES.
|  | ASSISTANT COMMISSIONER, OFFICE OF PROFESSIONAL RESPONSIBILITY.
|  | DIRECTOR, FIELD OPERATIONS (NEW YORK).
|  | CHIEF ACCOUNTABILITY OFFICER.
|  | PORT DIRECTOR, NEWARK.
|  | PORT DIRECTOR, MIAMI INTERNATIONAL AIRPORT.
|  | DIRECTOR, FIELD OPERATIONS (MIAMI).
|  | DIRECTOR, FIELD OPERATIONS (CHICAGO).
|  | DIRECTOR, FIELD OPERATIONS (LOS ANGELES).
|  | DIRECTOR, FIELD OPERATIONS (HOUSTON).
|  | DIRECTOR, FIELD OPERATIONS (LAREDO).
|  | DIRECTOR, FIELD OPERATIONS (SAN DIEGO).
|  | DEPUTY EXECUTIVE ASSISTANT COMMISSIONER, AIR AND MARINE.
|  | CHIEF (EXECUTIVE ASSISTANT COMMISSIONER), UNITED STATES BORDER PATROL.
|  | CHIEF PATROL AGENT, LAREDO.
|  | DIRECTOR, FIELD OPERATIONS (SAN FRANCISCO).
|  | CHIEF PATROL AGENT (EL PASO).
|  | CHIEF PATROL AGENT, SAN DIEGO.
|  | DEPUTY EXECUTIVE DIRECTOR, PROGRAM MANAGEMENT.
|  | DIRECTOR, FIELD OPERATIONS (EL PASO).
|  | ASSOCIATE CHIEF COUNSEL—ENFORCEMENT.
|  | ASSOCIATE CHIEF COUNSEL—TRADE AND FINANCE.
|  | ASSOCIATE CHIEF COUNSEL FOR ETHICS, LABOR, AND EMPLOYMENT.
|  | ASSOCIATE CHIEF COUNSEL—SOUTHEAST.
|  | ASSOCIATE CHIEF COUNSEL—NEW YORK.
|  | ASSOCIATE CHIEF COUNSEL—CHICAGO.
|  | ASSOCIATE CHIEF COUNSEL—HOUSTON.
|  | ASSOCIATE CHIEF COUNSEL—LOS ANGELES.
|  | DEPUTY ASSISTANT COMMISSIONER, FINANCE.
|  | EXECUTIVE DIRECTOR, NATIONAL TARGETING CENTER.
|  | PORT DIRECTOR, SAN FRANCISCO.
|  | DIRECTOR, FIELD OPERATIONS (TUCSON).
|  | DIRECTOR, FIELD OPERATIONS (SAN JUAN).
|  | DIRECTOR, FIELD OPERATIONS (BOSTON).
|  | PORT DIRECTOR, LOS ANGELES AIRPORT.
|  | EXECUTIVE DIRECTOR, PLANNING, PROGRAM ANALYSIS, AND EVALUATION.
|  | DEPUTY EXECUTIVE ASSISTANT COMMISSIONER, OFFICE OF TRADE.
|  | CHIEF PATROL AGENT (TUCSON).
|  | PORT DIRECTOR, LOS ANGELES/LONG BEACH SEAPORT.
|  | PORT DIRECTOR (EL PASO).
|  | DEPUTY ASSISTANT COMMISSIONER, INFORMATION AND TECHNOLOGY.
|  | EXECUTIVE DIRECTOR, PROCUREMENT.
|  | EXECUTIVE DIRECTOR, AGRICULTURE PROGRAMS AND TRADE LIAISON.
|  | EXECUTIVE DIRECTOR, MISSION SUPPORT.
|  | DEPUTY EXECUTIVE ASSISTANT COMMISSIONER, OPERATIONS SUPPORT.
|  | DEPUTY ASSISTANT COMMISSIONER, FACILITIES AND ASSET MANAGEMENT.
|  | EXECUTIVE DIRECTOR, MISSION READINESS OPERATIONS DIRECTORATE.
|  | EXECUTIVE DIRECTOR, ENTERPRISE NETWORKS AND TECHNOLOGY SUPPORT.
|  | CHIEF, LAW ENFORCEMENT OPERATIONS, OFFICE OF BORDER PATROL.
|  | DIRECTOR, FIELD OPERATIONS (ATLANTA).
|  | EXECUTIVE DIRECTOR, CARGO AND CONVEYANCE SECURITY.
|  | EXECUTIVE DIRECTOR, PLANNING, ANALYSIS AND REQUIREMENTS EVALUATION (PARE).
|  | EXECUTIVE ASSISTANT COMMISSIONER, AIR AND MARINE.
|  | CHIEF PATROL AGENT (DEL RIO).
|  | EXECUTIVE DIRECTOR, ADMISSIBILITY AND PASSENGER PROGRAMS.
|  | CHIEF PATROL AGENT, RIO GRANDE VALLEY.
|  | CHIEF PATROL AGENT, YUMA, ARIZONA.
|  | EXECUTIVE DIRECTOR, TARGETING AND ANALYSIS SYSTEMS.
|  | EXECUTIVE DIRECTOR, ENTERPRISE DATA MANAGEMENT AND ENGINEERING.
|  | DEPUTY CHIEF, LAW ENFORCEMENT OPERATIONAL PROGRAMS, OFFICE OF BORDER PATROL.
|  | EXECUTIVE DIRECTOR, CARGO SYSTEMS.
|  | EXECUTIVE DIRECTOR, COMMERCIAL TARGETING AND ENFORCEMENT.
|  | DEPUTY ASSISTANT COMMISSIONER, OFFICE OF PROFESSIONAL RESPONSIBILITY.
|  | DEPUTY CHIEF, LAW ENFORCEMENT OPERATIONS, OFFICE OF BORDER PATROL.
|  | EXECUTIVE DIRECTOR, MISSION SUPPORT, OFFICE OF CUSTOMS AND BORDER PROTECTION (CBP) AIR AND MARINE.
|  | EXECUTIVE ASSISTANT COMMISSIONER, ENTERPRISE SERVICES.
|  | EXECUTIVE DIRECTOR, TRADE POLICY AND PROGRAMS.
|  | EXECUTIVE DIRECTOR, OPERATIONS, AIR AND MARINE.
|  | CHIEF, STRATEGIC PLANNING AND ANALYSIS.
|  | DEPUTY ASSISTANT COMMISSIONER, OFFICE OF INTELLIGENCE.
|  | EXECUTIVE DIRECTOR, FIELD SUPPORT.
|  | EXECUTIVE DIRECTOR, TRAINING, SAFETY AND STANDARDS.
|  | EXECUTIVE DIRECTOR, NATIONAL AIR SECURITY OPERATIONS, AIR AND MARINE.
|  | EXECUTIVE DIRECTOR, PASSENGER SYSTEMS PROGRAM OFFICE.
|  | DIRECTOR OF OPERATIONS, SOUTHWEST BORDER, EL PASO, NEW MEXICO.
|  | EXECUTIVE DIRECTOR, AIR AND MARINE OPERATIONS CENTER, RIVERSIDE, OFFICE OF CUSTOMS AND BORDER PROTECTION (CBP) AIR AND MARINE.
|  | DIRECTOR OF OPERATIONS, SOUTHEASTERN REGION, MIAMI, FL.
|  | PORT DIRECTOR, LAREDO.
|  | EXECUTIVE DIRECTOR, FINANCIAL OPERATIONS.
|  | DIRECTOR OF OPERATIONS, NORTHERN REGION, WDC, (CBP) AMO.
|  | EXECUTIVE DIRECTOR, PROGRAM MANAGEMENT OFFICE.
|  | DEPUTY CHIEF PATROL AGENT, SAN DIEGO.
|  | CHIEF PATROL AGENT, EL CENTRO, CALIFORNIA.
|  | DEPUTY CHIEF PATROL AGENT, TUCSON.
|  | PORT DIRECTOR, SAN YSIDRO.
|  | DEPUTY ASSISTANT COMMISSIONER, OFFICE OF ACQUISITION.
|  | EXECUTIVE DIRECTOR, TALENT MANAGEMENT.
|  | DEPUTY EXECUTIVE ASSISTANT COMMISSIONER, ENTERPRISE SERVICES.
|  | DIRECTOR, FIELD OPERATIONS (PRECLEARANCE).
|  | DEPUTY ASSISTANT COMMISSIONER, INTERNATIONAL AFFAIRS.
|  | EXECUTIVE DIRECTOR, ACQUISITION MANAGEMENT.
|  | EXECUTIVE DIRECTOR, AUTOMATED COMMERCIAL ENVIRONMENT (ACE) BUSINESS OFFICE.
|  | ASSISTANT COMMISSIONER, OFFICE OF INTELLIGENCE.
|  | DIRECTOR, NATIONAL TARGETING CENTER (PASSENGER).
|  | CHIEF PATROL AGENT (DETROIT).
|  | CHIEF PATROL AGENT (BIG BEND).
|  | EXECUTIVE DIRECTOR, PRIVACY AND DIVERSITY.
|  | ASSISTANT COMMISSIONER, INTERNATIONAL AFFAIRS.
|  | EXECUTIVE DIRECTOR, INTELLIGENCE OPERATIONS.
|  | DIRECTOR, JOINT TASK FORCE (JTF)—WEST, SAN ANTONIO, TX.
|  | DIRECTOR, LEADERSHIP DEVELOPMENT CENTER.
|  | DIRECTOR, NATIONAL TARGETING CENTER (CARGO).
|  | DEPUTY JOINT FIELD COMMANDER, EAST.
|  | DIRECTOR, COUNTER NETWORK.
|  | EXECUTIVE ASSISTANT COMMISSIONER, OPERATIONS SUPPORT.
|  | EXECUTIVE DIRECTOR, BORDER ENFORCEMENT AND MANAGEMENT SYSTEMS.
|  | ASSOCIATE CHIEF COUNSEL (TUCSON).
|  | DIRECTOR, FIELD OPERATIONS (BALTIMORE).
|  | PORT DIRECTOR, BUFFALO.
|  | PORT DIRECTOR, CALEXICO, CA.
|  | PORT DIRECTOR, NOGALES, AZ.
|  | EXECUTIVE DIRECTOR, PROGRAMMING.
|  | EXECUTIVE DIRECTOR, INVESTIGATIVE OPERATIONS.
|  | CHIEF PATROL AGENT, GRAND FORKS.
|  | CHIEF PATROL AGENT, MIAMI.
|  | EXECUTIVE DIRECTOR, INTERGOVERNMENTAL PUBLIC LIAISON.
|  | EXECUTIVE DIRECTOR, SECURITY OPERATIONS.
|  | CHIEF PATROL AGENT, BLAINE.
|  | EXECUTIVE DIRECTOR, INTELLIGENCE ENTERPRISE.
|  | PORT DIRECTOR (OTAY MESA).
|  | EXECUTIVE DIRECTOR, OPERATIONS.
|  | EXECUTIVE DIRECTOR, FIELD OPERATIONS ACADEMY.
|  | DEPUTY CHIEF PATROL AGENT (LAREDO).
|  | DEPUTY EXECUTIVE DIRECTOR, OPERATIONS.
|  | EXECUTIVE DIRECTOR, MISSION SUPPORT.
|  | DIRECTOR, BORDER PATROL ACADEMY.
|  | EXECUTIVE DIRECTOR, LAW ENFORCEMENT SAFETY AND COMPLIANCE.
| UNITED STATES IMMIGRATION AND CUSTOMS ENFORCEMENT | DEPUTY ASSISTANT DIRECTOR, INVESTIGATIONS (ILLICIT TRADE, TRAVEL, AND FINANCE). ASSISTANT DIRECTOR, INTERNATIONAL OPERATIONS. ASSISTANT DIRECTOR, INTELLIGENCE, HOMELAND SECURITY INVESTIGATIONS. SPECIAL AGENT IN CHARGE (MIAMI).
|  | ASSISTANT DIRECTOR, NATIONAL SECURITY INVESTIGATIONS.
|  | SPECIAL AGENT IN CHARGE (NEW YORK).
|  | DEPUTY DIRECTOR, OFFICE OF HOMELAND SECURITY INVESTIGATIONS.
|  | FIELD OFFICE DIRECTOR, OFFICE OF ENFORCEMENT AND REMOVAL, DALLAS, TEXAS.
|  | SPECIAL AGENT IN CHARGE, DALLAS.
|  | SPECIAL AGENT IN CHARGE, SAN FRANCISCO.
|  | FIELD OFFICE DIRECTOR, OFFICE OF ENFORCEMENT AND REMOVAL, SAN FRANCISCO, CA.
|  | DEPUTY ASSISTANT SECRETARY FOR IMMIGRATION AND CUSTOMS ENFORCEMENT.
|  | DEPUTY ASSISTANT DIRECTOR, OFFICE OF INVESTIGATIONS (WEST).
|  | SPECIAL AGENT IN CHARGE, PHOENIX.
|  | SPECIAL AGENT IN CHARGE, EL PASO.
|  | FIELD OFFICE DIRECTOR, OFFICE OF ENFORCEMENT AND REMOVAL OPERATIONS, PHILADELPHIA, PENNSYLVANIA.
|  | DEPUTY ASSISTANT DIRECTOR, FIELD OPERATIONS (INTERNATIONAL), ERO.
|  | FIELD OFFICE DIRECTOR, OFFICE OF ENFORCEMENT AND REMOVAL, ST. PAUL, MN.
|  | FIELD OFFICE DIRECTOR, OFFICE OF ENFORCEMENT AND REMOVAL, SEATTLE, ERO.
|  | SPECIAL AGENT IN CHARGE, CHICAGO.
|  | SPECIAL AGENT IN CHARGE, HOUSTON.
|  | SPECIAL AGENT IN CHARGE, LOS ANGELES.
|  | SPECIAL AGENT IN CHARGE, NEW ORLEANS.
|  | SPECIAL AGENT IN CHARGE, SAN ANTONIO.
|  | SPECIAL AGENT IN CHARGE, SAN DIEGO.
|  | ASSISTANT DIRECTOR, OFFICE OF PROFESSIONAL RESPONSIBILITY.
|  | SPECIAL AGENT IN CHARGE (SAC), NASHVILLE, TN.
|  | SPECIAL AGENT IN CHARGE, BALTIMORE.
|  | SPECIAL AGENT IN CHARGE, DENVER.
|  | DIRECTOR, FACILITIES AND ASSET ADMINISTRATION.
|  | DEPUTY ASSISTANT DIRECTOR, DOMESTIC OPERATIONS.
|  | FIELD OFFICE DIRECTOR, OFFICE OF ENFORCEMENT AND REMOVAL OPERATIONS, PHOENIX, ARIZONA.
|  | FIELD OFFICE DIRECTOR, OERO, LOS ANGELES, CALIFORNIA.
|  | FIELD OFFICE DIRECTOR, OFFICE OF ERO, NEW YORK.
|  | SPECIAL AGENT IN CHARGE, SAINT PAUL, MINNESOTA.
|  | SPECIAL AGENT IN CHARGE, TAMPA, FLORIDA.
|  | CHIEF FINANCIAL OFFICER.
|  | ASSISTANT DIRECTOR, ENFORCEMENT AND REMOVAL OPERATIONS, REPATRIATION DIVISION.
|  | DIRECTOR, FINANCIAL MANAGEMENT.
|  | DEPUTY CHIEF FINANCIAL OFFICER.
|  | ASSISTANT DIRECTOR, U.S. IMMIGRATION AND CUSTOMS ENFORCEMENT SERVICES HEALTH CORPS.
|  | DEPUTY ASSISTANT DIRECTOR, OFFICE OF PROFESSIONAL RESPONSIBILITY
|  | DIVISION DIRECTOR FOR INVESTIGATIONS, OFFICE OF PROFESSIONAL RESPONSIBILITY.
|  | ASSISTANT DIRECTOR, OFFICE OF LEADERSHIP AND CAREER DEVELOPMENT.
|  | ASSISTANT DIRECTOR, INFORMATION GOVERNANCE AND PRIVACY.
|  | DEPUTY PRINCIPAL LEGAL ADVISOR FOR FIELD OPERATIONS.
|  | DEPUTY PRINCIPAL LEGAL ADVISOR FOR GENERAL AND ADMINISTRATIVE LAW.
|  | DEPUTY DIRECTOR, ENFORCEMENT AND REMOVAL OPERATIONS.
|  | DEPUTY ASSISTANT DIRECTOR, CYBER DIVISION.
|  | FIELD OFFICE DIRECTOR, OFFICE OF ENFORCEMENT AND REMOVAL OPERATIONS, SAN DIEGO, CALIFORNIA.
|  | FIELD OFFICE DIRECTOR, OFFICE OF ENFORCEMENT AND REMOVAL OPERATIONS, SAN ANTONIO, TEXAS.
|  | ASSISTANT DIRECTOR, OPERATIONS SUPPORT, OFFICE OF ENFORCEMENT AND REMOVAL OPERATIONS.
|  | ASSISTANT DIRECTOR, ENFORCEMENT AND REMOVAL OPERATIONS, CUSTODY OPERATIONS DIVISION.
|  | ASSISTANT DIRECTOR, OFFICE OF INVESTIGATIONS (DOMESTIC OPERATIONS).
|  | DEPUTY ASSISTANT DIRECTOR, FIELD OPERATIONS (DOMESTIC OPERATIONS—WEST), OFFICE OF ENFORCEMENT AND REMOVAL OPERATIONS.
|  | DEPUTY CHIEF HUMAN CAPITAL OFFICER FOR STRATEGY AND SERVICES.
|  | DEPUTY PRINCIPAL LEGAL ADVISOR.
|  | DIRECTOR, OFFICE OF HOMELAND SECURITY INVESTIGATIONS.
|  | DEPUTY EXECUTIVE ASSOCIATE DIRECTOR, MANAGEMENT AND ADMINISTRATION.
|  | DEPUTY DIRECTOR, INTERNATIONAL CRIMINAL POLICE ORGANIZATION (INTERPOL).
|  | DEPUTY ASSISTANT DIRECTOR, OFFICE OF INVESTIGATIONS (EAST).
|  | ASSISTANT DIRECTOR, DIVERSITY AND CIVIL RIGHTS.
|  | DEPUTY ASSISTANT DIRECTOR, CRITICAL INFRASTRUCTURE, PROTECTION, AND FRAUD.
|  | DIRECTOR, BUDGET AND PROGRAM PERFORMANCE.
|  | CHIEF HUMAN CAPITAL OFFICER.
|  | EXECUTIVE DIRECTOR, MANAGEMENT AND ADMINISTRATION.
|  | ASSISTANT DIRECTOR, ENFORCEMENT DIVISION, OFFICE OF ENFORCEMENT AND REMOVAL OPERATIONS.
|  | ASSISTANT DIRECTOR, OFFICE OF ACQUISITIONS.
|  | CHIEF INFORMATION OFFICER.
|  | ASSISTANT DIRECTOR, ENFORCEMENT AND REMOVAL OPERATIONS, FIELD OPERATIONS.
|  | SPECIAL AGENT IN CHARGE, ATLANTA.
|  | SPECIAL AGENT IN CHARGE, WASHINGTON, DC.
|  | DEPUTY ASSISTANT DIRECTOR, INTERNATIONAL OPERATIONS.
|  | >DEPUTY ASSISTANT DIRECTOR, MISSION SUPPORT.
|  | ASSISTANT DIRECTOR, OPERATIONS SUPPORT.
|  | DIRECTOR OF ENFORCEMENT AND LITIGATION.
|  | DIRECTOR, OFFICE OF ENFORCEMENT AND REMOVAL OPERATIONS.
|  | SPECIAL AGENT IN CHARGE (SEATTLE).
|  | DEPUTY ASSISTANT DIRECTOR, FIELD OPERATIONS (DOMESTIC OPERATIONS - EAST).
|  | DEPUTY ASSISTANT DIRECTOR, TRANSNATIONAL ORGANIZED CRIME DIVISION TWO.
|  | ASSISTANT DIRECTOR, SECURITY DIVISION.
|  | DEPUTY ASSISTANT DIRECTOR, INTELLIGENCE, HOMELAND SECURITY INVESTIGATIONS.
|  | DEPUTY HEAD OF CONTRACTING ACTIVITY.
|  | DEPUTY ASST. DIRECTOR, DETENTION & MANAGEMENT DIVISION (DMD), ERO.
|  | CHIEF COUNSEL, NEW ORLEANS.
|  | SPECIAL AGENT IN CHARGE (KANSAS CITY).
|  | SPECIAL AGENT IN CHARGE, NEWARK, NEW JERSEY.
|  | SPECIAL AGENT IN CHARGE, BOSTON, MASSACHUSETTS.
|  | SPECIAL AGENT IN CHARGE, PHILADELPHIA, PENNSYLVANIA.
|  | SPECIAL AGENT IN CHARGE, BUFFALO, NEW YORK.
|  | SPECIAL AGENT IN CHARGE, SAN JUAN, PUERTO RICO.
|  | COMPONENT ACQUISITION EXECUTIVE.
|  | SPECIAL AGENT IN CHARGE, HONOLULU, HI.
|  | FIELD OFFICE DIRECTOR, OFFICE OF ENFORCEMENT AND REMOVAL, DENVER, CO.
|  | FIELD OFFICE DIRECTOR, OFFICE OF ENFORCEMENT AND REMOVAL, BUFFALO, NY.
|  | DEPUTY ASSISTANT DIRECTOR NATIONAL SECURITY PROGRAMS.
|  | FIELD OFFICE DIRECTOR, OFFICE OF ENFORCEMENT AND REMOVAL, BOSTON, MA.
|  | CHIEF COUNSEL, PHOENIX.
|  | CHIEF COUNSEL, CHICAGO.
|  | CHIEF COUNSEL, SAN ANTONIO.
|  | CHIEF COUNSEL, NEW YORK.
|  | FIELD OFFICE DIRECTOR, OFFICE OF ENFORCEMENT AND REMOVAL, EL PASO, TEXAS.
|  | FIELD OFFICE DIRECTOR, OFFICE OF ENFORCEMENT AND REMOVAL, ATLANTA, GEORGIA.
|  | FIELD OFFICE DIRECTOR, OFFICE OF ENFORCEMENT AND REMOVAL, CHICAGO, ILLINOIS.
|  | FIELD OFFICE DIRECTOR, OFFICE OF ENFORCEMENT AND REMOVAL, HOUSTON, TEXAS.
|  | ASSISTANT DIRECTOR, INTELLECTUAL PROPERTY RIGHTS CENTER.
|  | ASSISTANT DIRECTOR, OPERATIONAL TECHNOLOGY AND CYBER DIVISION.
|  | DEPUTY CHIEF HUMAN CAPITAL OFFICER FOR OPERATIONS.
|  | SPECIAL AGENT IN CHARGE, DETROIT.
|  | DEPUTY CHIEF INFORMATION OFFICER.
|  | ASSISTANT DIRECTOR, ENFORCEMENT AND REMOVAL OPERATIONS, TARGETING OPERATIONS DIVISION.
|  | DIRECTOR, FEDERAL EXPORT ENFORCEMENT COORDINATION CENTER.
|  | CHIEF COUNSEL, MIAMI.
|  | CHIEF COUNSEL FOR LOS ANGELES.
|  | ASSISTANT DIRECTOR, OFFICE OF INVESTIGATIONS.
|  | ASSISTANT DIRECTOR, INSPECTIONS AND DETENTION OVERSIGHT DIVISION.
|  | ASSISTANT DIRECTOR, HOMELAND SECURITY INVESTIGATIVE PROGRAMS.
|  | FIELD OFFICE DIRECTOR, OFFICE OF ENFORCEMENT AND REMOVAL OPERATIONS, MIAMI, FLORIDA.
|  | FIELD OFFICE DIRECTOR, OFFICE OF ENFORCEMENT AND REMOVAL, NEW ORLEANS, LOUISIANA.
|  | DEPUTY ASSISTANT DIRECTOR, STUDENT AND EXCHANGE VISITOR PROGRAM.
| UNITED STATES COAST GUARD | DIRECTOR, ASSISTANT COMMANDANT FOR HUMAN RESOURCES. DEPUTY ASSISTANT COMMANDANT FOR CAPABILITY. DIRECTOR OF FINANCIAL OPERATIONS/COMPTROLLER. DEPUTY ASSISTANT COMMANDANT FOR HUMAN RESOURCES.
|  | DIRECTOR, INCIDENT MANAGEMENT AND PREPAREDNESS POLICY.
|  | DIRECTOR, COAST GUARD INVESTIGATIVE SERVICE.
|  | HEAD OF CONTRACTING ACTIVITY.
|  | DEPUTY ASSISTANT COMMANDANT FOR ACQUISITION/DIRECTOR OF ACQUISITION SERVICES.
|  | DIRECTOR, NATIONAL POLLUTION FUNDS CENTER.
|  | ASSISTANT JUDGE ADVOCATE GENERAL FOR ACQUISITION AND LITIGATION.
|  | DIRECTOR, MARINE TRANSPORTATION SYSTEM MANAGEMENT.
|  | DEPUTY ASSISTANT COMMANDANT FOR INTELLIGENCE.
|  | DEPUTY ASSISTANT COMMANDANT FOR COMMAND, CONTROL, COMMUNICATIONS, COMPUTERS AND INFORMATION TECHNOLOGY/DEPUTY CHIEF INFORMATION OFFICER.
|  | DEPUTY ASSISTANT COMMANDANT FOR RESOURCES AND DEPUTY CHIEF FINANCIAL OFFICER.
|  | DEPUTY DIRECTOR OF ACQUISITION PROGRAMS.
| UNITED STATES SECRET SERVICE | DEPUTY ASSISTANT DIRECTOR, ENTERPRISE READINESS OFFICE. DEPUTY ASSISTANT DIRECTOR, INVESTIGATIONS. DEPUTY ASSISTANT DIRECTOR, OFFICE OF HUMAN RESOURCES. DEPUTY ASSISTANT DIRECTOR, OFFICE OF PROTECTIVE OPERATIONS.
|  | DEPUTY ASSISTANT DIRECTOR, OFFICE OF PROTECTIVE OPERATIONS.
|  | ASSISTANT DIRECTOR, OFFICE OF TRAINING.
|  | CHIEF OPERATING OFFICER.
|  | DIRECTOR OF COMMUNICATIONS (MEDIA AFFAIRS).
|  | CHIEF OF STAFF.
|  | ASSISTANT DIRECTOR—OFFICE OF INTERGOVERNMENTAL AND LEGISLATIVE AFFAIRS.
|  | COMPONENT ACQUISITION EXECUTIVE.
|  | ASSISTANT DIRECTOR, OFFICE OF STRATEGIC INTELLIGENCE AND INFORMATION.
|  | DEPUTY ASSISTANT DIRECTOR, STRATEGIC INTELLIGENCE AND INFORMATION.
|  | SPECIAL AGENT IN CHARGE, PARIS FIELD OFFICE.
|  | SPECIAL AGENT IN CHARGE—MIAMI FIELD OFFICE.
|  | DEPUTY CHIEF COUNSEL/PRINCIPAL ETHICS OFFICIAL.
|  | EQUITY AND EMPLOYEE SUPPORT SERVICES EXECUTIVE.
|  | SPECIAL AGENT IN CHARGE—CRIMINAL INVESTIGATIVE DIVISION.
|  | SPECIAL AGENT IN CHARGE—ROWLEY TRAINING CENTER.
|  | SPECIAL AGENT IN CHARGE—ROME.
|  | SPECIAL AGENT IN CHARGE, PROTECTIVE INTELLIGENCE AND ASSESSMENT DIVISION.
|  | DEPUTY ASSISTANT DIRECTOR, PROTECTIVE OPERATIONS.
|  | DEPUTY ASSISTANT DIRECTOR, OFFICE OF PROTECTIVE OPERATIONS.
|  | SPECIAL AGENT IN CHARGE - PHILADELPHIA FIELD OFFICE.
|  | DEPUTY ASSISTANT DIRECTOR—OFFICE OF INVESTIGATIONS.
|  | SPECIAL AGENT IN CHARGE, CHICAGO FIELD OFFICE.
|  | SPECIAL AGENT IN CHARGE, SPECIAL OPERATIONS DIVISION.
|  | DEPUTY ASSISTANT DIRECTOR, OFFICE OF INTERGOVERNMENTAL AND LEGISLATIVE AFFAIRS.
|  | CHIEF FINANCIAL OFFICER.
|  | SPECIAL AGENT IN CHARGE (DIGNITARY PROTECTIVE DIVISION).
|  | DEPUTY CHIEF, OFFICE OF STRATEGIC PLANNING AND POLICY.
|  | DEPUTY SPECIAL AGENT IN CHARGE—PRESIDENTIAL PROTECTIVE DIVISION.
|  | CHIEF, OFFICE OF STRATEGIC PLANNING AND POLICY.
|  | DEPUTY ASSISTANT DIRECTOR, OFFICE OF INVESTIGATIONS.
|  | SPECIAL AGENT IN CHARGE—HOUSTON FIELD OFFICE.
|  | DEPUTY ASSISTANT DIRECTOR, OFFICE OF TRAINING.
|  | DEPUTY ASSISTANT DIRECTOR, TECHNICAL DEVELOPMENT AND MISSION SUPPORT.
|  | DEPUTY SPECIAL AGENT IN CHARGE (OPERATIONAL).
|  | CHIEF INFORMATION OFFICER.
|  | DEPUTY SPECIAL AGENT IN CHARGE—VICE PRESIDENTIAL PROTECTIVE DIVISION.
|  | SPECIAL AGENT IN CHARGE—ATLANTA FIELD OFFICE.
|  | SPECIAL AGENT IN CHARGE—HONOLULU FIELD OFFICE.
|  | PROTECTIVE INTELLIGENCE SENIOR ADVISOR.
|  | DEPUTY ASSISTANT DIRECTOR, OFFICE OF PROFESSIONAL RESPONSIBILITY.
|  | DEPUTY ASSISTANT DIRECTOR, OFFICE OF INVESTIGATIONS.
|  | SPECIAL AGENT IN CHARGE—LOS ANGELES FIELD OFFICE.
|  | SPECIAL AGENT IN CHARGE—WASHINGTON FIELD OFFICE.
|  | DEPUTY ASSISTANT DIRECTOR, OFFICE OF INVESTIGATIONS.
|  | TALENT DEVELOPMENT EXECUTIVE.
|  | DIRECTOR, UNITED STATES SECRET SERVICE.
|  | DEPUTY ASSISTANT DIRECTOR, OFFICE OF INTEGRITY.
|  | DEPUTY CHIEF FINANCIAL OFFICER.
|  | DEPUTY DIRECTOR, UNITED STATES SECRET SERVICE.
|  | ASSISTANT DIRECTOR, INVESTIGATIONS.
|  | ASSISTANT DIRECTOR, PROTECTIVE OPERATIONS.
|  | ASSISTANT DIRECTOR/CHIEF TECHNOLOGY OFFICER, OFFICE OF TECHNICAL DEVELOPMENT AND MISSION SUPPORT.
|  | ASSISTANT DIRECTOR, OFFICE OF PROFESSIONAL RESPONSIBILITY.
|  | SPECIAL AGENT IN CHARGE—PRESIDENTIAL PROTECTIVE DIVISION.
|  | SPECIAL AGENT IN CHARGE—NEW YORK.
|  | ASSISTANT DIRECTOR, OFFICE OF HUMAN RESOURCES.
|  | SPECIAL AGENT IN CHARGE—VICE PRESIDENTIAL PROTECTIVE DIVISION.
|  | SPECIAL AGENT IN CHARGE—TECHNICAL SECURITY DIVISION.
|  | CHIEF COUNSEL.
|  | SPECIAL AGENT IN CHARGE—SAN FRANCISCO FIELD OFFICE.
|  | SPECIAL AGENT IN CHARGE—DALLAS FIELD OFFICE.
|  | CHIEF SECURITY OFFICER.
OFFICE OF THE SECRETARY | COUNTERING WEAPONS OF MASS DESTRUCTION OFFICE | PRINCIPAL DEPUTY ASSISTANT SECRETARY FOR HEALTH AFFAIRS. DEPUTY ASSISTANT SECRETARY FOR HEALTH SECURITY. CHIEF FINANCIAL MANAGER. ASSOCIATE DEPUTY ASSISTANT SECRETARY FOR SYSTEMS SUPPORT.
|  | DIRECTOR OF ACQUISITION.
|  | CHIEF OF STAFF.
|  | ASSISTANT DIRECTOR, OPERATIONS SUPPORT DIRECTORATE.
|  | DEPUTY ASSISTANT SECRETARY FOR POLICY AND PLANS.
| OFFICE FOR CIVIL RIGHTS AND CIVIL LIBERTIES | DIRECTOR CIVIL RIGHTS AND CIVIL LIBERTIES PROGRAMS BRANCH. DEPUTY CIVIL RIGHTS AND CIVIL LIBERTIES OFFICER, PROGRAMS AND COMPLIANCE. DEPUTY CIVIL RIGHTS AND CIVIL LIBERTIES OFFICER, EQUAL EMPLOYMENT OPPORTUNITY AND DIVERSITY DIRECTOR. DIRECTOR, COMPLIANCE BRANCH.
| OFFICE OF OPERATIONS COORDINATION | PRINCIPAL DEPUTY DIRECTOR, TERRORIST SCREENING CENTER.
| OFFICE OF PARTNERSHIP AND ENGAGEMENT | DEPUTY ASSISTANT SECRETARY. EXECUTIVE DIRECTOR, SOCIAL IMPACT.
| OFFICE OF THE SECRETARY | DEPUTY EXECUTIVE SECRETARY, OPERATIONS AND ADMINISTRATION.
DEPARTMENT OF HOMELAND SECURITY OFFICE OF INSPECTOR GENERAL
DEPARTMENT OF HOMELAND SECURITY OFFICE OF INSPECTOR GENERAL | DEPARTMENT OF HOMELAND SECURITY OFFICE OF INSPECTOR GENERAL | ASSISTANT INSPECTOR GENERAL FOR ENTERPRISE INNOVATION AND OPERATIONS COORDINATION. DEPUTY ASSISTANT INSPECTOR GENERAL, AUDITS (LAW ENFORCEMENT AND TERRORISM). ATTORNEY ADVISOR. ASSISTANT INSPECTOR GENERAL, INTEGRITY AND QUALITY OVERSIGHT.
|  | DEPUTY ASSISTANT INSPECTOR GENERAL FOR MANAGEMENT.
|  | DEPUTY ASSISTANT INSPECTOR GENERAL FOR INVESTIGATIONS (2).
|  | ASSISTANT INSPECTOR GENERAL FOR MANAGEMENT.
|  | ASSISTANT INSPECTOR GENERAL, AUDITS.
|  | COUNSEL TO THE INSPECTOR GENERAL.
|  | ASSISTANT INSPECTOR GENERAL, INVESTIGATIONS.
|  | DEPUTY ASSISTANT INSPECTOR GENERAL, INFORMATION TECHNOLOGY AUDITS.
|  | ASSISTANT INSPECTOR GENERAL FOR SPECIAL REVIEWS AND EVALUATIONS.
|  | DEPUTY COUNSEL.
|  | DEPUTY ASSISTANT INSPECTOR GENERAL, AUDIT (DISASTER AND IMMIGRATION).
|  | DEPUTY ASSISTANT INSPECTOR GENERAL, AUDITS.
|  | DEPUTY INSPECTOR GENERAL.
|  | DEPUTY ASSISTANT INSPECTOR GENERAL, SPECIAL REVIEWS AND EVALUATIONS.
|  | CHIEF OF STAFF.
DEPARTMENT OF HOUSING AND URBAN DEVELOPMENT
DEPARTMENT OF HOUSING AND URBAN DEVELOPMENT | OFFICE OF THE SECRETARY
OFFICE OF THE SECRETARY | GOVERNMENT NATIONAL MORTGAGE ASSOCIATION | SENIOR VICE PRESIDENT FOR MORTGAGE-BACKED SECURITIES. SENIOR VICE PRESIDENT OF THE OFFICE OF SECURITIES OPERATIONS. SENIOR VICE PRESIDENT AND CHIEF FINANCIAL OFFICER.
|  | SENIOR VICE PRESIDENT, OFFICE OF ENTERPRISE DATA AND TECHNOLOGY SOLUTIONS.
|  | SENIOR VICE PRESIDENT OFFICE OF CAPITAL MARKETS.
|  | SENIOR VICE PRESIDENT AND CHIEF RISK OFFICER.
| OFFICE OF COMMUNITY PLANNING AND DEVELOPMENT | DEPUTY ASSISTANT SECRETARY FOR SPECIAL NEEDS PROGRAMS. DIRECTOR OF STRATEGIC PLANNING AND MANAGEMENT OF HUMAN CAPITAL. DEPUTY ASSISTANT SECRETARY FOR GRANT PROGRAMS.
| OFFICE OF DEPARTMENTAL EQUAL EMPLOYMENT OPPORTUNITY | DIRECTOR, OFFICE OF DEPARTMENTAL EQUAL EMPLOYMENT OPPORTUNITY.
| OFFICE OF FAIR HOUSING AND EQUAL OPPORTUNITY | ASSOCIATE DEPUTY ASSISTANT SECRETARY FOR OPERATIONS AND MANAGEMENT.
| OFFICE OF FIELD POLICY AND MANAGEMENT | DIRECTOR.
| OFFICE OF HOUSING | DEPUTY ASSISTANT SECRETARY FOR OPERATION. HOUSING FEDERAL HOUSING ADMINISTRATION—COMPTROLLER. DIRECTOR, PROGRAM SYSTEMS MANAGEMENT OFFICE. DEPUTY ASSISTANT SECRETARY FOR FINANCE AND BUDGET.
|  | DEPUTY ASSISTANT SECRETARY FOR MULTIFAMILY HOUSING.
|  | FEDERAL HOUSING ADMINISTRATION COMPTROLLER.
|  | DEPUTY ASSISTANT SECRETARY FOR HEALTHCARE PROGRAMS.
| OFFICE OF POLICY DEVELOPMENT AND RESEARCH | DEPUTY ASSISTANT SECRETARY FOR POLICY DEVELOPMENT AND RESEARCH.
| OFFICE OF PUBLIC AFFAIRS | GENERAL DEPUTY ASSISTANT SECRETARY FOR PUBLIC AFFAIRS.
| OFFICE OF PUBLIC AND INDIAN HOUSING | DEPUTY ASSISTANT SECRETARY FOR NATIVE AMERICAN PROGRAMS. DEPUTY ASSISTANT SECRETARY FOR POLICY PROGRAM AND LEGISLATIVE INITIATIVES. ASSOCIATE DEPUTY ASSISTANT SECRETARY FOR THE REAL ESTATE ASSESSMENT CENTER. DEPUTY ASSISTANT SECRETARY FOR PUBLIC HOUSING INVESTMENTS.
|  | DEPUTY ASSISTANT SECRETARY FOR THE REAL ESTATE ASSESSMENT CENTER.
|  | DIRECTOR FOR BUDGET AND FINANCIAL MANAGEMENT.
| OFFICE OF THE ADMINISTRATION | CHIEF DISASTER AND NATIONAL SECURITY OFFICER. CHIEF PRIVACY OFFICER AND CHIEF FOIA OFFICER.
| OFFICE OF THE CHIEF FINANCIAL OFFICER | ASSISTANT CHIEF FINANCIAL OFFICER FOR BUDGET. ASSISTANT CHIEF FINANCIAL OFFICER FOR FINANCIAL MANAGEMENT. CHIEF RISK OFFICER. DEPUTY CHIEF FINANCIAL OFFICER.
|  | ASSISTANT CHIEF FINANCIAL OFFICER FOR SYSTEMS.
|  | ASSISTANT CHIEF FINANCIAL OFFICER FOR ACCOUNTING.
| OFFICE OF THE CHIEF HUMAN CAPITAL OFFICER | CHIEF LEARNING OFFICER. DIRECTOR, OFFICE OF HUMAN CAPITAL SERVICES. CHIEF HUMAN CAPITAL OFFICER. DEPUTY CHIEF HUMAN CAPITAL OFFICER (2). DIRECTOR, HUMAN CAPITAL SERVICES.
| OFFICE OF THE CHIEF INFORMATION OFFICER | PRINCIPAL DEPUTY CHIEF INFORMATION OFFICER. DEPUTY CHIEF INFORMATION SECURITY OFFICER. CHIEF TECHNOLOGY OFFICER. PRINCIPAL DEPUTY CHIEF INFORMATION OFFICER.
|  | DEPUTY CHIEF INFORMATION OFFICER FOR INFRASTRUCTURE AND OPERATIONS.
|  | DEPUTY CHIEF INFORMATION OFFICER - OFFICE OF CUSTOMER RELATIONSHIP AND PERFORMANCE MANAGEMENT.
|  | DEPUTY CHIEF INFORMATION OFFICER FOR BUSINESS AND INFORMATION TECHNOLOGY RESOURCE MANAGEMENT OFFICER.
|  | CHIEF INFORMATION SECURITY OFFICER.
| OFFICE OF THE GENERAL COUNSEL | DIRECTOR, DEPARTMENTAL ENFORCEMENT CENTER. SENIOR COUNSEL. ASSOCIATE GENERAL COUNSEL FOR PROGRAM ENFORCEMENT.
DEPARTMENT OF HOUSING AND URBAN DEVELOPMENT OFFICE OF THE INSPECTOR GENERAL
| DEPARTMENT OF HOUSING AND URBAN DEVELOPMENT OFFICE OF THE INSPECTOR GENERAL | SENIOR ADVISOR FOR EXTERNAL AFFAIRS. CHIEF STRATEGY OFFICER. COUNSEL TO THE INSPECTOR GENERAL. ASSISTANT INSPECTOR GENERAL FOR INVESTIGATION.
|  | ASSISTANT INSPECTOR GENERAL FOR AUDIT.
|  | DEPUTY ASSISTANT INSPECTOR GENERAL FOR AUDIT (FIELD OPERATIONS).
|  | DEPUTY ASSISTANT INSPECTOR GENERAL FOR MANAGEMENT.
|  | DEPUTY ASSISTANT INSPECTOR GENERAL FOR INVESTIGATION (HEADQUARTERS OPERATIONS).
|  | ASSISTANT INSPECTOR GENERAL FOR OFFICE OF EVALUATION (OE).
|  | DEPUTY ASSISTANT INSPECTOR GENERAL FOR INFORMATION TECHNOLOGY.
|  | DEPUTY ASSISTANT INSPECTOR GENERAL FOR AUDIT (FIELD OPERATIONS).
|  | DEPUTY INSPECTOR GENERAL.
DEPARTMENT OF THE INTERIOR
ASSISTANT SECRETARY—FISH AND WILDLIFE AND PARKS | NATIONAL PARK SERVICE | CHIEF, UNITED STATES PARK POLICE. CHIEF FINANCIAL OFFICER. COMPTROLLER. ASSOCIATE DIRECTOR, INTERPRETATION AND EDUCATION.
| UNITED STATES FISH AND WILDLIFE SERVICE | CHIEF, OFFICE OF LAW ENFORCEMENT.
ASSISTANT SECRETARY—LAND AND MINERALS MANAGEMENT | BUREAU OF LAND MANAGEMENT | ASSISTANT DIRECTOR, HUMAN CAPITAL MANAGEMENT. DIRECTOR, LAW ENFORCEMENT AND SECURITY.
| BUREAU OF OCEAN ENERGY MANAGEMENT | STRATEGIC RESOURCES CHIEF.
ASSISTANT SECRETARY—POLICY, MANAGEMENT AND BUDGET | OFFICE OF HEARINGS AND APPEALS | DIRECTOR, OFFICE OF HEARINGS AND APPEALS.
| OFFICE OF NATURAL RESOURCES REVENUE MANAGEMENT | PROGRAM DIRECTOR FOR COORDINATION, ENFORCEMENT, VALUATION AND APPEALS. DEPUTY DIRECTOR, OFFICE OF NATURAL RESOURCES REVENUE MANAGEMENT. PROGRAM DIRECTOR FOR REVENUE, REPORTING AND COMPLIANCE MANAGEMENT. PROGRAM DIRECTOR FOR AUDIT AND COMPLIANCE MANAGEMENT.
ASSISTANT SECRETARY—WATER AND SCIENCE | BUREAU OF RECLAMATION | DIRECTOR, MISSION SUPPORT ORGANIZATION. DIRECTOR, DAM SAFETY AND INFRASTRUCTURE.
| UNITED STATES GEOLOGICAL SURVEY | ASSOCIATE DIRECTOR FOR ADMINISTRATION. ASSOCIATE DIRECTOR FOR ECOSYSTEMS. ASSOCIATE DIRECTOR FOR ENERGY AND MINERALS. DEPUTY DIRECTOR.
|  | DIRECTOR, EARTH RESOURCES OBSERVATION AND SCIENCE CENTER AND POLICY ADVISOR.
|  | ASSOCIATE DIRECTOR FOR COMMUNICATIONS AND PUBLISHING.
|  | ASSOCIATE DIRECTOR FOR BUDGET, PLANNING, AND INTEGRATION.
|  | ASSOCIATE DIRECTOR FOR NATURAL HAZARDS.
|  | ASSOCIATE DIRECTOR FOR LAND RESOURCES.
|  | ASSOCIATE DIRECTOR FOR WATER.
|  | ASSOCIATE DIRECTOR FOR CORE SCIENCE SYSTEMS.
BUREAU OF LAND MANAGEMENT | FIELD OFFICES—BUREAU OF LAND MANAGEMENT | DIRECTOR, NATIONAL OPERATIONS CENTER.
DEPARTMENT OF THE INTERIOR | ASSISTANT SECRETARY—INDIAN AFFAIRS | DIRECTOR OF HUMAN CAPITAL MANAGEMENT.
| ASSISTANT SECRETARY—POLICY, MANAGEMENT AND BUDGET | CHIEF DIVERSITY OFFICER/DIRECTOR, OFFICE OF CIVIL RIGHTS. DEPUTY ASSISTANT SECRETARY—HUMAN CAPITAL AND DIVERSITY/CHIEF HUMAN CAPITAL OFFICER. DEPUTY DIRECTOR, OFFICE OF FINANCIAL MANAGEMENT. DIRECTOR, OFFICE OF EMERGENCY MANAGEMENT.
|  | DIRECTOR, OFFICE OF GRANTS MANAGEMENT.
|  | CHIEF, BUDGET ADMINISTRATION AND DEPARTMENTAL MANAGEMENT.
|  | CHIEF DIVISION OF BUDGET AND PROGRAM REVIEW.
|  | DEPUTY ASSISTANT SECRETARY—BUDGET, FINANCE, GRANTS AND ACQUISITION.
|  | DEPUTY CHIEF HUMAN CAPITAL OFFICER/DIRECTOR, OFFICE OF HUMAN CAPITAL.
|  | DIRECTOR, OFFICE OF LAW ENFORCEMENT AND SECURITY.
|  | DEPUTY ASSISTANT SECRETARY—PUBLIC SAFETY, RESOURCE PROTECTION AND EMERGENCY SERVICES.
|  | DIRECTOR, OFFICE OF FINANCIAL MANAGEMENT AND DEPUTY CHIEF FINANCIAL OFFICER.
| OFFICE OF THE SOLICITOR | DESIGNATED AGENCY ETHICS OFFICIAL. ASSOCIATE SOLICITOR FOR ADMINISTRATION. DEPUTY CHIEF FOIA OFFICER.
NATIONAL PARK SERVICE | FIELD OFFICES—NATIONAL PARK SERVICE | PARK MANAGER, YELLOWSTONE NATIONAL PARK. PARK MANAGER, GRAND CANYON NATIONAL PARK.
OFFICE OF SURFACE MINING | FIELD OFFICES—OFFICE OF SURFACE MINING | REGIONAL DIRECTOR, DOI UNIFIED REGION 3. REGIONAL DIRECTOR, DOI UNIFIED REGION 1.
UNITED STATES GEOLOGICAL SURVEY | FIELD OFFICES—UNITED STATES GEOLOGICAL SURVEY | REGIONAL DIRECTOR—DOI UNIFIED REGION 9. REGIONAL DIRECTOR—DOI UNIFIED REGIONS 3 AND 5. REGIONAL DIRECTOR—DOI UNIFIED REGIONS 8 AND 10. REGIONAL DIRECTOR—DOI UNIFIED REGION 11.
|  | REGIONAL DIRECTOR—DOI UNIFIED REGION 1.
|  | REGIONAL DIRECTOR—DOI UNIFIED REGIONS 4 AND 6.
|  | REGIONAL DIRECTOR—DOI UNIFIED REGION 7.
DEPARTMENT OF THE INTERIOR OFFICE OF THE INSPECTOR GENERAL
DEPARTMENT OF THE INTERIOR OFFICE OF THE INSPECTOR GENERAL | OFFICE OF THE INSPECTOR GENERAL | ASSISTANT INSPECTOR GENERAL FOR STRATEGIC PROGRAMS. CHIEF OF STAFF. DEPUTY INSPECTOR GENERAL.
OFFICE OF THE INSPECTOR GENERAL | OFFICE OF AUDITS, INSPECTIONS, AND EVALUATIONS | ASSISTANT INSPECTOR GENERAL FOR AUDITS, INSPECTIONS, AND EVALUATIONS.
| OFFICE OF GENERAL COUNSEL | GENERAL COUNSEL.
| OFFICE OF INVESTIGATIONS | ASSISTANT INSPECTOR GENERAL FOR INVESTIGATIONS.
| OFFICE OF MANAGEMENT | ASSISTANT INSPECTOR GENERAL FOR MANAGEMENT.
DEPARTMENT OF JUSTICE
DEPARTMENT OF JUSTICE | EXECUTIVE OFFICE FOR ORGANIZED CRIME DRUG ENFORCEMENT TASK FORCES | DIRECTOR, ORGANIZED CRIME DRUG ENFORCEMENT TASK FORCES.
| OFFICE OF THE ATTORNEY GENERAL | SENIOR ADVISOR FOR LAW ENFORCEMENT RELATIONS.
| OFFICE OF THE DEPUTY ATTORNEY GENERAL | CHIEF AND COUNSELOR TO THE DEPUTY ATTORNEY GENERAL, PROFESSIONAL MISCONDUCT REVIEW UNIT.
| OFFICE OF TRIBAL JUSTICE | DIRECTOR.
OFFICE OF THE ASSOCIATE ATTORNEY GENERAL | ANTITRUST DIVISION | EXECUTIVE OFFICER. CHIEF, TELECOMMUNICATIONS AND MEDIA SECTION. DIRECTOR, ECONOMIC ENFORCEMENT.
| CIVIL DIVISION | DEPUTY DIRECTOR, OFFICE OF IMMIGRATION LITIGATION, APPELLATE SECTION. DEPUTY DIRECTOR, COMMERCIAL LITIGATION BRANCH. DEPUTY BRANCH DIRECTOR, FEDERAL PROGRAMS. SPECIAL COUNSEL.
|  | DIRECTOR, BUDGET STAFF.
|  | DEPUTY DIRECTOR, CONSTITUTIONAL AND SPECIALIZED TORT LITIGATION.
|  | DEPUTY DIRECTOR CONSUMER PROTECTION BRANCH.
|  | DEPUTY DIRECTOR, OFFICE OF IMMIGRATION LITIGATION, APPELLATE SECTION.
|  | DEPUTY DIRECTOR, COMMERCIAL LITIGATION, FRAUD SECTION.
|  | DEPUTY DIRECTOR (OPERATIONS), OFFICE OF IMMIGRATION LITIGATION, DISTRICT COURT SECTION.
|  | DEPUTY DIRECTOR APPELLATE BRANCH.
|  | DIRECTOR, CONSUMER LITIGATION BRANCH, FOREIGN LITIGATION SECTION.
|  | SPECIAL LITIGATION COUNSEL, AVIATION AND ADMIRALTY SECTION.
|  | DEPUTY DIRECTOR, COMMERCIAL LITIGATION BRANCH.
|  | DEPUTY BRANCH DIRECTOR, FEDERAL PROGRAMS.
|  | DEPUTY BRANCH DIRECTOR.
|  | DEPUTY DIRECTOR, APPELLATE STAFF.
|  | APPELLATE LITIGATION COUNSEL.
|  | DEPUTY DIRECTOR, COMMERCIAL LITIGATION BRANCH (INTELLECTUAL PROPERTY).
|  | DIRECTOR, OFFICE OF MANAGEMENT PROGRAMS.
|  | DEPUTY DIRECTOR, COMMERCIAL LITIGATION BRANCH.
|  | DEPUTY BRANCH DIRECTOR, FEDERAL PROGRAMS.
|  | DIRECTOR, CONSUMER PROTECTION BRANCH.
| CIVIL RIGHTS DIVISION | PRINCIPAL DEPUTY CHIEF, CRIMINAL SECTION. PRINCIPAL DEPUTY CHIEF, VOTING SECTION. CHIEF, POLICY STRATEGY SECTION. PRINCIPAL DEPUTY CHIEF, EMPLOYMENT LITIGATION SECTION.
|  | PRINCIPAL DEPUTY CHIEF, HOUSING AND CIVIL ENFORCEMENT SECTION.
|  | PRINCIPAL DEPUTY CHIEF, DISABILITY RIGHTS SECTION.
|  | PRINCIPAL DEPUTY CHIEF, SPECIAL LITIGATION SECTION.
|  | DEPUTY ASSISTANT ATTORNEY GENERAL (2).
|  | CHIEF FEDERAL COORDINATION AND COMPLIANCE SECTION.
|  | EXECUTIVE OFFICER.
|  | CHIEF, EMPLOYMENT LITIGATION SECTION.
|  | CHIEF APPELLATE SECTION.
|  | CHIEF CRIMINAL SECTION.
|  | CHIEF, HOUSING AND CIVIL ENFORCEMENT SECTION.
|  | CHIEF, VOTING SECTION.
|  | CHIEF, EDUCATIONAL OPPORTUNITIES SECTION.
|  | CHIEF-SPECIAL LITIGATION SECTION.
|  | COUNSEL TO THE ASSISTANT ATTORNEY GENERAL.
|  | CHIEF, DISABILITY RIGHTS SECTION.
|  | DEPUTY SPECIAL COUNSEL FOR IMMIGRATION-RELATED UNFAIR EMPLOYMENT PRACTICES.
| ENVIRONMENT AND NATURAL RESOURCES DIVISION | DEPUTY CHIEF, ENVIRONMENTAL CRIMES SECTION. CHIEF, ENVIRONMENTAL DEFENSE SECTION. DEPUTY CHIEF ENVIRONMENTAL ENFORCEMENT SECTION. SENIOR LITIGATION COUSEL.
|  | DEPUTY CHIEF, APPELLATE SECTION.
|  | DEPUTY CHIEF, ENVIRONMENTAL DEFENSE SECTION.
|  | DEPUTY SECTION CHIEF, NATURAL RESOURCES SECTION.
|  | DEPUTY CHIEF, ENVIRONMENTAL ENFORCEMENT SECTION.
|  | CHIEF, INDIAN RESOURCES SECTION.
|  | DEPUTY CHIEF, NATURAL RESOURCES SECTION.
|  | CHIEF-APPELLATE SECTION.
|  | CHIEF, LAND ACQUISITION SECTION.
|  | CHIEF, NATURAL RESOURCES SECTION.
|  | DEPUTY CHIEF, ENVIRONMENTAL ENFORCEMENT SECTION.
|  | CHIEF, WILDLIFE AND MARINE RESOURCES SECTION.
|  | CHIEF ENVIRONMENTAL ENFORCEMENT SECTION.
|  | CHIEF ENVIRONMENTAL CRIMES SECTION.
|  | EXECUTIVE OFFICER.
| OFFICE OF JUSTICE PROGRAMS | DEPUTY CHIEF FINANCIAL OFFICER. DIRECTOR, OFFICE OF AUDIT, ASSESSMENT AND MANAGEMENT. DEPUTY DIRECTOR, OFFICE FOR VICTIMS OF CRIME. DIRECTOR OF COMMUNICATIONS.
|  | DIRECTOR, OFFICE OF ADMINISTRATION.
|  | CHIEF FINANCIAL OFFICER.
| OFFICE OF TAX DIVISION | DEPUTY CHIEF, APPELLATE SECTION. CHIEF, APPELLATE SECTION. CHIEF, COURT OF FEDERAL CLAIMS SECTION. DEPUTY ASSISTANT ATTORNEY GENERAL.
|  | CHIEF, CIVIL TRIAL SECTION, CENTRAL REGION.
|  | CHIEF CIVIL TRIAL SECTION, NORTHERN REGION.
|  | CHIEF CIVIL TRIAL SECTION, SOUTHERN REGION.
|  | CHIEF CIVIL TRIAL SECTION, WESTERN REGION.
|  | SPECIAL LITIGATION COUNSEL.
|  | SENIOR LITIGATION COUNSEL.
|  | CHIEF, CRIMINAL ENFORCEMENT SECTION, SOUTH REGION.
|  | CHIEF, CRIMINAL ENFORCEMENT SECTION, NORTH REGION.
|  | CHIEF, CRIMINAL ENFORCEMENT SECTION, WESTERN REGION.
|  | CHIEF, CRIMINAL APPEALS AND TAX ENFORCEMENT POLICY SECTION.
|  | CHIEF CIVIL TRIAL SECTION SOUTHWESTERN REGION.
|  | CHIEF CIVIL TRIAL SECTION EASTERN REGION.
|  | CHIEF OFFICE OF REVIEW.
|  | EXECUTIVE OFFICER.
OFFICE OF THE DEPUTY ATTORNEY GENERAL | BUREAU OF ALCOHOL, TOBACCO, FIREARMS AND EXPLOSIVES | SPECIAL AGENT IN CHARGE, CHICAGO. SPECIAL AGENT IN CHARGE, KANSAS CITY. SPECIAL AGENT IN CHARGE, PHILADELPHIA. SPECIAL AGENT IN CHARGE, PHOENIX.
|  | SPECIAL AGENT IN CHARGE, SAN FRANCISCO.
|  | SPECIAL AGENT IN CHARGE, MIAMI.
|  | SPECIAL AGENT IN CHARGE, CHARLOTTE.
|  | SPECIAL AGENT IN CHARGE, DETROIT.
|  | SPECIAL AGENT IN CHARGE, LOUISVILLE.
|  | SPECIAL AGENT IN CHARGE, SEATTLE.
|  | SPECIAL AGENT IN CHARGE, TAMPA.
|  | SPECIAL ASSISTANT TO THE DIRECTOR.
|  | SPECIAL AGENT IN CHARGE, NATIONAL CENTER FOR EXPLOSIVES TRAINING AND RESEARCH.
|  | DEPUTY ASSISTANT DIRECTOR HUMAN RESOURCES.
|  | SPECIAL AGENT IN CHARGE, SAINT PAUL.
|  | SPECIAL AGENT IN CHARGE, ATLANTA.
|  | DEPUTY DIRECTOR, TERRORIST EXPLOSIVE DEVICE ANALYTICAL CENTER.
|  | DEPUTY ASSISTANT DIRECTOR, FIELD OPERATIONS (PROGRAMS).
|  | EXECUTIVE ASSISTANT TO THE DIRECTOR.
|  | CHIEF, SPECIAL OPERATIONS DIVISION.
|  | DEPUTY ASSISTANT DIRECTOR, FIELD OPERATIONS—EAST.
|  | DEPUTY ASSISTANT DIRECTOR, INDUSTRY OPERATIONS.
|  | SPECIAL AGENT IN CHARGE, NASHVILLE.
|  | SPECIAL AGENT IN CHARGE, DALLAS.
|  | ASSISTANT DIRECTOR, OFFICE OF STRATEGIC INTELLIGENCE AND INFORMATION.
|  | DEPUTY ASSISTANT DIRECTOR, OFFICE OF STRATEGIC INTELLIGENCE AND INFORMATION.
|  | ASSISTANT DIRECTOR, OFFICE OF PUBLIC AND GOVERNMENTAL AFFAIRS.
|  | SPECIAL AGENT IN CHARGE, COLUMBUS.
|  | SPECIAL AGENT IN CHARGE, NEW ORLEANS.
|  | SPECIAL AGENT IN CHARGE, BALTIMORE.
|  | SPECIAL AGENT IN CHARGE, NEWARK.
|  | SPECIAL AGENT IN CHARGE, DENVER.
|  | DEPUTY ASSISTANT DIRECTOR, OFFICE OF PUBLIC AND GOVERNMENTAL AFFAIRS.
|  | DEPUTY DIRECTOR.
|  | ASSISTANT DIRECTOR, FIELD OPERATIONS.
|  | DEPUTY ASSISTANT DIRECTOR, FIELD OPERATIONS-CENTRAL.
|  | ASSISTANT DIRECTOR, ENFORCEMENT PROGRAMS AND SERVICES.
|  | DEPUTY ASSISTANT DIRECTOR, ENFORCEMENT PROGRAMS AND SERVICES.
|  | DEPUTY ASSISTANT DIRECTOR, HUMAN RESOURCES AND PROFESSIONAL DEVELOPMENT.
|  | ASSISTANT DIRECTOR, HUMAN RESOURCES AND PROFESSIONAL DEVELOPMENT.
|  | ASSISTANT DIRECTOR, OFFICE OF PROFESSIONAL RESPONSIBILITY AND SECURITY OPERATIONS.
|  | DEPUTY ASSISTANT DIRECTOR, MANAGEMENT AND CHIEF FINANCIAL OFFICER.
|  | ASSISTANT DIRECTOR, MANAGEMENT AND CHIEF FINANCIAL OFFICER.
|  | DEPUTY ASSISTANT DIRECTOR FOR INFORMATION TECHNOLOGY AND DEPUTY CHIEF INFORMATION OFFICER.
|  | ASSISTANT DIRECTOR, SCIENCE AND TECHNOLOGY.
|  | DEPUTY ASSISTANT DIRECTOR, FORENSIC SERVICES.
|  | DEPUTY ASSISTANT DIRECTOR, FIELD OPERATIONS—WEST.
|  | SPECIAL AGENT IN CHARGE, LOS ANGELES.
|  | SPECIAL AGENT IN CHARGE, NEW YORK.
|  | SPECIAL AGENT IN CHARGE, WASHINGTON DC.
|  | SPECIAL AGENT IN CHARGE, HOUSTON.
|  | DEPUTY ASSISTANT DIRECTOR, OFFICE OF PROFESSIONAL RESPONSIBILITY AND SECURITY OPERATIONS.
|  | SPECIAL AGENT IN CHARGE, BOSTON.
| CRIMINAL DIVISION | CHIEF, ASSET FORFEITURE AND MONEY LAUNDERING SECTION. DEPUTY CHIEF PUBLIC INTEGRITY SECTION. CHIEF, ORGANIZED CRIME AND GANG SECTION. CHIEF, APPELLATE SECTION.
|  | DEPUTY CHIEF FOR ORGANIZED CRIME AND GANG SECTION.
|  | CHIEF, CHILD EXPLOITATION AND OBSCENITY SECTION.
|  | DIRECTOR, INTERNATIONAL CRIMINAL INVESTIGATIVE TRAINING ASSISTANCE PROGRAM.
|  | CHIEF, COMPUTER CRIME AND INTELLECTUAL PROPERTY SECTION.
|  | DEPUTY CHIEF, COMPUTER CRIME AND INTELLECTUAL PROPERTY SECTION.
|  | SENIOR COUNSEL FOR CYBERCRIME.
|  | DEPUTY CHIEF, NARCOTIC AND DANGEROUS DRUG SECTION.
|  | DIRECTOR, OFFICE OF OVERSEAS PROSECUTORIAL DEVELOPMENT, ASSISTANCE, AND TRAINING.
|  | DEPUTY CHIEF, CHILD EXPLOITATION AND OBSCENITY SECTION.
|  | DEPUTY CHIEF, ASSET FORFEITURE AND MONEY LAUNDERING SECTION.
|  | DEPUTY ASSISTANT ATTORNEY GENERAL.
|  | CHIEF, HUMAN RIGHTS AND SPECIAL PROSECUTIONS SECTION.
|  | CHIEF FRAUD SECTION.
|  | CHIEF PUBLIC INTEGRITY SECTION.
|  | CHIEF NARCOTIC AND DANGEROUS DRUG SECTION.
|  | DEPUTY CHIEF, APPELLATE SECTION.
|  | EXECUTIVE OFFICER.
|  | DEPUTY, CHIEF FRAUD SECTION.
| EXECUTIVE OFFICE FOR IMMIGRATION REVIEW | REGIONAL DEPUTY CHIEF IMMIGRATION JUDGE (2). DEPUTY CHIEF APPELLATE IMMIGRATION JUDGE. CHIEF ADMINISTRATIVE HEARING OFFICER. GENERAL COUNSEL.
|  | CHAIRMAN, BOARD OF IMMIGRATION APPEALS.
|  | ASSISTANT DIRECTOR FOR POLICY.
|  | CHIEF IMMIGRATION JUDGE.
|  | DEPUTY CHIEF IMMIGRATION JUDGE.
|  | ASSISTANT DIRECTOR FOR ADMINISTRATION.
|  | VICE CHAIRMAN, BOARD OF IMMIGRATION APPEALS.
| EXECUTIVE OFFICE FOR UNITED STATES ATTORNEYS | DEPUTY DIRECTOR. CHIEF FINANCIAL OFFICER. DEPUTY DIRECTOR FOR ADMINISTRATION AND MANAGEMENT. CHIEF, INFORMATION OFFICER.
|  | GENERAL COUNSEL.
|  | CHIEF HUMAN RESOURCES OFFICER.
|  | COUNSEL, LEGAL PROGRAMS AND POLICY.
|  | ASSOCIATE DIRECTOR, OFFICE OF LEGAL EDUCATION.
| FEDERAL BUREAU OF PRISONS | SENIOR DEPUTY ASSISTANT DIRECTOR, INDUSTRIES, EDUCATION, AND VOCATIONAL TRAINING DIVISION. ASSISTANT DIRECTOR, HEALTH SERVICES DIVISION. CHIEF, OFFICE OF PUBLIC AFFAIRS. SENIOR DEPUTY ASSISTANT DIRECTOR, PROGRAM REVIEW DIVISION.
|  | SENIOR ADVISOR (2).
|  | WARDEN, FCI, MENDOTA, CA.
|  | CHIEF EDUCATION ADMINISTRATOR.
|  | ASSISTANT DIRECTOR, INFORMATION, POLICY AND PUBLIC AFFAIRS.
|  | SENIOR DEPUTY ASSISTANT DIRECTOR, INFORMATION, POLICY, AND PUBLIC AFFAIRS DIVISION.
|  | ASSISTANT DIRECTOR, REENTRY SERVICES DIVISION.
|  | SENIOR DEPUTY ASSISTANT DIRECTOR, ADMINISTRATION DIVISION.
|  | WARDEN FCI FORT WORTH TX.
|  | WARDEN FCI, THOMSON, IL.
|  | SENIOR DEPUTY ASSISTANT DIRECTOR, PROGRAM REVIEW DIVISION.
|  | SENIOR DEPUTY GENERAL COUNSEL, OFFICE OF THE GENERAL COUNSEL.
|  | WARDEN, FEDERAL CORRECTIONAL INSTITUTION, SHERIDAN, OREGON.
|  | WARDEN, FEDERAL CORRECTIONAL INSTITUTION, GILMER, WEST VIRGINIA.
|  | WARDEN, FEDERAL CORRECTIONAL INSTITUTION, MANCHESTER, KENTUCKY.
|  | WARDEN, FEDERAL CORRECTIONAL INSTITUTION, BENNETTSVILLE, SOUTH CAROLINA.
|  | COMPLEX WARDEN, FEDERAL CORRECTION COMPLEX, PETERSBURG, VIRGINIA.
|  | WARDEN, UNITED STATES PENITENTIARY, HAZELTON, WEST VIRGINIA.
|  | COMPLEX WARDEN, FEDERAL CORRECTIONAL COMPLEX, YAZOO CITY, MISSISSIPPI.
|  | WARDEN, UNITED STATES PENITENTIARY, CANAAN, PENNSYLVANIA.
|  | WARDEN, FEDERAL CORRECTIONAL COMPLEX, FORREST CITY, ARKANSAS.
|  | SENIOR DEPUTY ASSISTANT DIRECTOR RE- ENTRY SERVICES DIVISION.
|  | WARDEN, UNITED STATES PENITENTIARY COLEMAN-I, COLEMAN, FLORIDA.
|  | WARDEN, FEDERAL CORRECTIONAL INSTITUTION, WILLIAMSBURG, SOUTH CAROLINA.
|  | COMPLEX WARDEN, UNITED STATES PENITENTIARY, TUCSON, ARIZONA.
|  | WARDEN, FEDERAL CORRECTIONAL INSTITUTION, CUMBERLAND, MARYLAND.
|  | WARDEN, FEDERAL CORRECTIONAL INSTITUTION, GREENVILLE, ILLINOIS.
|  | WARDEN, FEDERAL CORRECTIONAL INSTITUTION, MCKEAN, PENNSYLVANIA.
|  | WARDEN, FEDERAL CORRECTIONAL INSTITUTION, PEKIN, ILLINOIS.
|  | WARDEN, FEDERAL CORRECTIONAL INSTITUTION, SCHUYLKILL, PENNSYLVANIA.
|  | WARDEN, FEDERAL CORRECTIONAL INSTITUTION, THREE RIVERS, TEXAS.
|  | WARDEN, METROPOLITAN DETENTION CENTER, GUAYNABO, PUERTO RICO.
|  | WARDEN, FEDERAL CORRECTIONAL INSTITUTION, JESUP, GEORGIA.
|  | COMPLEX WARDEN, FEDERAL CORRECTIONAL COMPLEX, VICTORVILLE, CALIFORNIA.
|  | WARDEN, UNITED STATES PENITENTIARY, MCCREARY, KENTUCKY.
|  | WARDEN, UNITED STATES PENITENTIARY, POLLOCK, LOUISIANA.
|  | WARDEN, FEDERAL CORRECTIONAL INSTITUTION, MEMPHIS, TENNESSEE.
|  | WARDEN, FEDERAL CORRECTIONAL INSTITUTION, PHOENIX, ARIZONA.
|  | WARDEN, FEDERAL MEDICAL CENTER, ROCHESTER, MINNESOTA.
|  | REGIONAL DIRECTOR MIDDLE ATLANTIC REGION.
|  | DEPUTY DIRECTOR.
|  | WARDEN, FEDERAL CORRECTIONAL INSTITUTION, TALLADEGA, ALABAMA.
|  | WARDEN, FEDERAL CORRECTIONAL INSTITUTION, FORT DIX, NEW JERSEY.
|  | WARDEN, FEDERAL CORRECTIONAL COMPLEX, FLORENCE, COLORADO.
|  | WARDEN, UNITED STATES PENITENTIARY—HIGH, FLORENCE, COLORADO.
|  | WARDEN, FEDERAL CORRECTIONAL COMPLEX, OAKDALE, LOUISIANA.
|  | WARDEN, FEDERAL MEDICAL CENTER, CARSWELL, TEXAS.
|  | WARDEN, FEDERAL CORRECTIONAL COMPLEX, ALLENWOOD, PENNSYLVANIA.
|  | WARDEN, FEDERAL TRANSFER CENTER, OKLAHOMA CITY, OKLAHOMA.
|  | SENIOR DEPUTY ASSISTANT DIRECTOR, HUMAN RESOURCES MANAGEMENT DIVISION.
|  | WARDEN, FEDERAL DETENTION CENTER, MIAMI, FLORIDA.
|  | WARDEN, FEDERAL CORRECTIONAL INSTITUTION, FAIRTON, NEW JERSEY.
|  | ASSISTANT DIRECTOR, PROGRAM REVIEW DIVISION.
|  | WARDEN, FEDERAL CORRECTIONAL INSTITUTION, EDGEFIELD, SOUTH CAROLINA.
|  | WARDEN, FEDERAL MEDICAL CENTER, DEVENS, MASSACHUSETTS.
|  | WARDEN, METROPOLITAN DETENTION CENTER, LOS ANGELES, CALIFORNIA.
|  | WARDEN, FEDERAL CORRECTIONAL INSTITUTION, MARIANNA, FLORIDA.
|  | ASSISTANT DIRECTOR FOR ADMINISTRATION.
|  | ASSISTANT DIRECTOR CORRECTIONAL PROGRAMS DIVISION.
|  | ASSISTANT DIRECTOR, OFFICE OF GENERAL COUNSEL.
|  | REGIONAL DIRECTOR, NORTHEAST REGION.
|  | REGIONAL DIRECTOR, SOUTHEAST REGION.
|  | REGIONAL DIRECTOR, NORTH CENTRAL REGION.
|  | REGIONAL DIRECTOR, WESTERN REGION.
|  | REGIONAL DIRECTOR, SOUTH CENTRAL REGION.
|  | WARDEN, UNITED STATES PENITENTIARY, ATLANTA, GEORGIA.
|  | WARDEN, UNITED STATES PENITENTIARY, LEAVENWORTH, KANSAS.
|  | WARDEN, UNITED STATES PENITENTIARY, LEWISBURG, PENNSYLVANIA.
|  | WARDEN, FEDERAL CORRECTIONAL COMPLEX, LOMPOC, CALIFORNIA.
|  | WARDEN, UNITED STATES MEDICAL CENTER FEDERAL PRISONERS, SPRINGFIELD, MISSOURI.
|  | WARDEN, FEDERAL MEDICAL CENTER, LEXINGTON, KENTUCKY.
|  | WARDEN, UNITED STATES PENITENTIARY, MARION ILLINOIS.
|  | SUPERVISORY INDUSTRIAL SPECIALIST (CEO)FEDERAL PRISON INDUSTRIES.
|  | SENIOR DEPUTY ASSISTANT DIRECTOR, REENTRY SERVICES.
|  | WARDEN FEDERAL CORRECTIONAL COMPLEX, TERRE HAUTE, INDIANA.
|  | WARDEN FEDERAL CORRECTIONAL COMPLEX, BUTNER, NORTH CAROLINA.
|  | WARDEN, METROPOLITAN CORRECTIONAL CENTER, NEW YORK, NEW YORK.
|  | SENIOR DEPUTY ASSISTANT DIRECTOR ADMINISTRATION DIVISION.
|  | SENIOR DEPUTY ASSISTANT DIRECTOR, INFORMATION, POLICY, AND PUBLIC AFFAIRS DIVISION.
|  | WARDEN, UNITED STATES PENITENTIARY, BIG SANDY, KENTUCKY.
|  | SENIOR COUNSEL, OFFICE OF GENERAL COUNSEL.
|  | WARDEN, METROPOLITAN DETENTION CENTER, BROOKLYN, NEW YORK.
|  | WARDEN, FEDERAL CORRECTIONAL COMPLEX, BEAUMONT, TEXAS.
|  | WARDEN, FEDERAL CORRECTIONAL COMPLEX, COLEMAN, FLORIDA.
|  | WARDEN, FEDERAL CORRECTIONAL INSTITUTION, BECKLEY, WEST VIRGINIA.
|  | WARDEN, FEDERAL CORRECTIONAL INSTITUTION, OTISVILLE, NEW YORK.
|  | WARDEN, UNITED STATES PENITENTIARY, LEE, VIRGINIA.
|  | WARDEN, UNITED STATES PENITENTIARY, ATWATER, CALIFORNIA.
|  | ASSISTANT DIRECTOR HUMAN RESOURCES MANAGEMENT DIVISION.
|  | SENIOR DEPUTY ASSISTANT DIRECTOR, CORRECTIONAL PROGRAMS DIVISION.
| JUSTICE MANAGEMENT DIVISION | DIRECTOR RM AND E-DISCOVERY. DIRECTOR, ASSET FORFEITURE MANAGEMENT STAFF. DEPUTY ASSISTANT ATTORNEY GENERAL/CHIEF INFORMATION OFFICER. DIRECTOR PROCUREMENT SERVICES STAFF.
|  | GENERAL COUNSEL.
|  | DIRECTOR, EQUAL EMPLOYMENT OPPORTUNITY STAFF.
|  | DIRECTOR, BUDGET STAFF.
|  | DIRECTOR, DEBT COLLECTION MANAGEMENT STAFF.
|  | DEPUTY DIRECTOR, SERVICE DELIVERY STAFF.
|  | DIRECTOR, DEPARTMENTAL ETHICS OFFICE.
|  | DEPUTY DIRECTOR, BUDGET STAFF, OPERATIONS AND FUNDS CONTROL.
|  | SENIOR ADVISOR.
|  | DIRECTOR, SERVICE ENGINEERING STAFF.
|  | DIRECTOR, SERVICE DELIVERY STAFF.
|  | DEPUTY DIRECTOR, CYBERSECURITY STAFF/DEPUTY CHIEF INFORMATION SECURITY OFFICER.
|  | SENIOR COUNSELOR, OFFICE OF THE DEPUTY ASSISTANT ATTORNEY GENERAL FOR POLICY, MANAGEMENT AND PLANNING JUSTICE MANAGEMENT DIVISION.
|  | ASSISTANT ATTORNEY GENERAL FOR ADMINISTRATION.
|  | DEPUTY CHIEF INFORMATION OFFICER.
|  | CHIEF TECHNOLOGY OFFICER.
|  | DIRECTOR, CYBERSECURITY SERVICES STAFF.
|  | DEPUTY DIRECTOR, BUDGET STAFF, PROGRAMS AND PERFORMANCE.
|  | DEPUTY DIRECTOR, AUDITING, FINANCE STAFF.
|  | DEPUTY DIRECTOR, HUMAN RESOURCES.
|  | DIRECTOR, INFORMATION TECHNOLOGY POLICY AND PLANNING STAFF.
|  | DIRECTOR, FACILITIES AND ADMINISTRATIVE SERVICES STAFF.
|  | DIRECTOR, OFFICE OF ATTORNEY RECRUITMENT AND MANAGEMENT.
|  | DIRECTOR FINANCE STAFF.
|  | DEPUTY ASSISTANT ATTORNEY GENERAL (CONTROLLER).
|  | DEPUTY ASSISTANT ATTORNEY GENERAL FOR HUMAN RESOURCES AND ADMINISTRATION.
|  | DIRECTOR LIBRARY STAFF.
|  | DIRECTOR JUSTICE SECURITY OPERATIONS CENTER.
|  | DEPUTY ASSISTANT ATTORNEY GENERAL, POLICY, MANAGEMENT, AND PLANNING.
|  | DIRECTOR, HUMAN RESOURCES.
|  | DIRECTOR, APPROPRIATION LIAISON OFFICE.
|  | DIRECTOR, SECURITY AND EMERGENCY PLANNING STAFF.
|  | DEPUTY DIRECTOR, CUSTOMER AND BUSINESS SOLUTIONS SERVICE DELIVERY STAFF.
| NATIONAL SECURITY DIVISION | CHIEF, FOREIGN INVESTMENT REVIEW STAFF. DIRECTOR OF RISK MANAGEMENT AND SENIOR COUNSEL. DIRECTOR, FOIA AND DECLASSIFICATION PROGRAM. CHIEF, APPELLATE UNIT.
|  | DEPUTY CHIEF, COUNTERTERRORISM SECTION.
|  | DEPUTY ASSISTANT ATTORNEY GENERAL, FISA OPERATIONS AND INTELLIGENCE OVERSIGHT.
|  | CHIEF, OPERATIONS SECTION.
|  | CHIEF, OVERSIGHT SECTION.
|  | EXECUTIVE OFFICER.
|  | SPECIAL COUNSEL FOR NATIONAL SECURITY.
| OFFICE OF PROFESSIONAL RESPONSIBILITY | DEPUTY COUNSEL ON PROFESSIONAL RESPONSIBILITY. COUNSEL ON PROFESSIONAL RESPONSIBILITY.
| OFFICE OF THE LEGAL COUNSEL | SPECIAL COUNSEL (2).
| PROFESSIONAL RESPONSIBILITY ADVISORY OFFICE | DIRECTOR, PROFESSIONAL RESPONSPONSIBILITY ADVISORY OFFICE.
| UNITED STATES MARSHALS SERVICE | ASSISTANT DIRECTOR, HUMAN RESOURCES. CHIEF FINANCIAL OFFICER, FINANCIAL SERVICES. ASSISTANT DIRECTOR, WITNESS SECURITY. ASSISTANT DIRECTOR, MANAGEMENT SUPPORT.
|  | ASSISTANT DIRECTOR, ASSET FORFEITURE.
|  | ASSISTANT DIRECTOR, TRAINING.
|  | ASSISTANT DIRECTOR, INVESTIGATIVE OPERATIONS.
|  | DEPUTY DIRECTOR.
|  | ASSISTANT DIRECTOR, OFFICE OF PROFESSIONAL RESPONSIBILITY.
|  | ASSISTANT DIRECTOR JUDICIAL SECURITY.
|  | PROCUREMENT EXECUTIVE, FINANCIAL SERVICES.
|  | ASSISTANT DIRECTOR, JPATS.
|  | ATTORNEY ADVISOR.
|  | ASSOCIATE DIRECTOR, OPERATIONS.
|  | ASSOCIATE DIRECTOR, ADMINISTRATION.
|  | ASSISTANT DIRECTOR, TACTICAL OPERATIONS.
|  | ASSISTANT DIRECTOR FOR PRISONER OPERATIONS.
|  | ASSISTANT DIRECTOR, INFORMATION TECHNOLOGY.
|  | ASSISTANT DIRECTOR FINANCIAL SERVICES.
DEPARTMENT OF JUSTICE OFFICE OF THE INSPECTOR GENERAL
DEPARTMENT OF JUSTICE OFFICE OF THE INSPECTOR GENERAL | AUDIT DIVISION | DEPUTY ASSISTANT INSPECTOR GENERAL, AUDIT DIVISION. ASSISTANT INSPECTOR GENERAL, AUDIT DIVISION.
| EVALUATION AND INSPECTIONS DIVISION | ASSISTANT INSPECTOR GENERAL, EVALUATION AND INSPECTIONS DIVISION.
| FRONT OFFICE | DEPUTY INSPECTOR GENERAL. >GENERAL COUNSEL.
| INFORMATION TECHNOLOGY DIVISION | ASSISTANT INSPECTOR GENERAL, INFORMATION TECHNOLOGY DIVISION.
| INVESTIGATIONS DIVISION | ASSISTANT INSPECTOR GENERAL, INVESTIGATIONS DIVISION. DEPUTY ASSISTANT INSPECTOR GENERAL, INVESTIGATIONS DIVISION.
| MANAGEMENT AND PLANNING DIVISION | DEPUTY ASSISTANT INSPECTOR GENERAL, MANAGEMENT AND PLANNING. ASSISTANT INSPECTOR GENERAL, MANAGEMENT AND PLANNING DIVISION.
| OVERSIGHT AND REVIEW DIVISION | DEPUTY ASSISTANT INSPECTOR GENERAL, OVERSIGHT AND REVIEW DIVISION. ASSISTANT INSPECTOR GENERAL, OVERSIGHT AND REVIEW DIVISION.
DEPARTMENT OF LABOR
DEPARTMENT OF LABOR | BUREAU OF LABOR STATISTICS | ASSOCIATE COMMISSIONER FOR ADMINISTRATION. ASSOCIATE COMMISSIONER FOR PRICES AND LIVING CONDITIONS. ASSOCIATE COMMISSIONER PRODUCTIVITY AND TECHNOLOGY. DEPUTY COMMISSIONER FOR LABOR STATISTICS.
|  | ASSISTANT COMMISSIONER FOR INTERNATIONAL PRICES.
|  | ASSOCIATE COMMISSIONER FOR PUBLICATIONS AND SPECIAL STUDIES.
|  | ASSOCIATE COMMISSIONER FOR TECHNOLOGY AND SURVEY PROCESSING.
|  | ASSISTANT COMMISSIONER FOR COMPENSATION LEVELS AND TRENDS.
|  | ASSISTANT COMMISSIONER FOR SAFETY, HEALTH AND WORKING CONDITIONS.
|  | ASSOCIATE COMMISSIONER FOR COMPENSATION AND WORKING CONDITIONS.
|  | DIRECTOR OF TECHNOLOGY AND COMPUTING SERVICES.
|  | ASSISTANT COMMISSIONER FOR INDUSTRIAL PRICES AND PRICE INDEXES.
|  | ASSOCIATE COMMISSIONER FOR EMPLOYMENT AND UNEMPLOYMENT STATISTICS.
|  | ASSISTANT COMMISSIONER FOR CURRENT EMPLOYMENT ANALYSIS.
|  | ASSOCIATE COMMISSIONER FOR SURVEY METHODS RESEARCH.
|  | DIRECTOR OF SURVEY PROCESSING.
|  | ASSISTANT COMMISSIONER FOR REGIONAL OPERATIONS (3).
|  | ASSISTANT COMMISSIONER FOR CONSUMER PRICES AND PRICES INDEXES.
|  | ASSOCIATE COMMISSIONER FOR FIELD OPERATIONS.
|  | ASSISTANT COMMISSIONER FOR OCCUPATIONAL STATISTICS AND EMPLOYMENT PROJECTIONS.
|  | ASSOCIATE COMMISSIONER FOR PRICES AND LIVING CONDITIONS.
|  | ASSISTANT COMMISSIONER FOR INDUSTRY EMPLOYMENT STATISTICS.
| EMPLOYEE BENEFITS SECURITY ADMINISTRATION | REGIONAL DIRECTOR—PHILADELPHIA. DEPUTY ASSISTANT SECRETARY REGIONAL OFFICES. REGIONAL DIRECTOR NEW YORK. CHIEF ACCOUNTANT.
|  | REGIONAL DIRECTOR—NEW YORK.
|  | REGIONAL DIRECTOR.
|  | DIRECTOR OF EXEMPTION DETERMINATIONS.
|  | DIRECTOR OF REGULATIONS AND INTERPRETATIONS.
|  | DEPUTY ASSISTANT SECRETARY FOR PROGRAM OPERATIONS.
|  | DIRECTOR OF HEALTH PLAN STANDARDS COMPLIANCE AND ASSISTANCE.
|  | DIRECTOR, OFFICE OF TECHNOLOGY AND INFORMATION SERVICES.
|  | REGIONAL DIRECTOR—BOSTON.
|  | REGIONAL DIRECTOR—ATLANTA.
|  | REGIONAL DIRECTOR—KANSAS CITY.
|  | REGIONAL DIRECTOR—SAN FRANCISCO.
|  | DIRECTOR OF ENFORCEMENT.
|  | DIRECTOR, OFFICE OF OUTREACH EDUCATION AND ASSISTANCE.
|  | REGIONAL DIRECTOR—CHICAGO.
| EMPLOYMENT AND TRAINING ADMINISTRATION | ASSOCIATE ADMINISTRATOR. COMPTROLLER. DEPUTY ASSISTANT SECRETARY (OPERATIONS AND MANAGEMENT). DEPUTY ADMINISTRATOR JOB CORP.
|  | DEPUTY ADMINISTRATOR, OFFICE OF JOB CORP.
|  | ADMINISTRATOR, OFFICE OF WORKFORCE SECURITY.
|  | ADMINISTRATOR, OFFICE OF FOREIGN LABOR CERTIFICATION.
|  | ADMINISTRATOR, OFFICE OF TRADE ADJUSTMENT ASSISTANCE.
|  | ADMINISTRATOR, OFFICE OF GRANTS MANAGEMENT.
|  | ADMINISTRATOR, OFFICE OF POLICY DEVELOPMENT AND RESEARCH.
|  | ADMINISTRATOR, OFFICE OF JOB CORPS.
|  | REGIONAL ADMINISTRATOR (4).
|  | ADMINISTRATOR, APPRENTICESHIP AND TRAINING, EMPLOYEE AND LABOR SERVICES.
| MINE SAFETY AND HEALTH ADMINISTRATION | DIRECTOR OF PROGRAM EVALUATION AND INFORMATION RESOURCES. REGIONAL ADMINISTRATOR. DIRECTOR OF ADMINISTRATION AND MANAGEMENT. DEPUTY ASSISTANT SECRETARY.
|  | DIRECTOR, OFFICE OF ASSESSMENTS, ACCOUNTABILITY, SPECIAL ENFORCEMENT, AND INVESTIGATIONS.
|  | CHIEF OF STANDARDS, REGULATIONS AND VARIANCES.
|  | DIRECTOR OF TECHNICAL SUPPORT.
|  | DEPUTY ADMINISTRATOR FOR COAL MINE SAFETY AND HEALTH.
| OCCUPATIONAL SAFETY AND HEALTH ADMINISTRATION | DIRECTOR OF CONSTRUCTION. DIRECTORATE OF TECHNICAL SUPPORT AND EMERGENCY MANAGEMENT. DIRECTOR, ADMINISTRATIVE PROGRAMS.
| OFFICE OF DISABILITY EMPLOYMENT POLICY | DEPUTY ASSISTANT SECRETARY. DIRECTOR FOR PROGRAM MANAGEMENT.
| OFFICE OF FEDERAL CONTRACT COMPLIANCE PROGRAMS | REGIONAL DIRECTOR FOR OFFICE OF FEDERAL CONTRACT COMPLIANCE PROGRAMS. DIRECTOR, MANAGEMENT AND ADMINISTRATIVE PROGRAMS. >REGIONAL DIRECTOR FOR OFFICE OF FEDERAL CONTRACT COMPLIANCE PROGRAMS (3). DIRECTOR, DIVISION OF POLICY, PLANNING AND PROGRAM DEVELOPMENT.
|  | REGIONAL DIRECTOR FOR OFFICE OF FEDERAL CONTRACT COMPLIANCE PROGRAMS.
|  | REGIONAL DIRECTOR FOR OFFICE OF FEDERAL CONTRACTS COMPLIANCE PROGRAMS.
| OFFICE OF LABOR-MANAGEMENT STANDARDS | DIRECTOR, OFFICE OF PROGRAM OPERATIONS. DIRECTOR, OFFICE OF FIELD OPERATIONS. REGIONAL DIRECTOR, SAINT LOUIS, MO. REGIONAL DIRECTOR, MILWAUKEE.
|  | REGIONAL DIRECTOR, NEW YORK, NEW YORK.
|  | REGIONAL DIRECTOR, NEW ORLEANS.
|  | DEPUTY DIRECTOR, OFFICE OF LABOR MANAGEMENT STANDARDS.
| OFFICE OF THE ASSISTANT SECRETARY FOR ADMINISTRATION AND MANAGEMENT | DIRECTOR, PERFORMANCE MANAGEMENT CENTER. DIRECTOR BUSINESS OPERATIONS CENTER. DIRECTOR OF CIVIL RIGHTS. DIRECTOR, DIRECTORATE OF INFORMATION TECHNOLOGY OPERATIONS AND SERVICES.
|  | SENIOR DIRECTOR OF JOB CORPS ACQUISITION SERVICES.
|  | HEAD OF CONTRACTING ACTIVITY.
|  | DEPUTY ASSISTANT SECRETARY FOR BUDGET.
|  | DIRECTOR OF CASE MANAGEMENT.
|  | DIRECTOR, GRANTS MANAGEMENT.
|  | DIRECTOR, BENEFITS AND PAYMENTS.
|  | DIRECTOR, BUSINESS APPLICATION SERVICES.
|  | CHIEF TECHNOLOGY OFFICER.
|  | SENIOR PROCUREMENT EXECUTIVE.
|  | DIRECTOR, CYBERSECURITY AND CHIEF INFORMATION SECURITY OFFICER.
|  | DIRECTOR OF ENTERPRISE SERVICES.
|  | DEPUTY CHIEF INFORMATION OFFICER.
|  | CHIEF HUMAN CAPITAL OFFICER.
|  | DEPUTY DIRECTOR OF HUMAN RESOURCES.
|  | DEPUTY ASSISTANT SECRETARY FOR OPERATIONS.
|  | DIRECTOR DEPARTMENTAL BUDGET CENTER.
| OFFICE OF THE ASSISTANT SECRETARY FOR POLICY | DIRECTOR, OFFICE OF REGULATORY AND PROGRAMMATIC POLICY. DEPUTY ASSISTANT SECRETARY FOR POLICY.
| OFFICE OF THE CHIEF FINANCIAL OFFICER | ASSOCIATE DEPUTY CHIEF FINANCIAL OFFICER FOR FINANCIAL SYSTEMS. DEPUTY CHIEF FINANCIAL OFFICER (2).
| OFFICE OF THE SOLICITOR | ASSOCIATE SOLICITOR, MANAGEMENT AND ADMINISTRATIVE LEGAL SERVICES DIVISION. ASSOCIATE SOLICITOR FOR CIVIL RIGHTS AND LABOR MANAGEMENT. ASSOCIATE SOLICITOR FOR BLACK LUNG AND LONGSHORE LEGAL SERVICES. DEPUTY SOLICITOR (NATIONAL OPERATIONS).
|  | ASSOCIATE SOLICITOR FOR FAIR LABOR STANDARDS.
|  | REGIONAL SOLICITOR—ATLANTA.
|  | ASSOCIATE SOLICITOR FOR FEDERAL EMPLOYEES' AND ENERGY WORKERS' COMPENSATION.
|  | REGIONAL SOLICITOR—BOSTON.
|  | REGIONAL SOLICITOR—NEW YORK.
|  | ASSOCIATE SOLICITOR FOR PLAN BENEFITS SECURITY.
|  | DEPUTY SOLICITOR (REGIONAL OPERATIONS).
|  | ASSOCIATE SOLICITOR FOR OCCUPATIONAL SAFETY AND HEALTH.
|  | ASSOCIATE SOLICITOR FOR MINE SAFETY AND HEALTH.
|  | REGIONAL SOLICITOR—CHICAGO.
|  | REGIONAL SOLICITOR—PHILADELPHIA.
|  | REGIONAL SOLICITOR—DALLAS.
|  | REGIONAL SOLICITOR—SAN FRANCISCO.
| OFFICE OF WORKERS COMPENSATION PROGRAMS | DEPUTY DIRECTOR FOR OFFICE OF WORKERS' COMPENSATION PROGRAMS. DIRECTOR, ENERGY EMPLOYEES' OCCUPATIONAL ILLNESS COMPENSATION. DIRECTOR OF COAL MINE WORKERS COMPENSATION. ADMINISTRATIVE OFFICER.
|  | DEPUTY DIRECTOR, POLICY AND NATIONAL OPERATIONS.
|  | NATIONAL ADMINISTRATION OF FIELD OPERATIONS, DIVISION OF FEDERAL EMPLOYEES COMPENSATION.
|  | NATIONAL ADMINISTRATION OF FIELD OPERATION, DIVISION OF ENERGY EMPLOYEE OCCUPATIONAL ILLNESS COMPENSATION.
|  | DEPUTY DIRECTOR, CLAIMS ADMINISTRATION, POLICY, HEARINGS, AND TECHNICAL ASSISTANCE.
|  | DEPUTY DIRECTOR, PROGRAM AND SYSTEMS INTEGRITY.
|  | COMPTROLLER.
|  | REGIONAL DIRECTOR (NORTHEAST REGION).
|  | REGIONAL DIRECTOR—DALLAS.
|  | REGIONAL DIRECTOR (2).
|  | COMPTROLLER.
|  | DIRECTOR FOR FEDERAL EMPLOYEES' COMPENSATION.
| VETERANS EMPLOYMENT AND TRAINING SERVICE | DIRECTOR, OFFICE OF FIELD OPERATIONS. DIRECTOR OF NATIONAL PROGRAMS. DEPUTY ASSISTANT SECRETARY FOR OPERATIONS AND MANAGEMENT.
| WAGE AND HOUR DIVISION | ASSISTANT ADMINISTRATOR, OPERATIONS. ASSOCIATE ADMINISTRATOR, REGIONAL ENFORCEMENT AND SUPPORT. ASSOCIATE ADMINISTRATOR FOR ENTERPRISE DATA AND ANALYTICS.
| WOMEN'S BUREAU | DEPUTY DIRECTOR, WOMEN'S BUREAU.
DEPARTMENT OF LABOR OFFICE OF INSPECTOR GENERAL
| DEPARTMENT OF LABOR OFFICE OF INSPECTOR GENERAL | ASSISTANT INSPECTOR GENERAL FOR AUDIT. DEPUTY ASSISTANT INSPECTOR GENERAL FOR AUDIT. CHIEF PERFORMANCE AND RISK MANAGEMENT OFFICER. DEPUTY ASSISTANT INSPECTOR GENERAL FOR MANAGEMENT AND POLICY.
|  | ASSISTANT INSPECTOR GENERAL FOR INVESTIGATIONS—LABOR RACKETEERING.
|  | COUNSEL TO THE INSPECTOR GENERAL.
|  | DEPUTY INSPECTOR GENERAL.
|  | DEPUTY ASSISTANT INSPECTOR GENERAL FOR AUDIT.
|  | DEPUTY ASSISTANT INSPECTOR GENERAL FOR INVESTIGATIONS—LABOR RACKETEERING.
|  | ASSISTANT INSPECTOR GENERAL FOR MANAGEMENT AND POLICY.
|  | ASSISTANT INSPECTOR GENERAL FOR CONGRESSIONAL AND PUBLIC RELATIONS.
MERIT SYSTEMS PROTECTION BOARD
MERIT SYSTEMS PROTECTION BOARD | DALLAS REGIONAL OFFICE | REGIONAL DIRECTOR, DALLAS.
OFFICE OF REGIONAL OPERATIONS | ATLANTA REGIONAL OFFICE | REGIONAL DIRECTOR, ATLANTA.
| CENTRAL REGION, CHICAGO REGIONAL OFFICE | REGIONAL DIRECTOR, CHICAGO.
| NORTHEAST REGION, PHILADELPHIA REGIONAL OFFICE | REGIONAL DIRECTOR, PHILADELPHIA.
| WASHINGTON, DC REGION, WASHINGTON REGIONAL OFFICE | REGIONAL DIRECTOR, WASHINGTON, D.C.
| WESTERN REGION, OAKLAND REGIONAL OFFICE | REGIONAL DIRECTOR, OAKLAND.
OFFICE OF THE BOARD, CHAIRMAN | OFFICE OF FINANCIAL AND ADMINISTRATIVE MANAGEMENT | DIRECTOR, FINANCIAL AND ADMINISTRATIVE MANAGEMENT.
| OFFICE OF INFORMATION RESOURCES MANAGEMENT | DIRECTOR, INFORMATION RESOURCES MANAGEMENT.
| OFFICE OF POLICY AND EVALUATION | DIRECTOR, OFFICE OF POLICY AND EVALUATION.
| OFFICE OF REGIONAL OPERATIONS | DIRECTOR, OFFICE OF REGIONAL OPERATIONS.
| OFFICE OF THE CLERK OF THE BOARD | CLERK OF THE BOARD.
NATIONAL AERONAUTICS AND SPACE ADMINISTRATION
| NATIONAL AERONAUTICS AND SPACE ADMINISTRATION | DIRECTOR, HUMAN RESOURCES. DIRECTOR, SPACEPORT INTEGRATION AND SERVICES. DIRECTOR, COMMUNICATION AND PUBLIC ENGAGEMENT. DIRECTOR, EXPLORATION RESEARCH AND TECHNOLOGY PROGRAMS. GROUND SYSTEMS INTEGRATION MANAGER, EXPLORATION GROUND SYSTEMS PROGRAM.
AERONAUTICS RESEARCH MISSION DIRECTORATE
AERONAUTICS RESEARCH MISSION DIRECTORATE | AMES RESEARCH CENTER | DEPUTY DIRECTOR, SCIENCE. DIRECTOR, PROGRAMS AND PROJECTS. ASSOCIATE DIRECTOR FOR RESEARCH AND TECHNOLOGY. DEPUTY DIRECTOR, EXPLORATION TECHNOLOGY.
|  | PROGRAM MANAGER FOR SOFIA.
|  | PROCUREMENT OFFICER.
|  | CHIEF INFORMATION OFFICER.
|  | DEPUTY CENTER DIRECTOR, ARC.
|  | DIRECTOR OF SAFETY AND MISSION ASSURANCE.
|  | DEPUTY DIRECTOR, AERONAUTICS.
|  | DIRECTOR OF SCIENCE.
|  | DIRECTOR, EXPLORATION TECHNOLOGY.
|  | CHIEF FINANCIAL OFFICER.
|  | DIRECTOR OF CENTER OPERATIONS.
|  | DIRECTOR OF AERONAUTICS.
|  | ASSISTANT CENTER DIRECTOR FOR MANAGEMENT OPERATIONS.
|  | DIRECTOR OF ENGINEERING.
|  | CENTER ASSOCIATE DIRECTOR.
| GLENN RESEARCH CENTER | PLUM BROOK STATION MANAGER. CHIEF FINANCIAL OFFICER. DEPUTY DIRECTOR OF FACILITIES, TEST AND MANUFACTURING DIRECTORATE. CENTER ASSOCIATE DIRECTOR.
|  | DIRECTOR OF CENTER OPERATIONS.
|  | DIRECTOR, OFFICE OF PROCUREMENT.
|  | DIRECTOR, AEROSCIENCES EVALUATION AND TEST CAPABILITIES PORTFOLIO.
|  | DEPUTY DIRECTOR, NASA SAFETY CENTER.
|  | DEPUTY CENTER DIRECTOR.
|  | ASSOCIATE DIRECTOR FOR STRATEGY.
|  | DIRECTOR, FACILITIES, TEST AND MANUFACTURING DIRECTORATE.
|  | DIRECTOR, SAFETY AND MISSION ASSURANCE DIRECTORATE.
|  | DIRECTOR, AERONAUTICS DIRECTORATE.
|  | DIRECTOR, HUMAN RESOURCES.
|  | DIRECTOR, OFFICE OF TECHNOLOGY INCUBATION AND INNOVATION.
| LANGLEY RESEARCH CENTER | CHIEF FINANCIAL OFFICER. DIRECTOR, SAFETY AND MISSION ASSURANCE OFFICE. DIRECTOR, ENGINEERING DIRECTORATE. DEPUTY DIRECTOR, ENGINEERING DIRECTORATE.
|  | DIRECTOR, RESEARCH DIRECTORATE.
|  | DEPUTY DIRECTOR, RESEARCH DIRECTORATE.
|  | DIRECTOR, CENTER OPERATIONS DIRECTORATE.
|  | DIRECTOR, AERONAUTICS RESEARCH DIRECTORATE.
|  | DIRECTOR, NATIONAL AERONAUTICS AND SPACE ADMINISTRATION ENGINEERING AND SAFETY CENTER.
|  | DEPUTY DIRECTOR, LANGLEY RESEARCH CENTER.
|  | CHIEF INFORMATION OFFICER.
|  | DEPUTY DIRECTOR, NATIONAL AERONAUTICS AND SPACE ADMINISTRATION ENGINEERING AND SAFETY CENTER.
|  | DIRECTOR, SCIENCE DIRECTORATE.
|  | DIRECTOR, SYSTEMS ANALYSIS AND ADVANCED CONCEPTS DIRECTORATE.
|  | DIRECTOR, RESEARCH SERVICES DIRECTORATE.
|  | DIRECTOR, OFFICE OF HUMAN CAPITAL MANAGEMENT.
|  | MANAGER, NESC INTEGRATION OFFICE.
|  | MANAGER, LOW BOOM FLIGHT DEMONSTRATION MISSION.
|  | DEPUTY DIRECTOR FOR STRUCTURES AND MATERIALS.
|  | DEPUTY DIRECTOR FOR MISSION ASSURANCE.
|  | SENIOR ADVISOR, ON-ORBIT SERVICING, ASSEMBLY, AND MANUFACTURING.
|  | DIRECTOR, OFFICE OF STRATEGIC ANALYSIS, COMMUNICATIONS, AND BUSINESS DEVELOPMENT.
|  | ASSOCIATE DIRECTOR, TECHNICAL.
|  | SENIOR ADVISOR FOR ENGINEERING DEVELOPMENT.
|  | DEPUTY DIRECTOR FOR AEROSCIENCES.
|  | DEPUTY DIRECTOR FOR SAFETY.
|  | DIRECTOR, EARTH SYSTEM SCIENCE PATHFINDER PROGRAM OFFICE.
|  | DEPUTY DIRECTOR FOR TECHNICAL CAPABILITIES.
|  | DEPUTY DIRECTOR FOR AERONAUTICS PROJECTS.
|  | DIRECTOR, SPACE TECHNOLOGY AND EXPLORATION DIRECTORATE.
|  | ASSOCIATE DIRECTOR, LANGLEY RESEARCH CENTER.
|  | DEPUTY DIRECTOR FOR INTELLIGENT FLIGHT SYSTEMS.
GLENN RESEARCH CENTER | NASA SAFETY CENTER | DIRECTOR, AUDITS AND ASSESSMENTS.
| OFFICE OF THE CHIEF INFORMATION OFFICER | CHIEF INFORMATION OFFICER.
| RESEARCH AND ENGINEERING DIRECTORATE | DEPUTY DIRECTOR, RESEARCH AND ENGINEERING DIRECTORATE. DEPUTY CHIEF, POWER DIVISION. CHIEF, POWER DIVISION. DIRECTOR, RESEARCH AND ENGINEERING DIRECTORATE. CHIEF, CHIEF ENGINEER OFFICE.
| SPACE FLIGHT SYSTEMS DIRECTORATE | DIRECTOR, SPACE FLIGHT SYSTEMS DIRECTORATE. DEPUTY DIRECTOR, SPACE FLIGHT SYSTEMS. MANAGER, POWER AND PROPULSION ELEMENT PROJECT OFFICE. MANAGER, EUROPEAN SERVICE MODULE INTEGRATION OFFICE.
GODDARD SPACE FLIGHT CENTER | FLIGHT PROJECTS | ASSOCIATE DIRECTOR FOR EXPLORERS AND HELIOPHYSICS PROJECTS DIVISION. DEPUTY ASSOCIATE DIRECTOR OF FLIGHT PROJECTS FOR JOINT POLAR SATELLITE SYSTEM (JPSS) GROUND.
| INFORMATION TECHNOLOGY | CHIEF INFORMATION OFFICER.
| MANAGEMENT OPERATIONS | DEPUTY DIRECTOR OF MANAGEMENT OPERATIONS.
| SCIENCES AND EXPLORATION | DEPUTY DIRECTOR OF SCIENCES AND EXPLORATION.
JOHNSON SPACE CENTER | CENTER OPERATIONS | DIRECTOR, CENTER OPERATIONS.
| ENGINEERING | CHIEF, AEROSCIENCE AND FLIGHT MECHANICS DIVISION. CHIEF, PROPULSION AND POWER DIVISION. DEPUTY DIRECTOR, ENGINEERING. CHIEF, SOFTWARE, ROBOTICS AND SIMULATION DIVISION. DIRECTOR, ENGINEERING.
| EXPLORATION INTEGRATION AND SCIENCE | DEPUTY DIRECTOR, EXPLORATION INTEGRATION AND SCIENCE. DIRECTOR, EXPLORATION INTEGRATION AND SCIENCE. ASSOCIATE DIRECTOR, EXPLORATION, INTEGRATION AND SCIENCE. MANAGER, EXTRA VEHICULAR ACTIVITY MANAGEMENT OFFICE.
| FLIGHT OPERATIONS | CHIEF ASTRONAUT OFFICE. CHIEF, FLIGHT DIRECTOR OFFICE. CHIEF, AIRCRAFT OPERATIONS DIVISION. CHIEF, MISSION SYSTEMS DIVISION.
|  | DEPUTY DIRECTOR, FLIGHT OPERATIONS.
|  | DIRECTOR, FLIGHT OPERATIONS.
| HUMAN HEALTH AND PERFORMANCE | DEPUTY DIRECTOR, HUMAN HEALTH AND PERFORMANCE DIRECTOR, HUMAN HEALTH AND PERFORMANCE.
| INFORMATION RESOURCES | DIRECTOR, INFORMATION RESOURCES.
| OFFICE OF PROCUREMENT | DIRECTOR, OFFICE OF PROCUREMENT. SENIOR ADVISOR (TRANSFORMATION).
| ORION PROGRAM | MANAGER, ORION PROGRAM. DEPUTY MANAGER, ORION PROGRAM. MANAGER, AVIONICS, POWER AND SOFTWARE OFFICE.
| SPACE STATION PROGRAM OFFICE | MANAGER, EXTERNAL INTEGRATION OFFICE. DEPUTY MANAGER FOR UTILIZATION. MANAGER, INTERNATIONAL SPACE STATION RESEARCH INTEGRATION OFFICE. MANAGER, OPERATIONS INTEGRATION.
|  | MANAGER, SAFETY AND MISSION ASSURANCE/PROGRAM RISK OFFICE, ISSP.
|  | MANAGER, INTERNATIONAL SPACE STATION TRANSPORTATION INTEGRATION.
|  | MANAGER, PROGRAM PLANNING AND CONTROL OFFICE, INTERNATIONAL SPACE STATION.
|  | MANAGER, AVIONICS AND SOFTWARE OFFICE.
|  | DEPUTY MANAGER, INTERNATIONAL SPACE STATION PROGRAM.
|  | MANAGER, VEHICLE OFFICE.
|  | MANAGER, INTERNATIONAL SPACE STATION PROGRAM.
| WHITE SANDS TEST FACILITY | MANAGER, WHITE SANDS TEST FACILITY.
KENNEDY SPACE CENTER | LAUNCH SERVICES PROGRAM | MANAGER, LAUNCH SERVICES PROGRAM.
| SAFETY AND MISSION ASSURANCE | DIRECTOR, SAFETY AND MISSION ASSURANCE.
MISSION SUPPORT DIRECTORATE | NASA SHARED SERVICES CENTER | DIRECTOR, SERVICE DELIVERY DIRECTORATE. DIRECTOR, SUPPORT OPERATIONS DIRECTORATE. EXECUTIVE DIRECTOR OF NASA SHARED SERVICES CENTER.
| OFFICE OF CHIEF HEALTH AND MEDICAL OFFICER | CHIEF HEALTH AND MEDICAL OFFICER. DEPUTY CHIEF HEALTH AND MEDICAL OFFICER.
| OFFICE OF HEADQUARTERS OPERATIONS | DIRECTOR, HEADQUARTERS INFORMATION AND COMMUNICATION DIVISION. DIRECTOR, HUMAN RESOURCE MANAGEMENT DIVISION. DIRECTOR, BUDGET MANAGEMENT AND SYSTEMS SUPPORT. EXECUTIVE DIRECTOR, HEADQUARTERS OPERATIONS.
| OFFICE OF HUMAN CAPITAL MANAGEMENT | DIRECTOR, HUMAN RESOURCES SERVICES DIVISION. SPECIAL ASSISTANT TO THE CHIEF HUMAN CAPITAL OFFICER. DIRECTOR, BUSINESS OPERATIONS DIVISION. DEPUTY ASSISTANT ADMINISTRATOR FOR HIRING.
|  | DIRECTOR, EXECUTIVE RESOURCES.
|  | DEPUTY ASSISTANT ADMINISTRATOR FOR HUMAN CAPITAL MANAGEMENT.
|  | DIRECTOR, WORKFORCE STRATEGY DIVISION.
|  | DIRECTOR, WORKFORCE CULTURE DIVISION.
|  | ASSISTANT ADMINISTRATOR FOR HUMAN CAPITAL MANAGEMENT.
|  | DIRECTOR, TALENT ACQUISITION AND DEVELOPMENT PROGRAM OFFICE.
| OFFICE OF PROCUREMENT | DIRECTOR, PROGRAM OPERATIONS DIVISION. DIRECTOR, OFFICE OF PROCUREMENT. DEPUTY ASSISTANT ADMINISTRATOR FOR OFFICE OF PROCUREMENT. DIRECTOR, INFORMATION TECHNOLOGY PROCUREMENT OFFICE.
|  | DIRECTOR, CONTRACT MANAGEMENT DIVISION.
|  | ASSISTANT ADMINISTRATOR FOR PROCUREMENT.
|  | DIRECTOR, OFFICE OF PROCUREMENT.
| OFFICE OF PROTECTIVE SERVICES | ASSISTANT ADMINISTRATOR FOR PROTECTIVE SERVICES. DEPUTY ASSISTANT ADMINISTRATOR FOR PROTECTIVE SERVICES. SENIOR ADVISOR (TRANSFORMATION). DIRECTOR OF COUNTERINTELLIGENCE/COUNTERTERRORISM FOR PROTECTIVE SERVICES.
| OFFICE OF STRATEGIC INFRASTRUCTURE | DIRECTOR ENVIRONMENTAL MANAGEMENT DIVISION. SENIOR ADVISOR (TRANSFORMATION) ASSISTANT ADMINISTRATOR FOR INFRASTRUCTURE AND ADMINISTRATION DIRECTOR, LOGISTICS MANAGEMENT DIVISION
|  | DIRECTOR, FACILITIES AND REAL ESTATE
|  | DEPUTY ASSISTANT ADMINISTRATOR FOR STRATEGIC INFRASTRUCTURE
|  | DIRECTOR, SPACE ENVIRONMENTS TESTING MANAGEMENT OFFICE (SETMO)
| OFFICE OF THE CHIEF ENGINEER | CHIEF ENGINEER. DEPUTY FOR MANAGEMENT.
| OFFICE OF THE CHIEF FINANCIAL OFFICER | DEPUTY CHIEF FINANCIAL OFFICER (APPROPRIATIONS). DIRECTOR, POLICY DIVISION DIRECTOR, BUDGET DIVISION DEPUTY CHIEF FINANCIAL OFFICER (FINANCE)
|  | DIRECTOR, FINANCIAL MANAGEMENT DIVISION
|  | DIRECTOR, QUALITY ASSURANCE
|  | DIRECTOR, STRATEGIC INVESTMENT DIVISION
NATIONAL AERONAUTICS AND SPACE ADMINISTRATION | OFFICE OF SAFETY AND MISSION ASSURANCE | DIRECTOR, INSTITUTIONAL SAFETY MANAGEMENT DIVISION. DIRECTOR, INDEPENDENT VERIFICATION AND VALIDATION PROGRAM.
| OFFICE OF THE ADMINISTRATOR | ASSOCIATE ADMINISTRATOR. DEPUTY ASSOCIATE ADMINISTRATOR. SENIOR ADVISOR. SENIOR ADVISOR TO THE DEPUTY ASSOCIATE ADMINISTRATOR.
|  | DIRECTOR FIELD OPERATIONS DIVISION.
|  | SENIOR ADVISOR TO THE ASSOCIATE ADMINISTRATOR.
|  | DIGITAL TRANSFORMATION OFFICER.
|  | DEPUTY DIGITAL TRANSFORMATION OFFICER AND CHIEF DATA OFFICER.
| STENNIS SPACE CENTER | DIRECTOR, OFFICE OF SAFETY AND MISSION ASSURANCE. DIRECTOR, CENTER OPERATIONS DIRECTORATE. DEPUTY DIRECTOR, ENGINEERING AND TEST DIRECTORATE. CHIEF FINANCIAL OFFICER.
|  | DEPUTY DIRECTOR, STENNIS SPACE CENTER.
|  | DIRECTOR, ENGINEERING AND SCIENCE DIRECTORATE.
|  | ASSOCIATE DIRECTOR.
OFFICE OF EARTH SCIENCE | GODDARD SPACE FLIGHT CENTER | DIRECTOR, SOLAR SYSTEM EXPLORATION DIVISION. CHIEF, MECHANICAL SYSTEMS DIVISION. CHIEF, INSTRUMENT SYSTEMS AND TECHNOLOGY DIVISION. DEPUTY DIRECTOR FOR PLANNING AND BUSINESS MANAGEMENT.
|  | ASSOCIATE DIRECTOR FOR ASTROPHYSICS PROJECTS DIVISION.
|  | CENTER ASSOCIATE DIRECTOR.
|  | CHIEF, ELECTRICAL ENGINEERING DIVISION.
|  | DIRECTOR OF ENGINEERING AND TECHNOLOGY.
|  | DEPUTY DIRECTOR OF ENGINEERING AND TECHNOLOGY.
|  | CHIEF, SOFTWARE ENGINEERING DIVISION.
|  | DIRECTOR, EARTH SCIENCES DIVISION.
|  | CHIEF, GODDARD INSTITUTE FOR SPACE STUDIES.
|  | DIRECTOR, ASTROPHYSICS SCIENCE DIVISION.
|  | DIRECTOR OF THE OFFICE OF HUMAN CAPITAL MANAGEMENT.
|  | DIRECTOR OF FLIGHT PROJECTS.
|  | DIRECTOR OF MANAGEMENT OPERATIONS.
|  | DIRECTOR OF SAFETY AND MISSION ASSURANCE.
|  | DIRECTOR OFFICE OF PROCUREMENT.
|  | DEPUTY DIRECTOR.
|  | DEPUTY DIRECTOR OF FLIGHT PROJECTS.
|  | DIRECTOR OF WALLOPS FLIGHT FACILITY.
|  | DEPUTY DIRECTOR OF SAFETY AND MISSION ASSURANCE.
|  | DIRECTOR OF SCIENCES AND EXPLORATION.
|  | CHIEF INFORMATION OFFICER AND DIRECTOR OF INFORMATION TECHNOLOGY AND COMMUNICATIONS DIRECTORATE.
|  | DEPUTY DIRECTOR WALLOPS FLIGHT FACILITY.
|  | DEPUTY ASSOCIATE DIRECTOR OF FLIGHT PROJECTS FOR JOINT POLAR SATELLITE SYSTEM (JPSS) FLIGHT.
|  | SPECIAL ASSISTANT FOR PROJECT MANAGEMENT TRAINING.
|  | ASSOCIATE DIRECTOR FOR SATELLITE SERVICING CAPABILITIES PROJECT.
|  | DEPUTY DIRECTOR FOR TECHNICAL MANAGEMENT.
|  | ASSOCIATE DIRECTOR OF FLIGHT PROJECTS FOR THE INSTRUMENT AND SPECIAL PROJECTS DIVISION.
|  | DEPUTY CHIEF FINANCIAL OFFICER.
|  | DIRECTOR, HELIOPHYSICS SCIENCE DIVISION.
|  | ASSOCIATE DIRECTOR FOR EXPLORATION AND SPACE COMMUNICATIONS PROJECTS DIVISION.
|  | ASSOCIATE DIRECTOR FOR EARTH SCIENCE PROJECTS DIVISION.
|  | CHIEF, MISSION ENGINEERING AND SYSTEMS ANALYSIS DIVISION.
|  | DEPUTY DIRECTOR FOR INSTITUTIONS, PROGRAMS, AND BUSINESS MANAGEMENT.
|  | DEPUTY DIRECTOR FOR TECHNOLOGY AND RESEARCH INVESTMENTS.
|  | DEPUTY DIRECTOR FLIGHT PROJECTS FOR PLANNING AND BUSINESS MANAGEMENT.
|  | CHIEF FINANCIAL OFFICER.
OFFICE OF PUBLIC AFFAIRS | OFFICE OF LEGISLATIVE AND INTERGOVERNMENTAL AFFAIRS | DEPUTY ASSOCIATE ADMINISTRATOR FOR LEGISLATIVE AND INTERGOVERNMENTAL AFFAIRS.
OFFICE OF SMALL BUSINESS PROGRAMS | JOHNSON SPACE CENTER | MANAGER, PROGRAM PLANNING AND CONTROL, ORION. MANAGER, CREW AND SERVICE MODULE OFFICE. DEPUTY MANAGER, FLIGHT DEVELOPMENT AND OPERATIONS, COMMERCIAL CREW PROGRAM. CHIEF FINANCIAL OFFICER.
|  | CHIEF, ASTROMATERIALS RESEARCH AND EXPLORATION SCIENCE (ARES).
|  | CHIEF, AVIONIC SYSTEMS DIVISION.
|  | MANAGER, OPERATIONS INTEGRATION, COMMERCIAL CREW PROGRAM.
|  | CHIEF, STRUCTURAL ENGINEERING DIVISION.
|  | MANAGER, SYSTEMS ENGINEERING AND INTEGRATION OFFICE, GATEWAY.
|  | DEPUTY MANAGER, GATEWAY PROGRAM.
|  | MANAGER, VEHICLE SYSTEMS INTEGRATION.
|  | DEPUTY MANAGER, INTERNATIONAL SPACE STATION PROGRAM (UTILIZATION).
|  | PRODUCTION MANAGER, GATEWAY PROGRAM.
|  | DEPUTY CHIEF FINANCIAL OFFICER.
|  | DEPUTY MANAGER, INTERNATIONAL SPACE STATION PROGRAM (OPERATIONS).
|  | MANAGER, VEHICLE INTEGRATION OFFICE.
|  | DIRECTOR, EXTERNAL RELATIONS.
|  | CENTER ASSOCIATE DIRECTOR.
|  | DIRECTOR OF HUMAN RESOURCES.
|  | DEPUTY DIRECTOR, JOHNSON SPACE CENTER.
| KENNEDY SPACE CENTER | DEPUTY DIRECTOR, JOHN F KENNEDY SPACE CENTER. ASSOCIATE DIRECTOR, TECHNICAL, JOHN F KENNEDY SPACE CENTER. CHIEF FINANCIAL OFFICER. DIRECTOR, PROCUREMENT.
|  | DEPUTY DIRECTOR, ENGINEERING.
|  | ASSOCIATE DIRECTOR, ENGINEERING.
|  | DIRECTOR, ENGINEERING.
|  | DEPUTY MANAGER, LAUNCH SERVICES PROGRAM.
|  | DEPUTY MANAGER, GROUND DEVELOPMENT AND OPERATIONS, COMMERCIAL CREW PROGRAM.
|  | MANAGER, COMMERCIAL CREW PROGRAM.
|  | CHIEF INFORMATION OFFICER, KENNEDY SPACE CENTER.
|  | MANAGER, EXPLORATION GROUND SYSTEMS PROGRAM.
|  | DEPUTY MANAGER, EXPLORATION GROUND SYSTEMS PROGRAM.
|  | PRINCIPAL ADVISOR FOR SPACE TRANSPORTATION.
|  | DEPUTY DIRECTOR, SAFETY AND MISSION ASSURANCE.
|  | DEPUTY DIRECTOR, SPACEPORT INTEGRATION AND SERVICES.
|  | ASSOCIATE DIRECTOR, MANAGEMENT.
|  | CHIEF, COMMERCIAL SYSTEMS DIVISION, ENGINEERING.
|  | CHIEF, EXPLORATION SYSTEMS AND OPERATIONS DIVISION, ENGINEERING.
|  | ASSOCIATE MANAGER, TECHNICAL, EXPLORATION GROUND SYSTEMS PROGRAM.
|  | MANAGER, DEEP SPACE GATEWAY, LOGISTICS ELEMENT.
|  | CHIEF, LABORATORIES AND TEST FACILITIES DIVISION, ENGINEERING.
|  | CHIEF, TECHNICAL PERFORMANCE AND INTEGRATION DIVISION, ENGINEERING.
| MARSHALL SPACE FLIGHT CENTER | MANAGER, HABITATION ELEMENT OFFICE, HUMAN EXPLORATION DEVELOPMENT AND OPERATIONS OFFICE. CHIEF FINANCIAL OFFICER. MANAGER, SCIENCE AND TECHNOLOGY OFFICE. ASSOCIATE MANAGER, SCIENCE AND TECHNOLOGY OFFICE.
|  | DIRECTOR, ENGINEERING DIRECTORATE.
|  | DEPUTY DIRECTOR, OFFICE OF CENTER OPERATIONS.
|  | MANAGER, SPACECRAFT/PAYLOAD INTEGRATION AND EVOLUTION OFFICE, SPACE LAUNCH SYSTEM PROGRAM OFFICE.
|  | ASSOCIATE CENTER DIRECTOR.
|  | DIRECTOR, SAFETY AND MISSION ASSURANCE DIRECTORATE.
|  | ASSOCIATE CHIEF INFORMATION OFFICER, APPLICATIONS DIVISION.
|  | MANAGER, PLANETARY MISSIONS PROGRAM OFFICE.
|  | MANAGER, BLOCK1B/EXPLORATION UPPER STAGE DEVELOPMENT OFFICE.
|  | MANAGER, SYSTEMS ENGINEERING AND INTEGRATION OFFICE.
|  | PROGRAM MANAGER, HUMAN LANDING SYSTEM.
|  | DIRECTOR FOR ADVANCED TECHNOLOGY, SCIENCE AND TECHNOLOGY OFFICE.
|  | DEPUTY CENTER DIRECTOR.
|  | MANAGER, PROGRAM PLANNING AND CONTROL OFFICE, SPACE LAUNCH .SYSTEM PROGRAM OFFICE.
|  | ASSOCIATE PROGRAM MANAGER, SPACE LAUNCH SYSTEM PROGRAM OFFICE.
|  | DEPUTY DIRECTOR, ENGINEERING DIRECTORATE.
|  | DEPUTY DIRECTOR, SPACE SYSTEMS DEPARTMENT, ENGINEERING DIRECTORATE.
|  | DIRECTOR, SPACE SYSTEMS DEPARTMENT, ENGINEERING DIRECTORATE.
|  | DIRECTOR, MATERIALS AND PROCESSES LAB, ENGINEERING DIRECTORATE.
|  | DIRECTOR, PROPULSION SYSTEMS DEPARTMENT, ENGINEERING DIRECTORATE.
|  | DEPUTY DIRECTOR, PROPULSION SYSTEMS DEPT, ENGINEERING DIRECTORATE.
|  | DIRECTOR, TEST LABORATORY, ENGINEERING DIRECTORATE.
|  | DIRECTOR, SPACECRAFT AND VEHICLE SYSTEMS DEPARTMENT, ENGINEERING DIRECTORATE.
|  | DEPUTY DIRECTOR, SPACECRAFT AND VEHICLE SYSTEMS DEPARTMENT, ENGINEERING DIRECTORATE.
|  | DEPUTY DIRECTOR, SAFETY AND MISSION ASSURANCE DIRECTORATE.
|  | DIRECTOR, OFFICE OF HUMAN RESOURCES.
|  | CHIEF ENGINEER, OFFICE OF THE CHIEF ENGINEER, ENGINEERING DIRECTORATE.
|  | SPACE LAUNCH SYSTEM CHIEF SAFETY OFFICER, SAFETY AND MISSION ASSURANCE DIRECTORATE.
|  | DEPUTY MANAGER, SCIENCE AND TECHNOLOGY OFFICE.
|  | DIRECTOR, OFFICE OF STRATEGIC ANALYSIS AND COMMUNICATIONS.
|  | ASSOCIATE CENTER DIRECTOR, TECHNICAL.
|  | ASSOCIATE DIRECTOR FOR TECHNICAL OPERATIONS, ENGINEERING DIRECTORATE.
|  | DIRECTOR, MICHOUD ASSEMBLY FACILITY.
|  | DEPUTY MANAGER, OFFICE OF THE CHIEF ENGINEER, ENGINEERING DIRECTORATE.
|  | ASSOCIATE DIRECTOR FOR OPERATIONS, ENGINEERING DIRECTORATE.
|  | DIRECTOR, OFFICE OF CENTER OPERATIONS.
|  | MANAGER, SPACE LAUNCH SYSTEM PROGRAM OFFICE.
|  | DEPUTY MANAGER, SPACE LAUNCH SYSTEM PROGRAM OFFICE.
|  | MANAGER, ENGINES OFFICE, SPACE LAUNCH SYSTEM PROGRAM OFFICE.
|  | MANAGER, STAGES OFFICE, SPACE LAUNCH SYSTEM PROGRAM OFFICE.
|  | MANAGER, BOOSTERS OFFICE, SPACE LAUNCH SYSTEM PROGRAM OFFICE.
|  | CHIEF ENGINEER, SPACE LAUNCH SYSTEM, ENGINEERING DIRECTORATE.
|  | DIRECTOR, OFFICE OF THE CHIEF INFORMATION OFFICER.
|  | DEPUTY MANAGER, HUMAN LANDING SYSTEM PROGRAM OFFICE.
|  | INTERNATIONAL SPACE STATION COST ACCOUNT MANAGER.
|  | MANAGER, SYSTEMS ENGINEERING AND INTEGRATION OFFICE, SPACE LAUNCH SYSTEM PROGRAM OFFICE.
|  | MANAGER, HUMAN EXPLORATION DEVELOPMENT AND OPERATIONS OFFICE.
|  | DEPUTY MANAGER, HUMAN EXPLORATION DEVELOPMENT AND OPERATIONS OFFICE.
OFFICE OF THE ADMINISTRATOR | AERONAUTICS RESEARCH MISSION DIRECTORATE | DIRECTOR OF AIRSPACE OPERATIONS AND SAFETY PROGRAM OFFICE. DEPUTY ASSOCIATE ADMINISTRATOR FOR STRATEGY. DEPUTY ASSOCIATE ADMINISTRATOR FOR PROGRAMS. DEPUTY ASSOCIATE ADMINISTRATOR FOR POLICY.
|  | DEPUTY ASSOCIATE ADMINISTRATOR.
|  | DIRECTOR, PORTFOLIO ANALYSIS AND MANAGEMENT OFFICE.
|  | DIRECTOR OF TRANSFORMATIVE AERONAUTICS CONCEPTS PROGRAM OFFICE.
|  | DIRECTOR FOR INTEGRATED AVIATION SYSTEMS PROGRAM.
|  | DIRECTOR OF ADVANCED AIR VEHICLES PROGRAM OFFICE.
| CHIEF OF STAFF | ASSOCIATE ADMINISTRATOR, STRATEGY AND PLANS. SENIOR ADVISOR, AGENCY ARCHITECTURES AND MISSION ALIGNMENT.
| HUMAN EXPLORATION AND OPERATIONS MISSION DIRECTORATE | DEPUTY ASSOCIATE ADMINISTRATOR, ADVANCED EXPLORATION SYSTEMS. MANAGER, ROCKET PROPULSION TEST PROGRAM OFFICE. ASSISTANT DEPUTY ASSOCIATE ADMINISTRATOR FOR SPACE COMMUNICATIONS AND NAVIGATION (SCAN) OFFICE.
|  | DIRECTOR, STRATEGIC INTEGRATION AND MANAGEMENT DIVISION.
|  | DEPUTY ASSOCIATE ADMINISTRATOR FOR HUMAN EXPLORATION AND OPERATIONS.
|  | GATEWAY PROGRAM MANAGER.
|  | DEPUTY ASSOCIATE ADMINISTRATOR FOR SYSTEMS ENGINEERING AND INTEGRATION.
|  | DEPUTY ASSOCIATE ADMINISTRATOR FOR ARTEMIS PHASE I/PRODUCTION AND OPERATIONS.
|  | EXPLORATION SYSTEMS DEVELOPMENT SAFETY AND MISSION ASSURANCE MANAGER.
|  | DIRECTOR, BIOLOGICAL AND PHYSICAL SCIENCES DIVISION.
|  | DEPUTY DIRECTOR, STRATEGIC INTEGRATION AND MANAGEMENT.
|  | DEPUTY ASSOCIATE ADMINISTRATOR, MANAGEMENT.
|  | SPECIAL ASSISTANT TO THE DEPUTY ASSOCIATE ADMINISTRATOR, SYSTEMS ENGINEERING AND INTEGRATION.
|  | ASSISTANT DEPUTY ASSOCIATE ADMINISTRATOR, ADVANCED EXPLORATION SYSTEMS.
|  | ASSISTANT DEPUTY ASSOCIATE ADMINISTRATOR, SYSTEMS ENGINEERING AND INTEGRATION.
|  | SPECIAL ASSISTANT TO THE ASSOCIATE ADMINISTRATOR, HUMAN EXPLORATION AND OPERATIONS.
|  | DEPUTY ASSOCIATE ADMINISTRATOR FOR MANAGEMENT.
|  | DIRECTOR, PROGRAM AND STRATEGIC INTEGRATION OFFICE.
|  | DIRECTOR, HUMAN RESEARCH PROGRAM.
|  | DIRECTOR, LAUNCH SERVICES OFFICE.
|  | DIRECTOR, NETWORK SERVICES.
|  | DIRECTOR, HUMAN SPACEFLIGHT CAPABILITIES DIVISION.
|  | ASSISTANT DEPUTY ASSOCIATE ADMINISTRATOR FOR EXPLORATION SYSTEMS DEVELOPMENT.
|  | DIRECTOR, RESOURCES MANAGEMENT OFFICE.
|  | DIRECTOR, COMMERCIAL SPACEFLIGHT DEVELOPMENT DIVISION.
|  | POWER PROPULSION ELEMENT, PROGRAM DIRECTOR.
|  | DEPUTY ASSOCIATE ADMINISTRATOR FOR SPACE COMMUNICATIONS AND NAVIGATION.
|  | DIRECTOR, INTERNATIONAL SPACE STATION.
| MISSION SUPPORT DIRECTORATE | DEPUTY ASSOCIATE ADMINISTRATOR FOR MISSION SUPPORT. ASSISTANT ASSOCIATE ADMINISTRATOR FOR RESOURCES AND PERFORMANCE. DEPUTY PROGRAM EXECUTIVE FOR MISSION SUPPORT FUTURE ARCHITECTURE PROGRAM (MAP). SENIOR ADVISOR FOR TRANSFORMATION (MAP).
|  | DEPUTY ASSOCIATE ADMINISTRATOR, MISSION SUPPORT.
|  | DEPUTY ASSOCIATE ADMINISTRATOR, MISSION SUPPORT TRANSFORMATION OFFICE.
|  | DIRECTOR, STRATEGY AND INTEGRATION OFFICE.
|  | DIRECTOR, RESOURCES AND PERFORMANCE MANAGEMENT OFFICE.
|  | DEPUTY ASSOCIATE ADMINISTRATOR FOR MANAGEMENT.
| NASA MANAGEMENT OFFICE | DEPUTY DIRECTOR, NASA MANAGEMENT OFFICE.
| OFFICE OF COMMUNICATIONS | SENIOR ADVISOR FOR TRANSFORMATION (MAP). DIRECTOR, PUBLIC ENGAGEMENT AND MULTIMEDIA. DEPUTY ASSOCIATE ADMINISTRATOR FOR MEDIA OPERATIONS AND TECHNOLOGY. DEPUTY ASSOCIATE ADMINISTRATOR FOR COMMUNICATIONS. STRATEGY AND ENGAGEMENT DIVISION DIRECTOR.
| OFFICE OF SAFETY AND MISSION ASSURANCE | DEPUTY CHIEF SAFETY AND MISSION ASSURANCE OFFICER. CHIEF SAFETY AND MISSION ASSURANCE OFFICER. DIRECTOR, SAFETY AND ASSURANCE REQUIREMENTS DIVISION. DIRECTOR, NASA SAFETY CENTER. DIRECTOR, MISSION SUPPORT DIVISION.
| OFFICE OF STEM ENGAGEMENT | SENIOR ADVISOR (TRANSFORMATION). DEPUTY ASSOCIATE ADMINISTRATOR FOR STRATEGY AND INTEGRATION. DEPUTY ASSOCIATE ADMINISTRATOR FOR STEM ENGAGEMENT PROGRAM.
| OFFICE OF THE CHIEF ENGINEER | DEPUTY CHIEF ENGINEER. HUMAN EXPLORATION AND OPERATIONS MISSION DIRECTORATE CHIEF ENGINEER.
| OFFICE OF THE CHIEF FINANCIAL OFFICER | DEPUTY CHIEF FINANCIAL OFFICER. ASSOCIATE DEPUTY CHIEF FINANCIAL OFFICER (FINANCE). DEPUTY CHIEF FINANCIAL OFFICER (STRATEGY AND PERFORMANCE).
| OFFICE OF THE CHIEF INFORMATION OFFICER | ASSOCIATE CHIEF INFORMATION OFFICER FOR CAPITAL PLANNING AND GOVERNANCE. ASSOCIATE CHIEF INFORMATION OFFICER FOR TECHNOLOGY AND INNOVATION, CHIEF TECHNOLOGY OFFICER. ASSOCIATE CHIEF INFORMATION OFFICER FOR ENTERPRISE SERVICE AND INTEGRATION DIVISION. DEPUTY CHIEF INFORMATION OFFICER. DEPUTY CHIEF INFORMATION OFFICER FOR INFORMATION TECHNOLOGY SECURITY.
| OFFICE OF THE CHIEF SCIENTIST | CHIEF SCIENTIST. DEPUTY CHIEF SCIENTIST.
| OFFICE OF THE CHIEF TECHNOLOGIST | DEPUTY CHIEF TECHNOLOGIST. CHIEF TECHNOLOGIST.
| SCIENCE MISSION DIRECTORATE | DEPUTY ASSOCIATE ADMINISTRATOR FOR MANAGEMENT. DEPUTY ASSOCIATE ADMINISTRATOR FOR PROGRAMS. DEPUTY ASSOCIATE ADMINISTRATOR, SCIENCE MISSION DIRECTORATE. DEPUTY ASSOCIATE ADMINISTRATOR FOR RESEARCH.
|  | DIRECTOR, SCIENCE ENGAGEMENT AND PARTNERSHIPS.
|  | ASSOCIATE DIRECTOR OF FLIGHT PROJECTS FOR JAMES WEBB SPACE TELESCOPE (JWST).
|  | DEPUTY ASSOCIATE ADMINISTRATOR FOR EXPLORATION.
|  | DEPUTY DIRECTOR, EARTH SCIENCE DIVISION.
|  | DEPUTY DIRECTOR, PLANETARY SCIENCE DIVISION.
|  | DIRECTOR, MARS SAMPLE RETURN PROGRAM.
|  | PROGRAM DIRECTOR FOR FLIGHT PROGRAMS, ASTROPHYSICS DIVISION.
|  | ASSISTANT DEPUTY ASSOCIATE ADMINISTRATOR FOR MANAGEMENT.
|  | PROGRAM DIRECTOR FOR FLIGHT PROGRAMS, PLANETARY SCIENCE.
|  | DIRECTOR, NASA MANAGEMENT OFFICE.
OFFICE OF THE DEPUTY ADMINISTRATOR | ARMSTRONG FLIGHT RESEARCH CENTER | ASSISTANT DIRECTOR FOR STRATEGIC IMPLEMENTATION. DIRECTOR FOR RESEARCH AND ENGINEERING. CENTER ASSOCIATE DIRECTOR FOR MISSION SUPPORT. DIRECTOR FOR FLIGHT OPERATIONS.
|  | CHIEF FINANCIAL OFFICER.
|  | DIRECTOR FOR PROGRAMS.
|  | DIRECTOR, HUMAN RESOURCES.
|  | DIRECTOR FOR SAFETY AND MISSION ASSURANCE.
|  | DEPUTY CENTER DIRECTOR.
|  | DIRECTOR, MISSION OPERATIONS.
| OFFICE INTERNATIONAL AND INTERAGENCY RELATIONS | DIRECTOR, EXPORT CONTROL AND INTERAGENCY LIAISON DIVISION. DIRECTOR, ADVISORY COMMITTEE MANAGEMENT DIVISION. DEPUTY ASSOCIATE ADMINISTRATOR FOR INTERNATIONAL AND INTERAGENCY RELATIONS. DIRECTOR, SCIENCE DIVISION.
|  | DIRECTOR, AERONAUTICS AND CROSS AGENCY SUPPORT DIVISION.
|  | DIRECTOR, HUMAN EXPLORATION AND OPERATIONS DIVISION.
|  | DEPUTY DIRECTOR, EXPORT CONTROL AND INTERAGENCY LIAISON DIVISION.
| OFFICE OF DIVERSITY AND EQUAL OPPORTUNITY | DIRECTOR, DIVERSITY AND DATA/ANALYTICS DIVISION AND FIELD OPERATIONS. DIRECTOR, COMPLAINTS MANAGEMENT DIVISION. DIRECTOR, EQUAL OPPORTUNITY PROGRAMS DIVISION AND FIELD OPERATIONS. CHIEF OF STAFF (STRATEGY AND INTEGRATION). EMPLOYMENT OPPORTUNITY COMPLAINTS AND PROGRAMS DIVISION AND FIELD OPERATIONS.
| SPACE TECHNOLOGY MISSION DIRECTORATE | TECHNOLOGY MATURATION PROGRAM DIRECTOR. TECHNOLOGY DEMONSTRATIONS PROGRAM DIRECTOR. DIRECTOR, RESOURCE MANAGEMENT OFFICE. DEPUTY ASSOCIATE ADMINISTRATOR (STMD).
|  | DEPUTY ASSOCIATE ADMINISTRATOR FOR PROGRAMS.
|  | DEPUTY ASSOCIATE ADMINISTRATOR FOR MANAGEMENT.
|  | EARLY STAGE INNOVATIONS AND PARTNERSHIPS DIRECTOR.
RESEARCH AND ENGINEERING DIRECTORATE | COMMUNICATIONS AND INTELLIGENT SYSTEMS DIVISION | CHIEF, COMMUNICATIONS AND INTELLIGENT SYSTEMS DIVISION.
| MATERIALS AND STRUCTURES DIVISION | CHIEF, MATERIALS AND STRUCTURES DIVISION.
| PROPULSION DIVISION | CHIEF, PROPULSION DIVISION. DEPUTY CHIEF, PROPULSION DIVISION.
| SYSTEMS ENGINEERING AND ARCHITECTURE DIVISION | CHIEF, SYSTEMS ENGINEERING AND ARCHITECTURE DIVISION.
SAFETY AND MISSION ASSURANCE | SAFETY AND MISSION ASSURANCE | DEPUTY DIRECTOR, SAFETY AND MISSION ASSURANCE. DIRECTOR, SAFETY AND MISSION ASSURANCE.
SCIENCE MISSION DIRECTORATE | ASTROPHYSICS DIVISION | DIRECTOR, ASTROPHYSICS DIVISION. DEPUTY DIRECTOR, ASTROPHYSICS DIVISION.
| EARTH SCIENCE DIVISION | DIRECTOR, EARTH SCIENCE DIVISION. ASSOCIATE DIRECTOR FOR FLIGHT PROGRAMS. DEPUTY DIRECTOR, EARTH SCIENCE DIVISION, NASA HQ. PROGRAM DIRECTOR RESEARCH AND ANALYSIS PROGRAM.
| HELIOPHYSICS DIVISION | DEPUTY, DIRECTOR, HELIOPHYISCS DIVISION DIRECTOR, HELIOPHYSICS DIVISION.
| JAMES WEBB SPACE TELESCOPE PROGRAM OFFICE | SENIOR SCIENCE ADVISOR. DIRECTOR, JAMES WEBB SPACE TELESCOPE PROGRAM.
| JOINT AGENCY SATELLITE DIVISION | DEPUTY DIRECTOR, JOINT AGENCY SATELLITE DIVISION. DIRECTOR, JOINT AGENCY SATELLITE DIVISION.
| PLANETARY SCIENCE DIVISION | DIRECTOR, PLANETARY SCIENCE DIVISION. DEPUTY DIRECTOR, PLANETARY SCIENCE DIVISION. MARS EXPLORATION PROGRAM DIRECTOR.
| RESOURCES MANAGEMENT DIVISION | DEPUTY ASSOCIATE ADMINISTRATOR FOR MANAGEMENT. DIRECTOR, RESOURCES MANAGEMENT DIVISION.
| STRATEGIC INTEGRATION AND MANAGEMENT DIVISION | DIRECTOR, STRATEGIC INTEGRATION AND MANAGEMENT DIVISION.
NATIONAL AERONAUTICS AND SPACE ADMINISTRATION OFFICE OF THE INSPECTOR GENERAL
| NATIONAL AERONAUTICS AND SPACE ADMINISTRATION OFFICE OF THE INSPECTOR GENERAL | DEPUTY INSPECTOR GENERAL. ASSISTANT INSPECTOR GENERAL FOR INVESTIGATIONS. ASSISTANT INSPECTOR GENERAL FOR AUDITING. COUNSEL TO THE INSPECTOR GENERAL. ASSISTANT INSPECTOR GENERAL FOR MANAGEMENT AND PLANNING.
NATIONAL ARCHIVES AND RECORDS
ARCHIVIST OF UNITED STATES AND DEPUTY ARCHIVIST OF THE UNITED STATES | CONGRESSIONAL AFFAIRS STAFF | DIRECTOR, CONGRESSIONAL AND LEGISLATIVE AFFAIRS.
| GENERAL COUNSEL | GENERAL COUNSEL.
| OFFICE OF INNOVATION | CHIEF INNOVATION OFFICER.
| OFFICE OF THE CHIEF OF MANAGEMENT AND ADMINISTRATION | CHIEF OF MANAGEMENT AND ADMINISTRATION.
| OFFICE OF THE CHIEF OF STAFF | CHIEF OF STAFF.
| OFFICE OF THE CHIEF OPERATING OFFICER | CHIEF OPERATING OFFICER.
LEGISLATIVE ARCHIVES, PRESIDENTIAL LIBRARIES AND MUSEUM SERVICES | OFFICE OF PRESIDENTIAL LIBRARIES | DEPUTY FOR PRESIDENTIAL LIBRARIES.
NATIONAL ARCHIVES AND RECORDS ADMINISTRATION | ARCHIVIST OF UNITED STATES AND DEPUTY ARCHIVIST OF THE UNITED STATES | DEPUTY ARCHIVIST OF THE UNITED STATES.
OFFICE OF THE CHIEF OF MANAGEMENT AND ADMINISTRATION | BUSINESS SUPPORT SERVICES | BUSINESS SUPPORT SERVICES EXECUTIVE.
| INFORMATION SERVICES | DEPUTY CHIEF INFORMATION OFFICER. INFORMATION SERVICES EXECUTIVE/CHIEF INFORMATION OFFICER.
| OFFICE OF HUMAN CAPITAL | CHIEF HUMAN CAPITAL OFFICER.
| OFFICE OF THE CHIEF ACQUISITION OFFICER | CHIEF ACQUISITION OFFICER.
| OFFICE OF THE CHIEF FINANCIAL OFFICER | CHIEF FINANCIAL OFFICER.
OFFICE OF THE CHIEF OPERATING OFFICER | AGENCY SERVICES | DIRECTOR, NATIONAL PERSONNEL RECORDS CENTER. CHIEF RECORDS OFFICER. DIRECTOR, NATIONAL DECLASSIFICATION CENTER. DIRECTOR, OFFICE OF GOVERNMENT INFORMATION SERVICES.
|  | DIRECTOR, INFORMATION SECURITY OVERSIGHT OFFICE.
|  | AGENCY SERVICES EXECUTIVE.
|  | DIRECTOR, RECORDS CENTER PROGRAMS.
| LEGISLATIVE ARCHIVES, PRESIDENTIAL LIBRARIES AND MUSEUM SERVICES | LEGISLATIVE ARCHIVES, PRESIDENTIAL LIBRARIES AND MUSEUM SERVICES EXECUTIVE.
| OFFICE OF THE FEDERAL REGISTER | DIRECTOR OF THE FEDERAL REGISTER.
| RESEARCH SERVICES | DEPUTY EXECUTIVE FOR ARCHIVAL OPERATIONS. RESEARCH SERVICES EXECUTIVE.
NATIONAL ARCHIVES AND RECORDS ADMINISTRATION OFFICE OF THE INSPECTOR GENERAL
| NATIONAL ARCHIVES AND RECORDS ADMINISTRATION OFFICE OF THE INSPECTOR GENERAL | ASSISTANT INSPECTOR GENERAL FOR AUDITING. INSPECTOR GENERAL. ASSISTANT INSPECTOR GENERAL FOR INVESTIGATIONS.
NATIONAL CAPITAL PLANNING COMMISSION
| NATIONAL CAPITAL PLANNING COMMISSION STAFF | EXECUTIVE DIRECTOR.
NATIONAL ENDOWMENT FOR THE ARTS
| NATIONAL ENDOWMENT FOR THE ARTS | DEPUTY CHAIRMAN FOR MANAGEMENT AND BUDGET. DIRECTOR, RESEARCH AND ANALYSIS. CHIEF INFORMATION OFFICER.
NATIONAL ENDOWMENT FOR THE ARTS OFFICE OF THE INSPECTOR GENERAL
| NATIONAL ENDOWMENT FOR THE ARTS OFFICE OF THE INSPECTOR GENERAL | INSPECTOR GENERAL.
NATIONAL ENDOWMENT FOR THE HUMANITIES
| NATIONAL ENDOWMENT FOR THE HUMANITIES | ASSISTANT CHAIRMAN FOR PLANNING AND OPERATIONS.
NATIONAL LABOR RELATIONS BOARD
| NATIONAL LABOR RELATIONS BOARD | DEPUTY ASSOCIATE GENERAL COUNSEL, DIVISION OF ENFORCEMENT LITIGATION.
DIVISION OF OPERATIONS MANAGEMENT | REGIONAL OFFICES | REGIONAL DIRECTOR, REGION 31, LOS ANGELES, CALIFORNIA. REGIONAL DIRECTOR, REGION 10, ATLANTA, GEORGIA. REGIONAL DIRECTOR, REGION 27, DENVER, COLORADO. REGIONAL DIRECTOR REGION 2, NEW YORK.
|  | REGIONAL DIRECTOR, REGION 3, BUFFALO, NEW YORK.
|  | REGIONAL DIRECTOR, REGION 4, PHILADELPHIA, PENNSYLVANIA.
|  | REGIONAL DIRECTOR, REGION 5, BALTIMORE, MARYLAND.
|  | REGIONAL DIRECTOR, REGION 6, PITTSBURGH, PENNSYLVANIA.
|  | REGIONAL DIRECTOR, REGION 7, DETROIT, MICHIGAN.
|  | REGIONAL DIRECTOR, REGION 8, CLEVELAND, OHIO.
|  | REGIONAL DIRECTOR, REGION 9, CINCINNATI, OHIO.
|  | REGIONAL DIRECTOR, REGION 11, WINSTON SALEM, NORTH CAROLINA.
|  | REGIONAL DIRECTOR, REGION 13, CHICAGO, ILLINOIS.
|  | REGIONAL DIRECTOR, REGION 14, SAINT LOUIS, MISSOURI.
|  | REGIONAL DIRECTOR, REGION 15, NEW ORLEANS, LOUISIANA.
|  | REGIONAL DIRECTOR, REGION 16, FORT WORTH, TEXAS.
|  | REGIONAL DIRECTOR, REGION 17, KANSAS CITY, KANSAS.
|  | REGIONAL DIRECTOR, REGION 18, MINNEAPOLIS, MINNESOTA.
|  | REGIONAL DIRECTOR, REGION 19, SEATTLE, WASHINGTON.
|  | REGIONAL DIRECTOR, REGION 20, SAN FRANCISCO, CALIFORNIA.
|  | REGIONAL DIRECTOR, REGION 21, LOS ANGELES, CALIFORNIA.
|  | REGIONAL DIRECTOR, REGION 22, NEWARK, NEW JERSEY.
|  | REGIONAL DIRECTOR, REGION 24, HATO REY, PUERTO RICO.
|  | REGIONAL DIRECTOR, REGION 25, INDIANAPOLIS, INDIANA.
|  | REGIONAL DIRECTOR, REGION 26, MEMPHIS, TENNESSEE.
|  | REGIONAL DIRECTOR, REGION 1, BOSTON, MASSACHUSETTS.
|  | REGIONAL DIRECTOR, REGION 28, PHOENIX, ARIZONA.
|  | REGIONAL DIRECTOR, REGION 29, BROOKLYN, NEW YORK.
|  | REGIONAL DIRECTOR, REGION 30, MILWAUKEE, WISCONSIN.
|  | REGIONAL DIRECTOR, REGION 32, OAKLAND, CALFORNIA.
NATIONAL LABOR RELATIONS BOARD | OFFICE OF THE BOARD MEMBERS | REGIONAL DIRECTOR, REGION 12, TAMPA, FLORIDA. DEPUTY EXECUTIVE SECRETARY. EXECUTIVE SECRETARY. DEPUTY CHIEF COUNSEL.
|  | CHIEF INFORMATION OFFICER.
|  | INSPECTOR GENERAL.
| OFFICE OF THE GENERAL COUNSEL | ASSOCIATE GENERAL COUNSEL (DAEO).
OFFICE OF THE GENERAL COUNSEL | DIVISION OF ADMINISTRATION | DIRECTOR, DIVISION OF ADMINISTRATION. DIRECTOR OF ADMINISTRATION.
| DIVISION OF ADVICE | DEPUTY ASSOCIATE GENERAL COUNSEL, DIVISION OF ADVICE. ASSOCIATE GENERAL COUNSEL, DIVISION OF LEGAL COUNSEL.
| DIVISION OF ENFORCEMENT LITIGATION | DEPUTY ASSOCIATE GENERAL COUNSEL, APPELLATE COURT BRANCH. DIRECTOR, OFFICE OF APPEALS.
| DIVISION OF OPERATIONS MANAGEMENT | ASSISTANT GENERAL COUNSEL (2). ASSISTANT TO GENERAL COUNSEL (2). DEPUTY ASSOCIATE GENERAL COUNSEL, DIVISION OF OPERATIONS-MANAGEMENT. ASSOCIATE TO THE GENERAL COUNSEL, DIVISION OF OPERATION-MANAGEMENT.
NATIONAL SCIENCE FOUNDATION
DIRECTORATE FOR ENGINEERING | DIVISION OF ENGINEERING EDUCATION AND CENTERS | DEPUTY DIVISION DIRECTOR.
| DIVISION OF INDUSTRIAL INNOVATION AND PARTNERSHIPS | DEPUTY DIVISION DIRECTOR.
DIRECTORATE FOR GEOSCIENCES | DIVISION OF ATMOSPHERIC AND GEOSPACE SCIENCES | SECTION HEAD NCAR/FACILITIES SECTION.
| DIVISION OF EARTH SCIENCES | SECTION HEAD, INTEGRATED ACTIVITIES SECTION.
| DIVISION OF OCEAN SCIENCES | SECTION HEAD, INTEGRATIVE PROGRAMS SECTION.
| OFFICE OF POLAR PROGRAMS | HEAD, SECTION FOR ANTARCTIC INFRASTRUCTURE AND LOGISTIC.
DIRECTORATE FOR MATHEMATICAL AND PHYSICAL SCIENCES | DIVISION OF ASTRONOMICAL SCIENCES | DEPUTY DIVISION DIRECTOR.
DIRECTORATE FOR SOCIAL, BEHAVIORAL AND ECONOMIC SCIENCES | NATIONAL CENTER FOR SCIENCE AND ENGINEERING STATISTICS | DIVISION DIRECTOR.
NATIONAL SCIENCE FOUNDATION | DIRECTORATE FOR BIOLOGICAL SCIENCES | DEPUTY ASSISTANT DIRECTOR.
| DIRECTORATE FOR COMPUTER AND INFORMATION SCIENCE AND ENGINEERING | DEPUTY ASSISTANT DIRECTOR.
| DIRECTORATE FOR GEOSCIENCES | DEPUTY ASSISTANT DIRECTOR.
| DIRECTORATE FOR MATHEMATICAL AND PHYSICAL SCIENCES | DEPUTY ASSISTANT DIRECTOR.
| DIRECTORATE FOR SOCIAL, BEHAVIORAL AND ECONOMIC SCIENCES | DEPUTY ASSISTANT DIRECTOR.
| OFFICE OF BUDGET, FINANCE AND AWARD MANAGEMENT | DEPUTY OFFICE HEAD. CHIEF FINANCIAL OFFICER AND HEAD, OFFICE OF BUDGET, FINANCE AND AWARD MANAGEMENT.
| OFFICE OF INFORMATION AND RESOURCE MANAGEMENT | DEPUTY OFFICE HEAD. HEAD, OFFICE OF INFORMATION AND RESOURCE MANAGEMENT AND CHIEF HUMAN CAPITAL OFFICER.
OFFICE OF BUDGET, FINANCE AND AWARD MANAGEMENT | BUDGET DIVISION | DIVISION DIRECTOR. DEPUTY DIRECTOR.
| DIVISION OF ACQUISITION AND COOPERATIVE SUPPORT | DIVISION DIRECTOR. DEPUTY DIVISION DIRECTOR.
| DIVISION OF FINANCIAL MANAGEMENT | CONTROLLER AND DEPUTY DIVISION DIRECTOR. DEPUTY CHIEF FINANCIAL OFFICER AND DIVISION DIRECTOR.
| DIVISION OF GRANTS AND AGREEMENTS | DIVISION DIRECTOR. DEPUTY DIVISION DIRECTOR.
| DIVISION OF INSTITUTIONAL AND AWARD SUPPORT | DEPUTY DIVISION DIRECTOR DIVISION DIRECTOR.
OFFICE OF INFORMATION AND RESOURCE MANAGEMENT | DIVISION OF ADMINISTRATIVE SERVICES | DIVISION DIRECTOR. DEPUTY DIVISION DIRECTOR.
| DIVISION OF HUMAN RESOURCE MANAGEMENT | DIVISION DIRECTOR. DEPUTY DIVISION DIRECTOR.
| DIVISION OF INFORMATION SYSTEMS | DEPUTY DIVISION DIRECTOR.
OFFICE OF THE DIRECTOR | OFFICE OF DIVERSITY AND INCLUSION | OFFICE HEAD.
| OFFICE OF THE GENERAL COUNSEL | DESIGNATED AGENCY ETHICS OFFICIAL. DEPUTY GENERAL COUNSEL.
NATIONAL SCIENCE FOUNDATION OFFICE OF THE INSPECTOR GENERAL
| NATIONAL SCIENCE FOUNDATION OFFICE OF THE INSPECTOR GENERAL | ASSISTANT INSPECTOR GENERAL FOR MANAGEMENT/CHIEF INFORMATION OFFICER. INSPECTOR GENERAL. DEPUTY INSPECTOR GENERAL AND COUNSEL TO THE INSPECTOR GENERAL. ASSISTANT INSPECTOR GENERAL FOR INVESTIGATIONS. ASSISTANT INSPECTOR GENERAL FOR AUDIT.
NATIONAL TRANSPORTATION SAFETY BOARD
OFFICE OF BOARD MEMBERS | OFFICE OF CHIEF FINANCIAL OFFICER | CHIEF FINANCIAL OFFICER.
| OFFICE OF SAFETY RECOMMENDATIONS AND COMMUNICATIONS | DEPUTY DIRECTOR, OFFICE OF SAFETY RECOMMENDATIONS AND COMMUNICATIONS.
| OFFICE OF THE MANAGING DIRECTOR | DEPUTY MANAGING DIRECTOR FOR INVESTIGATIONS. SENIOR ADVISOR FOR POLICY AND STRATEGIC INITIATIVES. PRINCIPAL DEPUTY MANAGING DIRECTOR.
OFFICE OF THE MANAGING DIRECTOR | OFFICE OF ADMINISTRATION | DIRECTOR, OFFICE OF ADMINISTRATION.
| OFFICE OF AVIATION SAFETY | DEPUTY DIRECTOR, REGIONAL OPERATIONS. DEPUTY DIRECTOR, OFFICE OF AVIATION SAFETY. DIRECTOR OFFICE OF AVIATION SAFETY.
| OFFICE OF CHIEF INFORMATION OFFICER | CHIEF INFORMATION OFFICER.
| OFFICE OF HIGHWAY SAFETY | DIRECTOR, OFFICE OF HIGHWAY SAFETY.
| OFFICE OF MARINE SAFETY | DIRECTOR, OFFICE OF MARINE SAFETY.
| OFFICE OF RAILROAD, PIPELINE AND HAZARDOUS MATERIALS INVESTIGATIONS | DIRECTOR, OFFICE OF RAILROAD, PIPELINE AND HAZARDOUS MATERIALS INVESTIGATIONS.
| OFFICE OF RESEARCH AND ENGINEERING | DEPUTY DIRECTOR OFFICE OF RESEARCH AND ENGINEERING. DIRECTOR OFFICE OF RESEARCH AND ENGINEERING.
NUCLEAR REGULATORY COMMISSION
| OFFICE OF ADMINISTRATION | DIRECTOR, DIVISION OF FACILITIES AND SECURITY. DIRECTOR, ACQUISITION MANAGEMENT DIVISION. DEPUTY DIRECTOR, OFFICE OF ADMINISTRATION.
| OFFICE OF COMMISSION APPELLATE ADJUDICATION | DIRECTOR, OFFICE OF COMMISSION APPELLATE ADJUDICATION.
| OFFICE OF NUCLEAR MATERIAL SAFETY AND SAFEGUARDS | DIRECTOR, DIVISION OF RULEMAKING, ENVIRONMENTAL, AND FINANCIAL SUPPORT. DEPUTY DIRECTOR, DIVISION OF RULEMAKING, ENVIRONMENTAL, AND FINANCIAL SUPPORT. DIRECTOR, DIVISION OF MATERIALS SAFETY, STATE, TRIBAL, AND RULEMAKING PROGRAMS. DEPUTY DIRECTOR, DIVISION OF FUEL MANAGEMENT.
|  | DIRECTOR, DIVISION OF DECOMMISSIONING, URANIUM RECOVERY, AND WASTE PROGRAMS.
|  | DEPUTY DIRECTOR, DIVISION OF DECOMMISSIONING, URANIUM RECOVERY, AND WASTE PROGRAMS.
|  | DEPUTY DIRECTOR, DIVISION OF MATERIALS SAFETY, STATE, TRIBAL, AND RULEMAKING PROGRAMS.
| OFFICE OF NUCLEAR REACTOR REGULATION | DEPUTY OFFICE DIRECTOR FOR ENGINEERING. DEPUTY OFFICE DIRECTOR FOR REACTOR SAFETY PROGRAMS AND MISSION SUPPORT. DIRECTOR, DIVISION OF SAFETY SYSTEMS. DEPUTY DIRECTOR, DIVISION OF SAFETY SYSTEMS.
|  | DEPUTY DIRECTOR, DIVISION OF ENGINEERING AND EXTERNAL HAZARDS.
|  | DEPUTY OFFICE DIRECTOR FOR NEW REACTORS.
|  | DIRECTOR, DIVISION OF OPERATING REACTOR LICENSING.
|  | DEPUTY DIRECTOR, DIVISION OF OPERATING REACTOR LICENSING (2).
|  | DIRECTOR, DIVISION OF REACTOR OVERSIGHT.
|  | DIRECTOR, DIVISION OF RISK ASSESSMENT.
|  | DIRECTOR, DIVISION OF NEW AND RENEWED LICENSE.
|  | DIRECTOR, DIVISION OF ENGINEERING AND EXTERNAL HAZARDS.
|  | DEPUTY DIRECTOR, DIVISION OF NEW AND RENEWED LICENSES.
|  | DIRECTOR, VOGTLE 3 AND 4 PROJECT OFFICE.
|  | DEPUTY DIRECTOR, DIVISION OF ADVANCED REACTORS AND NON-POWER PRODUCTION AND UTILIZATION FACILITIES.
|  | DIRECTOR, DIVISION OF ADVANCED REACTORS AND NON-POWER PRODUCTION AND UTILIZATION FACILITIES.
|  | DEPUTY DIRECTOR, DIVISION OF REACTOR OVERSIGHT.
|  | DEPUTY DIRECTOR, DIVISION OF RISK ASSESSMENT.
| OFFICE OF NUCLEAR REGULATORY RESEARCH | DIRECTOR, DIVISION OF ENGINEERING. DIRECTOR, DIVISION OF SYSTEMS ANALYSIS. DEPUTY DIRECTOR, DIVISION OF SYSTEMS ANALYSIS. DIRECTOR, DIVISION OF RISK ANALYSIS.
|  | DEPUTY DIRECTOR, DIVISION OF RISK ANALYSIS.
|  | DEPUTY DIRECTOR, DIVISION OF ENGINEERING.
| OFFICE OF NUCLEAR SECURITY AND INCIDENT RESPONSE | DEPUTY DIRECTOR, DIVISION OF SECURITY OPERATIONS. DEPUTY DIRECTOR, OFFICE OF NUCLEAR SECURITY AND INCIDENT RESPONSE. DIRECTOR, DIVISION OF PREPAREDNESS AND RESPONSE. DIRECTOR, DIVISION OF PHYSICAL AND CYBERSECURITY POLICY.
|  | DEPUTY DIRECTOR, DIVISION OF PHYSICAL AND CYBERSECURITY POLICY.
|  | DIRECTOR, DIVISION OF SECURITY OPERATIONS.
|  | DEPUTY DIRECTOR, DIVISION OF PREPAREDNESS AND RESPONSE.
| OFFICE OF SMALL BUSINESS AND CIVIL RIGHTS | DIRECTOR, OFFICE OF SMALL BUSINESS AND CIVIL RIGHTS.
| OFFICE OF THE CHIEF FINANCIAL OFFICER | COMPTROLLER. DEPUTY CHIEF FINANCIAL OFFICER. BUDGET DIRECTOR.
| OFFICE OF THE CHIEF INFORMATION OFFICER | DIRECTOR, GOVERNANCE AND ENTERPRISE MANAGEMENT SERVICES DIVISION. DIRECTOR, IT SERVICES DEVELOPMENT AND OPERATIONS DIVISION.
| REGION I | DEPUTY REGIONAL ADMINISTRATOR. DIRECTOR, DIVISION OF REACTOR PROJECTS. DIRECTOR DIVISION OF REACTOR SAFETY. DEPUTY DIRECTOR, DIVISION OF REACTOR SAFETY.
|  | DIRECTOR, DIVISION OF NUCLEAR MATERIALS SAFETY.
|  | DEPUTY DIRECTOR, DIVISION OF REACTOR PROJECTS.
| REGION II | DEPUTY DIRECTOR, DIVISION OF REACTOR PROJECTS. DIRECTOR, DIVISION OF REACTOR PROJECTS. DIRECTOR, DIVISION OF REACTOR SAFETY. DIRECTOR, DIVISION OF CONSTRUCTION OVERSIGHT.
|  | DEPUTY REGIONAL ADMINISTRATOR.
|  | DEPUTY DIRECTOR, DIVISION OF REACTOR SAFETY.
| REGION III | DEPUTY DIRECTOR, DIVISION OF REACTOR SAFETY. DEPUTY DIRECTOR, DIVISION OF REACTOR PROJECTS. DEPUTY REGIONAL ADMINISTRATOR. DIRECTOR, DIVISION OF REACTOR SAFETY.
|  | DIRECTOR, DIVISION OF REACTOR PROJECTS.
|  | DEPUTY DIRECTOR, DIVISION OF REACTOR SAFETY.
|  | DIRECTOR, DIVISION OF NUCLEAR MATERIALS SAFETY.
| REGION IV | DIRECTOR, DIVISION OF NUCLEAR MATERIALS SAFETY. DEPUTY DIRECTOR, DIVISION OF REACTOR PROJECTS. DIRECTOR DIVISION OF REACTOR PROJECTS.
|  | ASSISTANT TO THE REGIONAL ADMINISTRATOR.
|  | DEPUTY REGIONAL ADMINISTRATOR.
|  | DEPUTY DIRECTOR, DIVISION OF REACTOR SAFETY.
|  | DIRECTOR, DIVISION OF REACTOR SAFETY.
NUCLEAR REGULATORY COMMISSION OFFICE OF THE INSPECTOR GENERAL
| NUCLEAR REGULATORY COMMISSION OFFICE OF THE INSPECTOR GENERAL | DEPUTY INSPECTOR GENERAL.
NUCLEAR REGULATORY COMMISSION OFFICE OF THE INSPECTOR GENERAL | ASSISTANT INSPECTOR GENERAL FOR AUDITS | ASSISTANT INSPECTOR GENERAL FOR AUDITS.
| ASSISTANT INSPECTOR GENERAL FOR INVESTIGATIONS | ASSISTANT INSPECTOR GENERAL FOR INVESTIGATIONS.
OCCUPATIONAL SAFETY AND HEALTH REVIEW COMMISSION
OCCUPATIONAL SAFETY AND HEALTH REVIEW COMMISSION | OFFICE OF THE EXECUTIVE DIRECTOR | EXECUTIVE DIRECTOR.
OFFICE OF GOVERNMENT ETHICS
| OFFICE OF GOVERNMENT ETHICS | DEPUTY GENERAL COUNSEL. CHIEF OF STAFF AND PROGRAM COUNSEL. DEPUTY DIRECTOR FOR COMPLIANCE.
OFFICE OF MANAGEMENT AND BUDGET
GENERAL GOVERNMENT PROGRAMS | HOUSING, TREASURY AND COMMERCE DIVISION | DEPUTY ASSOCIATE DIRECTOR FOR HOUSING, TREASURY AND COMMERCE. CHIEF, COMMERCE BRANCH. CHIEF, HOUSING BRANCH. CHIEF, TREASURY BRANCH
| TRANSPORTATION, HOMELAND, JUSTICE AND SERVICES DIVISION | CHIEF TRANSPORTATION BRANCH. CHIEF, JUSTICE BRANCH. CHIEF, TRANSPORTATION/GENERAL SERVICES ADMINISTRATION BRANCH. DEPUTY ASSOCIATE DIRECTOR, TRANSPORTATION, HOMELAND, JUSTICE AND SERVICES. CHIEF, HOMELAND SECURITY BRANCH.
HUMAN RESOURCE PROGRAMS | HEALTH DIVISION | DEPUTY ASSOCIATE DIRECTOR FOR HEALTH. CHIEF, MEDICARE BRANCH. CHIEF, MEDICAID BRANCH. CHIEF, HEALTH INSURANCE AND DATA ANALYSIS BRANCH.
|  | CHIEF, HEALTH AND HUMAN SERVICES BRANCH.
|  | CHIEF, PUBLIC HEALTH BRANCH.
NATIONAL SECURITY PROGRAMS | INTERNATIONAL AFFAIRS DIVISION | CHIEF, STATE/UNITED STATES INFORMATION AGENCY BRANCH. DEPUTY ASSOCIATE DIRECTOR FOR INTERNATIONAL AFFAIRS. CHIEF, ECONOMIC AFFAIRS BRANCH.
| NATIONAL SECURITY DIVISION | CHIEF, INTELLIGENCE PROGRAMS BRANCH. CHIEF, FORCE STRUCTURE AND INVESTMENT BRANCH. CHIEF, VETERANS AFFAIRS AND DEFENSE HEALTH BRANCH. CHIEF, DEFENSE OPERATIONS, PERSONNEL, AND SUPPORT.
|  | CHIEF OPERATIONS AND SUPPORT BRANCH.
|  | DEPUTY ASSOCIATE DIRECTOR FOR NATIONAL SECURITY.
NATURAL RESOURCE PROGRAMS | ENERGY, SCIENCE AND WATER DIVISION | CHIEF SCIENCE AND SPACE PROGRAMS BRANCH.
|  | DEPUTY ASSOCIATE DIRECTOR FOR ENERGY, SCIENCE, AND WATER DIVISION.
|  | CHIEF, ENERGY BRANCH.
|  | CHIEF, WATER AND POWER BRANCH.
| NATURAL RESOURCES DIVISION | CHIEF INTERIOR BRANCH. CHIEF, ENVIRONMENT BRANCH. DEPUTY ASSOCIATE DIRECTOR FOR NATURAL RESOURCES. CHIEF, AGRICULTURE BRANCH.
OFFICE OF INFORMATION AND REGULATORY AFFAIRS | OFFICE OF E-GOVERNMENT AND INFORMATION TECHNOLOGY | CHIEF ARCHITECT.
OFFICE OF MANAGEMENT AND BUDGET | OFFICE OF THE DIRECTOR | EXECUTIVE SECRETARY. SENIOR ADVISOR (3).
| STAFF OFFICES | ASSISTANT DIRECTOR FOR MANAGEMENT AND OPERATIONS. DEPUTY ASSOCIATE DIRECTOR FOR ECONOMIC POLICY. DEPUTY ASSISTANT DIRECTOR FOR MANAGEMENT.
OFFICE OF THE DIRECTOR | BUDGET REVIEW | CHIEF BUDGET ANALYSIS BRANCH. CHIEF, BUDGET CONCEPTS BRANCH ASSISTANT DIRECTOR FOR BUDGET REVIEW DEPUTY ASSISTANT DIRECTOR FOR BUDGET REVIEW
|  | CHIEF, BUDGET SYSTEMS BRANCH
|  | DEPUTY CHIEF BUDGET ANALYSIS BRANCH
|  | CHIEF, BUDGET REVIEW BRANCH
|  | DEPUTY CHIEF, BUDGET REVIEW BRANCH
| EDUCATION, INCOME MAINTENANCE AND LABOR PROGRAMS | CHIEF, LABOR BRANCH. CHIEF, EDUCATION BRANCH. DEPUTY ASSOCIATE DIRECTOR FOR EDUCATION, INCOME MAINTENANCE AND LABOR. CHIEF, INCOME MAINTENANCE BRANCH.
| LEGISLATIVE REFERENCE DIVISION | ASSISTANT DIRECTOR LEGISLATIVE REFERENCE. CHIEF, RESOURCES—DEFENSE-INTERNATIONAL BRANCH. CHIEF, ECONOMICS, SCIENCE AND GOVERNMENT BRANCH. CHIEF, HEALTH, EDUCATION, VETERANS, AND SOCIAL PROGRAMS BRANCH.
| OFFICE OF FEDERAL FINANCIAL MANAGEMENT | CHIEF, FINANCIAL INTEGRITY AND RISK MANAGEMENT BRANCH.
| OFFICE OF FEDERAL PROCUREMENT POLICY | ASSOCIATE ADMINISTRATOR. DEPUTY ADMINISTRATOR FOR FEDERAL PROCUREMENT POLICY.
| OFFICE OF INFORMATION AND REGULATORY AFFAIRS | CHIEF, INFORMATION POLICY BRANCH. CHIEF STATISTICAL AND SCIENCE POLICY BRANCH. CHIEF, NATURAL RESOURCES AND ENVIRONMENT BRANCH. CHIEF, PRIVACY BRANCH. CHIEF, FOOD, HEALTH AND LABOR BRANCH.
OFFICE OF NATIONAL DRUG CONTROL POLICY
| OFFICE OF MANAGEMENT AND ADMINISTRATION | ASSISTANT DIRECTOR FOR THE OFFICE OF MANAGEMENT AND ADMINISTRATION.
| OFFICE OF PERFORMANCE AND BUDGET | ASSISTANT DIRECTOR FOR OFFICE OF PERFORMANCE AND BUDGET.
| OFFICE OF SUPPLY REDUCTION | ASSOCIATE DIRECTOR FOR INTELLIGENCE.
OFFICE OF PERSONNEL MANAGEMENT
| FACILITIES, SECURITY AND EMERGENCY MANAGEMENT | DIRECTOR, FACILITIES, SECURITY AND EMERGENCY MANAGEMENT.
| HEALTHCARE AND INSURANCE | ASSISTANT DIRECTOR, FEDERAL EMPLOYEE INSURANCE OPERATIONS. DEPUTY DIRECTOR, ACTUARY.
| MERIT SYSTEM ACCOUNTABILITY AND COMPLIANCE | DEPUTY ASSOCIATE DIRECTOR, MERIT SYSTEM AUDIT AND COMPLIANCE. PRINCIPAL DEPUTY ASSOCIATE DIRECTOR.
| OFFICE OF PROCUREMENT OPERATIONS | DIRECTOR, OFFICE OF PROCUREMENT OPERATIONS.
| OFFICE OF THE CHIEF FINANCIAL OFFICER | CHIEF FINANCIAL OFFICER AND DEPUTY CHIEF MANAGEMENT OFFICER. ASSOCIATE CHIEF FINANCIAL OFFICER FINANCIAL SERVICES. DEPUTY CHIEF FINANCIAL OFFICER.
| RETIREMENT SERVICES | DEPUTY ASSOCIATE DIRECTOR, OPERATIONS. ASSOCIATE DIRECTOR, RETIREMENT SERVICES. DEPUTY ASSOCIATE DIRECTOR, RETIREMENT OPERATIONS.
OFFICE OF PERSONNEL MANAGEMENT OFFICE OF THE INSPECTOR GENERAL
OFFICE OF MANAGEMENT | OFFICE OF MANAGEMENT | ASSISTANT INSPECTOR GENERAL FOR MANAGEMENT. CHIEF INFORMATION TECHNOLOGY OFFICER. DEPUTY ASSISTANT INSPECTOR GENERAL FOR MANAGEMENT.
OFFICE OF AUDITS | OFFICE OF AUDITS | DEPUTY ASSISTANT INSPECTOR GENERAL FOR AUDITS. DEPUTY ASSISTANT INSPECTOR GENERAL FOR AUDITS. ASSISTANT INSPECTOR GENERAL FOR AUDITS.
OFFICE OF INVESTIGATIONS | OFFICE OF INVESTIGATIONS | ASSISTANT INSPECTOR GENERAL FOR INVESTIGATIONS. DEPUTY ASSISTANT INSPECTOR GENERAL FOR INVESTIGATIONS.
OFFICE OF LEGISLATIVE AND LEGAL AFFAIRS | OFFICE OF LEGISLATIVE AND LEGAL AFFAIRS | ASSISTANT INSPECTOR GENERAL FOR LEGISLATIVE AND LEGAL AFFAIRS.
OFFICE OF THE INSPECTOR GENERAL | OFFICE OF EVALUATIONS | ASSISTANT INSPECTOR GENERAL FOR EVALUATIONS.
| OFFICE OF THE INSPECTOR GENERAL | DEPUTY INSPECTOR GENERAL.
OFFICE OF SPECIAL COUNSEL
| HEADQUARTERS, OFFICE OF SPECIAL COUNSEL | ASSOCIATE SPECIAL COUNSEL FOR GENERAL LAW DIVISION. CHIEF FINANCIAL OFFICER AND DIRECTOR OF ADMINISTRATIVE SERVICES. ASSOCIATE SPECIAL COUNSEL FOR INVESTIGATION AND PROSECUTION. CHIEF OPERATING OFFICER.
|  | ASSOCIATE SPECIAL COUNSEL (GENERAL LAW).
|  | ASSOCIATE SPECIAL COUNSEL FOR INVESTIGATION AND PROSECUTION (HEADQUARTERS).
|  | DIRECTOR OF MANAGEMENT AND BUDGET.
|  | DIRECTOR, OFFICE OF PLANNING AND ANALYSIS.
|  | ASSOCIATE SPECIAL COUNSEL FOR INVESTIGATION AND PROSECUTION.
|  | SENIOR ASSOCIATE SPECIAL COUNSEL FOR INVESTIGATION AND PROSECUTION.
|  | ASSOCIATE SPECIAL COUNSEL FOR INVESTIGATION AND PROSECUTION.
|  | ASSOCIATE SPECIAL COUNSEL FOR LEGAL COUNSEL AND POLICY.
| OFFICE OF SPECIAL COUNSEL | ASSOCIATE SPECIAL COUNSEL FOR INVESTIGATION AND PROSECUTION (FIELD OFFICES).
SURFACE TRANSPORTATION BOARD
| SURFACE TRANSPORTATION BOARD | DIRECTOR, OFFICE OF PROCEEDINGS. DEPUTY DIRECTOR OFFICE OF PROCEEDINGS. DIRECTOR OF PUBLIC ASSISTANT GOVERNMENT AFFAIRS AND COMPLIANCE. GENERAL COUNSEL.
|  | MANAGING DIRECTOR.
|  | DIRECTOR, OFFICE OF ECONOMICS.
OFFICE OF THE UNITED STATES TRADE REPRESENTATIVE
| INDUSTRY, MARKET ACCESS AND TELECOMMUNICATIONS | ASSISTANT UNITED STATES TRADE REPRESENTATIVE FOR INDUSTRY, MARKET ACCESS AND TELECOMMUNICATIONS.
| LABOR | ASSISTANT UNITED STATES TRADE REPRESENTATIVE FOR LABOR.
| MONITORING AND ENFORCEMENT | DIRECTOR OF INTERAGENCY CENTER FOR TRADE IMPLEMENTATION, MONITORING, AND ENFORCEMENT.
RAILROAD RETIREMENT BOARD
| BOARD STAFF | CHIEF OF TECHNOLOGY SERVICE. CHIEF ACTUARY. DIRECTOR OF FIELD SERVICE. DIRECTOR OF ADMINISTRATION.
|  | CHIEF FINANCIAL OFFICER.
|  | GENERAL COUNSEL.
|  | DIRECTOR OF PROGRAMS.
|  | CHIEF INFORMATION OFFICER.
|  | DIRECTOR OF OPERATIONS.
|  | DIRECTOR OF FISCAL OPERATIONS.
|  | DEPUTY GENERAL COUNSEL.
RAILROAD RETIREMENT BOARD OFFICE OF THE INSPECTOR GENERAL
OFFICE OF INSPECTOR GENERAL | OFFICE OF INSPECTOR GENERAL | ASSISTANT TO THE INSPECTOR GENERAL FOR AUDIT. ASSISTANT TO THE INSPECTOR GENERAL FOR INVESTIGATIONS. GENERAL COUNSEL—DEPUTY INSPECTOR GENERAL.
SELECTIVE SERVICE SYSTEM
| SELECTIVE SERVICE SYSTEM | ASSOCIATE DIRECTOR FOR OPERATIONS.
| OFFICE OF THE DIRECTOR | ASSOCIATE DIRECTOR FOR OPERATIONS. SENIOR ADVISOR TO THE DIRECTOR.
SMALL BUSINESS ADMINISTRATION
OFFICE OF MANAGEMENT AND ADMINISTRATION | OFFICE OF HUMAN RESOURCES SOLUTIONS | DEPUTY CHIEF HUMAN CAPITAL OFFICER CHIEF HUMAN CAPITAL OFFICER.
OFFICE OF THE ADMINISTRATOR | OFFICE OF ENTREPRENEURIAL DEVELOPMENT | DEPUTY ASSOCIATE ADMINISTRATOR FOR ENTREPRENEURIAL DEVELOPMENT.
| OFFICE OF FIELD OPERATIONS | DISTRICT DIRECTOR WASHINGTON METRO AREA DISTRICT OFFICE.
| OFFICE OF GOVERNMENT CONTRACTING AND BUSINESS DEVELOPMENT | DIRECTOR FOR POLICY PLANNING AND LIAISON. DIRECTOR OF HUBZONE EMPOWERMENT PROGRAM. DEPUTY ASSOCIATE ADMINISTRATOR FOR GOVERNMENT CONTRACTING AND BUSINESS DEVELOPMENT.
| OFFICE OF HEARINGS AND APPEALS | ASSISTANT ADMINISTRATOR FOR HEARINGS AND APPEALS.
| OFFICE OF INTERNATIONAL TRADE | DEPUTY ASSOCIATE ADMINISTRATOR FOR INTERNATIONAL TRADE.
| OFFICE OF INVESTMENT AND INNOVATION | DEPUTY ASSISTANT ADMINISTRATOR FOR INVESTMENT AND INNOVATION.
| OFFICE OF THE CHIEF FINANCIAL OFFICER | DEPUTY CHIEF FINANCIAL OFFICER. CHIEF FINANCIAL OFFICER.
| OFFICE OF THE CHIEF INFORMATION OFFICER | DEPUTY CHIEF INFORMATION OFFICER.
| OFFICE OF THE GENERAL COUNSEL | ASSOCIATE GENERAL COUNSEL FOR FINANCIAL LAW AND LENDER OVERSIGHT. ASSOCIATE GENERAL COUNSEL FOR GENERAL LAW. ASSOCIATE GENERAL COUNSEL FOR PROCUREMENT LAW. ASSOCIATE GENERAL COUNSEL LITIGATION.
SMALL BUSINESS ADMINISTRATION OFFICE OF THE INSPECTOR GENERAL
| SMALL BUSINESS ADMINISTRATION OFFICE OF THE INSPECTOR GENERAL | ASSISTANT INSPECTOR GENERAL FOR MANAGEMENT AND OPERATIONS. COUNSEL TO THE INSPECTOR GENERAL. ASSISTANT INSPECTOR GENERAL FOR INVESTIGATIONS. DEPUTY INSPECTOR GENERAL. ASSISTANT INSPECTOR GENERAL FOR AUDITS.
SOCIAL SECURITY ADMINISTRATION
OFFICE OF ANALYTICS, REVIEW, AND OVERSIGHT | OFFICE OF APPELLATE OPERATIONS | EXECUTIVE DIRECTOR, OFFICE OF APPELLATE OPERATIONS. DEPUTY EXECUTIVE DIRECTOR, OFFICE OF APPELLATE OPERATIONS.
| OFFICE OF PROGRAM INTEGRITY | ASSOCIATE COMMISSIONER FOR PROGRAM INTEGRITY.
OFFICE OF BUDGET, FINANCE, AND MANAGEMENT | OFFICE OF ACQUISITION AND GRANTS | ASSOCIATE COMMISSIONER FOR ACQUISITION AND GRANTS. DEPUTY ASSOCIATE COMMISSIONER FOR ACQUISITION AND GRANTS.
| OFFICE OF BUDGET | ASSOCIATE COMMISSIONER FOR BUDGET. DEPUTY ASSOCIATE COMMISSIONER FOR BUDGET.
| OFFICE OF FINANCIAL POLICY AND OPERATIONS | DEPUTY ASSOCIATE COMMISSIONER FINANCIAL POLICY AND OPERATIONS. ASSOCIATE COMMISSIONER, OFFICE OF FINANCE POLICY AND OPERATIONS.
OFFICE OF HUMAN RESOURCES | OFFICE OF CIVIL RIGHTS AND EQUAL OPPORTUNITY | DEPUTY ASSOCIATE COMMISSIONER FOR CIVIL RIGHTS AND EQUAL OPPORTUNITY. ASSOCIATE COMMISSIONER FOR CIVIL RIGHTS AND EQUAL OPPORTUNITY.
| OFFICE OF LABOR—MANAGEMENT AND EMPLOYEE RELATIONS | DEPUTY ASSOCIATE COMMISSIONER FOR LABOR-MANAGEMENT AND EMPLOYEE RELATIONS. ASSOCIATE COMMISSIONER FOR LABOR—MANAGEMENT AND EMPLOYEE RELATIONS.
| OFFICE OF PERSONNEL | ASSOCIATE COMMISSIONER FOR PERSONNEL. DEPUTY ASSOCIATE COMMISSIONER FOR PERSONNEL.
OFFICE OF OPERATIONS | OFFICE OF DISABILITY DETERMINATIONS | DEPUTY ASSOCIATE COMMISSIONER FOR DISABILITY DETERMINATIONS. ASSOCIATE COMMISSIONER FOR DISABILITY DETERMINATIONS.
OFFICE OF SYSTEMS | OFFICE OF INFORMATION SECURITY | ASSOCIATE COMMISSIONER FOR INFORMATION SECURITY.
| OFFICE OF INFORMATION TECHNOLOGY FINANCIAL MANAGEMENT AND SUPPORT | DEPUTY ASSOCIATE COMMISSIONER FOR INFORMATION TECHNOLOGY FINANCIAL MANAGEMENT AND SUPPORT. ASSOCIATE COMMISSIONER FOR INFORMATION TECHNOLOGY FINANCIAL MANAGEMENT AND SUPPORT.
| OFFICE OF SYSTEMS OPERATIONS AND HARDWARE ENGINEERING | DEPUTY ASSOCIATE COMMISSIONER FOR SYSTEMS OPERATIONS AND HARDWARE ENGINEERING (END USER). DEPUTY ASSOCIATE COMMISSIONER FOR SYSTEMS OPERATIONS AND HARDWARE ENGINEERING (OPERATIONS). ASSOCIATE COMMISSIONER FOR SYSTEMS OPERATIONS AND HARDWARE ENGINEERING. DEPUTY ASSOCIATE COMMISSIONER FOR SYSTEMS OPERATIONS AND HARDWARE ENGINEERING (INFRASTRUCTURE).
OFFICE OF THE GENERAL COUNSEL | OFFICE OF GENERAL LAW | ASSOCIATE GENERAL COUNSEL FOR GENERAL LAW. DEPUTY ASSOCIATE GENERAL COUNSEL FOR GENERAL LAW.
| OFFICE OF PRIVACY AND DISCLOSURE | EXECUTIVE DIRECTOR FOR PRIVACY AND DISCLOSURE.
| OFFICE OF PROGRAM LAW | DEPUTY ASSOCIATE GENERAL COUNSEL FOR PROGRAM LAW.
SOCIAL SECURITY ADMINISTRATION | OFFICE OF ANALYTICS, REVIEW, AND OVERSIGHT | DEPUTY COMMISSIONER FOR ANALYTICS, REVIEW, AND OVERSIGHT. ASSISTANT DEPUTY COMMISSIONER FOR ANALYTICS, REVIEW, AND OVERSIGHT.
| OFFICE OF BUDGET, FINANCE, AND MANAGEMENT | ASSISTANT DEPUTY COMMISSIONER FOR BUDGET, FINANCE, AND MANAGEMENT.
| OFFICE OF HEARINGS OPERATIONS | ASSISTANT DEPUTY COMMISSIONER FOR HEARINGS OPERATIONS (MISSION SUPPORT). DEPUTY COMMISSIONER FOR HEARINGS OPERATIONS. ASSISTANT DEPUTY COMMISSIONER FOR HEARINGS OPERATIONS (MISSION OPERATIONS). ASSISTANT DEPUTY COMMISSIONER FOR HEARINGS OPERATIONS.
| OFFICE OF THE CHIEF ACTUARY | CHIEF ACTUARY. DEPUTY CHIEF ACTUARY.
| OFFICE OF THE GENERAL COUNSEL | GENERAL COUNSEL. DEPUTY GENERAL COUNSEL (GENERAL LAW). DEPUTY GENERAL COUNSEL (PROGRAM LAW).
SOCIAL SECURITY ADMINISTRATION OFFICE OF THE INSPECTOR GENERAL
SOCIAL SECURITY ADMINISTRATION OFFICE OF THE INSPECTOR GENERAL | IMMEDIATE OFFICE OF THE INSPECTOR GENERAL | CHIEF OF STAFF. SPECIAL ADVISOR TO THE INSPECTOR GENERAL. SENIOR ADVISOR TO THE INSPECTOR GENERAL (LE). DEPUTY INSPECTOR GENERAL.
| OFFICE OF AUDIT | ASSISTANT INSPECTOR GENERAL FOR AUDIT. DEPUTY ASSISTANT INSPECTOR GENERAL FOR AUDIT (FINANCIAL AND INFORMATION TECHNOLOGY SYSTEMS AND OPERATIONS AUDITS). DEPUTY ASSISTANT INSPECTOR GENERAL FOR AUDIT (PROGRAM AUDITS AND EVALUATIONS.
| OFFICE OF COUNSEL FOR INVESTIGATIONS AND ENFORCEMENT | COUNSEL FOR INVESTIGATIONS AND ENFORCEMENT.
| OFFICE OF COUNSEL TO THE INSPECTOR GENERAL | COUNSEL TO THE INSPECTOR GENERAL.
| OFFICE OF INVESTIGATIONS | DEPUTY ASSISTANT INSPECTOR GENERAL FOR INVESTIGATIONS (WESTERN FIELD OPERATIONS). DEPUTY ASSISTANT INSPECTOR GENERAL FOR INVESTIGATIONS (EASTERN FIELD OPERATIONS). ASSISTANT INSPECTOR GENERAL FOR INVESTIGATIONS. DEPUTY ASSISTANT INSPECTOR GENERAL FOR INVESTIGATIONS (WESTERN FIELD OPERATIONS).
| OFFICE OF RESOURCE MANAGEMENT | ASSISTANT INSPECTOR GENERAL FOR RESOURCE MANAGEMENT. DEPUTY ASSISTANT INSPECTOR GENERAL FOR RESOURCE MANAGEMENT.
DEPARTMENT OF STATE
OFFICE OF THE DEPUTY SECRETARY | OFFICE OF UNITED STATES FOREIGN ASSISTANCE | MANAGING DIRECTOR.
OFFICE OF THE SECRETARY | BUREAU OF INTELLIGENCE AND RESEARCH | OFFICE DIRECTOR.
| OFFICE OF THE UNDER SECRETARY FOR MANAGEMENT | ASSOCIATE DEAN. DEPUTY DIRECTOR. OMBUDSMAN.
| OFFICE OF THE UNDER SECRETARY FOR PUBLIC DIPLOMACY AND PUBLIC AFFAIRS | PRINCIPAL DEPUTY COORDINATOR. DEPUTY COORDINATOR FOR POLICY, PLANS, AND OPERATIONS.
OFFICE OF THE UNDER SECRETARY FOR ARMS CONTROL AND INTERNATIONAL SECURITY AFFAIRS | BUREAU OF ARMS CONTROL, VERIFICATION, AND COMPLIANCE | DIRECTOR, OFFICE OF STRATEGIC NEGOTIATIONS AND IMPLEMENTATION.
| BUREAU OF INTERNATIONAL SECURITY AND NONPROLIFERATION | DEPUTY ASSISTANT SECRETARY. OFFICE DIRECTOR (2).
| BUREAU OF POLITICAL—MILITARY AFFAIRS | DEPUTY ASSISTANT SECRETARY.
OFFICE OF THE UNDER SECRETARY FOR CIVILIAN SECURITY, DEMOCRACY, AND HUMAN RIGHTS | BUREAU OF OCEANS AND INTERNATIONAL ENVIRONMENTAL AND SCIENTIFIC AFFAIRS | DEPUTY ASSISTANT SECRETARY.
OFFICE OF THE UNDER SECRETARY FOR MANAGEMENT | BUREAU OF ADMINISTRATION | PROCUREMENT EXECUTIVE.
| BUREAU OF DIPLOMATIC SECURITY | SENIOR COORDINATOR.
| BUREAU OF GLOBAL TALENT MANAGEMENT | HUMAN RESOURCES OFFICER. OFFICE DIRECTOR.
| BUREAU OF OVERSEAS BUILDINGS OPERATIONS | COMPTROLLER.
DEPARTMENT OF STATE OFFICE OF THE INSPECTOR GENERAL
| DEPARTMENT OF STATE OFFICE OF THE INSPECTOR GENERAL | DEPUTY ASSISTANT INSPECTOR GENERAL FOR EVALUATIONS AND SPECIAL PROJECTS. CHIEF OF STAFF.
DEPARTMENT OF STATE OFFICE OF THE INSPECTOR GENERAL | OFFICE OF INSPECTOR GENERAL | ASSISTANT INSPECTOR GENERAL FOR ENTERPRISE RISK MANAGEMENT. DEPUTY INSPECTOR GENERAL. DEPUTY ASSISTANT INSPECTOR GENERAL FOR MIDDLE EAST REGIONAL OFFICE. DEPUTY ASSISTANT INSPECTOR GENERAL FOR INSPECTIONS.
|  | ASSISTANT INSPECTOR GENERAL FOR MANAGEMENT.
|  | DEPUTY GENERAL COUNSEL.
|  | DEPUTY ASSISTANT INSPECTOR GENERAL FOR INSPECTIONS.
|  | ASSISTANT INSPECTOR GENERAL FOR EVALUATIONS AND SPECIAL PROJECTS.
|  | DEPUTY ASSISTANT INSPECTOR GENERAL FOR MANAGEMENT.
|  | ASSISTANT INSPECTOR GENERAL FOR INSPECTIONS.
|  | ASSISTANT INSPECTOR GENERAL FOR INVESTIGATIONS.
|  | GENERAL COUNSEL TO THE INSPECTOR GENERAL.
|  | ASSISTANT INSPECTOR GENERAL FOR AUDITS.
|  | DEPUTY ASSISTANT INSPECTOR GENERAL FOR AUDITS.
|  | DEPUTY ASSISTANT INSPECTOR GENERAL FOR INVESTIGATIONS.
TRADE AND DEVELOPMENT AGENCY
| TRADE AND DEVELOPMENT AGENCY | DIRECTOR OF MANAGEMENT OPERATIONS.
OFFICE OF THE DIRECTOR | OFFICE OF THE GENERAL COUNSEL | GENERAL COUNSEL.
| OFFICE OF THE DIRECTOR | DEPUTY DIRECTOR.
DEPARTMENT OF TRANSPORTATION
ASSISTANT SECRETARY FOR ADMINISTRATION | OFFICE OF THE SENIOR PROCUREMENT EXECUTIVE | SENIOR PROCUREMENT EXECUTIVE.
ASSISTANT SECRETARY FOR BUDGET AND PROGRAMS | OFFICE OF BUDGET AND PROGRAM PERFORMANCE | DIRECTOR OFFICE OF BUDGET AND PROGRAM PERFORMANCE.
ASSISTANT SECRETARY FOR TRANSPORTATION POLICY | OFFICE OF SAFETY, ENERGY AND ENVIRONMENT | DIRECTOR, OFFICE OF POLICY.
ASSOCIATE ADMINISTRATOR FOR ENFORCEMENT AND PROGRAM DELIVERY | OFFICE OF ENFORCEMENT AND COMPLIANCE | DIRECTOR, OFFICE OF ENFORCEMENT AND COMPLIANCE.
ASSOCIATE ADMINISTRATOR FOR POLICY AND PROGRAM DEVELOPMENT | OFFICE OF BUS AND TRUCK STANDARDS AND OPERATIONS | DIRECTOR, OFFICE OF BUS AND TRUCK STANDARDS AND OPERATIONS.
ASSOCIATE ADMINISTRATOR FOR RESEARCH AND REGISTRATION | OFFICE OF LICENSING AND SAFETY INFORMATION | DIRECTOR, OFFICE FOR LICENSING AND SAFETY INFORMATION.
FEDERAL HIGHWAY ADMINISTRATION | ASSOCIATE ADMINISTRATOR FOR PLANNING, ENVIRONMENT AND REALTY | DIRECTOR, OFFICE OF REAL ESTATE SERVICES.
| ASSOCIATE ADMINISTRATOR FOR SAFETY | ASSOCIATE ADMINISTRATOR FOR SAFETY.
| IMMEDIATE OFFICE OF THE ADMINISTRATOR | EXECUTIVE DIRECTOR. CHIEF INNOVATION OFFICER.
FEDERAL MOTOR CARRIER SAFETY ADMINISTRATION | ASSOCIATE ADMINISTRATOR FOR FIELD OPERATIONS | REGIONAL FIELD ADMINISTRATOR, SOUTHERN REGION. REGIONAL FIELD ADMINISTRATOR, MIDWEST REGION.
| IMMEDIATE OFFICE OF THE ADMINISTRATOR | CHIEF FINANCIAL OFFICER. SENIOR ADVISOR. ASSISTANT ADMINISTRATOR/CHIEF SAFETY OFFICER.
FEDERAL RAILROAD ADMINISTRATION | ASSOCIATE ADMINISTRATOR FOR RAILROAD SAFETY. | ASSOCIATE ADMINISTRATOR FOR RAILROAD SAFETY/CHIEF SAFETY OFFICER.
| IMMEDIATE OFFICE OF THE ADMINISTRATOR | EXECUTIVE DIRECTOR.
| OFFICE OF THE CHIEF FINANCIAL OFFICER | CHIEF FINANCIAL OFFICER.
IMMEDIATE OFFICE OF THE ADMINISTRATOR | OFFICE OF THE CHIEF FINANCIAL OFFICER. DEPUTY CHIEF FINANCIAL OFFICER AND CHIEF BUDGET OFFICER. CHIEF FINANCIAL OFFICER. DIRECTOR, OFFICE OF ACQUISITION AND GRANTS MANAGEMENT.
MARITIME ADMINISTRATION | ASSOCIATE ADMINISTRATOR FOR ENVIRONMENT AND COMPLIANCE | DEPUTY ASSOCIATE ADMINISTRATOR FOR ENVIRONMENT AND COMPLIANCE. ASSOCIATE ADMINISTRATOR FOR ENVIRONMENT AND COMPLIANCE.
| ASSOCIATE ADMINISTRATOR FOR STRATEGIC SEALIFT | DEPUTY ASSOCIATE ADMINISTRATOR FOR MARITIME EDUCATION AND TRAINING. DEPUTY ASSOCIATE ADMINISTRATOR FOR FEDERAL SEALIFT.
| IMMEDIATE OFFICE OF THE ADMINISTRATOR | EXECUTIVE SECRETARY, COMMITTEE ON MARINE TRANSPORTATION SYSTEMS. EXECUTIVE DIRECTOR.
| OFFICE OF THE CHIEF COUNSEL | DEPUTY CHIEF COUNSEL.
NATIONAL HIGHWAY TRAFFIC SAFETY ADMINISTRATION | ASSOCIATE ADMINISTRATOR FOR ENFORCEMENT | ASSOCIATE ADMINISTRATOR FOR ENFORCEMENT. DIRECTOR, OFFICE OF VEHICLE SAFETY COMPLIANCE. DIRECTOR, OFFICE OF DEFECTS INVESTIGATION.
| ASSOCIATE ADMINISTRATOR FOR REGIONAL OPERATIONS AND PROGRAM DELIVERY. ASSOCIATE ADMINISTRATOR FOR REGIONAL OPERATIONS AND PROGRAM DELIVERY.
| IMMEDIATE OFFICE OF THE ADMINISTRATOR | EXECUTIVE DIRECTOR.
| OFFICE OF THE CHIEF COUNSEL | DEPUTY CHIEF COUNSEL.
OFFICE OF THE SECRETARY | ASSISTANT SECRETARY FOR ADMINISTRATION | DEPUTY ASSISTANT SECRETARY FOR ADMINISTRATION.
| ASSISTANT SECRETARY FOR BUDGET AND PROGRAMS | DEPUTY CHIEF FINANCIAL OFFICER. DEPUTY ASSISTANT SECRETARY FOR BUDGET AND PROGRAMS. OFFICE OF THE SECRETARY CHIEF FINANCIAL OFFICER.
| NATIONAL SURFACE TRANSPORTATION INNOVATIVE FINANCE BUREAU (BUILD AMERICA BUREAU) | EXECUTIVE DIRECTOR, NATIONAL SURFACE TRANSPORTATION INNOVATIVE FINANCE BUREAU (BUILD AMERICA BUREAU).
| OFFICE OF INTELLIGENCE, SECURITY AND EMERGENCY RESPONSE | DIRECTOR, OFFICE OF INTELLIGENCE, SECURITY AND EMERGENCY RESPONSE. DEPUTY DIRECTOR.
| OFFICE OF THE CHIEF INFORMATION OFFICER | DEPUTY CHIEF INFORMATION OFFICER. CHIEF INFORMATION SECURITY OFFICER. CHIEF TECHNOLOGY OFFICER.
| OFFICE OF THE UNDER SECRETARY OF TRANSPORTATION FOR POLICY | EXECUTIVE DIRECTOR FOR THE OFFICE OF THE UNDER SECRETARY OF TRANSPORTATION FOR POLICY.
| SECRETARY | SENIOR ADVISOR FOR STRATEGIC COMMUNICATIONS.
PIPELINE AND HAZARDOUS MATERIALS SAFETY ADMINISTRATION | IMMEDIATE OFFICE OF THE ADMINISTRATOR | EXECUTIVE DIRECTOR.
| OFFICE OF CHIEF SAFETY OFFICER | ASSISTANT ADMINISTRATOR AND CHIEF SAFETY OFFICER.
| OFFICE OF HAZARDOUS MATERIALS SAFETY | ASSOCIATE ADMINISTRATOR FOR HAZARDOUS MATERIALS SAFETY.
| OFFICE OF PIPELINE SAFETY | DEPUTY ASSOCIATE ADMINISTRATOR FOR POLICY AND PROGRAMS. DEPUTY ASSOCIATE ADMINISTRATOR FOR FIELD OPERATIONS. ASSOCIATE ADMINISTRATOR FOR PIPELINE SAFETY.
| OFFICE OF THE CHIEF FINANCIAL OFFICER | CHIEF FINANCIAL OFFICER.
SURFACE TRANSPORTATION BOARD | OFFICE OF PUBLIC ASSISTANCE, GOVERNMENTAL AFFAIRS AND COMPLIANCE | DIRECTOR OF PUBLIC ASSISTANCE, GOVERNMENTAL AFFAIRS AND COMPLIANCE.
DEPARTMENT OF TRANSPORTATION OFFICE OF THE INSPECTOR GENERAL
OFFICE OF INSPECTOR GENERAL IMMEDIATE OFFICE | OFFICE OF ASSISTANT INSPECTOR GENERAL FOR ADMINISTRATION AND MANAGEMENT | ASSISTANT INSPECTOR GENERAL FOR ADMINISTRATION AND MANAGEMENT.
| OFFICE OF ASSISTANT INSPECTOR GENERAL FOR STRATEGIC COMMUNICATIONS AND PROGRAMS | ASSISTANT INSPECTOR GENERAL FOR STRATEGIC COMMUNICATIONS AND PROGRAMS.
| OFFICE OF CHIEF COUNSEL | CHIEF COUNSEL.
| OFFICE OF DEPUTY INSPECTOR GENERAL | DEPUTY INSPECTOR GENERAL.
| OFFICE OF PRINCIPAL ASSISTANT INSPECTOR GENERAL FOR AUDITING AND EVALUATION | PRINCIPAL ASSISTANT INSPECTOR GENERAL FOR AUDITING AND EVALUATION.
| OFFICE OF PRINCIPAL ASSISTANT INSPECTOR GENERAL FOR INVESTIGATIONS | PRINCIPAL ASSISTANT INSPECTOR GENERAL FOR INVESTIGATIONS.
OFFICE OF PRINCIPAL ASSISTANT INSPECTOR GENERAL FOR AUDITING AND EVALUATION | OFFICE OF ASSISTANT INSPECTOR GENERAL FOR ACQUISITION AND PROCUREMENT AUDITS | ASSISTANT INSPECTOR GENERAL FOR ACQUISITION AND PROCUREMENT AUDITS.
| OFFICE OF ASSISTANT INSPECTOR GENERAL FOR AUDIT OPERATIONS AND SPECIAL REVIEWS | ASSISTANT INSPECTOR GENERAL FOR AUDIT OPERATIONS AND SPECIAL REVIEWS.
| OFFICE OF ASSISTANT INSPECTOR GENERAL FOR AVIATION AUDITS | DEPUTY ASSISTANT INSPECTOR GENERAL FOR AVIATION AUDITS. ASSISTANT INSPECTOR GENERAL FOR AVIATION AUDITS.
| OFFICE OF ASSISTANT INSPECTOR GENERAL FOR FINANCIAL AUDITS | ASSISTANT INSPECTOR GENERAL FOR FINANCIAL AUDITS.
| OFFICE OF ASSISTANT INSPECTOR GENERAL FOR INFORMATION TECHNOLOGY AUDITS | ASSISTANT INSPECTOR GENERAL FOR INFORMATION TECHNOLOGY AUDITS.
| OFFICE OF ASSISTANT INSPECTOR GENERAL FOR SURFACE TRANSPORTATION AUDITS | DEPUTY ASSISTANT INSPECTOR GENERAL FOR SURFACE TRANSPORTATION AUDITS. ASSISTANT INSPECTOR GENERAL FOR SURFACE TRANSPORTATION AUDITS.
OFFICE OF PRINCIPAL ASSISTANT INSPECTOR GENERAL FOR INVESTIGATIONS | OFFICE OF DEPUTY ASSISTANT INSPECTOR GENERAL FOR INVESTIGATIONS | DEPUTY ASSISTANT INSPECTOR GENERAL FOR INVESTIGATIONS.
DEPARTMENT OF THE TREASURY
ASSISTANT SECRETARY (TAX POLICY) | ALCOHOL AND TOBACCO TAX AND TRADE BUREAU ASSISTANT ADMINISTRATOR, HEADQUARTER OPERATIONS. ASSISTANT ADMINISTRATOR, MANAGEMENT/CHIEF FINANCIAL OFFICER. DEPUTY ADMINISTRATOR, ALCOHOL AND TOBACCO TAX AND TRADE BUREAU.
|  | ASSISTANT ADMINISTRATOR, FIELD OPERATIONS
|  | ASSISTANT ADMINISTRATOR, PERMITTING AND TAXATION
|  | ASSISTANT ADMINISTRATOR INFORMATION RESOURCES/CHIEF INFORMATION OFFICER
|  | ASSISTANT ADMINISTRATOR, EXTERNAL AFFAIRS/CHIEF OF STAFF
|  | ADMINISTRATOR, ALCOHOL AND TOBACCO TAX AND TRADE BUREAU
DEPARTMENT OF THE TREASURY | ASSISTANT SECRETARY (TAX POLICY) | DIRECTOR, ECONOMIC MODELING AND COMPUTER APPLICATIONS.
| ASSISTANT SECRETARY FOR MANAGEMENT | DEPUTY CHIEF FINANCIAL OFFICER. DIRECTOR, OFFICE OF PROCUREMENT. CHIEF DIVERSITY AND INCLUSION OFFICER.
| GENERAL COUNSEL | CHIEF COUNSEL, FINANCIAL CRIMES ENFORCEMENT NETWORK.
| INTERNAL REVENUE SERVICE | DIRECTOR FIELD OPERATIONS (SOUTH CENTRAL), WESTERN COMPLIANCE. DIRECTOR FIELD OPERATIONS, FOREIGN PAYMENTS PRACTICE. FIELD DIRECTOR, SUBMISSION PROCESSING—FRESNO. DIRECTOR, COLLECTION—CAMPUS.
|  | DIRECTOR, INTERNATIONAL OPERATIONS.
|  | DIRECTOR FIELD OPERATIONS (WEST), WESTERN COMPLIANCE.
|  | AREA DIRECTOR, FIELD ASSISTANCE.
|  | CHIEF OF STAFF.
|  | DIRECTOR, MEDIA AND PUBLICATIONS (WASHINGTON, DC).
|  | DIRECTOR, HUMAN RESOURCES.
|  | PROJECT DIRECTOR.
|  | DIRECTOR, STRATEGY AND FINANCE.
|  | DIRECTOR, EXAMINATION—CAMPUS.
|  | FIELD DIRECTOR, SUBMISSION PROCESSING—OGDEN.
|  | DIRECTOR, COLLECTION SOUTHWEST.
|  | CHIEF, AGENCY-WIDE SHARED SERVICES.
|  | DIRECTOR OF FIELD OPERATIONS- WESTERN AREA, CRIMINAL INVESTIGATION.
|  | DIRECTOR, MICROSOFT INITIATIVES PROGRAM.
|  | NATIONAL DIRECTOR LEGISLATIVE AFFAIRS.
|  | DIRECTOR, ENTERPRISE ARCHITECTURE.
|  | DEPUTY ASSOCIATE CHIEF INFORMATION OFFICER FOR APPLICATIONS DEVELOPMENT.
|  | DIRECTOR, REFUNDABLE CREDITS EXAMINATION OPERATIONS.
|  | DEPUTY CHIEF INFORMATION OFFICER FOR STRATEGY/MODERNIZATION.
|  | DIRECTOR, E-FILE SERVICES.
|  | DEPUTY CHIEF PROCUREMENT OFFICER.
|  | DIRECTOR, KNOWLEDGE DEVELOPMENT AND APPLICATION.
|  | SPECIAL AGENT IN CHARGE, CRIMINAL INVESTIGATION.
|  | PROJECT DIRECTOR.
|  | DIRECTOR, OPERATIONS POLICY AND SUPPORT.
|  | DIRECTOR, FACILITIES MANAGEMENT AND SEC SERVICES.
|  | DIRECTOR, WORKLIFE, BENEFITS AND PERFORMANCE.
|  | DIRECTOR, SECURITY OPERATIONS AND STANDARDS.
|  | DIRECTOR, COLLECTION—HEADQUARTERS.
|  | DEPUTY ASSOCIATE CHIEF INFORMATION OFFICER FOR CYBERSECURITY.
|  | DIRECTOR, EXAMINATION SOUTHWEST AREA.
|  | DIRECTOR, COLLECTION APPEALS.
|  | DIRECTOR, DEMAND MANAGEMENT AND PROJECT GOVERNANCE.
|  | PROJECT DIRECTOR.
|  | DIRECTOR, COLLECTION—QUALITY AND TECHNICAL SUPPORT.
|  | DIRECTOR, COLLECTION.
|  | SPECIAL ASSISTANT.
|  | DIRECTOR, DATA MANAGEMENT DIVISION.
|  | DIRECTOR, CROSS BORDER ACTIVITIES.
|  | ASSOCIATE CHIEF INFORMATION OFFICER FOR APPLICATIONS DEVELOPMENT.
|  | SENIOR ADVISOR AND TECHNOLOGY ADVISOR.
|  | DIRECTOR, SPECIALIZED EXAMINATION PROGRAMS AND REFERRALS.
|  | PROJECT DIRECTOR FOR DEPUTY COMMISSIONER SERVICES AND ENFORCEMENT.
|  | DIRECTOR, MODERNIZATION, DEVELOPMENT AND DELIVERY.
|  | DIRECTOR, DATA MANAGEMENT SERVICES AND SUPPORT.
|  | DIRECTOR, SERVICEWIDE OPERATIONS.
|  | DIRECTOR, ENTERPRISE ACTIVITIES.
|  | ASSISTANT DEPUTY COMMISSIONER FOR SERVICES AND ENFORCEMENT.
|  | DIRECTOR, COLLECTION AREA—GULF STATE.
|  | DIRECTOR, COLLECTION—CENTRAL.
|  | DIRECTOR, EXAMINATION—CENTRAL.
|  | DIRECTOR, OFFICE OF PROFESSIONAL RESPONSIBILITY.
|  | DIRECTOR, COLLECTION—SPECIAL.
|  | DIRECTOR, REFUNDABLE CREDITS POLICY AND PROGRAM MANAGEMENT.
|  | ASSOCIATE CHIEF INFORMATION OFFICER FOR USER AND NETWORK SERVICES.
|  | SPECIAL AGENT IN CHARGE, CRIMINAL INVESTIGATION.
|  | DIRECTOR, SOLUTION ENGINEERING.
|  | DIRECTOR, MAINFRAME SUPPORT AND SERVICES.
|  | SPECIAL ASSISTANT TO THE CHIEF, APPEALS.
|  | DIRECTOR, AFFORDABLE CARE ACT.
|  | DIRECTOR, CAMPUS COLLECTION FRESNO.
|  | IRS IDENTITY ASSURANCE EXECUTIVE.
|  | DEPUTY DIRECTOR, SUBMISSION PROCESSING.
|  | SUBMISSION PROCESSING FIELD DIRECTOR.
|  | DIRECTOR, OPERATIONS SUPPORT.
|  | ASSOCIATE CHIEF INFORMATION OFFICER, ENTERPRISE INFORMATION TECHNOLOGY PROGRAM MANAGEMENT.
|  | SENIOR DIRECTOR FOR OPERATIONS, AFFORDABLE CARE ACT.
|  | DIRECTOR, INFRASTRUCTURE SERVICES.
|  | DIRECTOR, UNIFIED COMMUNICATIONS.
|  | ACIO, AFFORDABLE CARE ACT PMO.
|  | DIRECTOR, ENTERPRISE NETWORKS OPERATIONS.
|  | DIRECTOR, ONLINE SERVICES.
|  | DEPUTY COMMISSIONER, WAGE AND INVESTMENTS.
|  | DIRECTOR, TECHNOLOGY SOLUTIONS.
|  | DEPUTY DIRECTOR, RETURN INTEGRITY AND CORRESPONDENCE SERVICES.
|  | DIRECTOR, SERVICE DELIVERY MANAGEMENT.
|  | COMPLIANCE SERVICES FIELD DIRECTOR.
|  | DIRECTOR, CAMPUS OPERATIONS.
|  | DIRECTOR, IMPLEMENTATION AND TESTING.
|  | DIRECTOR, BUSINESS PLANNING AND RISK MANAGEMENT.
|  | EXECUTIVE DIRECTOR, BUSINESS MODERNIZATION.
|  | DIRECTOR, COLLECTION STRATEGY AND ORGANIZATION.
|  | DIRECTOR OF FIELD OPERATIONS, HEAVY MANUFACTURING AND PHARMACEUTICALS, SOUTHEAST..
|  | DIRECTOR, FIELD OPERATIONS, ENGINEERING.
|  | COUNSELOR TO THE COMMISSIONER OF INTERNAL REVENUE SERVICES.
|  | ASSISTANT DEPUTY COMMISSIONER COMPLIANCE INTEGRATION.
|  | DIRECTOR, ADVANCED PRICING AND MUTUAL AGREEMENT.
|  | DIRECTOR, RETURN INTEGRITY AND COMPLIANCE SERVICES.
|  | DIRECTOR, CYBERSECURITY POLICY AND PROGRAMS.
|  | DIRECTOR, FIELD OPERATIONS, RETAIL FOOD, PHARMACEUTICALS, AND HEALTHCARE—WEST.
|  | DIRECTOR, CONTACT CENTER SUPPORT DIVISION.
|  | EXECUTIVE DIRECTOR, INVESTIGATIVE AND ENFORCEMENT OPERATIONS.
|  | DIRECTOR, EXAMINATION AREA—NORTH ATLANTIC.
|  | DIRECTOR, STRATEGIC SUPPLIER MANAGEMENT.
|  | DIRECTOR, DATA DELIVERY SERVICES.
|  | PROJECT DIRECTOR.
|  | DIRECTOR, COMPLIANCE STRATEGY AND POLICY.
|  | DIRECTOR, STRATEGY, RESEARCH AND PROGRAM PLANNING.
|  | DIRECTOR, PRIVACY AND INFORMATION PROTECTION.
|  | DIRECTOR, NETWORK ENGINEERING.
|  | DEPUTY DIRECTOR, SUBMISSION PROCESSING.
|  | DIRECTOR, EXAMINATION—SPECIALITY TAX.
|  | DEPUTY ASSOCIATE CHIEF FINANCIAL OFFICER FOR FINANCIAL MANAGEMENT.
|  | DIRECTOR, CUSTOMER SERVICE AND STAKEHOLDERS.
|  | DIRECTOR, TAX FORMS AND PUBLICATIONS.
|  | ASSISTANT DEPUTY COMMISSIONER GOVERNMENT ENTITIES AND SHARED SERVICES.
|  | DIRECTOR, CASE AND OPERATIONS SUPPORT.
|  | DEPUTY DIRECTOR, RETURN PREPARER OFFICE.
|  | ACCOUNTS MANAGEMENT FIELD DIRECTOR.
|  | DIRECTOR, FILING AND PREMIUM TAX CREDIT.
|  | ASSISTANT DEPUTY COMMISSIONER (INTERNATIONAL).
|  | DIRECTOR, EMERGING PROGRAMS AND INITIATIVES.
|  | DIRECTOR, FIELD OPERATIONS, NATURAL RESOURCES AND CONSTRUCTION—WEST.
|  | DIRECTOR, CAMPUS COMPLIANCE OPERATIONS.
|  | DIRECTOR, PRODUCT MANAGEMENT.
|  | DIRECTOR, FIELD OPERATIONS, RETAILERS, FOOD, TRANSPORTATION AND HEALTHCARE—EAST.
|  | DIRECTOR, REFUND CRIMES.
|  | AREA DIRECTOR, STAKEHOLDER PARTNERSHIP, EDUCATION, AND COMMUNICATION.
|  | DIRECTOR, EXAMINATION FIELD.
|  | DEPUTY COMMISSIONER, OPERATIONS SUPPORT.
|  | DIRECTOR, OPERATIONS SERVICE SUPPORT.
|  | DEPUTY DIRECTOR, STRATEGY AND FINANCE.
|  | DIRECTOR, RETURN PREPARER OFFICE.
|  | DIRECTOR, EXAMINATION AREA MIDWEST.
|  | DIRECTOR, FINANCIAL MANAGEMENT SERVICES.
|  | AREA DIRECTOR, FIELD ASSISTANCE.
|  | DIRECTOR, EXAMINATION AREA.
|  | DIRECTOR, CUSTOMER SERVICE.
|  | DIRECTOR, APPEALS POLICY AND VALUATION.
|  | ASSOCIATE CHIEF INFORMATION OFFICER, STRATEGY AND PLANNING.
|  | DIRECTOR, BUSINESS SYSTEMS PLANNING.
|  | DEPUTY CHIEF OF STAFF.
|  | ASSOCIATE CHIEF INFORMATION OFFICER FOR ENTERPRISE OPERATIONS.
|  | DIRECTOR, COLLECTION POLICY.
|  | DEPUTY DIRECTOR, SUBMISSION PROCESSING.
|  | DEPUTY DIVISION COUNSEL #2 (OPERATIONS)/SMALL BUSINESS AND SELF EMPLOYED.
|  | DEPUTY COMMISSIONER (DOMESTIC), LARGE BUSINESS AND INTERNATIONAL.
|  | DEPUTY ASSOCIATE CHIEF INFORMATION OFFICER, ENTERPRISE OPERATIONS.
|  | DIRECTOR, REPORTING COMPLIANCE.
|  | SPECIAL AGENT IN CHARGE—CRIMINAL INVESTIGATION.
|  | DIRECTOR, FIELD OPERATIONS EAST.
|  | DEPUTY CHIEF INFORMATION OFFICER FOR OPERATIONS.
|  | ASSOCIATE CHIEF INFORMATION OFFICER, CYBERSECURITY.
|  | DIRECTOR, OFFICE OF PRIVACY, INFORMATION PROTECTION AND DATA SECURITY.
|  | DIRECTOR, PASS-THROUGH ENTITIES.
|  | PROGRAM MANAGER.
|  | DIRECTOR, SUBMISSION PROCESSING.
|  | DIRECTOR, INTERNAL MANAGEMENT.
|  | DIRECTOR, CORPORATE DATA.
|  | DIRECTOR, ENTERPRISE SYSTEMS TESTING.
|  | DIRECTOR, EXAMINATION MIDWEST AREA.
|  | SPECIAL AGENT IN CHARGE.
|  | DIRECTOR, WHISTLEBLOWER OFFICE.
|  | SUBMISSION PROCESSING FIELD DIRECTOR.
|  | PROJECT DIRECTOR, ENTERPRISE PROGRAM MANAGEMENT.
|  | ACCOUNTS MANAGEMENT FIELD DIRECTOR.
|  | DIRECTOR, EXAMINATION—GULF STATES.
|  | DIRECTOR, EMPLOYEE PLANS, RULINGS, AND AGREEMENTS.
|  | DIRECTOR, EXAMINATION HEADQUARTERS.
|  | DIRECTOR, JOINT OPERATIONS CENTER.
|  | DEPUTY CHIEF HUMAN CAPITAL OFFICER, INTERNAL REVENUE SERVICE..
|  | DIRECTOR, COLLECTION—FIELD.
|  | DIRECTOR, COLLECTION—ATLANTA.
|  | DIRECTOR, COLLECTION—ANDOVER.
|  | DIRECTOR, EXAMINATION AREA.
|  | DIRECTOR, EXAMINATION—OGDEN.
|  | DIRECTOR, EXAMINATION SOUTHWEST AREA.
|  | SPECIAL AGENT IN CHARGE.
|  | DEPUTY COMMISSIONER, SMALL BUSINESS/SELF-EMPLOYED.
|  | PROJECT DIRECTOR.
|  | DIRECTOR, STAKEHOLDER, PARTNERSHIP, EDUCATION AND COMMUNICATIONS.
|  | CHIEF FINANCIAL OFFICER, INTERNAL REVENUE SERVICE.
|  | CHIEF, CRIMINAL INVESTIGATION.
|  | DIRECTOR, RESEARCH AND ORGANIZATIONAL.
|  | DIRECTOR, ENTERPRISE TECHNOLOGY IMPLEMENTATION.
|  | AREA DIRECTOR, FIELD ASSISTANCE—ATLANTA
|  | DIRECTOR OF FIELD OPERATIONS.
|  | CHIEF, COMMUNICATIONS AND LIAISON.
|  | DEPUTY CHIEF FINANCIAL OFFICER.
|  | DIRECTOR, ACCOUNTS MANAGEMENT, WAGE AND INVESTMENT.
|  | DIRECTOR, DATA SOLUTIONS.
|  | COMMISSIONER, SMALL BUSINESS AND SELF EMPLOYED.
|  | COMMISSIONER, LARGE AND MID-SIZED BUSINESS DIVISION.
|  | CHIEF INFORMATION OFFICER.
|  | CHIEF HUMAN CAPITAL OFFICER, INTERNAL REVENUE SERVICE.
|  | DEPUTY DIRECTOR, ENTERPRISE COMPUTING CENTER.
|  | DEPUTY CHIEF, CRIMINAL INVESTIGATION.
|  | INDUSTRY DIRECTOR—FINANCIAL SERVICES—LARGE AND MID-SIZE BUSINESS.
|  | DIRECTOR, BUSINESS SYSTEMS PLANNING—LARGE AND MID-SIZE BUSINESS.
|  | DEPUTY CHIEF, APPEALS.
|  | DEPUTY DIVISION COMMISSIONER, TAX EXEMPT AND GOVERNMENT ENTITIES.
|  | EXECUTIVE DIRECTOR, CASE ADVOCACY INTAKE AND TECHNICAL SUPPORT.
|  | EXECUTIVE DIRECTOR, OFFICE OF EQUITY, DIVERSITY, AND INCLUSION.
|  | DEPUTY DIRECTOR, FACILITIES MANAGEMENT AND SECURITY SERVICES.
|  | CHIEF, APPEALS.
|  | CHIEF RISK OFFICER AND SENIOR ADVISOR.
|  | DIRECTOR, ADVANCE PRICING AND MUTUAL AGREEMENT.
|  | ACCOUNTS MANAGEMENT FIELD DIRECTOR—ANDOVER.
|  | DIRECTOR, CUSTOMER ACCOUNT SERVICES—WAGE AND INVESTMENT.
|  | DIRECTOR, COMMUNICATION, ASSISTANCE, RESEARCH AND EDUCATION..
|  | DIRECTOR, FIELD ASSISTANCE—WAGE AND INVESTMENT.
|  | DIRECTOR, RESEARCH, APPLIED ANALYTICS AND STATISTICS.
|  | DEPUTY NATIONAL TAXPAYER ADVOCATE.
|  | COMMISSIONER, TAX EXEMPT AND GOVERNMENT ENTITIES DIVISION.
|  | DIRECTOR, EXEMPT ORGANIZATIONS.
|  | COMMISSIONER, WAGE AND INVESTMENT.
|  | DIRECTOR, OPERATIONS SUPPORT.
|  | DIRECTOR, EMPLOYEE PLANS.
|  | DIRECTOR, ENTERPRISE CASE MANAGEMENT.
|  | PROJECT DIRECTOR.
|  | DIRECTOR, INTERNET DEVELOPMENT SERVICES.
|  | DIRECTOR, SERVER SUPPORT AND SERVICES.
|  | DIRECTOR, PROCUREMENT.
|  | ASSOCIATE CHIEF FINANCIAL OFFICER FOR INTERNAL FINANCIAL MANAGEMENT—NATIONAL HEADQUARTERS.
|  | DIRECTOR, IDENTITY THEFT VICTIM ASSISTANCE.
|  | DIRECTOR, STATISTICS OF INCOME.
| SECRETARY OF THE TREASURY | DIRECTOR, OFFICE OF SMALL AND DISADVANTAGED BUSINESS UTILIZATION.
| UNITED STATES MINT | CHIEF ADMINISTRATIVE OFFICER. ASSOCIATE DIRECTOR FOR MANUFACTURING. DIRECTOR, OFFICE OF COIN STUDIES. ASSOCIATE DIRECTOR FOR SALES AND MARKETING.
|  | ASSOCIATE DIRECTOR, ENVIRONMENT, SAFETY AND HEALTH.
|  | PLANT MANAGER, PHILADELPHIA.
|  | ASSOCIATE DIRECTOR FOR INFORMATION TECHNOLOGY (CHIEF INFORMATION OFFICER).
|  | ASSOCIATE DIRECTOR FOR FINANCIAL MANAGEMENT/CHIEF FINANCIAL OFFICER.
FISCAL ASSISTANT SECRETARY | BUREAU OF THE FISCAL SERVICE | ASSISTANT COMMISSIONER (SHARED SERVICES). DEPUTY ASSISTANT COMMISSIONER FOR PROGRAM SOLUTIONS AND SUPPORT (TREASURY SECURITIES SERVICES). ASSISTANT COMMISSIONER (OFFICE OF MANAGEMENT SERVICES). DEPUTY CHIEF INFORMATION OFFICER.
|  | DEPUTY ASSISTANT COMMISSIONER, PAYMENT MANAGEMENT.
|  | ASSISTANT COMMISSIONER, PAYMENT MANAGEMENT.
|  | DEPUTY ASSISTANT COMMISSIONER FOR INFRASTRUCTURE AND OPERATIONS (OFFICE OF INFORMATION AND SECURITY SERVICES).
|  | DEPUTY COMMISSIONER, ACCOUNTING AND SHARED SERVICES.
|  | DEPUTY COMMISSIONER, FINANCE AND ADMINISTRATION.
|  | DEPUTY COMMISSIONER, FINANCIAL SERVICES AND OPERATIONS.
|  | COMMISSIONER, BUREAU OF THE FISCAL SERVICE.
|  | DEPUTY ASSISTANT COMMISSIONER FOR INFORMATION SERVICES.
|  | DEPUTY ASSISTANT COMMISSIONER (FISCAL ACCOUNTING OPERATIONS).
|  | DIRECTOR, DEBT MANAGEMENT SERVICES OPERATIONS, WEST.
|  | DEPUTY ASSISTANT COMMISSIONER FOR SECURITIES MANAGEMENT (TREASURY SECURITIES SERVICES).
|  | DEPUTY ASSISTANT COMMISSIONER (WHOLESALE SECURITIES SERVICES).
|  | ASSISTANT COMMISSIONER, WHOLESALE SECURITIES SERVICES.
|  | DEPUTY ASSISTANT COMMISSIONER (ACCOUNTING SUPPORT AND OUTREACH).
|  | SENIOR ADVISOR (SERVICES AND PROGRAMS).
|  | DEPUTY ASSISTANT COMMISSIONER, COMPLIANCE AND REPORTING GROUP.
|  | EXECUTIVE DIRECTOR (DO NOT PAY BUSINESS CENTER STAFF).
|  | DIRECTOR, DEBT MANAGEMENT SERVICES OPERATIONS, EAST.
|  | DEPUTY ASSISTANT COMMISSIONER (MANAGEMENT).
|  | ASSISTANT COMMISSIONER, INFORMATION AND SECURITY SERVICES (CHIEF INFORMATION OFFICER).
|  | DEPUTY ASSISTANT COMMISSIONER (SHARED SERVICES).
|  | DEPUTY ASSISTANT COMMISSIONER (DATA TRANSPARENCY).
|  | DEPUTY ASSISTANT COMMISSIONER (RETAIL SECURITIES SERVICES).
|  | EXECUTIVE DIRECTOR (KANSAS CITY).
|  | ASSISTANT COMMISSIONER (RETAIL SECURITIES SERVICES).
|  | DEPUTY ASSISTANT COMMISSIONER, DEBT MANAGEMENT SERVICES.
|  | ASSISTANT COMMISSIONER, DEBT MANAGEMENT SERVICES.
|  | ASSISTANT COMMISSIONER, PUBLIC DEBT ACCOUNTING.
|  | DIRECTOR, REGIONAL FINANCIAL CENTER (PHILADELPHIA).
|  | DIRECTOR, REGIONAL FINANCIAL CENTER (KANSAS CITY)
|  | ASSISTANT COMMISSIONER, MANAGEMENT (CHIEF FINANCIAL OFFICER).
|  | DIRECTOR, REVENUE COLLECTION GROUP.
|  | ASSISTANT COMMISSIONER, FEDERAL FINANCE.
|  | EXECUTIVE DIRECTOR, GOVERNMENT SECURITIES REGULATIONS.
|  | DIRECTOR, REGIONAL FINANCIAL CENTER (SAN FRANCISCO).
INTERNAL REVENUE SERVICE | INTERNAL REVENUE SERVICE CHIEF COUNSEL | DEPUTY ASSOCIATE CHIEF COUNSEL #2 (INCOME TAX AND ACCOUNTING). DEPUTY DIVISION COUNSEL (LARGE AND MID-SIZE BUSINESS). DEPUTY ASSOCIATE CHIEF COUNSEL (PROCEDURE AND ADMINISTRATION). ASSOCIATE CHIEF COUNSEL (INCOME TAX AND ACCOUNTING).
|  | DEPUTY DIVISION COUNSEL/DEPUTY ASSISTANT CHIEF COUNSEL (CRIMINAL TAX).
|  | ASSOCIATE CHIEF COUNSEL (PROCEDURE AND ADMINISTRATION).
|  | ASSOCIATE CHIEF COUNSEL (CORPORATE).
|  | DEPUTY ASSOCIATE CHIEF COUNSEL (FINANCE AND MANAGEMENT).
|  | AREA COUNSEL (LARGE AND MID-SIZE BUSINESS) (AREA 2) (HEAVY MANUFACTURING, CONSTRUCTION AND TRANSPORTATION).
|  | AREA COUNSEL (LARGE AND MID-SIZE BUSINESS) (AREA 4) (NATURAL RESOURCES).
|  | AREA COUNSEL (LARGE BUSINESS AND INTERNATIONAL).
|  | DEPUTY DIVISION COUNSEL (SMALL BUSINESS AND SELF EMPLOYED).
|  | AREA COUNSEL (SMALL BUSINESS AND SELF EMPLOYED)—PHILADELPHIA.
|  | AREA COUNSEL (SMALL BUSINESS AND SELF EMPLOYED)—JACKSONVILLE.
|  | AREA COUNSEL (SMALL BUSINESS AND SELF EMPLOYED)—CHICAGO.
|  | AREA COUNSEL (SMALL BUSINESS AND SELF EMPLOYED).
|  | AREA COUNSEL (SMALL BUSINESS AND SELF EMPLOYED)—DENVER.
|  | AREA COUNSEL (SMALL BUSINESS AND SELF EMPLOYED)—LOS ANGELES.
|  | AREA COUNSEL (SMALL BUSINESS AND SELF EMPLOYED) (AREA 7).
|  | DIVISION COUNSEL/ASSOCIATE CHIEF COUNSEL (CRIMINAL TAX).
|  | DEPUTY DIVISION COUNSEL/DEPUTY ASSOCIATE CHIEF COUNSEL (TAX EXEMPT AND GOVERNMENT ENTITIES).
|  | AREA COUNSEL (LARGE BUSINESS AND INTERNATIONAL) (AREA 1).
|  | DEPUTY ASSOCIATE CHIEF COUNSEL (FINANCIAL INSTITUTIONS AND PRODUCTS).
|  | DIVISION COUNSEL (WAGE AND INVESTMENT).
|  | DEPUTY ASSOCIATE CHIEF COUNSEL (GENERAL LEGAL SERVICES) (LABOR AND PERSONNEL LAW).
|  | DEPUTY CHIEF COUNSEL (OPERATIONS).
|  | SPECIAL COUNSEL TO THE NATIONAL TAXPAYER ADVOCATE.
|  | DEPUTY ASSOCIATE CHIEF COUNSEL (INTERNATIONAL TECHNICAL).
|  | DEPUTY CHIEF COUNSEL (TECHNICAL).
|  | ASSOCIATE CHIEF COUNSEL (GENERAL LEGAL SERVICES).
|  | DIVISION COUNSEL (SMALL BUSINESS AND SELF EMPLOYED).
|  | AREA COUNSEL, LARGE AND MID-SIZE BUSINESS (AREA 3) (FOOD, MASS RETAILERS, AND PHARMACEUTICALS).
|  | ASSOCIATE CHIEF COUNSEL (FINANCE AND MANAGEMENT).
|  | DEPUTY ASSOCIATE CHIEF COUNSEL (FINANCIAL INSTITUTIONS AND PRODUCTS).
|  | SPECIAL COUNSEL TO THE CHIEF COUNSEL.
|  | DEPUTY DIVISION COUNSEL AND DEPUTY ASSOCIATE CHIEF COUNSEL (TAX EXEMPT AND GOVERNMENT ENTITIES).
|  | DEPUTY DIVISION COUNSEL/DEPUTY ASSOCIATE CHIEF COUNSEL.
|  | DEPUTY ASSOCIATE CHIEF COUNSEL (INTERNATIONAL FIELD SERVICE AND LITIGATION).
|  | AREA COUNSEL, SMALL BUSINESS AND SELF EMPLOYED, AREA 9.
|  | DEPUTY TO THE SPECIAL COUNSEL TO THE CHIEF COUNSEL.
|  | HEALTHCARE COUNSEL (OFFICE OF HEALTHCARE).
|  | DEPUTY ASSOCIATE CHIEF COUNSEL (GENERAL LEGAL SERVICES).
|  | DIVISION COUNSEL/ASSOCIATE CHIEF COUNSEL (NATIONAL TAXPAYER ADVOCATE PROGRAM).
|  | DEPUTY ASSOCIATE CHIEF COUNSEL (PROCEDURE AND ADMINISTRATION).
|  | DEPUTY ASSOCIATE CHIEF COUNSEL (PROCEDURE AND ADMINISTRATION).
|  | DEPUTY ASSOCIATE CHIEF COUNSEL, (PASSTHROUGHS AND SPECIAL INDUSTRIES).
|  | ASSOCIATE CHIEF COUNSEL (TAX EXEMPT AND GOVERNMENT ENTITIES).
|  | DEPUTY ASSOCIATE CHIEF COUNSEL, OPERATIONS AND INTERNATIONAL PROGRAMS.
|  | DEPUTY DIVISION COUNSEL, INTERNATIONAL (LARGE BUSINESS AND INTERNATIONAL).
|  | DEPUTY ASSOCIATE CHIEF COUNSEL (CORPORATE).
|  | ASSOCIATE CHIEF COUNSEL, (INTERNATIONAL).
|  | DIVISION COUNSEL (TAX EXEMPT AND GOVERNMENT ENTITIES) DC.
|  | NATIONAL STRATEGIC LITIGATION COUNSEL, DIVISION COUNSEL (LARGE BUSINESS AND INTERNATIONAL).
|  | DEPUTY DIVISION COUNSEL (OPERATIONS), SMALL BUSINESS/SELF EMPLOYED DIVISION.
|  | DEPUTY ASSOCIATE CHIEF COUNSEL, LITIGATION (INTERNATIONAL).
|  | DIVISION COUNSEL, LARGE BUSINESS AND INTERNATIONAL.
|  | ASSOCIATE CHIEF COUNSEL (PASSTHROUGHS AND SPECIAL INDUSTRIES).
|  | AREA COUNSEL, SMALL BUSINESS AND SELF EMPLOYED (AREA 1).
|  | ASSOCIATE CHIEF COUNSEL (FINANCIAL INSTITUTIONS AND PRODUCTS).
|  | DEPUTY ASSOCIATE CHIEF COUNSEL (IT AND A).
UNDER SECRETARY FOR DOMESTIC FINANCE | ASSISTANT SECRETARY FOR FINANCIAL INSTITUTIONS | DIRECTOR, FEDERAL INSURANCE OFFICE. DEPUTY DIRECTOR, FEDERAL INSURANCE OFFICE.
| FISCAL ASSISTANT SECRETARY | FISCAL ASSISTANT SECRETARY. DEPUTY ASSISTANT SECRETARY FOR FISCAL OPERATIONS AND POLICY. DEPUTY ASSISTANT SECRETARY, OFFICE OF ACCOUNTING POLICY AND FINANCIAL TRANSPARENCY.
UNDER SECRETARY FOR TERRORISM AND FINANCIAL INTELLIGENCE
| ASSISTANT SECRETARY FOR INTELLIGENCE AND ANALYSIS | DEPUTY ASSISTANT SECRETARY FOR SECURITY AND COUNTERINTELLIGENCE.
| ASSISTANT SECRETARY FOR TERRORIST FINANCING | DIRECTOR, EXECUTIVE OFFICE FOR ASSET FORFEITURE.
| FINANCIAL CRIMES ENFORCEMENT NETWORK | DIRECTOR, FINANCIAL CRIMES ENFORCEMENT NETWORK. DEPUTY DIRECTOR ASSOCIATE DIRECTOR, ENFORCEMENT DIVISION ASSOCIATE DIRECTOR, INTELLIGENCE DIVISION
|  | ASSOCIATE DIRECTOR, MANAGEMENT PROGRAMS DIVISION
|  | ASSOCIATE DIRECTOR, LIAISON DIVISION
|  | ASSOCIATE DIRECTOR, TECHNOLOGY SOLUTIONS AND SERVICES DIVISION/CHIEF INFORMATION OFFICER
|  | ASSOCIATE DIRECTOR, POLICY DIVISION.
DEPARTMENT OF THE TREASURY OFFICE OF THE INSPECTOR GENERAL
DEPARTMENT OF THE TREASURY OFFICE OF THE INSPECTOR GENERAL | OFFICE OF AUDIT | DEPUTY ASSISTANT INSPECTOR GENERAL FOR AUDIT (FINANCIAL SECTOR AUDITS). DEPUTY ASSISTANT INSPECTOR GENERAL FOR AUDIT (FINANCE MANAGEMENT AND TRANSPARENCY AUDIT). ASSISTANT INSPECTOR GENERAL FOR AUDIT (2).
|  | DEPUTY ASSISTANT INSPECTOR GENERAL FOR AUDIT (PROGRAM AUDITS).
|  | DEPUTY ASSISTANT INSPECTOR GENERAL FOR AUDIT (FINANCIAL MANAGEMENT).
| OFFICE OF COUNSEL | COUNSEL TO THE INSPECTOR GENERAL.
| OFFICE OF INVESTIGATIONS | DEPUTY ASSISTANT INSPECTOR GENERAL FOR INVESTIGATIONS.
| OFFICE OF MANAGEMENT | ASSISTANT INSPECTOR GENERAL FOR MANAGEMENT.
DEPARTMENT OF THE TREASURY SPECIAL INSPECTOR GENERAL FOR THE TROUBLED ASSET RELIEF PROGRAM
| DEPARTMENT OF THE TREASURY SPECIAL INSPECTOR GENERAL FOR THE TROUBLED ASSET RELIEF PROGRAM | DEPUTY SPECIAL INSPECTOR GENERAL AUDIT. ASSISTANT DEPUTY SPECIAL INSPECTOR GENERAL FOR AUDIT AND EVALUATION ASSISTANT DEPUTY SPECIAL INSPECTOR GENERAL FOR INVESTIGATIONS ASSISTANT INSPECTOR GENERAL FOR MANAGEMENT
|  | DEPUTY SPECIAL INSPECTOR GENERAL
|  | DEPUTY SPECIAL INSPECTOR GENERAL, INVESTIGATIONS
|  | GENERAL COUNSEL.
DEPARTMENT OF THE TREASURY TAX ADMINISTRATION OFFICE OF THE INSPECTOR GENERAL
| DEPARTMENT OF THE TREASURY TAX ADMINISTRATION OFFICE OF THE INSPECTOR GENERAL | ASSISTANT INSPECTOR GENERAL FOR INVESTIGATIONS—FIELD. DEPUTY INSPECTOR GENERAL FOR INSPECTIONS AND EVALUATIONS ASSISTANT INSPECTOR GENERAL FOR INVESTIGATIONS, FIELD DIVISIONS DEPUTY CHIEF COUNSEL
|  | ASSISTANT INSPECTOR GENERAL FOR INVESTIGATIONS
|  | ASSISTANT INSPECTOR GENERAL FOR AUDIT, COMPLIANCE AND ENFORCEMENT OPERATIONS
|  | CHIEF INFORMATION OFFICER
|  | DEPUTY INSPECTOR GENERAL FOR AUDIT
|  | ASSISTANT INSPECTOR GENERAL FOR AUDIT, MANAGEMENT SERVICES AND EXEMPT ORGANIZATIONS
|  | ASSISTANT INSPECTOR GENERAL FOR AUDIT, SECURITY AND INFORMATION TECHNOLOGY SERVICES
|  | ASSISTANT INSPECTOR GENERAL FOR AUDIT, MANAGEMENT, PLANNING AND WORKFORCE DEVELOPMENT
|  | ASSISTANT INSPECTOR GENERAL FOR AUDIT, RETURNS PROCESSING AND ACCOUNTING SERVICES
|  | DEPUTY INSPECTOR GENERAL FOR INVESTIGATIONS
|  | DEPUTY ASSISTANT INSPECTOR GENERAL FOR INVESTIGATIONS, THREAT, AGENT SAFETY AND SENSITIVE INVESTIGATIONS DIRECTORATE
|  | ASSISTANT INSPECTOR GENERAL FOR INVESTIGATIONS, CYBER OPERATIONS AND INVESTIGATIVE SUPPORT DIRECTORATE
|  | CHIEF COUNSEL
|  | DEPUTY INSPECTOR GENERAL FOR MISSION SUPPORT AND CHIEF FINANCIAL OFFICER
|  | DEPUTY ASSISTANT INSPECTOR GENERAL FOR INVESTIGATIONS—FIELD
UNITED STATES AGENCY FOR INTERNATIONAL DEVELOPMENT
OFFICE OF THE ADMINISTRATOR | BUREAU FOR MANAGEMENT | CHIEF FINANCIAL OFFICER. DEPUTY CHIEF FINANCIAL OFFICER CHIEF INFORMATION OFFICER DIRECTOR, OFFICE OF MANAGEMENT, POLICY, BUDGET AND PERFORMANCE
|  | DIRECTOR, OFFICE OF ACQUISITION AND ASSISTANCE
|  | DEPUTY DIRECTOR, ACCOUNTABILITY, COMPLIANCE, TRANSPARENCY AND SYSTEM SUPPORT.
| OFFICE OF BUDGET AND RESOURCE MANAGEMENT | DIRECTOR, BUDGET AND RESOURCE MANAGEMENT.
| OFFICE OF HUMAN CAPITAL AND TALENT MANAGEMENT | CHIEF HUMAN CAPITAL OFFICER. DEPUTY CHIEF HUMAN CAPITAL OFFICER.
| OFFICE OF SECURITY | DIRECTOR, OFFICE OF SECURITY. DEPUTY DIRECTOR, OFFICE OF SECURITY.
| OFFICE OF SMALL AND DISADVANTAGED BUSINESS UTILIZATION | DIRECTOR, OFFICE OF SMALL AND DISADVANTAGED BUSINESS UTILIZATION.
| OFFICE OF THE GENERAL COUNSEL | ASSISTANT GENERAL COUNSEL, ETHICS AND ADMINISTRATION. CHIEF INNOVATION COUNSEL. DEPUTY GENERAL COUNSEL.
UNITED STATES AGENCY FOR INTERNATIONAL DEVELOPMENT OFFICE OF THE INSPECTOR GENERAL
| UNITED STATES AGENCY FOR INTERNATIONAL DEVELOPMENT OFFICE OF THE INSPECTOR GENERAL | ASSISTANT INSPECTOR GENERAL FOR AUDIT. DEPUTY ASSISTANT INSPECTOR GENERAL FOR MANAGEMENT. ASSISTANT INSPECTOR GENERAL FOR MANAGEMENT. DEPUTY ASSISTANT INSPECTOR GENERAL FOR AUDIT (2).
|  | DEPUTY INSPECTOR GENERAL.
|  | DEPUTY ASSISTANT INSPECTOR GENERAL FOR INVESTIGATIONS.
|  | COUNSELOR TO THE INSPECTOR GENERAL.
|  | ASSISTANT INSPECTOR GENERAL FOR INVESTIGATIONS.
UNITED STATES INTERNATIONAL TRADE COMMISSION
OFFICE OF OPERATIONS | OFFICE OF ECONOMICS | DIRECTOR OFFICE OF ECONOMICS.
| OFFICE OF INDUSTRIES | DIRECTOR OFFICE OF INDUSTRIES.
| OFFICE OF INVESTIGATIONS | DIRECTOR, OFFICE OF INVESTIGATIONS.
| OFFICE OF TARIFF AFFAIRS AND TRADE AGREEMENTS | DIRECTOR, OFFICE TARIFF AFFAIRS AND TRADE AGREEMENTS.
| OFFICE OF UNFAIR IMPORT INVESTIGATIONS | DIRECTOR, OFFICE OF UNFAIR IMPORT INVESTIGATIONS.
UNITED STATES INTERNATIONAL TRADE COMMISSION | OFFICE OF ADMINISTRATIVE SERVICES | CHIEF ADMINISTRATIVE OFFICER.
| OFFICE OF EXTERNAL RELATIONS | DIRECTOR, OFFICE OF EXTERNAL RELATIONS.
| OFFICE OF OPERATIONS | DIRECTOR OFFICE OF OPERATIONS.
| OFFICE OF THE CHAIRMAN | CHIEF OF STAFF.
| OFFICE OF THE CHIEF FINANCIAL OFFICER | CHIEF FINANCIAL OFFICER.
| OFFICE OF THE CHIEF INFORMATION OFFICER | CHIEF INFORMATION OFFICER.
| OFFICE OF THE GENERAL COUNSEL | GENERAL COUNSEL.
| OFFICE OF THE INSPECTOR GENERAL | INSPECTOR GENERAL.
DEPARTMENT OF VETERANS AFFAIRS
| DEPARTMENT OF VETERANS AFFAIRS | EXECUTIVE DIRECTOR, IT BUDGET AND FINANCE.
| BOARD OF VETERANS' APPEALS | VICE CHAIRMAN. DEPUTY VICE CHAIRMAN (2). DEPUTY VICE CHAIRMAN, BOARD OF VETERANS APPEALS. DEPUTY VICE CHAIRMAN. CHIEF COUNSEL, BOARD OF VETERANS APPEALS.
| NATIONAL CEMETERY ADMINISTRATION | DEPUTY UNDER SECRETARY FOR FINANCE AND PLANNING.
| OFFICE OF ACQUISITION, LOGISTICS AND CONSTRUCTION | EXECUTIVE DIRECTOR, CONSTRUCTION. EXECUTIVE DIRECTOR, OFFICE OF ACQUISITION AND LOGISTICS. ASSOCIATE EXECUTIVE DIRECTOR, PROGRAMS AND PLANS. ASSOCIATE EXECUTIVE DIRECTOR, STRATEGIC ACQUISITION CENTER. ASSOCIATE EXECUTIVE DIRECTOR, FACILITIES ACQUISITIONS.
|  | EXECUTIVE DIRECTOR, CONSTRUCTION AND FACILITIES MANAGEMENT.
|  | ASSOCIATE EXECUTIVE DIRECTOR, PROCUREMENT POLICY, SYSTEMS AND OVERSIGHT.
|  | ASSOCIATE EXECUTIVE DIRECTOR, FACILITIES PLANNING.
|  | ASSOCIATE EXECUTIVE DIRECTOR, TECHNOLOGY ACQUISITION CENTER.
|  | ASSOCIATE EXECUTIVE DIRECTOR, RESOURCE MANAGEMENT.
|  | ASSOCIATE EXECUTIVE DIRECTOR, OFFICE OF DESIGN AND CONSTRUCTION.
|  | ASSOCIATE EXECUTIVE DIRECTOR, NATIONAL HEALTHCARE ACQUISITION.
|  | ASSOCIATE EXECUTIVE DIRECTOR, ACQUISITION PROGRAM SUPPORT.
| OFFICE OF THE ASSISTANT SECRETARY FOR ACCOUNTABILITY AND WHISTLEBLOWER PROTECTION | DEPUTY ASSISTANT SECRETARY, ACCOUNTABILITY AND WHISTLEBLOWER PROTECTION. EXECUTIVE DIRECTOR, COMPLIANCE AND OVERSIGHT. EXECUTIVE DIRECTOR, INVESTIGATIONS (2).
| OFFICE OF THE ASSISTANT SECRETARY FOR INFORMATION AND TECHNOLOGY | EXECUTIVE DIRECTOR, FIELD SECURITY SERVICE. EXECUTIVE DIRECTOR, INFORMATION SECURITY POLICY AND STRATEGY. DEPUTY CHIEF INFORMATION OFFICER, STRATEGIC SOURCING. EXECUTIVE DIRECTOR, ACQUISITION STRATEGY AND CATEGORY MANAGEMENT.
|  | CHIEF FINANCIAL OFFICER, IT BUDGET AND FINANCE.
|  | DEPUTY ASSISTANT SECRETARY, CHIEF INFORMATION SECURITY OFFICER.
|  | EXECUTIVE DIRECTOR, INFRASTRUCTURE OPERATIONS.
|  | DEPUTY CHIEF INFORMATION OFFICER, QUALITY, PERFORMANCE, AND RISK/CHIEF RISK OFFICER.
|  | EXECUTIVE DIRECTOR, INFORMATION SECURITY OPERATIONS.
| OFFICE OF THE ASSISTANT SECRETARY FOR MANAGEMENT | EXECUTIVE DIRECTOR, FINANCIAL SERVICES CENTER, OFFICE OF FINANCE. ASSOCIATE DEPUTY ASSISTANT SECRETARY FOR FINANCIAL BUSINESS OPERATIONS, OFFICE OF FINANCE PRINCIPAL DEPUTY ASSISTANT SECRETARY FOR MANAGEMENT EXECUTIVE DIRECTOR, OFFICE OF ACQUISITION OPERATIONS
|  | DEPUTY ASSISTANT SECRETARY FINANCIAL MANAGEMENT BUSINESS TRANSFORMATION, OFFICE OF FINANCE.
|  | ASSOCIATE DEPUTY ASSISTANT SECRETARY, FINANCIAL MANAGEMENT BUSINESS TRANSFORMATION SERVICE SYSTEMS.
|  | ASSOCIATE DEPUTY ASSISTANT SECRETARY, FINANCIAL MANAGEMENT BUSINESS TRANSFORMATION OPERATIONS.
|  | EXECUTIVE DIRECTOR, OFFICE OF BUSINESS OVERSIGHT.
|  | ASSOCIATE DEPUTY ASSISTANT SECRETARY, BUDGET OPERATIONS.
|  | ASSOCIATE DEPUTY ASSISTANT SECRETARY, PROGRAM BUDGETS.
|  | ASSOCIATE DEPUTY ASSISTANT SECRETARY FOR FINANCE, OFFICE OF FINANCE.
|  | EXECUTIVE DIRECTOR, DEBT MANAGEMENT CENTER.
|  | EXECUTIVE DIRECTOR, ASSET ENTERPRISE MANAGEMENT.
|  | ADAS FOR FINANCIAL PROCESS IMPROVEMENT AND AUDIT READINESS, OFFICE OF FINANCE.
|  | DEPUTY EXECUTIVE DIRECTOR ASSET ENTERPRISE MANAGEMENT.
|  | DEPUTY ASSISTANT SECRETARY FOR FINANCE, OFFICE OF FINANCE.
|  | DEPUTY ASSISTANT SECRETARY FOR BUDGET.
|  | ASSOCIATE DEPUTY ASSISTANT SECRETARY FOR FINANCIAL POLICY, OFFICE OF FINANCE.
| OFFICE OF THE GENERAL COUNSEL | CHIEF COUNSEL, DISTRICT CONTRACTING. CHIEF COUNSEL COLLECTIONS NATIONAL PRACTICE GROUP. CHIEF COUNSEL, LOAN GUARANTY. CHIEF COUNSEL, INFORMATION LAW GROUP.
|  | CHIEF COUNSEL COURT OF APPEALS FOR VETERANS CLAIMS LITIGATION GROUP.
|  | CHIEF COUNSEL, BENEFITS LAW GROUP.
|  | DEPUTY GENERAL COUNSEL VETERANS PROGRAMS.
|  | DEPUTY GENERAL COUNSEL, GENERAL LAW.
|  | ASSISTANT CHIEF COUNSEL, COURT OF APPEALS FOR VETERANS CLAIMS LITIGATION GROUP.
|  | SENIOR COUNSEL TO THE GENERAL COUNSEL.
|  | CHIEF COUNSEL, ETHICS LAW GROUP.
|  | CHIEF COUNSEL, SOUTHEAST DISTRICT- NORTH.
|  | CHIEF COUNSEL NORTH ATLANTIC DISTRICT NORTH.
|  | COUNSELOR/ADVISOR.
|  | CHIEF COUNSEL, PERSONNEL LAW GROUP.
|  | CHIEF COUNSEL CONTINENTAL DISTRICT—WEST.
|  | DEPUTY GENERAL COUNSEL, LEGAL OPERATIONS.
|  | CHIEF COUNSEL (2).
|  | CHIEF COUNSEL MIDWEST DISTRICT EAST.
|  | CHIEF COUNSEL MIDWEST DISTRICT WEST.
|  | CHIEF COUNSEL NORTH ATLANTIC DISTRICT SOUTH.
|  | CHIEF COUNSEL PACIFIC DISTRICT SOUTH.
|  | EXECUTIVE DIRECTOR, OFFICE OF ACCOUNTABILITY REVIEW.
|  | CHIEF COUNSEL REAL PROPERTY LAW GROUP.
|  | CHIEF COUNSEL, PROCUREMENT LAW GROUP.
|  | CHIEF COUNSEL HEALTH LAW GROUP.
| OFFICE OF THE SECRETARY AND DEPUTY | EXECUTIVE DIRECTOR, EMPLOYEE DISCRIMINATION COMPLIANCE. EXECUTIVE DIRECTOR, OFFICE OF SMALL AND DISADVANTAGED BUSINESS UTILIZATION. DEPUTY EXECUTIVE DIRECTOR, OFFICE OF SMALL AND DISADVANTAGED BUSINESS UTILIZATION. DEPUTY EXECUTIVE DIRECTOR, ACCOUNTABILITY AND WHISTLEBLOWER PROTECTION.
| VETERANS BENEFITS ADMINISTRATION | SENIOR ADVISOR, FISCAL STEWARDSHIP. DEPUTY CHIEF FINANCIAL OFFICER. DEPUTY EXECUTIVE DIRECTOR FOR POLICY AND PROCEDURES. EXECUTIVE DIRECTOR, LOAN GUARANTY SERVICE.
|  | DEPUTY EXECUTIVE DIRECTOR FOR OPERATIONS.
|  | EXECUTIVE DIRECTOR, PERFORMANCE ANALYSIS AND INTEGRITY.
|  | CHIEF FINANCIAL OFFICER.
| VETERANS HEALTH ADMINISTRATION | EXECUTIVE DIRECTOR, SERVICE AREA (EAST). EXECUTIVE DIRECTOR SERVICE AREA (CENTRAL). EXECUTIVE DIRECTOR, SERVICE AREA (WEST). ASSOCIATE CHIEF FINANCIAL OFFICER, VETERANS HEALTH ADMINISTRATION.
|  | DEPUTY CHIEF PROCUREMENT OFFICER, VETERANS HEALTH ADMINISTRATION.
|  | DEPUTY CHIEF FINANCIAL OFFICER VETERANS HEALTH ADMINISTRATION.
|  | EXECUTIVE DIRECTOR VETERANS CANTEEN SERVICE.
|  | CHIEF FINANCIAL OFFICER VETERANS HEALTH ADMINISTRATION.
|  | CHIEF COMPLIANCE AND BUSINESS INTEGRITY OFFICER.
|  | ASSOCIATE CHIEF FINANCIAL OFFICER FOR MANAGERIAL COST ACCOUNTING.
|  | ASSOCIATE CHIEF FINANCIAL OFFICER FINANCIAL MANAGEMENT AND ACCOUNTING.
|  | CHIEF OPERATING OFFICER VETERANS CANTEEN SERVICE.
OFFICE OF THE ASSISTANT SECRETARY FOR HUMAN RESOURCES AND ADMINISTRATION/OPERATIONS, SECURITY, AND PREPAREDNESS | OFFICE OF CORPORATE SENIOR EXECUTIVE MANAGEMENT | EXECUTIVE DIRECTOR.
| OFFICE OF HUMAN RESOURCES MANAGEMENT | EXECUTIVE DIRECTOR FOR LABOR RELATIONS/WORK LIFE AND BENEFITS. DEPUTY CHIEF HUMAN CAPITAL OFFICER.
| OFFICE OF RESOLUTION MANAGEMENT | ASSOCIATE DEPUTY ASSISTANT SECRETARY FOR RESOLUTION MANAGEMENT. DEPUTY ASSISTANT SECRETARY FOR RESOLUTION MANAGEMENT.
OFFICE OF THE ASSISTANT SECRETARY FOR MANAGEMENT | OFFICE OF FINANCE | ASSOCIATE DEPUTY ASSISTANT SECRETARY, FINANCIAL REPORTING.
OFFICE OF THE ASSISTANT SECRETARY FOR OPERATIONS, SECURITY AND PREPAREDNESS | OFFICE OF OPERATIONS, SECURITY AND PREPAREDNESS | CHIEF OF POLICE. ASSOCIATE DEPUTY ASSISTANT SECRETARY, EMERGENCY MANAGEMENT AND RESILIENCE. EXECUTIVE DIRECTOR FOR SECURITY AND LAW ENFORCEMENT. EXECUTIVE DIRECTOR, IDENTITY, CREDENTIAL AND ACCESS MANAGEMENT.
DEPARTMENT OF VETERANS AFFAIRS OFFICE OF THE INSPECTOR GENERAL
DEPARTMENT OF VETERANS AFFAIRS OFFICE OF THE INSPECTOR GENERAL | IMMEDIATE OFFICE OF THE INSPECTOR GENERAL | DEPUTY COUNSELOR TO THE INSPECTOR GENERAL. DEPUTY INSPECTOR GENERAL. COUNSELOR TO THE INSPECTOR GENERAL.
| OFFICE OF THE ASSISTANT INSPECTOR GENERAL FOR AUDITS AND EVALUATIONS | ASSISTANT INSPECTOR GENERAL FOR AUDITS AND EVALUATIONS. DEPUTY ASSISTANT INSPECTOR GENERAL FOR AUDITS AND EVALUATIONS. DEPUTY ASSISTANT INSPECTOR GENERAL FOR AUDITS AND EVALUATIONS (FIELD OPERATIONS) (2). DEPUTY ASSISTANT INSPECTOR GENERAL FOR AUDITS AND EVALUATIONS (HEADQUARTERS MANAGEMENT AND INSPECTIONS).
| OFFICE OF THE ASSISTANT INSPECTOR GENERAL FOR HEALTHCARE INSPECTIONS | DEPUTY ASSISTANT INSPECTOR GENERAL FOR HEALTHCARE INSPECTIONS. ASSISTANT INSPECTOR GENERAL FOR HEALTHCARE INSPECTIONS. DEPUTY ASSISTANT INSPECTOR GENERAL FOR HEALTHCARE INSPECTIONS.
| OFFICE OF THE ASSISTANT INSPECTOR GENERAL FOR INVESTIGATIONS | ASSISTANT INSPECTOR GENERAL FOR INVESTIGATIONS. DEPUTY ASSISTANT INSPECTOR GENERAL FOR INVESTIGATIONS (FIELD OPERATIONS)(2). DEPUTY ASSISTANT INSPECTOR GENERAL FOR INVESTIGATIONS (HEADQUARTERS OPERATIONS).
| OFFICE OF THE ASSISTANT INSPECTOR GENERAL FOR MANAGEMENT AND ADMINISTRATION | DEPUTY ASSISTANT INSPECTOR GENERAL FOR MANAGEMENT AND ADMINISTRATION—CHIEF TECHNOLOGY OFFICER. ASSISTANT INSPECTOR GENERAL FOR MANAGEMENT AND ADMINISTRATION. DEPUTY ASSISTANT INSPECTOR GENERAL FOR MANAGEMENT AND ADMINISTRATION.
| OFFICE OF THE ASSISTANT INSPECTOR GENERAL FOR SPECIAL REVIEWS | ASSISTANT INSPECTOR GENERAL FOR SPECIAL REVIEWS.

Authority: 5 U.S.C. 3132.

Office of Personnel Management.
Alexys Stanley,
Regulatory Affairs Analyst.

[FR Doc. 2021-08389 Filed 4-21-21; 8:45 am]

BILLING CODE 6325-39-P